DEPARTMENT OF HEALTH AND HUMAN SERVICES

Centers for Medicare & Medicaid Services

[CMS-9046-N]

Medicare and Medicaid Programs; Quarterly Listing of Program Issuances—January Through March 2008

AGENCY: Centers for Medicare & Medicaid Services (CMS), HHS.

ACTION: Notice.

SUMMARY: This notice lists CMS manual instructions, substantive and interpretive regulations, and other Federal Register notices that were published from January 2008 through March 2008, relating to the Medicare and Medicaid programs. This notice provides information on national coverage determinations (NCDs) affecting specific medical and health care services under Medicare. Additionally, this notice identifies certain devices with investigational device exemption (IDE) numbers approved by the Food and Drug Administration (FDA) that potentially may be covered under Medicare. This notice also includes listings of all approval numbers from the Office of Management and Budget for collections of information in CMS regulations and a list of Medicare-approved carotid stent facilities. Included in this notice is a list of the American College of Cardiology's National Cardiovascular Data registry sites, active CMS coverage-related guidance documents, and special one-time notices regarding national coverage provisions. Also included in this notice is a list of National Oncologic Positron Emissions Tomography Registry sites, a list of Medicare-approved ventricular assist device (destination therapy) facilities, a list of Medicare-approved lung volume reduction surgery facilities, a list of Medicare-approved clinical trials for fluorodeoxyglucose positron emissions tomography for dementia, and a list of Medicare-approved bariatric surgery facilities.

Section 1871(c) of the Social Security Act requires that we publish a list of Medicare issuances in the Federal Register at least every 3 months. Although we are not mandated to do so by statute, for the sake of completeness of the listing, and to foster more open and transparent collaboration efforts, we are also including all Medicaid issuances and Medicare and Medicaid substantive and interpretive regulations (proposed and final) published during this 3-month time frame.

FOR FURTHER INFORMATION CONTACT: It is possible that an interested party may need specific information and not be able to determine from the listed information whether the issuance or regulation would fulfill that need. Consequently, we are providing contact persons to answer general questions concerning these items. Copies are not available through the contact persons. (See Section III of this notice for how to obtain listed material.)

Questions concerning CMS manual instructions in Addendum III may be addressed to Ismael Torres, Office of Strategic Operations and Regulatory Affairs, Centers for Medicare & Medicaid Services, C4-26-05, 7500 Security Boulevard, Baltimore, MD 21244-1850, or you can call (410) 786-1864.

Questions concerning regulation documents published in the Federal Register in Addendum IV may be addressed to Gwendolyn Johnson, Office of Strategic Operations and Regulatory Affairs, Centers for Medicare & Medicaid Services, C4-14-03, 7500 Security Boulevard, Baltimore, MD 21244-1850, or you can call (410) 786-6954.

Questions concerning Medicare NCDs in Addendum V may be addressed to Patricia Brocato-Simons, Office of Clinical Standards and Quality, Centers for Medicare & Medicaid Services, C1-09-06, 7500 Security Boulevard, Baltimore, MD 21244-1850, or you can call (410) 786-0261.

Questions concerning FDA-approved Category B IDE numbers listed in Addendum VI may be addressed to John Manlove, Office of Clinical Standards and Quality, Centers for Medicare & Medicaid Services, C1-13-04, 7500 Security Boulevard, Baltimore, MD 21244-1850, or you can call (410) 786-6877.

Questions concerning approval numbers for collections of information in Addendum VII may be addressed to Melissa Musotto, Office of Strategic Operations and Regulatory Affairs, Regulations Development and Issuances Group, Centers for Medicare & Medicaid Services, C5-14-03, 7500 Security Boulevard, Baltimore, MD 21244-1850, or you can call (410) 786-6962.

Questions concerning Medicare-approved carotid stent facilities in Addendum VIII may be addressed to Sarah J. McClain, Office of Clinical Standards and Quality, Centers for Medicare & Medicaid Services, C1-09-06, 7500 Security Boulevard, Baltimore, MD 21244-1850, or you can call (410) 786-2994.

Questions concerning Medicare's recognition of the American College of Cardiology-National Cardiovascular Data Registry sites in Addendum IX may be addressed to JoAnna Baldwin, MS, Office of Clinical Standards and Quality, Centers for Medicare & Medicaid Services, C1-09-06, 7500 Security Boulevard, Baltimore, MD 21244-1850, or you can call (410) 786-7205.

Questions concerning Medicare's active coverage-related guidance documents in Addendum X may be addressed to Beverly Lofton, Office of Clinical Standards and Quality, Centers for Medicare & Medicaid Services, C1-09-06, 7500 Security Boulevard, Baltimore, MD 21244-1850, or you can call (410) 786-7136.

Questions concerning one-time notices regarding national coverage provisions in Addendum XI may be addressed to Beverly Lofton, Office of Clinical Standards and Quality, Centers for Medicare & Medicaid Services, C1-09-06, 7500 Security Boulevard, Baltimore, MD 21244-1850, or you can call (410) 786-7136.

Questions concerning National Oncologic Positron Emission Tomography Registry sites in Addendum XII may be addressed to Stuart Caplan, RN, MAS, Office of Clinical Standards and Quality, Centers for Medicare & Medicaid Services, C1-09-06, 7500 Security Boulevard, Baltimore, MD 21244-1850, or you can call (410) 786-8564.

Questions concerning Medicare-approved ventricular assist device (destination therapy) facilities in Addendum XIII may be addressed to JoAnna Baldwin, MS, Office of Clinical Standards and Quality, Centers for Medicare & Medicaid Services, C1-09-06, 7500 Security Boulevard, Baltimore, MD 21244-1850, or you can call (410) 786-7205.

Questions concerning Medicare-approved lung volume reduction surgery facilities listed in Addendum XIV may be addressed to JoAnna Baldwin, MS, Office of Clinical Standards and Quality, Centers for Medicare & Medicaid Services, C1-09-06, 7500 Security Boulevard, Baltimore, MD 21244-1850, or you can call (410) 786-7205.

Questions concerning Medicare-approved bariatric surgery facilities listed in Addendum XV may be addressed to Kate Tillman, RN, MA, Office of Clinical Standards and Quality, Centers for Medicare & Medicaid Services, C1-09-06, 7500 Security Boulevard, Baltimore, MD 21244-1850, or you can call (410) 786-9252.

Questions concerning fluorodeoxyglucose positron emission tomography for dementia trials listed in Addendum XVI may be addressed to Stuart Caplan, RN, MAS, Office of Clinical Standards and Quality, Centers for Medicare & Medicaid Services, C1-09-06, 7500 Security Boulevard, Baltimore, MD 21244-1850, or you can call (410) 786-8564.

Questions concerning all other information may be addressed to Gwendolyn Johnson, Office of Strategic Operations and Regulatory Affairs, Regulations Development Group, Centers for Medicare & Medicaid Services, C5-14-03, 7500 Security Boulevard, Baltimore, MD 21244-1850, or you can call (410) 786-6954.

SUPPLEMENTARY INFORMATION:

I. Program Issuances

The Centers for Medicare & Medicaid Services (CMS) is responsible for administering the Medicare and Medicaid programs. These programs pay for health care and related services for 39 million Medicare beneficiaries and 35 million Medicaid recipients. Administration of the two programs involves (1) furnishing information to Medicare beneficiaries and Medicaid recipients, health care providers, and the public and (2) maintaining effective communications with regional offices, State governments, State Medicaid agencies, State survey agencies, various providers of health care, all Medicare contractors that process claims and pay bills, and others. To implement the various statutes on which the programs are based, we issue regulations under the authority granted to the Secretary of the Department of Health and Human Services under sections 1102, 1871, 1902, and related provisions of the Social Security Act (the Act). We also issue various manuals, memoranda, and statements necessary to administer the programs efficiently.

Section 1871(c)(1) of the Act requires that we publish a list of all Medicare manual instructions, interpretive rules, statements of policy, and guidelines of general applicability not issued as regulations at least every 3 months in the Federal Register. We published our first notice June 9, 1988 (53 FR 21730). Although we are not mandated to do so by statute, for the sake of completeness of the listing of operational and policy statements, and to foster more open and transparent collaboration, we are continuing our practice of including Medicare substantive and interpretive regulations (proposed and final) published during the respective 3-month time frame.

II. How To Use the Addenda

This notice is organized so that a reader may review the subjects of manual issuances, memoranda, substantive and interpretive regulations, NCDs, and FDA-approved IDEs published during the subject quarter to determine whether any are of particular interest. We expect this notice to be used in concert with previously published notices. Those unfamiliar with a description of our Medicare manuals may wish to review Table I of our first three notices (53 FR 21730, 53 FR 36891, and 53 FR 50577) published in 1988, and the notice published March 31, 1993 (58 FR 16837). Those desiring information on the Medicare NCD Manual (NCDM, formerly the Medicare Coverage Issues Manual (CIM)) may wish to review the August 21, 1989, publication (54 FR 34555). Those interested in the revised process used in making NCDs under the Medicare program may review the September 26, 2003, publication (68 FR 55634).

To aid the reader, we have organized and divided this current listing into 11 addenda:

• Addendum I lists the publication dates of the most recent quarterly listings of program issuances.

• Addendum II identifies previous Federal Register documents that contain a description of all previously published CMS Medicare and Medicaid manuals and memoranda.

• Addendum III lists a unique CMS transmittal number for each instruction in our manuals or Program Memoranda and its subject matter. A transmittal may consist of a single or multiple instruction(s). Often, it is necessary to use information in a transmittal in conjunction with information currently in the manuals.

• Addendum IV lists all substantive and interpretive Medicare and Medicaid regulations and general notices published in the Federal Register during the quarter covered by this notice. For each item, we list the—

○ Date published;

○ Federal Register citation;

○ Parts of the Code of Federal Regulations (CFR) that have changed (if applicable);

○ Agency file code number; and

○ Title of the regulation.

• Addendum V includes completed NCDs, or reconsiderations of completed NCDs, from the quarter covered by this notice. Completed decisions are identified by the section of the NCDM in which the decision appears, the title, the date the publication was issued, and the effective date of the decision.

• Addendum VI includes listings of the FDA-approved IDE categorizations, using the IDE numbers the FDA assigns. The listings are organized according to the categories to which the device numbers are assigned (that is, Category A or Category B), and identified by the IDE number.

• Addendum VII includes listings of all approval numbers from the Office of Management and Budget (OMB) for collections of information in CMS regulations in title 42; title 45, subchapter C; and title 20 of the CFR.

• Addendum VIII includes listings of Medicare-approved carotid stent facilities. All facilities listed meet CMS standards for performing carotid artery stenting for high risk patients.

• Addendum IX includes a list of the American College of Cardiology's National Cardiovascular Data registry sites. We cover implantable cardioverter defibrillators (ICDs) for certain indications, as long as information about the procedures is reported to a central registry.

• Addendum X includes a list of active CMS guidance documents. As required by section 731 of the Medicare Prescription Drug, Improvement, and Modernization Act of 2003 (MMA) (Pub. L. 108-173, enacted on December 8, 2003), we will begin listing the current versions of our guidance documents in each quarterly listings notice.

• Addendum XI includes a list of special one-time notices regarding national coverage provisions. We are publishing a list of issues that require public notification, such as a particular clinical trial or research study that qualifies for Medicare coverage.

• Addendum XII includes a listing of National Oncologic Positron Emission Tomography Registry (NOPR) sites. We cover positron emission tomography (PET) scans for particular oncologic indications when they are performed in a facility that participates in the NOPR.

• Addendum XIII includes a listing of Medicare-approved facitilites that receive coverage for ventricular assist devices used as destination therapy. All facilities were required to meet our standards in order to receive coverage for ventricular assist devices implanted as destination therapy.

• Addendum XIV includes a listing of Medicare-approved facilities that are eligible to receive coverage for lung volume reduction surgery. Until May 17, 2007, facilities that participated in the National Emphysema Treatment Trial are also eligible to receive coverage.

• Addendum XV includes a listing of Medicare-approved facilities that meet minimum standards for facilities modeled in part on professional society statements on competency. All facilities must meet our standards in order to receive coverage for bariatric surgery procedures.

• Addendum XVI includes a listing of Medicare-approved clinical trials for fluorodeoxyglucose positron emission tomography (FDG-PET) for dementia and neurodegenerative diseases.

III. How To Obtain Listed Material

A. Manuals

Those wishing to subscribe to program manuals should contact either the Government Printing Office (GPO) or the National Technical Information Service (NTIS) at the following addresses: Superintendent of Documents, Government Printing Office, ATTN: New Orders, P.O. Box 371954, Pittsburgh, PA 15250-7954, Telephone (202) 512-1800, Fax number (202) 512-2250 (for credit card orders); or National Technical Information Service, Department of Commerce,5825 Port Royal Road, Springfield, VA 22161,Telephone (703) 487-4630.

In addition, individual manual transmittals and Program Memoranda listed in this notice can be purchased from NTIS. Interested parties should identify the transmittal(s) they want. GPO or NTIS can give complete details on how to obtain the publications they sell. Additionally, most manuals are available at the following Internet address: http://cms.hhs.gov/manuals/default.asp.

B. Regulations and Notices

Regulations and notices are published in the daily Federal Register. Interested individuals may purchase individual copies or subscribe to the Federal Register by contacting the GPO at the address given above. When ordering individual copies, it is necessary to cite either the date of publication or the volume number and page number.

The Federal Register is also available on 24x microfiche and as an online database through GPO Access. The online database is updated by 6 a.m. each day the Federal Register is published. The database includes both text and graphics from Volume 59, Number 1 (January 2, 1994) forward. Free public access is available on a Wide Area Information Server (WAIS) through the Internet and via asynchronous dial-in. Internet users can access the database by using the World Wide Web; the Superintendent of Documents home page address is http://www.gpoaccess.gov/fr/index.html, by using local WAIS client software, or by telnet to swais.gpoaccess.gov, then log in as guest (no password required). Dial-in users should use communications software and modem to call (202) 512-1661; type swais, then log in as guest (no password required).

C. Rulings

We publish rulings on an infrequent basis. CMS Rulings are decisions of the Administrator that serve as precedent final opinions and orders and statements of policy and interpretation. They provide clarification and interpretation of complex or ambiguous provisions of the law or regulations relating to Medicare, Medicaid, Utilization and Quality Control Peer Review, private health insurance, and related matters. Interested individuals can obtain copies from the nearest CMS Regional Office or review them at the nearest regional depository library. We have, on occasion, published rulings in the Federal Register. Rulings, beginning with those released in 1995, are available online, through the CMS Home Page. The Internet address is http://cms.hhs.gov/rulings.

D. CMS' Compact Disk-Read Only Memory (CD-ROM)

Our laws, regulations, and manuals are also available on CD-ROM and may be purchased from GPO or NTIS on a subscription or single copy basis. The Superintendent of Documents list ID is HCLRM, and the stock number is 717-139-00000-3. The following material is on the CD-ROM disk:

• Titles XI, XVIII, and XIX of the Act.

• CMS-related regulations.

• CMS manuals and monthly revisions.

• CMS program memoranda.

The titles of the Compilation of the Social Security Laws are current as of January 1, 2005. (Updated titles of the Social Security Laws are available on the Internet at http://www.ssa.gov/OP_Home/ssact/comp-toc.htm.) The remaining portions of CD-ROM are updated on a monthly basis.

Because of complaints about the unreadability of the Appendices (Interpretive Guidelines) in the State Operations Manual (SOM), as of March 1995, we deleted these appendices from CD-ROM. We intend to re-visit this issue in the near future and, with the aid of newer technology, we may again be able to include the appendices on CD-ROM.

Any cost report forms incorporated in the manuals are included on the CD-ROM disk as LOTUS files. LOTUS software is needed to view the reports once the files have been copied to a personal computer disk.

IV. How To Review Listed Material

Transmittals or Program Memoranda can be reviewed at a local Federal Depository Library (FDL). Under the FDL program, government publications are sent to approximately 1,400 designated libraries throughout the United States. Some FDLs may have arrangements to transfer material to a local library not designated as an FDL. Contact any library to locate the nearest FDL.

In addition, individuals may contact regional depository libraries that receive and retain at least one copy of most Federal Government publications, either in printed or microfilm form, for use by the general public. These libraries provide reference services and interlibrary loans; however, they are not sales outlets. Individuals may obtain information about the location of the nearest regional depository library from any library.

For each CMS publication listed in Addendum III, CMS publication and transmittal numbers are shown. To help FDLs locate the materials, use the CMS publication and transmittal numbers. For example, to find the Medicare Benefit Policy publication titled “Erythropoiesis Stimulating Agents in Cancer and Related Neoplastic Conditions,” use CMS-Pub. 100-03, Transmittal No. 80.

(Catalog of Federal Domestic Assistance Program No. 93.773, Medicare—Hospital Insurance, Program No. 93.774, Medicare—Supplementary Medical Insurance Program, and Program No. 93.714, Medical Assistance Program)

Dated: June 4, 2008.
Jacquelyn Y. White,
Director, Office of Strategic Operations and Regulatory Affairs.

Addendum I

This addendum lists the publication dates of the most recent quarterly listings of program issuances.

March 24, 2006 (71 FR 14903)

June 23, 2006 (71 FR 36101)

September 29, 2006 (71 FR 57604)

December 22, 2006 (71 FR 77202)

March 30, 2007 (72 FR 15282)

June 22, 2007 (72 FR 34508)

September 28, 2007 (72 FR 55282)

December 28, 2007 (72 FR 73990)

April 1, 2008 (73 FR 17422)

Addendum II—Description of Manuals, Memoranda, and CMS Rulings

An extensive descriptive listing of Medicare manuals and memoranda was published on June 9, 1988, at 53 FR 21730 and supplemented on September 22, 1988, at 53 FR 36891 and December 16, 1988, at 53 FR 50577. Also, a complete description of the former CIM (now the NCDM) was published on August 21, 1989, at 54 FR 34555. A brief description of the various Medicaid manuals and memoranda that we maintain was published on October 16, 1992, at 57 FR 47468.

Addendum III.—Medicare and Medicaid Manual Instructions January Through March 2008
Transmittal No. | Manual/Subject/Publication No.
Medicare General Information (CMS-Pub. 100-01)
00 | None.
Medicare Benefit Policy (CMS-Pub. 100-02)
80 | Requirements for Ordering and Following Orders for Diagnostic Tests Clinical Laboratory Services; Requirements for Ordering and Following Orders for Diagnostic Tests Definitions; Interpreting Physician Determines a Different Diagnostic Test is Appropriate; Rules for Testing Facility to Furnish Additional Tests; Rules for Testing Facility Interpreting Physician to Furnish Different or Additional Tests; Surgical/Cytopathology Exception.
81 | Process for Amending the List of Compendia for Determination of Medically-Accepted Indications for Off-Label Uses of Drugs and Biologicals in an Anti-Cancer Chemotherapeutic Regimen.
82 | January 2008 Update of the Hospital Outpatient Prospective Payment System; Manualization; Outpatient Hospital Services; Limitations on Coverage of Certain Services Furnished to Hospital Outpatients; General Rule; Exception to Limitation; Outpatient Defined; Encounter Defined; Diagnostic Services Defined; Coverage of Outpatient Diagnostic Services; Outpatient Diagnostic Services Under Arrangements; Diagnostic Services Defined; Coverage of Outpatient Diagnostic Services; Outpatient Diagnostic Services Under Arrangements; Outpatient Therapeutic Services; Diagnostic Service Defined; Coverage of Outpatient Diagnostic Services; Outpatient Diagnostic Services Under Arrangements; Outpatient Therapeutic Services; Coverage of Outpatient Therapeutic Services Incident to a Physicians Service; Furnished on or After August 1, 2000; Outpatient Observation Services; Laboratory Services Furnished to Nonhospital Patients by Hospital Laboratory.
83 | Clinical Lab: New Automated Test for the AMCC Panel Payment Algorithm Automated Multi-Channel Chemistry Tests.
84 | Update to Audiology Policies; Audiological Diagnostic Testing; Definition of Qualified Audiologist.
85 | Psychological and Neuropsychological Tests.
Medicare National Coverage Determination (CMS-Pub. 100-03)
80 | Erythropoiesis Stimulating Agents in Cancer and Related Neoplastic Conditions.
Medicare Claims Processing (CMS-Pub. 100-04)
1405 | SUBJECT: Reprocessing of Certain Hospital Inpatient Prospective Payment System Claims.
1406 | January 2008 Quarterly Average Sales Price Medicare Part B Drug Pricing Files and Revisions to Prior Quarterly Pricing Files.
1407 | Outpatient Therapy Caps Without KX Modifier Exceptions Start January 1, 2008 The Financial Limitation.
1408 | Modification to the Model Medicare Redetermination Notice (for Partly or Fully Unfavorable Redeterminations); Medicare Redetermination Notice (for Partly or Fully Unfavorable Redeterminations).
1409 | Correction to Pub. 100-04, Chapter 17, Section 100.2.1; CAP Required Modifiers.
1410 | Annual Type of Service Update.
1411 | April 2008 Update to the Medicare Code Editor and Group.
1412 | Reporting of Hematocrit or Hemoglobin Levels on All Claims for the Administration of Erythropoiesis Stimulating Agents Implementation of New Modifiers for Non-ESRD Indications, and Reporting of Hematocrit/Hemoglobin Levels on all Non-ESRD, Non-ESA Claims Requesting Payment for Anti-Anemia Drugs; Epoetin Alfa (EPO) Provided in the Hospital Outpatient Department; Payment for Aranesp in the Hospital Outpatient Department; Reporting of Hematocrit and/or Hemoglobin Levels; Required Modifiers for ESAs As Administered to Non-ESRD Patients; Hospitals Billing for EPO and Darbepoetin Alfa (Aranesp) for Non-ESRD Patients; The Competitive Acquisition Program for Drugs and Biologicals Not Paid on a Cost or Prospective Payments Basis; Claims Processing Instructions for CAP Claims for the Local Carriers; Items 14-33 Provider of Service or Supplier Information.
1413 | Erythropoiesis Stimulating Agents in Cancer and Related Neoplastic Conditions; Claims Processing Rules for ESAs Administered to Cancer Patients for Anti-Anemia Therapy.
1414 | Outpatient Therapy Caps without KX Modifier Exceptions Start January 1, 2008 The Financial Limitation.
1415 | Additional Payable “C” Drug Codes for January 1, 2008 in ASCs.
1416 | Clarification of Bone Mass Measurement Billing Requirements; Bone Mass Measurements; Payment Methodology and Healthcare Common Procedure Coding Systems (HCPCS) Coding.
1417 | January 2008 Update of the Hospital Outpatient Prospective Payment System.
1418 | New Healthcare Common Procedure Coding System Modifiers when Billing for Patient Care in Clinical Research Studies; Carrier Specific Requirements for Certain Specialties/Services; Billing Requirements for Providers Billing Routine Costs of Clinical Trials; Involving a Category A Investigation Device Exemptions; Billing Requirements for Providers Billing Routine Costs of Clinical Trials; Involving a Category B Investigation Device Exemptions; Billing Requirements for Clinical Trials; Reserved for Future Use.
1419 | January 2008 Integrated Outpatient Code Specifications Version 9.0.
1420 | Clarification Regarding the Coordination of Benefits Agreement; Medigap Claim-Based Crossover Process; Supplemental Coverage/Medigap; COB Training Partner and Medigap Plan Crossover Claim Requirements; Patient and Insured Information; MSN Messages; Coordination of Benefits Agreement Medigap Claim-Based Crossover Process.
1421 | Update of Institutional Claims References; Billing Form as Request for Payment; Beneficiary Request for Payment on Provider Record—UB-92 and Electronic Billing (Part A and Part B); When an Inpatient Admission May Be Changed to Outpatient Status; Noncovered Charges on Outpatient Bills; Line-Item Modifiers Related to Reporting of Noncovered Charges When Covered and Noncovered Services Are on the Same Institutional Claim; Form Prescribed by CMS In Accordance with CMS Instructions; Handling Incomplete or Invalid Submissions; Payment Floor Standards; Data Element Requirements Matrix; Claim Change Reason Codes; Inpatient Part A Hospital Adjustment Bills; (previously 130.3.1.2)—Tolerance Guides for Submitting SNF Inpatient Adjustment Request; (previously 130.3.3)—SNF Inpatient Claim Adjustment Instructions; (previously 130.3.4)—Patient Does Not Return From SNF Leave of Absence, and Last Bill Reported Patient Status as Still Patient (30); Billing and Claims Processing Requirements Related to HINNs; Billing and Claims Processing Requirements Related to Expedited Determinations; Source of Admission—Outpatient Hospital; Forms; DRG Grouper Program; Payment to Hospitals and Units Excluded from IPPS for Direct Graduate; Medical Education and Nursing and Allied Health (NandAH); Education for Medicare Advantage Enrollees; Adjustment Bills; Billing Requirements Under IRF PPS; Shared Systems and CWF Edits; System Edits; Benefits Exhausted; Completion of the Uniform (Institutional Provider) Bill (Form CMS-1450); Notice of Election for RNHCI; Required Data Elements on Claims for RNHCI Services; IPF PPS System Edits; Where to Report Modifiers on the UB-92 (Form CMS-1450) and ANSI X12N Formats; Optional Method for Outpatient Services: Cost-Based Facility Services Plus 115; Percent Fee Schedule Payment for Professional Services; Bill Review for Partial Hospitalization Services Provided in Community Mental Health Centers; Line Item Date of Service Reporting for Partial Hospitalization; Line Item Date of Service Reporting on Form CMS-1450; Off-Site CORF Services; Notifying Patient of Service Denial; Billing Skilled Nursing Facility PPS Service; Input/Output Record Layout; Leave of Absence; Services in Excess of Covered Services; Billing Formats; Billing; Calculation of Case Mix Adjusted Composite Rate; In-Facility Dialysis Bill Processing Procedures; Required Information for In-Facility Claims Paid Under the Composite Rate; EPO Facility Billing Requirements; Aranesp Facility Billing Requirements; General Intermediary Bill Processing Procedures for Method I Home Dialysis Services; Required Billing Information for Method I Claims; Billable Revenue Codes Under Method II; Unbillable Revenue Codes Under Method II; General Billing Requirements; General Guidelines for Processing Home Health Agency Claims; Special Billing Situations Involving OASIS Assessment; Heathcare Common Procedure Coding System Coding Requirements; Payment Methodology and HCPCS Coding; General Billing Guidelines—Intermediaries and Carriers; Intermediary Guidelines; Hospital Billing Under Part B; Billing and Payment Instructions for Fiscal Intermediaries (FIs); Requirements for Billing FIs for Immunosuppressive Drugs; Claims Submitted to FIs for Mass Immunizations of Influenza and Pneumococcal Pneumonia Vaccine; Healthcare Common Procedure Coding System and Diagnosis Codes for Mammography Services Diagnoses Codes; HHA Recertification for Home Oxygen Therapy; Billing/Claim Formats; ICD-9-CM Diagnosis and Procedure Codes; Billing Requirements for HBO Therapy for the Treatment of Diabetic Wounds of the Lower Extremities; Billing Requirements for Providers Billing Category B IDEs.
1423 | Summary of Policies in the 2008 Medicare Physician Fee Schedule and the Telehealth Originating Site Facility Fee Payment Amount.
1424 | Correction to Low Utilization Payment Adjustment Add-on Payments Under the Refined Home Health Prospective Payment System; Composition of Health Insurance Prospect Payment System Codes for Home Health Prospective Payment System; Request for Anticipated Payment; Home Health Prospective Payment System Claims; Input/Output Record Layout; Decision Logic Used by the Pricer on RAPs; Decision Logic Used by the Pricer on Claims; Special Billing Situations Involving OASIS Assessments; Temporary Suspension of Home Health Services.
1425 | Medicare Part A Skilled Nursing Facility Prospective Payment System Pricer; Update FY 2008 for 2 Core-Based Statistical Areas with New Wage Index; Values—Correction.
1426 | Announcement of Medicare Rural Health Clinics and Federally Qualified Health Centers Payment Rate Increases; Payment Rate for Independent and Provider Based Rural Health Clinics and Federally Qualified Health Clinics.
1427 | New Value Code to Report Patient Prior Payments.
1428 | Issued to a specific audience, not posted Internet/Intranet due to Confidentiality of Instruction.
1429 | Modification of Payment Window Edits in the Common Working File to Look at Line Item Dates of Service on Outpatient Claims; Outpatient Services Treated as Inpatient Services.
1430 | Use of HCPCS V2787 When Billing Approved Astigmatism-Correcting; Intraocular Lens in Ambulatory Surgery Centers Physician Offices, and Hospital Outpatient Departments; Payment for Services and Supplies; Coding and General Billing Requirements.
1431 | Update to the Implementation Date for Home Health Agencies Providing Durable Medical Equipment in Competitive Bidding Areas; General Guidelines for Processing Home Health Agency Claims; Home Health Prospective Payment System Consolidated Billing.
1432 | Medicare Fee-for-Service Legacy Provider IDs Prohibited on Form CMS-1500 and Form CMS-1450 (UB-04) Claims; Carrier Data Element Requirements; Item 14-3 Provider of Service or Supplier Information.
1433 | Smoking and Tobacco Use Cessation Counseling BILLING CODE Update; Health Common Procedure Coding System and Diagnosis Coding; Carrier Billing Requirements; FI Billing Requirements.
1434 | Extension of the Dates of Service Eligible for the Physician Scarcity Area; Bonus Payment; Billing and Payment in a Physician Scarcity Area; ZIP Code Files; Billing and Payment in a Physician Scarcity Area; Identifying Physician Scarcity Area Locations.
1435 | Emergency Update to the 2008 Medicare Physician Fee Schedule Database.
1436 | Modifications to the National Coordination of Benefits Agreement; Crossover Process; Consolidated Claims Crossover Process; Consolidation of the Claims Crossover Process; Coordination of Benefits Agreement; Detailed Error Report Notification Process.
1437 | Change in the Amount in Controversy Requirement for Administrative Law; Judge Hearings and Federal District Court Appeals; Right to an ALJ Hearing; Requests for U.S. District Court Review by a Party.
1438 | Issued to a specific audience, not posted to Internet/Intranet due to Confidentiality of Instruction.
1439 | Removal of Outdated References to Christian Science Sanatoria from Medicare Systems.
1440 | Medicare, Medicaid, and State Children's Health Insurance Program Extension Act of 2007 Changes to Independent Laboratory Billing for the Technical Component of Physician Pathology Services; Technical Component of Physician Pathology; Hospital Patients.
1441 | New “K” Code for Replacement Interface Material.
1442 | Issued to a specific audience, not posted to Internet/Intranet due to Confidentiality of Instruction.
1443 | Home Health Prospective Payment System Refinement and Rate; Update for Calendar Year 2008; Basis of Medicare Prospective Payment Systems and Case-Mix.
1444 | Modification to Existing Medicare Summary Notice Procedures; Regarding the MSN Customer Service Information Box, Beneficiary Estate Information and the Appeals Address; Title Section of the MSN Appeals Section; Title Section.
1445 | January 2008 Update of the Hospital Outpatient Prospective Payment System; Manualization; Payment Status Indicators; APC Payment Groups; Composite APCs; Calculation of APC Payment Rates; Packaging; Combinations of Packaged Services of Different Types That Are Furnished on the Same Date of Service; Discounting; Payment Adjustments; Outlier Adjustments; Calculation of Overall Cost to Charge Ratios for Hospitals; Paid Under the Outpatient Prospective Payment System and Community Mental Health Centers Paid Under the Hospital; Requirement to Calculate CCRs for Hospitals Paid Under OPPS and for CMHC Circumstances in Which CCRs Are Used; Selection of the CCR To Be Used; Mergers, Acquisitions, and Other Ownership Changes; New Providers and Providers with Cost Report Periods Less Than a Full Year; Substitution of Statewide CCRs for Extreme OPPS Hospital Specific CCRs; Methodology for Calculation of Hospital Overall CCR for Hospitals That Do Not Have Nursing and Paramedical Education Programs; Methodology for Calculation of Hospital Overall CCR for Hospitals That Have Nursing and Paramedical Education Programs; Methodology for Calculation of CCR for CMHCs; Location of Statewide CCRs, Tolerances for Use of Statewide CCRs in Lieu of Calculated CCRs, and Cost Centers To Be Used in the Calculation of CCRs; Reporting of CCRs for Hospitals Paid Under OPPS and for CMHCs; Packaged Revenue Codes; Revenue Codes for “Sometimes Therapy” Services; Use of Modifiers for Discontinued Services; OPPS Coinsurance; Outpatient Pricer; Outpatient Provider Specific File; Changes to the OPPS Pricer Logic Effective January 1, 2003; Billing for Devices Under the OPPS; Billing and Payment for Brachytherapy Sources; Billing for Brachytherapy Sources—General; Definition of Brachytherapy Source for Separate Payment; Billing of Brachytherapy Sources Ordered for a Specific Patient; Billing for Brachytherapy Source Supervision, Handling, and Loading Costs; Transitional Outpatient Payments for CY 2006-CY 2008; Clinic and Emergency Visits; Critical Care Services; Special Services for OPPS Billing; Billing for Corneal Tissue; Hospital Services For Patients with End-Stage Renal Disease; Billing Codes for Intensity Modulated Radiation Therapy and Stereotactic; Billing for IMRT Planning and Delivery; Additional Billing Instructions for IMRT Planning; Billing for Multi-Source Photon (Cobalt 60-Based) Stereotactic Radiosurgery; Planning and Delivery; Billing for Linear Accelerator (Robotic Image-Guided and Non-Robotic Image-Guided) SRS Planning and Delivery; Billing for Amniotic Membrane; Billing and Payment for Cardiac Rehabilitation Services; Billing and Payment for Alcohol and/or Substance Abuse Assessment and Intervention Services; Billing for Cardiac Echocardiography Services; Cardiac Echocardiography Without Contrast; Cardiac Echocardiography With Contrast; Billing for Nuclear Medicine Procedures; Coding and Payment for Drugs, Biologicals, and Radiopharmaceuticals; Coding and Payment for Drug Administration; Observation Services Overview; Reporting Hours of Observation; Billing and Payment for Observation Services Furnished Between January 1, 2006 and December 31, 2007; Billing and Payment for All Hospital Observation Services Furnished Between January 1, 2006 and December 31, 2007; Separate and Packaged Payment for Direct Admission to Observation Between January 1, 2006 and December 31, 2007; Separate and Packaged Payment for Observation Services Furnished Between January 1, 2006 and December 31, 2007; Billing and Payment for Observation Services Furnished on or After January 1, 2008; Billing and Payment for Observation Services Beginning January 1, 2008; Billing and Payment for Direct Admission to Observation Care Beginning January 1, 2008; Services Not Covered as Observation Services; Hospital Billing Under Part B; Payment Rules for Drugs and Biologicals; Drugs, Biologicals, and Radiopharmaceuticals.
1446 | Update to Common Working File (CWF Edits) 7284 and 7548; Indian Health Service/Tribal Hospital Inpatient Social Admits; FI—Social Admissions.
1447 | Reporting of Additional Data To Describe Services on Hospice Claims; Levels of Care; Data Required on Claim to FI.
1448 | Adjudicating Claims for Immunosuppressive Drugs When Medicare Did Not Pay for the Original Transplant; Billing for Immunosuppressive Drugs.
1450 | Update to the Common Working File to Allow the Posting of Skilled Nursing Facility and Swing Bed Claims to the Beneficiary's Spell of Illness When Qualifying Stay Criteria Are Not Met; Billing When Qualifying Stay or Transfer Criteria Are Not Met.
1451 | Clinical Lab: New Automated Test for the AMCC Panel Payment Algorithm; Organ or Disease Oriented Panel.
1452 | Instructions for Downloading the Medicare ZIP Code File for July 2008.
1453 | Systems Changes for Prescription Order Numbers for the Competitive Acquisition Program for Part B Drugs and Biologicals; Submitting the Prescription Order Numbers and No Pay Modifiers; Further Editing on the Prescription Order Number; Carrier Specific Requirements for Certain Specialties/Services.
1454 | Department of Veterans Affairs Claims Adjudication Services Project—New IOM Chapter—Pub. 100-04, Chapter 37 “Department of Veterans Affairs Claims Adjudication Services Project”; Background on the Veterans Affairs Claims Adjudication Services Project; Requirements for Processing Veterans Affairs Claims; Department of Veterans Affairs Claims Adjudication: Coinsurance and Deductible; Generating Unsolicited Responses to the Veterans Affairs; Use of Legacy Provider Numbers After National Provider Identifiers Are Fully Implemented.
1455 | Part B Drug Competitive Acquisition Program Quarterly Drug List Update.
1456 | Manualization of Payment for Outpatient End-Stage Renal Disease-Related Services; Monthly Capitation Payment Method for Physicians' Services Furnished to Patients on Maintenance Dialysis; Payment for End-Stage Renal Disease-Related Services Under the Monthly Capitation Payment; (Center-Based Patients); Payment for Managing Patients on Home Dialysis; Patients Who Switch Modalities (Center to Home and Vice Versa); Payment for End-Stage Renal Disease-Related Services (Per Diem); Guidelines for Physician or Practitioner Billing (Per Diem); Data Required on Claim for Monthly Capitation Payment; Controlling Claims Paid Under the Monthly Capitation Payment Method.
1457 | Redeterminations of Overpayments; The Redetermination.
1458 | Teaching Physician Requirements for End-Stage Renal Disease Monthly; Capitation Payment; Miscellaneous.
1459 | Comprehensive Outpatient Rehabilitation Facility Billing Requirement; Updates for Fiscal Year 2008; Allowable Revenue Codes on Comprehensive Outpatient Rehabilitation Facility; 75x Bill Types; Proper Reporting of Nursing Services by CORFS—FIs; Payment of Drugs, Biologicals, and Supplies in a Comprehensive Outpatient Rehabilitation Facility; Billing for Social Work and Psychological Services in a Comprehensive Outpatient Rehabilitation Facility; Billing for Respiratory Therapy Services in a Comprehensive Outpatient Rehabilitation Facility; FI Payment for Pneumococcal Pneumonia Virus, Influenza Virus, and Hepatitis B; Virus Vaccines and Their Administration.
1460 | Subsequent Hospital Visits and Hospital Discharge Day Management Services (Codes 99231—99239).
1461 | Clarification to CR 5744—Payment Allowance Update for the Influenza Virus Vaccine CPT 90660 and Further Instruction Regarding the Pneumococcal Vaccine CPT 90669; Healthcare Common Procedure Coding System and Diagnosis Codes.
1462 | Healthcare Provider Taxonomy Codes Update April 2008.
1463 | ZIP Code Files by Date of Service; Claims Processing Instructions for Payment Jurisdiction for Claims Received on or after April 1, 2004; Transition Overview.
1464 | Quarterly Update to Correct Coding Initiative (CCI) Edits, Version 14.1, Effective April 1, 2008.
1465 | Payment for Initial Hospital Care Services (Codes 99221-99233) and Observation or Inpatient Care Services (Including Admission and Discharge Services) (Codes 99234-99236).
1466 | Payment for Hospital Observation Services (Codes 99217-99220) and Observation or Inpatient Care Services (Including Admission and Discharge Services—Codes 99234-99236).
1467 | Modification to Existing Medicare Summary Notice Procedures Regarding the Customer Service Information Box; Title Section of the Medicare Summary Notice; Appeals Section.
1468 | Claim Status Category Code and Claim Status Code Update.
1469 | Document Control Number Search Feature.
1470 | Update to Audiology Policies; Audiological Diagnostic Tests, Speech-Language Evaluations and Treatments.
1471 | Healthcare Common Procedure Coding System Codes Subject to and Excluded from Clinical Laboratory Improvement Amendments Edits.
1472 | Update of Institutional Claims References; Billing Form as Request for Payment; Beneficiary Request for Payment on Provider Record—UB-04 and Electronic Billing (Part A and Part B); When an Inpatient Admission May Be Changed to Outpatient Status; Noncovered Charges on Outpatient Bills; Line-Item Modifiers Related to Reporting of Noncovered Charges; When Covered and Noncovered Services Are on the Same Institutional Claim Form Prescribed by CMS In Accordance with CMS Instructions; Handling Incomplete or Invalid Submissions; Payment Floor Standards; Data Element Requirements Matrix; Claim Change Reason Codes; Inpatient Part A Hospital Adjustment Bills; Tolerance Guides for Submitting SNF Inpatient Adjustment Requests; SNF Inpatient Claim Adjustment Instructions; Patient Does Not Return From SNF Leave of Absence, and Last Bill Reported; Patient Status as Still Patient (30); Billing and Claims Processing Requirements Related to HINNs; Billing and Claims Processing Requirements Related to Expedited Determinations; Data Element Requirements Matrix (FI); Source of Admission—Outpatient Hospital; Forms; DRG GROUPER Program; Payment to Hospitals and Units Excluded from IPPS for Direct Graduate Medical Education and Nursing and Allied Health (NandAH) Education for Medicare AdvantageEnrollees; Adjustment Bills; Billing Requirements Under IRF PPS; Shared System and CWF Edits; System Edits; Benefits Exhausted; Completion of the Uniform (Institutional Provider) Bill (Form CMS-1450) Notice of Election for RNHCI; Required Data Elements on Claims for RNHCI Services; IPF PPS System Edits; Where to Report Modifiers on the UB-92 (Form CMS-1450) and ANSI X12N Formats; Bill Review for Partial Hospitalization; Services Provided in Community Mental Health Centers; Line Item Date of Service Reporting for Partial Hospitalization; Line Item Date of Service Reporting on Form CMS-1450; Off-Site CORF Services; Notifying Patient of Service Denial; Billing SNF PPS Services; Input/Output Record Layout; Leave of Absence; Services in Excess of Covered Services; Billing Formats; Billing; Calculation of Case Mix Adjusted Composite Rate; Facility Dialysis Bill Processing Procedures; Required Information for In-Facility Claims Paid Under the Composite Rate; Epoetin Alfa (EPO) Facility Billing Requirements; Darbepoetin Alfa (Aranesp) Facility Billing Requirements; General Intermediary Bill Processing Procedures for Method I Home Dialysis Services; Required Billing Information for Method I Claims; Billable Revenue Codes Under Method II; Unbillable Revenue Codes Under Method II; General Billing Requirements; Special Billing Situations Involving OASIS Assessments; Healthcare Common Procedure Coding System Coding Requirements; Payment Methodology and Healthcare Common Procedure Coding System Coding; General Billing Guidelines—Intermediaries and Carriers; Intermediary Guidelines; Hospital Billing Under Part B; Billing and Payment Instructions for FIs; Requirements for Billing FI for Immunosuppressive Drugs; Claims Submitted to FIs for Mass Immunizations of Influenza and PPV; HCPCS and Diagnosis Codes for Mammography Services; Diagnoses Codes; HHA Recertification for Home Oxygen Therapy; Billing/Claim Formats; ICD-9-CM Diagnosis and Procedure Codes; Billing Requirements for HBO Therapy for the Treatment of Diabetic Wounds of the Lower Extremities; Billing Requirements for Providers Billing Category B IDEs.
1473 | Payment for Inpatient Hospital Visits—General (Codes 99221-99239).
1474 | Changes to the Long Term Care Hospital Prospective Payment System (LTCH PPS) Pricer Based on the Medicare, Medicaid, and SCHIP Extension Act of 2007 (Recurring CR: R20812Q).
1475 | Remittance Advice Remark Code and Claim Adjustment Reason Code Update.
1476 | Correction to Low Utilization Payment Adjustment Add-On Payments Under the Refined Home Health Prospective Payment System; Composition of Home Health Prospective Payment System Codes for Home; Health Prospective Payment System; Request for Anticipated Payment; Home Health Prospective Payment System Claims; Input/Output Record Layout; Decision Logic Used by the Pricer on RAPs; Decision Logic Used by the Pricer on Claims; Special Billing Situations Involving OASIS Assessments; Temporary Suspension of Home Health Services.
1477 | New Waived Tests.
1478 | Additional Clarification to Chapter 17, Section 40, Regarding Processing of Drug Claims with the JW Modifier; Discarded Drugs and Biologicals.
1479 | April 2008 Inpatient Rehabilitation Facility Prospective Payment System; Pricer Changes; Income Patients; Low-Income Patient Adjustment: The Supplemental Security Income; Medicare Beneficiary Data for Inpatient Rehabilitation Facilities Paid Under the Prospective Payment System.
1480 | Web site for Additions and Deletions of ZIP Codes Requiring a Plus Four ZIP Code Extension.
1481 | Type of Service Corrections; Type of Service.
1482 | April Update to the 2008 Medicare Physician Fee Schedule Database.
1483 | April 2008 Integrated Outpatient Code Editor Specifications Version 9.1.
1484 | April 2008 Quarterly Average Sales Price (ASP) Medicare Part B Drug Pricing Files and Revisions to Prior Quarterly Pricing Files.
Medicare Secondary Payer (CMS-Pub. 100-05)
58 | Insertion of the Debt Collection System User Guide into the Medicare Secondary Payer Section of the Manual and Associated Revisions/Updates to the Debt Collection System User Guide; 1-DCS.
59 | Treasury Collections on Medicare Secondary Payor Debt; Treasury Collections; Background; Intra-Governmental Payment and Collection System; Debt Collection System; Collection/Refund Spreadsheet; Financial Reporting for Collection/Refund Spreadsheet; Debt Paid in Full; Treasury Approved Extended Repayment Schedule; Excess Collections; Applying an Excess Collection; If the Debtor Has Other Outstanding Debt; If the Debtor Has No Other Outstanding Debt; Additonal Instructions for MSP Excess Collection.
Medicare Financial Management (CMS-Pub. 100-06)
134 | Recurring Update Notification for the Notice of New Interest Rate for Medicare Overpayments and Underpayments—2nd Notification for FY 2008.
135 | Clarification Regarding the Coordination of Benefits Agreement Medigap; Claim-Based Crossover Process; Coordination of Medicare and Complementary Insurance Programs.
136 | Revisions to Debt Referral Instructions; Treasury Offset Program; Debt Ineligible for Referral; Intent to Refer Letter; Response to Intent to Refer Letter; Debt Collection System; Cross Servicing Collection Efforts; Actions Subsequent to DCS Input; Transmission of Debt; Update to DCS After Transmission; Collections; Background; Intra-governmental Payment and Collection System; Collections Posted to the Debt Collection System; Collection/Refund Spreadsheet; Debt Paid in Full; Extended Repayment Schedule; Excess Collections; Applying Excess Collections; If the Debtor Has Other Outstanding Debt; If the Debtor Has No Other Outstanding Debt; Financial Reporting for Non-MSP Debt; Financial Reporting for Collections Received on Debts From Cross Servicing; Intermediary Claims Accounts Receivable.
137 | Reporting Costs Directly Associated with the Reimbursement Advisory Committee Program; Reporting Administrative Costs Directly Associated with the Reimbursement; Advisory Committee Program.
Medicare State Operations Manual (CMS-Pub. 100-07)
31 | Revision of Appendix P—Survey Protocol for Long Term Care Facilities.
32 | Revisions to Chapter 2, “Critical Access Hospitals and Appendix W, Survey Protocol, Regulations and Interpretive Guidelines for Critical Access Hospitals and Swing-Beds in Critical Access Hospitals”; Verification Criteria; Relocation of Critical Access Hospitals With A Grandfathered Necessary Provider Designation.
33 | Update to Chapter 2, “The Certification Process,” Sections 2021 and 2022.
Medicare Program Integrity (CMS-Pub. 100-08)
231 | NPI Number for Medical Review; Data Analysis.
232 | Clarification of Standards for Processing CMS-855 Enrollment Applications; CMS-855 Medicare Enrollment Applications; Timeliness and Accuracy Standards; Standards for Initial Applications; Paper Applications—Timeliness; Paper Applications—Accuracy; Web-Based Applications—Timeliness; Web-Based Applications—Accuracy; Standards for Changes of Information; Paper Applications—Timeliness; Paper Applications—Accuracy; Web-Based Applications—Timeliness; Web-Based Applications—Accuracy.
233 | Update to Chapter 10; Special Verification Procedures for CMS-855A Applications; Jurisdictional Issues; Changes of Ownership; Definitions; Determining Whether a Change of Ownership (CHOW) Has Occurred; Processing CHOW Applications; Intervening CHOWs; EFT Payments and CHOWs; Tie-In Notices; Out-of-State Practice Locations for Certified Providers; State Surveys and the CMS-855A; Sole Proprietorships; Additional CMS-855A Processing Instructions; Special Verification Procedures for Enrolling Independent CLIA Labs, Ambulatory Surgical Centers and Portable X-Ray Suppliers; CLIA Labs; ASCs and Portable X-Ray Suppliers; ASC/PXRS Changes of Ownership; Determining Whether a CHOW Has Occurred; EFT Payments and CHOWs; ASC/PXRS Tie-In Notices; Out-of-State Practice Locations for Certified Suppliers; State Surveys and the CMS-855B; Non-Certified Suppliers and Individual Practitioners; Certified Providers and Certified Suppliers; Approval of DMEPOS Suppliers; Non-CMS-855 Enrollment Activities; Contractor Communications; Reserved for Future Use; External Reporting Requirements; Reserved for Future Use.
234 | Revision to Instructions Relating to Compliance Standards for Independent Diagnostic Testing Facilities; IDTF Standards; Supervising Physicians.
235 | Additional Information on Reporting a National Provider Identifier for Ordering/Referring and Attending/Operating/Other Service Facility for Medicare; Claims.
236 | Update to Chapter 10; Returning the Application; National Provider Identifier; Changes of Information; General Procedures; Changes of Information and Complete CMS-855 Applications; Incomplete or Unverifiable Changes of Information; Special Instructions for Certified Providers, ASC, and Portable X-Ray Supplies (PXRSs); Voluntary Terminations; Electronic Fund Transfers; Carrier-Enrolled Organizational Suppliers; CLIA Labs; Mammography Screening Centers; Pharmacies; Portable X-Ray Suppliers; Radiation Therapy Centers; Slide Preparation Facilities; Physicians; Physician Assistants; Psychologists Practicing Independently; Registered Dietitians; CMS or Contractor Issued Deactivations; Revocations Involving Certified Suppliers and Providers; Special Durable Medical Equipment, Prosthetics, Orthotics, and Supplies; Instructions; DMEPOS Supplier Accreditation; Enrolling Indian Health Service Facilities as DMEPOS Suppliers.
237 | PIMR Annual Update; Coding T and F Codes.
238 | Correction of the Medicare Contractor System Downcoding Problem in Program Integrity Management Reporting System.
239 | Additional Instructions for the Execution of the Medicare Provider Enrollment; Demonstration for Home Health Agencies in High-Risk Areas.
240 | Revise the Fiscal Intermediary Shared System (FISS) to Include All 11x Claims in the Nightly Universe Files Generated for the Comprehensive Error Rate Testing Program; Providing Sample Information to the Contractor.
241 | Flagging Health Insurance Claim Numbers in the Medicare Carrier System for Pre-Payment Review/Audit; Medical Review for Benefit Integrity Purposes.
242 | Items and Special Services Having Special DME Review Considerations; Rules Concerning Orders Home Use of DME; Physician Orders; Verbal and Preliminary Written Orders; Detailed Written Orders; Written Orders Prior to Delivery; Requirements of New Orders; Certificates of Medical Necessity and DME Information Forms; Completing a CMN or DIF; Cover Letters for CMNs; Reserved for Future Use; DME MACs and DME PSCs Authority to Initiate an Overpayment and/or Civil Monetary Penalty When Valid CMNs Are Identified; Nurse Practitioner or Clinical Nurse Specialist Rules Concerning Orders and CMNs; Physician Assistant Rules Concerning Orders and CMNs; Documentation in the Patient's Medical Record; Supplier Documentation; Evidence of Medical Necessity; Evidence of Medical Necessity for the Oxygen CMN; Evidence of Medical Necessity: Wheelchair and Power-Operated Vehicle Claims; Period of Medical Necessity—Home Dialysis Equipment; Safeguards in Making Monthly Payments; Reserved for Future Use; Pick-up Slips; Incurred Expenses for DME and Orthotic and Prosthetic Devices; Reserved for Future Use; Items Eligible for ADMCs; Instructions for Submitting Advance Determination of Medicare Coverage Requests; Instructions Processing Advance Determination of Medicare Coverage Requests; Affirmative Advance Determination of Medicare Coverage Decision Instructions; Processing Advance Determination of Medicare Coverage Requests; DME MAC Tracking.
243 | Implementation of a Program Integrity Management Reporting Edit Effectiveness; Report for Program Safeguard Contractors.
244 | Collapsing Medicare Provider Transaction Access Numbers to Ensure a One-to-One; National Provider Identifier Match.
245 | Processing Part B Therapy Claims While the Therapy Cap Exceptions Process is in Effect; Exception From the Uniform Dollar Limitation (“Therapy Cap”).
246 | Clarification of Items in Chapter 10; Practice Location Information; Certification Statement; Desk and Site Reviews; Non-Participating Emergency Hospitals and Veterans Administration Hospitals.
247 | Model Letters for Provider Enrollment.
248 | Signature Requirements Clarification; Documentation Specifications for Areas Selected for Prepayment or Postpayment; Medical Review.
249 | Carrier Assignment of Provider Identification Numbers.
Medicare Contractor Beneficiary and Provider Communications (CMS-Pub. 100-09)
21 | Instructions Related to the CMS Standardized Provider Inquiry Chart for FY 2008; Data to be Reported Monthly; Provider Inquiry Reporting Standardization; Inquiry Tracking; Updates to Chart; General Requirements; Data to Be Reported Monthly; Provider Inquiry Standardized Categories.
Medicare End Stage Renal Disease Network Organizations (CMS-Pub 100-14)
00 | None.
Medicare Managed Care (CMS-Pub. 100-16)
00 | None.
Medicare Business Partners Systems Security (CMS-Pub. 100-17)
00 | None.
Demonstrations (CMS-Pub. 100-19)
55 | Medicare Acute Care Episode Demonstration.
56 | Implementation of Laboratory Competitive Bidding Demonstration.
57 | Laboratory Competitive Bidding Demonstration (Second Phase of Implementation).
One Time Notification (CMS-Pub. 100-20)
308 | This Transmittal is being Rescinded and Replaced by Transmittal 328.
309 | New Coordination of Benefits Agreement (COBA) Editing to Address Duplicate Crossover Claim File Submissions.
310 | Requirements for Including an 8-Digit Clinical Trial Number on Claims.
311 | Support Income Tax Reporting.
312 | EMERGENCY—Legislative Change Affecting the 2008 Medicare Physician Fee Schedule and Extension of the 2008 Participation Open Enrollment Period.
313 | New Contractor Numbers for the States of Colorado, New Mexico, Oklahoma, and Texas in Jurisdiction 4 Part AB Medicare Administrative Services Workload.
314 | Limitation of Recoupment—FISS Recoupment and Claims Adjustment Process.
315 | BOI Extract for CWF and MBD.
316 | Submitting Outpatient Provider Specific Data.
317 | Production Region Split and New Contractor Number for Riverbend, New Jersey; Part A Workload.
318 | Create User Account for Next Generation Desktop on Common Working File.
319 | Fiscal Intermediary Shared Mid-Month Production Region Split.
320 | Jurisdiction 3 Part A Merge.
321 | Refinements in Cost Reporting Due to CMS' Revised Procedures for Recalibrating Relative Weights Under the Inpatient Prospective Payment System.
322 | Limitation of Recoupment—FISS Recoupment and Claims Adjustment Process.
323 | New Contractor Numbers for the State of California Jurisdiction 1 Part B Medicare Administrative Contractor Workload.
324 | New Contractor Numbers for the States of Hawaii and Nevada and American Samoa, Guam, and Northern Mariana Islands Jurisdiction 1 Part B Medicare Administrative Contractor Workload.
325 | New Contractor Numbers for the States of California, Hawaii, and Nevada and American Samoa, Guam, and Northern Mariana Islands Jurisdiction 1 Part A Medicare Administrative Contractor Workload.
326 | Medicare Fraud Edit Module.
327 | Issued to a specific audience, not posted to Internet/Intranet due to Sensitivity of Instruction.
328 | Split of HI/NV/AZ Part B Workloads and Merge of AZ/UT/MT.

Addendum IV.—Regulation Documents Published in the Federal Register January Through March 2008
Publication date | FR Vol. 73 Page No. | 42 CFR parts affected | File code | Title of regulation
January 3, 2008 | 404 | 414 | CMS-1385-F2 | Medicare Program; Revisions to Payment Policies Under the Physician Fee Schedule, and Other Part B Payment Policies CY 2008; Delay of Effective Date of the Anti-Markup Provisions at 42 CFR 414.50 for Certain Arrangements.
January 8, 2008 | 1301 | 422 and 423 | CMS-4113-P | Medicare Program; Option for Prescription Drug Plans to Lower Their Premiums for Low-Income Subsidy Beneficiaries.
January 15, 2008 | 2431 | 410, 414, 424, and 484 | CMS-1385-F3 | Medicare Program; Revisions to Payment Policies Under the Physician Fee Schedule, and Other Part B Payment Policies for CY 2008; Revisions to the Payment Policies of Ambulance Services Under the Ambulance Fee Schedule for CY 2008; and the Amendment of the E-Prescribing Exemption for Computer-Generated Facsimile Transmissions; Correcting Amendment.
January 15, 2008 | 2433 | 414 | CMS-1385-CN3 | Medicare Program; Revisions to Payment Policies Under the Physician Fee Schedule, and Other Part B Payment Policies for CY 2008; Delay of the Date of Applicability of the Revised Anti-Markup Provisions for Certain Services Furnished in Certain Locations (§ 414.50); Correction.
January 15, 2008 | 2568 | 409, 410, 411, 413, 414, 415, 418, 423, 424, 482, 484, and 485 | CMS-1385-CN2 | Medicare Program; Revisions to Payment Policies Under the Physician Fee Schedule, and Other Part B Payment Policies for CY 2008; Revisions to the Payment Policies for Ambulance Services Under the Ambulance Fee Schedule for CY 2008; and the Amendment of the E-Prescribing Exemption for Computer-Generated Facsimile Transmissions; Corrections.
January 18, 2008 | 3405 | 488 | CMS-2278-IFC3 | Revisit User Fee Program for Medicare Survey and Certification Activities.
January 18, 2008 | 3546 | 441 | CMS-2229-P | Medicaid Program; Self-Directed Personal Assistance Services Program State Plan Option (Cash and Counseling).
January 25, 2008 | 4503 | 424 | CMS-6036-P | Medicare Program; Establishing Additional Medicare Durable Medical Equipment, Prosthetics, Orthotics, and Supplies (DMEPOS) Supplier Enrollment Safteguards.
January 28, 2008 | 4870 |  | CMS-3195-N | Medicare Program; Request for Nominations for Members of the Medicare Evidence Development and Coverage Advisory Committee (MedCAC).
January 28, 2008 | 4871 |  | CMS-1499-N | Medicare Program; Meeting of the Practicing Physicians Advisory Council (PPAC)—March 3, 2008.
January 29, 2008 | 5342 | 412 | CMS-1393-P | Medicare Program; Prospective Payment System for Long-Term Care Hospitals RY 2009: Proposed Annual Payment Rate Updates, Policy Changes, and Clarifications.
February 4, 2008 | 6451 | 400, 405, 410, 412, 413, 414, 488, and 494 | CMS-3818-RCN | Medicare and Medicaid Programs; Conditions for Coverage for End-Stage Renal Disease Facilities—Extension of Timeline for Publication of Final Rule.
February 6, 2008 | 6971 |  | CMS-5014-N | Medicare Program; Rural Community Hospital Demonstration Program; Solicitation of Additional Participants.
February 22, 2008 | 9812 |  | CMS-7008-N | Medicare Program; Announcement of Meeting of the Advisory Panel on Medicare Education; March 11, 2008.
February 22, 2008 | 9679 | 411 and 489 | CMS-6272-F | Medicare Program; Medicare Secondary Payer (MSP) Amendments.
February 22, 2008 | 9672 | 410 | CMS-6024-F | Medicare Program; Prior Determination for Certain Items and Services.
February 22, 2008 | 9811 |  | CMS-3186-FN | Medicare Program; Approval of Application by the Indian Health Service (IHS) for Continued Recognition as a National Accreditation Organization that Accredits American Indian and Alaska Native (AI/AN) Entities to Furnish Outpatient Diabetes Self-Management Training.
February 22, 2008 | 9685 | 433 | CMS-2275-F | Medicaid Program; Health Care-Related Taxes.
February 22, 2008 | 9727 | 447 and 457 | CMS-2244-P | Medicaid Program; Premiums and Cost Sharing.
February 22, 2008 | 9714 | 440 | CMS-2232-P | Medicaid Program; State Flexibility for Medicaid Benefit Packages.
February 22, 2008 | 9814 |  | CMS-1549-N | Medicare Program; Public Meetings in Calendar Year 2008 for All New Public Requests for Revisions to the Healthcare Common Procedure Coding System (HCPCS) Coding and Payment Determinations.
February 22, 2008 | 9807 |  | CMS-1491-N | Medicare Program; Extension of Certain Hospital Wage Index Reclassifications.
February 22, 2008 | 9810 |  | CMS-1395-N | Medicare Program; Request for Nominations to the Advisory Panel on Ambulatory Payment Classification Groups.
February 22, 2008 | 9860 | 410, 411, 412, 413, 414, 416, 419, 482, and 485 | CMS-1392-CN CMS-1533-CN CMS-1531-CN | Medicare Program; Changes to the Hospital Outpatient Prospective Payment System and CY 2008 Payment Rates, the Ambulatory Surgical Center Payment System and CY 2008 Payment Rates, the Hospital Inpatient Prospective Payment System and FY 2008 Payment Rates; and Payments for Graduate Medical Education for Affiliated Teaching Hospitals in Certain Emergency Situations Medicare and Medicaid Programs: Hospital Conditions of Participation; Necessary Provider Designations of Critical Access Hospitals; Correction.
February 29, 2008 | 11043 | 401 and 405 | CMS-4064-RCN | Medicare Program; Changes to the Medicare Claims Appeal Procedures; Continuation of Effectiveness and Extension of Timeline for Publication of Final Rule.
February 29, 2008 | 11120 |  | CMS-3196-N | Medicare Program; Town Hall Meeting of the Medicare Evidence Development of Coverage Advisory Committee—April 30, 2008.
February 29, 2008 | 11043 | 488 | CMS-2278-IFC4 | Revisit User Fee Program for Medicare Survey and Certification Activities.
March 14, 2008 | 13785 | 447 | CMS-2238-IFC | Medicaid Program; Multiple Source Drug Definition.
March 17, 2008 | 14342 | 423 | CMS-4127-P | Medicare Program; Application of Certain Appeals Provisions to the Medicare Prescription Drug Appeals Process.
March 28, 2008 | 16690 |  | CMS-2277-CN | Medicare and Medicaid Programs; Approval of the Joint Commission for Continued Deeming Authority for Home Health Agencies.
March 28, 2008 | 16688 |  | CMS-2276-FN | Medicare and Medicaid Programs; Approval of the Community Health Accreditation Program for Continued Deeming Authority for Home Health Agencies.

Addendum V—National Coverage Determinations [January Through March 2008]

A national coverage determination (NCD) is a determination by the Secretary with respect to whether or not a particular item or service is covered nationally under Title XVIII of the Social Security Act, but does not include a determination of what code, if any, is assigned to a particular item or service covered under this title, or determination with respect to the amount of payment made for a particular item or service so covered. We include below all of the NCDs that were issued during the quarter covered by this notice. The entries below include information concerning completed decisions as well as sections on program and decision memoranda, which also announce pending decisions or, in some cases, explain why it was not appropriate to issue an NCD. We identify completed decisions by the section of the NCDM in which the decision appears, the title, the date the publication was issued, and the effective date of the decision. Information on completed decisions as well as pending decisions has also been posted on the CMS Web site at http://cms.hhs.gov/coverage.

Title | NCDM section | TN No. | Issue date | Effective date
Erythropoiesis Stimulating Agents (ESAs) in Cancer and Related Neoplastic Conditions | 110.21 | R80NCD | 01/14/2008 | 07/30/2007

Addendum VI—FDA-Approved Category B IDEs [January Through March 2008]

Under the Food, Drug, and Cosmetic Act (21 U.S.C. 360c) devices fall into one of three classes. To assist CMS under this categorization process, the FDA assigns one of two categories to each FDA-approved IDE. Category A refers to experimental IDEs, and Category B refers to non-experimental IDEs. To obtain more information about the classes or categories, please refer to the Federal Register notice published on April 21, 1997 (62 FR 19328).

The following list includes all Category B IDEs approved by FDA during the first quarter, January through March 2008.

IDE | Category
G070016 | B
G070087 | B
G070116 | B
G070118 | B
G070137 | B
G070138 | B
G070155 | B
G070168 | B
G070191 | B
G070197 | B
G070202 | B
G070206 | B
G070219 | B
G070238 | B
G070240 | B
G080001 | B
G080005 | B
G080009 | B
G080014 | B
G080015 | B
G080018 | B
G080019 | B
G080021 | B
G080022 | B
G080025 | B
G080031 | B
G080032 | B
G080033 | B
G080034 | B

Addendum VII—Approval Numbers for Collections of Information

Below we list all approval numbers for collections of information in the referenced sections of CMS regulations in Title 42; Title 45, Subchapter C; and Title 20 of the Code of Federal Regulations, which have been approved by the Office of Management and Budget:

OMB Control Numbers

Approved CFR Sections in Title 42, Title 45, and Title 20 (Note: Sections in Title 45 are preceded by “45 CFR,” and sections in Title 20 are preceded by “20 CFR”).

OMB No. | Approved CFR sections
0938-0008 | Part 424, Subpart C
0938-0022 | 413.20, 413.24, 413.106
0938-0023 | 424.103
0938-0025 | 406.28, 407.27
0938-0027 | 486.100-486.110
0938-0033 | 405.807
0938-0035 | 407.40
0938-0037 | 413.20, 413.24
0938-0041 | 408.6, 408.202
0938-0042 | 410.1, 410.40, 424.124, 424.601, 414.605, 414.610, 414.615, 414.620, 414.625, 424.32
0938-0045 | 405.711
0938-0046 | 405.2133
0938-0050 | 413.20, 413.24
0938-0062 | 431.151, 435.151, 435.1009, 440.220, 440.250, 442.1, 442.10-442.16, 442.30, 442.40, 442.42, 442.100-442.119, 483.400-483.480, 488.332, 488.400, 498.3-498.5
0938-0065 | 485.701-485.729
0938-0074 | 491.1-491.11
0938-0080 | 406.7, 406.13
0938-0086 | 420.200-420.206, 455.100-455.106
0938-0101 | 430.30
0938-0102 | 413.20, 413.24
0938-0107 | 413.20, 413.24
0938-0146 | 431.800-431.865
0938-0147 | 431.800-431.865
0938-0151 | 493.1-493.2001
0938-0155 | 405.2470
0938-0193 | 430.10-430.20, 440.167
0938-0202 | 413.17, 413.20
0938-0214 | 411.25, 489.2, 489.20
0938-0236 | 413.20, 413.24
0938-0242 | 488.26 and 442.30
0938-0245 | 407.10, 407.11
0938-0246 | 431.800-431.865
0938-0251 | 406.7
0938-0266 | 416.1-416.150
0938-0267 | 485.56, 485.58, 485.60, 485.64, 485.66
0938-0269 | 412.116, 412.632, 413.64, 413.350, 484.245
0938-0270 | 405.376
0938-0272 | 440.180, 441.300-441.310
0938-0273 | 485.701-485.729
0938-0279 | 424.5
0938-0287 | 447.31
0938-0296 | 413.170, 413.184
0938-0301 | 413.20, 413.24, 415.60
0938-0302 | 418.22, 418.24, 418.28, 418.56, 418.58, 418.70, 418.74, 418.83, 418.96, 418.100
0938-0313 | 489.11, 489.20
0938-0328 | 482.12, 482.13, 482.21, 482.22, 482.27, 482.30, 482.41, 482.43, 482.45, 482.53, 482.56, 482.57, 482.60, 482.61, 482.62, 482.66, 485.618, 485.631
0938-0334 | 491.9, 491.10
0938-0338 | 486.104, 486.106, 486.110
0938-0354 | 441.50
0938-0355 | 442.30, 488.26
0938-0358 | 488.26
0938-0359 | 412.40-412.52
0938-0360 | 488.60
0938-0365 | 484.10, 484.12, 484.14, 484.16, 484.18, , 484.36, 484.48, 484.52
0938-0372 | 414.330
0938-0378 | 482.60-482.62
0938-0379 | 442.30, 488.26
0938-0386 | 405.2100-405.2171
0938-0391 | 488.18, 488.26, 488.28
0938-0426 | 480.104, 480.105, 480.116, 480.134
0938-0429 | 447.53
0938-0443 | 478.18, 478.34, 478.36, 478.42
0938-0444 | 1004.40, 1004.50, 1004.60, 1004.70
0938-0445 | 412.44, 412.46, 431.630, 476.71, 476.74, 476.78
0938-0447 | 405.2133
0938-0448 | 405.2133, 45 CFR 5, 5b; 20 CFR parts 401, 422E 0938-0449440.180, 441.300-441.310
0938-0454 | 424.20
0938-0456 | 412.105
0938-0463 | 413.20, 413.24, 413.106
0938-0467 | 431.17, 431.306, 435.910, 435.920, 435.940-435.960
0938-0469 | 417.126, 422.502, 422.516
0938-0470 | 417.143, 422.6
0938-0477 | 412.92
0938-0484 | 424.123
0938-0501 | 406.15
0938-0502 | 433.138
0938-0512 | 486.301-486.348
0938-0526 | 475.102, 475.103, 475.104, 475.105, 475.106
0938-0534 | 410.38, 424.5
0938-0544 | 493.1-493.2001
0938-0564 | 411.32
0938-0565 | 411.20-411.206
0938-0566 | 411.404, 411.406, 411.408
0938-0573 | 412.256
0938-0578 | 447.534
0938-0581 | 493.1-493.2001
0938-0599 | 493.1-493.2001
0938-0600 | 405.371, 405.378, 413.20
0938-0610 | 417.436, 417.801, 422.128, 430.12, 431.20, 431.107, 483.10, 484.10, 489.102
0938-0612 | 493.801, 493.803, 493.1232, 493.1233, 493.1234, 493.1235, 493.1236, 493.1239, 493.1241, 493.1242, 493.1249, 493.1251, 493,1252, 493.1253, 493.1254, 493.1255, 493.1256, 493.1261, 493.1262, 493.1263, 493.1269, 493.1273, 493.1274, 493.1278, 493.1283, 493.1289, 493.1291, 493.1299
0938-0618 | 433.68, 433.74, 447.272
0938-0653 | 493.1771, 493.1773, 493.1777
0938-0657 | 405.2110, 405.2112
0938-0658 | 405.2110, 405.2112
0938-0667 | 482.12, 488.18, 489.20, 489.24
0938-0686 | 493.551-493.557
0938-0688 | 486.301-486.325
0938-0691 | 412.106
0938-0692 | 466.78, 489.20, 489.27
0938-0701 | 422.152
0938-0702 | 45 CFR 146.111, 146.115, 146.117, 146.150, 146.152, 146.160, 146.180
0938-0703 | 45 CFR 148.120, 148.122, 148.124, 148.126, 148.128
0938-0714 | 411.370-411.389
0938-0717 | 424.57
0938-0721 | 410.33
0938-0723 | 421.300-421.316
0938-0730 | 405.410, 405.430, 405.435, 405.440, 405.445, 405.455, 410.61, 415.110, 424.24
0938-0732 | 417.126, 417.470
0938-0734 | 45 CFR 5b
0938-0739 | 413.337, 413.343, 424.32, 483.20
0938-0749 | 424.57
0938-0753 | 422.000-422.700
0938-0754 | 441.151, 441.152
0938-0758 | 413.20, 413.24
0938-0760 | 484.55, 484.205, 484.245, 484.250
0938-0761 | 484.11, 484.20
0938-0763 | 422.250, 422.252, 422.254, 422.256, 422.258, 422.262, 422.264, 422.266, 422.270, 422.300, 422.304, 422.306, 422.308, 422.310, 422.312, 422.314, 422.316, 422.318, 422.320, 422.322, 422.324, 423.251, 423.258, 423.265, 423.272, 423.286, 423.293, 423.301, 423.308, 423.315, 423.322, 423.329, 423.336, 423.343, 423.346, 423.350
0938-0770 | 410.2
0938-0778 | 422.111, 422.564
0938-0779 | 417.126, 417.470, 422.64, 422.210
0938-0781 | 411.404, 484.10
0938-0786 | 438.352, 438.360, 438.362, 438.364
0938-0790 | 460.12-460.210
0938-0792 | 491.8, 491.11
0938-0796 | 422.64
0938-0798 | 413.24, 413.65, 419.42
0938-0802 | 419.43
0938-0818 | 410.141-410.146, 414.63
0938-0829 | 422.568
0938-0832 | Parts 489 and 491
0938-0833 | 483.350-483.376
0938-0841 | 431.636, 457.50, 457.60, 457.70, 457.340, 457.350, 457.431, 457.440, 457.525, 457.560, 457.570, 457.740, 457.750, 457.810, 457.940, 457.945, 457.965, 457.985, 457.1005, 457.1015, 457.1180
0938-0842 | 412.23, 412.604, 412.606, 412.608, 412.610, 412.614, 412.618, 412.626, 413.64
0938-0846 | 411.352-411.361
0938-0857 | Part 419
0938-0860 | Part 419
0938-0866 | 45 CFR part 162
0938-0872 | 413.337, 483.20
0938-0873 | 422.152
0938-0874 | 45 CFR parts 160 and 162
0938-0878 | Part 422 Subparts F and G
0938-0887 | 45 CFR 148.316, 148.318, 148.320
0938-0897 | 412.22, 412.533
0938-0907 | 412.230, 412.304, 413.65
0938-0910 | 422.620, 422.624, 422.626
0938-0911 | 426.400, 426.500
0938-0915 | 421.120, 421.122
0938-0916 | 483.160
0938-0920 | 438.6, 438.8, 438.10, 438.12, 438.50, 438.56, 438.102, 438.114, 438.202, 438.206, 438.207, 438.240, 438.242, 438.402, 438.404, 438.406, 438.408, 438.410, 438.414, 438.416, 438.604, 438.710, 438.722, 438.724, 438.810
0938-0921 | 414.804
0938-0931 | 45 CFR 142.408, 162.408, and 162.406
0938-0933 | 438.50
0938-0935 | 422 Subparts F and K
0938-0936 | 423
0938-0939 | 405.502
0938-0944 | 422.250, 422.252, 422.254, 422.256, 422.258, 422.262, 422.264, 422.266, 422.270, 422.300, 422.304, 422.306, 422.308, 422.310, 422.312, 422.314, 422.316, 422.318, 422.320, 422.322, 422.324, 423.251, 423.258, 423.265, 423.272, 423.279, 423.286, 423.293, 423.301, 423.308, 423.315, 423.322, 423.329, 423.336, 423.343, 423.346, 423.350
0938-0950 | 405.910
0938-0951 | 423.48
0938-0953 | 405.1200 and 405.1202
0938-0954 | 414.906, 414.908, 414.910, 414.914, 414.916
0938-0957 | Part 423 Subpart R
0938-0964 | 403.460, 411.47
0938-0969 | 421.405
0938-0975 | 423.562(a)
0938-0976 | 423.568
0938-0977 | Part 423 Subpart R
0938-0978 | 423.464
0938-0982 | 422.310, 423.301, 423.322, 423.875, 423.888
0938-0986 | 412.20-412.30
0938-0990 | 423.56
0938-0992 | 423.505, 423.514
0938-0993 | 1396
0938-0997 | 424.5
0938-0999 | 42 CFR 424 Subpart C
0938-1009 | 411.357(v), 411.357(w)
0938-1020 | 412.525(a)(4), 412.529(c)(3), 412.84(i)(2)
0938-1024 | 1396
0938-1026 | 447.52
0938-1013 | 423.56e
0938-1019 | 405.1206, 422.622
0938-1023 | 422.152a
0938-1034 | 42 CFR 489.20

Addendum VIII—Medicare-Approved Carotid Stent Facilities [January Through March 2008]

On March 17, 2005, we issued our decision memorandum on carotid artery stenting. We determined that carotid artery stenting with embolic protection is reasonable and necessary only if performed in facilities that have been determined to be competent in performing the evaluation, procedure, and follow-up necessary to ensure optimal patient outcomes. We have created a list of minimum standards for facilities modeled in part on professional society statements on competency. All facilities must at least meet our standards in order to receive coverage for carotid artery stenting for high risk patients.

Facility | Provider No. | Effective date | State | Additional information
Union Hospital of Cecil County, 106 Bow Street, Elkton, MD 21921 | 210032 | 01/04/2008 | MD. |
Southwest Healthcare System, 36485 Inland Valley Drive, Wildomar, CA 92595 | 050701 | 01/14/2008 | CA. |
Long Island College Hospital, 339 Hicks Street, Brooklyn, NY 11201 | 330152 | 02/15/2008 | NY. |
Halifax Regional Health System, 2204 Wilborn Avenue, South Boston, VA 24592 | 490013 | 02/27/2008 | VA. |
Montgomery Hospital, 1301 Powell Street, Norristown, PA 19404-0992 | 390108 | 02/27/2008 | PA. | PO Box 992.

Addendum IX—American College of Cardiology's National Cardiovascular Data Registry Sites [January Through December 2007]

In order to obtain reimbursement, Medicare national coverage policy requires that providers implanting ICDs for primary prevention clinical indications (that is, patients without a history of cardiac arrest or spontaneous arrhythmia) report data on each primary prevention ICD procedure. This policy became effective January 27, 2005. Details of the clinical indications that are covered by Medicare and their respective data reporting requirements are available in the Medicare National Coverage Determination (NCD) Manual, which is on the Centers for Medicare & Medicaid Services (CMS) Web site at http://www.cms.hhs.gov/Manuals/IOM/itemdetail.asp?filterType=none&filterByDID=99&sortByDID=1&sortOrder=ascending&itemID=CMS014961.

A provider can use either of two mechanisms to satisfy the data reporting requirement. Patients may be enrolled either in an Investigational Device Exemption trial studying ICDs as identified by the FDA or in the American College of Cardiology's National Cardiovascular Data Registry (ACC-NCDR) ICD registry. Therefore, in order for a beneficiary to receive a Medicare-covered ICD implantation for primary prevention, the beneficiary must receive the scan in a facility that participates in the ACC-NCDR ICD registry.

We maintain a list of facilities that have been enrolled in this registry. Addendum IX includes the facilities that have been designated in the quarter covered by this notice.

Facility name | Address 1 | Address 2 | City | State | Zip | Phone | Fax
Abbott Northwestern Hospital | 800 East 28th Street (Internal Zip 33210) |  | Minneapolis | MN | 55407 | 612-863-6221 | 612-863-3771
Adena Regional Medical Center | 272 Hospital Road |  | Chillicothe | OH | 45601 | 740-779-7552 |
Adventist Medical Center | 10123 SE Market Street |  | Portland | OR | 97216 | 503-251-6172 | 503-251-6236
Advocate Christ Medical Center | 4440 West 95th Street | #127NOB | Oak Lawn | IL | 60453 | 708-684-3160 | 708-684-3260
Advocate Good Shepherd Hospital | 450 W. Highway 22 |  | Barrington | IL | 60010 | 847-842-3755 | 847-842-2992
Advocate Illinos Masonic Medical Center | 836 W. Wellington |  | Chicago | IL | 60657 | 773-296-5651 |
Advocate South Suburban Hospital | 17800 S. Kedzie Avenue |  | Hazel Crest | IL | 60429 | 708-213-3332 | 708-213-0161
Aiken Regional Medical Center | 302 University Parkway |  | Aiken | SC | 29802 | 803-641-5280 | 803-641-5054
Akron City Hospital | 525 East Market Street |  | Akron | OH | 44309-2090 | 330-375-4940 | 330-375-7655
Akron General Medical Center | 400 Wabash Avenue | Heart & Vascular Center | Akron | OH | 44307 | 330-344-1119 | 330-434-4739
Alaska Regional Hospital | 2801 Debarr Road |  | Anchorage | AK | 99508 | 907-264-1899 | 907-264-1143
Albany Medical Center Hospital | 43 New Scotland Avenue |  | Albany | NY | 12208 | 518-262-2581 | 518-262-2626
Albert Einstein Medical Center | 5501 Old York Road |  | Philadelphia | PA | 19141 | 215-456-7013 | 215-456-3533
Alexian Brothers Medical Center | 800 Biesterfield Road |  | Elk Grove Village | IL | 60007-3311 | 847-437-5500 x4160 | 847-981-2037
Alpena Regional Medical Center | 1501 W. Chisholm Street |  | Alpena | MI | 49707 | (989) 356-7360 | (989) 356-7551
Alta Bates Medical Center | 2450 Ashby Avenue |  | Berkeley | CA | 94705 | 510-204-1758 |
Alta Bates Summit Medical Center | 350 Hawthorne Avenue |  | Oakland | CA | 94609 | (510)655-4000 3894 |
Alton Memorial Hospital | 1 Memorial Drive |  | Alton | IL | 62067 | 618-463-7621 | 618-463-7766
Alvarado Hospital | 6645 Alvarado Road |  | San Diego | CA | 92120 | 619-229-4733 | 619-229-7272
Anaheim Memorial Medical Ctr | 1111 W. La Palma Avenue |  | Anaheim | CA | 92801 | 714-999-3931 | (714) 999-6063
AnMed Health | 800 Fant Street |  | Anderson | SC | 29621 | 864-512-1342 | 864-260-3975
Appleton Medical Center/ThedaClark Medical Center | 1818 N. Meade Street | Rm 165-B | Appleton | WI | 54911 | 920-735-7573 | 920-738-6353
Arizona Heart Hospital | Arizona Heart Hospital | 1930 East Thomas Road | Phoenix | AZ | 85016 | 602-532-1035 | 602-532-2000
Aspirus Wausau Hospital | 333 Pine Ridge Boulevard |  | Wausau | WI | 54401 | 715-847-2504 | 715-847-2207
Athens Regional Medical Center | 1199 Prince Avenue |  | Athens | GA | 30606 | 706 475 5761 | 706 475 5779
Atlanticare Regional Medical Center | 2500 English Creek Avenue |  | Egg Habour Township | NJ | 08234 | 609 748 7502 |
Audrain Medical Center | 620 E. Monroe Street |  | Mexico | MO | 65265 | 573-582-8004 | 573-582-3739
Aventura Hospital and Medical Center | 20900 Biscayne Boulevard |  | Aventura | FL | 33180 | 305-937-6903 | 305-682-7033
Avera Heart Hospital of South Dakota | 4500 West 69th Street |  | Sioux Falls | SD | 57108 | 605-977-7025 | 605-977-7001
Avera Sacred Heart Hospital | 501 Summit |  | Yankton | SD | 57078 | 605-668-8140 | 605-668-8058
Bakersfield Heart Hospital | 3001 Sillect Avenue |  | Bakersfield | CA | 93308 | 661-316-6081 | 661-316-6089
Ball Memorial Hospital | 2401 University Avenue |  | Muncie | IN | 47303 | 765-747-4284 | 765-747-8406
Banner Desert Medical Center | Banner Desert Medical Center, Quality Management | 1400 S. Dobson Road | Mesa | AZ | 85202 | 480-512-3321 | 480-512-5570
Banner Estrella Medical Center | 9201 W. Thomas Road |  | Phoenix | AZ | 85037 | 623-327-5311 |
Banner Good Samaritan Med Center | 1111 East McDowell Road |  | Phoenix | AZ | 85006-2612 | 602-239-4041 | 602-239-3072
Banner Heart Hospital | 6750 E. Baywood Avenue |  | Mesa | AZ | 85206 | 480-854-5100 | 480-854-5009
Banner Thunderbird Med Center | 5555 W. Thunderbird Road |  | Glendale | AZ | 85306 | 602-865-2126 | 602-865-4769
Baptist Health Medical Center | 3333 Springhill Drive |  | North Little Rock | AR | 72117 | 501-202-3774 | (501) 202-6850
Baptist Hospital | 1000 W. Moreno Street |  | Pensacola | FL | 32501 | (850) 469-5881 | (850) 469-5057
Baptist Hospital West | 137 Blount Avenue |  | Knoxville | TN | 37920 | 865-549-2651 | 865-549-2967
Baptist Medical Center | 111 Dallas Street |  | San Antonio | TX | 78205 | 210-297-1264 | 210-297-0926
Baptist Memorial Hospital Golden Triangle | 2520 5th Street NorthPO Box 1307 |  | Columbus | MS | 39703 | 662-244-1032 | 662-244-1016
Baptist Memorial Hospital North Mississippi | 2301 South Lamar Boulevard |  | Oxford | MS | 38655 | 662-232-8166 | 662-232-8161
Baptist Memorial Hospital—Desoto | 7601 Southcrest Parkway |  | Southaven | MS | 38671 | 662-349-5253 | 662-349-4091
Baptist Memorial Hospital—Union City | 1201 Bishop Street |  | Union City | TN | 38261 | 731-884-8777 |
Baptist St. Anthony's Health Systems | 1600 Wallace Boulevard |  | Amarillo | TX | 79106 | 806-212-5935 |
Barberton Citizens Hospital | 155 5th Street NE |  | Barberton | OH | 44203 | 330-615-3919 | 330-615-3921
Barnes Jewish Hospital/Washington University | #1 Barnes Jewish Hospital Plaza | SW Tower—Main. Mailstop 90-59-315 | Saint Louis | MO | 63110-9930 | 314-362-9404 | 314-362-0079
Barstow Community Hospital | 555 South Seventh Street |  | Barstow | CA | 92311 | 760-957-3346 |
Bassett Healthcare—(Mary Imogene Bassett Hospital) | One Atwell Road |  | Cooperstown | NY | 13326 | 607-547-4808 | 607-547-6892
Baton Rouge General Medical Center | 3600 Florida Boulevard |  | Baton Rouge | LA | 70806 | 225-381-6672 | 225-381-6225
Battle Creek Health System | 300 North Avenue |  | Battle Creek | MI | 49016 | 616-966-8165 | 616-966-8061
Baxter Regional Medical Center Attn: A/P | 624 Hospital Drive |  | Mountain Home | AR | 72653 | 870-508-1460 |
Bay Medical Center | 615 North Bonita Avenue |  | Panama City | FL | 32401 | 850-747-6135 | 850-747-6672
Bay Regional Medical Center | 1900 Columbus Avenue |  | Bay City | MI | 48708 | 989-894-8616 | 989-893-3434
Bayfront Medical Center | 701 Sixth Street South |  | St. Petersburg | FL | 33701 | 727.893.6273 | 727.893.6930
Bayhealth Medical Center (KGH) | 640 S. State Street |  | Dover | DE | 19901 | (302) 744-6636 | (302) 744-6690
Baylor All Saints Medical Center at Fort Worth | 1400 8th Avenue |  | Fort Worth | TX | 76104 | 817-922-1876 | 817-922-1236
Baylor Jack and Jane Hamilton Heart and Vascular Hospital | 621 North Hall Street |  | Dallas | TX | 75226 | 214-820-0663 |
Baylor Medical Center at Irving | 1901 North MacArthur Boulevard |  | Irving | TX | 75061 | 972-579-8525 | 972-579-8557
Baylor Regional Medical Center at Grapevine | 1650 West College Street |  | Grapevine | TX | 76051 | 817-424-4793 | 817-329-2845
Bayshore Medical Center | 4000 Spencer Highway |  | Pasadena | TX | 77504 | 713-359-1379 | 713-359-2223
Baystate Medical Center | 759 Chestnut Street | Springfield 4 4558 | Springfield | MA | 01199 | (413) 794-5257 | 413-794-9294
Bellevue Hospital Center | 462 First Avenue |  | New York | NY | 10016 | 212-562-2227 | 212-562-2991
Bellin Memorial Hospital | 744 S. Webster Avenue | Cardiac Data Center 5th Floor | Green Bay | WI | 54301 | 920-433-3785 | 920-433-7450
Benefis Healthcare | 1101 26th Street South |  | Great Falls | MT | 59405-5161 | 406-455-5693 | 406-455-4972
Bert Fish Medical Center | 401 Palmetto Street |  | New Smyrna Beach | FL | 32168 | 386-424-5288 |
Bethesda Memorial Hospital | 2815 S. Seacrest Blvd |  | Boynton Beach | FL | 33435 | 561-737-7733 x5422 |
Biloxi Regional Medical Center | 150 Reynoir Street |  | Biloxi | MS | 39531 | 228-436-1469 | 228-436-1580
Blake Medical Center | 2020 59th Street West |  | Bradenton | FL | 34209 | 941-798-6447 | 941-798-6439
Blanchard Valley Hospital | 1900 South Main Street | HeartCare Center | Findlay | OH | 45840 | 419.429.6485 | 419.427.7626
Blessing Hospital | 1005 Broadway | PO Box 7005 | Quincy | IL | 62305-7005 | 217-223-8400 ext 6669 | 217-228-3097
Bloomington Hospital | 601 W. Second Street |  | Bloomington | IN | 47403 | (812) 353-9385 | (812) 353-5625
Blue Ridge HealthCare | 2201 South Sterling Street |  | Morganton | NC | 28655 | 828-580-6253 |
Boca Raton Community Hospital | 800 Meadows Road |  | Boca Raton | FL | 33486 | 561.955.4442 | 561.955.3244
Bon Secours—Memorial Regional Medical Center | 5801 Bremo Road | Suite 310, North Medical Office Building | Richmond | VA | 23226 | 804-281-8496 |
Bon Secours St Francis Medical Center |  | 13701 Centerpointe Parkway | Midlothian | VA | 23114 | 804-594-3247 |
Bon Secours St. Marys Hospital | 5801 Bremo Road | Suite 310, North Medical Office Building | Richmond | VA | 23226 | 804-281-8496 | 804-287-7310
Boone Hospital Center | 1600 E. Broadway |  | Columbia | MO | 65201-5897 | 573-815-6068 | 573-815-8377
Borgess Medical Center | 1521 Gull Road |  | Kalamazoo | MI | 49048 | 269-226-8261 | 269-226-7401
Boston Medical Center | One Boston Medical Place |  | Boston | MA |  | 617-638-7298 |
Botsford Hospital | 28050 Grand River Avenue |  | Farmington Hills | MI | 48336 | 248-615-7481 | 248-471-4400
Braddock Campus | 900 Seton Drive |  | Cumberland | MD | 21502-1850 | 301-723-6291 | 301-723-5061
Brandon Regional Hospital | 119 Oakfield Drive |  | Brandon | FL | 33511 | 813-571-5108 | 813-571-5221
Brandon Regional Hospital | 119 Oakfield Drive | Attn: CCL | Brandon | FL | 33511 | 813-571-5164 | 813-571-5221
Bromenn Hospital | PO Box 2850 |  | Bloomington | IL | 61702-2850 | 309-268-5318 |
Bronson Methodist Hospital | 601 John Street |  | Kalamazoo | MI | 49007-5348 | 269-341-7567 | 269-341-8330
Brookdale Hospital & Medical Center | 1 Brookdale Plaza |  | Brooklyn | NY | 11212 | 718-240-6204 | 718-240-6516
Brooksville Regional Hospital | 17240 Cortez Boulevard |  | Brooksville | FL | 34601 | 352-544-6034 |
Bryan LGH Medical Center | 1600 South 48th Street |  | Lincoln | NE | 68526 | 402-481-8103 |
Bryn Mawr Hospital | Suite 557 Lankenau MOB East | 100 Lancaster Avenue | Wynnewood | PA | 19096 | 610-526-8661 |
Buffalo General Hospital/Aaron Health Sciences Library 4D | 100 High Street |  | Buffalo | NY | 14203 | 746-859-1080 | 716-859-3765
Cabell Huntington Hospital | 1340 Hal Greer Boulevard |  | Huntington | WV | 25701 | 304-526-6375 | 304-526-6377
California Pacific Medical Center | 2330 Clay Street, Stern Building, Room #103 | Stern Building, Room #103 | San Francisco | CA | 94115 | 415-600-3473 | 415-600-5955
CAMC Teays Valley Hospital | 1400 Hospital Drive |  | Hurricane | WI | 25526 | 304-757-1738 | 304-757-1875
Camden-Clark Memorial Hospital | 800 Garfield Avenue |  | Parkersburg | WV | 26101 | 304-424-2851 | 304-424-2805
Candler Hospital, Inc. | 5353 Reynolds Street |  | Savannah | GA | 31405 | 912-819-5291 |
Cape Canaveral Hospital | 701 West Cocoa Beach Causeway |  | Cocoa Beach | FL | 32931 | 321-868-7612 |
Cape Cod Hospital | 40 Quinlan Way |  | Hyannis | MA | 02601 | (508) 862-5723 |
Cape Fear Valley Health System | 303 Wagoner Drive |  | Fayetteville | NC | 28303-4646 | 910-609-6552 | 910-609-7157
Capital Regional Medical Center | barbara.scott3@hcahealthcare.com |  | Tallahassee | FL | 32308 | 850-325-5181 |
Capital Regional Medical Center | 1125 Madison Street (PO Box 1128) |  | Jefferson City | MO | 65102-1128 | 573-632-5996 | 573-632-5999
Cardiovascular Center of Puerto Rico | PO Box 366528 |  | San Juan | PR | 00936-6528 | 787-754-8500 x3058 |
Carilion Roanoke Memorial Hosp | Att: Cardiac Cath Lab | PO Box 13367 | Roanoke | VA | 24033-3367 | 540-981-8929 | 540-981-7010
Caritas Norwood Hospital | 800 Washington Street |  | Norwood | MA | 02062 | 781-278-6241 | 781-255-7351
Caritas St. Elizabeths Med Center | 736 Cambridge Street |  | Boston | MA | 02135 | 614-789-3184 | 617-779-6051
Carle Foundation Hospital | 611 W. Park Street |  | Urbana | IL | 61801 | 217-383-4749 |
Carolina Pines Regional Medical Center | 1304 W BoBo Newsom Highway |  | Hartsville | SC | 29550 | 843-339-4726 | 843-339-4728
Carolinas Hospital System | 805 Pamplico Highway |  | Florence | SC | 29505 | 843-674-2610 | 843-674-2683
Carolinas Medical Center | PO Box 32861 |  | Charlotte | NC | 28232 | 704 355-7914 |
Carolinas Medical Center—Mercy | 2001 Vail Avenue | Cath Lab | Charlotte | NC | 28207 | 704-304-5495 | 704-304-6132
Carondelet Heart Institute at St. Joseph Medical Center | 1000 Carondelet Drive |  | Kansas City | MO | 64114 | 816-943-2732 |
Carroll Hospital Center | 200 Memorial Avenue |  | Westminster | MD | 21157 | 410-871-7194 |
Carson Tahoe Regional Medical Center | 1600 Medical Parkway |  | Carson City | NV | 89706 | 775 445-8844 |
Cartersville Medical Center | PO Box 20008 |  | Cartersville | GA | 30120 | 678-721-5582 | 770-606-2204
Casa Grande Regional Medical Center | 1800 E. Florence Boulevard |  | Casa Grande | AZ | 85222 | 520-381-6332 | 520-381-6621
Catawba Valley Medical Center | 810 Fairgrove Church Road |  | Hickory | NC | 28602 | 828-326-3863 | 828-326-3191
Catholic Medical Center | 100 McGregor Street | Level C Room 248 | Manchester | NH | 03102-3770 | 603-663-6971 | 603-663-6390
Cayuga Medical Center at Ithaca | 101 Dates Drive |  | Ithaca | NY | 14850 | 607-274-4590 | 607-274-4588
Cedars-Sinai Health Systems | 8700 Beverly Boulevard | MGB 901 | Los Angeles | CA | 90048 | 310-423-9663 | 310-423-9668
Centennial Medical Center | 12505 Lebanon Boulevard |  | Frisco | TX | 75035 | 972-963-3168 |
Centennial Medical Center | 2300 Patterson Street |  | Nashville | TN | 37203 |  |
Centerpoint Medical Center | 19600 E. 39th Street |  | Independence | MO | 64057 | 816 698-7152 | 816 698-7151
Centinela Hospital Medical Center | 555 E. Hardy Street |  | Inglewood | CA | 90301 |  |
Central Baptist Hospital | 1800 Nicholasville Road Suite 401 |  | Lexington | KY | 40503 | 859-260-6763 | 859-260-6320
Central DuPage Hospital | 25 N. Winfield Road |  | Winfield | IL | 60190 | 630-933-6922 |
Central Florida Regional Hospital | 1401W. Seminole Boulevard |  | Sanford | FL | 32771 | 407.321.4500 x5372 | 407-324-2155
Central Maine Medical Center | 300 Main Street |  | Lewiston | ME | 04240 | 207-795-0111 x3752 | 207-753-3903
Central Minnesota Heart Center at St. Cloud Hospital | 1406 Sixth Ave. North |  | St. Cloud | MN | 56303 | 320-251-2700 x52627 | 320-255-5847
Central Mississippi Medical Center | 1850 Chadwick Drive |  | Jackson | MS | 39204 | 601-376-2826 | 601-376-1205
Chandler Regional Medical Center | 475 S. Dobson Road | Quality Management Department | Chandler | AZ | 85224 | 480-728-3877 | 602-798-0771
Charleston Area Medical Center | 501 Morris Street |  | Charleston | WV | 25301 | 304-388-7980 | 304-388-7979
Charlotte Regional Medical Center | 809 East Marion Avenue |  | Punta Gorda | FL | 33950 | 941-637-2439 | 941-637-2452
Charlton Memorial Hospital | 363 Highland Avenue |  | Fall River | MA | 02720-3700 | 508-679-7159 | 508-679-7147
Chattanooga-Hamilton County Hospital Authority/ER | 975 E. Third Street |  | Chattanooga | TN | 37403 | 423-778-4027 | 423-778-6001
Chesapeake General Hospital | 736 Battlefield Boulevard North |  | Chesapeake | VA | 23320 | 757-312-5250 |
Cheshire Medical Center | 580 Court Street |  | Keene | NH | 03431 | 603-354-5454 ext. 3588 |
Chester County Hospital | 701 East Marshall Street |  | West Chester | PA | 19380 | 610-738-2817 | 610-738-2579
Chester River Hospital Center | 100 Brown Street |  | Chestertown | MD | 21620 | 410-778-3300 |
Cheyenne Regional Medical Center | Cheyenne Regional Medical Center | 214 E. 23rd Street | Cheyenne | WY | 82001 | 307-633-6053 | 307 633-6057
Christian Hospital | 11133 Dunn Road |  | St Louis | MO | 63136 | 314-653-5914 |
Christiana Care Health System | 4755 Ogletown-Stanton Road |  | Newark | DE | 19718 | 1-302-733-5417 |
Christus Hospital—St. Mary | 3600 Gates Boulevard |  | Port Arthur | TX | 77642 | 409-989-5255 | 409-989-5197
Christus Saint Elizabeth Hospital | 2830 Calder Street |  | Beaumont | TX | 77702 | 409-924-6947 | 409-899-7010
Christus Santa Rosa Hospital | 2827 Babcock Road |  | San Antonio | TX | 78229 |  |
Christus Spohn Hospital Corpus Christi—Shoreline | 600 Elizabeth Street |  | Corpus Christi | TX | 78404 | 361-881-3000 X17311 |
Christus St. Michael Health System | 2600 St. Michael Drive |  | Texarkana | TX | 75503 | 903-614-2507 | 903-614-6925
Christus St. Patrick Hospital | 524 South Ryan Street |  | Lake Charles | LA | 70602-3401 | 337-430-5464 | 337-491-7535
Christus—St. Frances Cabrini Hospital | 3330 Masonic Drive | Cath Lab | Alexandria | LA | 71301 | 318-448-6992 | 318-448-4926
Citrus Memorial Health System | 502 W. Highland Boulevard |  | Inverness | FL | 34452 | 352-344-6421 | 352-726-6729
CJW Medical Center | 7101 Jahnke Road |  | Richmond | VA | 23225-4044 | (804)228-6723 | (877)850-1735
Clarian Health Partners—Methodist Hospital campus | 1701 N. Senate Boulevard | Room A1082 | Indianapolis | IN | 46202 | 317-962-3583 | 317-962-5360
Clarian North Medical Center | 11725 Illinois Street B-178 |  | Carmel | IN | 46032 | 317-688-3014 | 317-688-2704
Clark Memorial Hospital | 1220 Missouri Avenue |  | Jeffersonville | IN | 47130 | 812-283-2284 |
Clear Lake Regional Medical Center | 500 Medical Center Boulevard |  | Webster | TX | 77598 | 281-338-3879 | 281-338-3843
Cleveland Clinic Florida | 3100 Weston Road |  | Weston | FL | 33331 | 954-689-5265 | 954-689-5297
Cleveland Clinic Foundation | 9500 Euclid Avenue |  | Cleveland | OH | 44195 | 216-444-9214 | 216-445-7326
Coliseum Medical Centers | 350 Hospital Drive |  | Macon | GA | 31217 | 478-464-1641 | 478-464-1642
College Station Medical Center | 1604 Rock Prairie Road |  | College Station | TX | 77845 | 979-680-5337 | 979-764-5108
Columbia Hospital | 2025 E. Newport Avenue |  | Milwaukee | WI | 53211 | 414-961-5004 | 414-961-5542
Columbia Regional Hospital | 404 Keene Street |  | Columbia | MO | 65201 | 573-875-9406 | 573-875-9090
Columbia St. Mary's Hospital Milwaukee | 4425 N. Port Washington Road |  | Milwaukee | WI | 53212 | 414-326-2390 | 414-326-2395
Columbia St. Mary's Hospital Ozaukee | 13111 N. Port Washington Road |  | Mequon | WI | 53097 | 414-326-2390 | 414-326-2395
Columbus Regional Hospital | 2400 17th Street |  | Columbus | IN | 47201 | 812-375-3840 | 812-375-3833
Comanche County Memorial Hospital | 3401 W. Gore Boulevard | PO Box 129 | Lawton | OK | 73505 | 580-585-5587 |
Community Health Partners | 3700 Kolbe Road |  | Lorain | OH | 44053 | 440-960-3495 |
Community Hospital | 2615 E. High Street |  | Springfield | OH | 45505 | 937-328-9319 | 937-328-8788
Community Hospital | The Community Hospital | 901 MacArthur Boulevard | Munster | IN | 46321 | 219-836-4501 | 219-852-6436
Community Hospital and Wellness Center | 433 West High Street |  | Bryan | OH | 43506 | 419-636-1131 x1057 | 419-630-2193
Community Hospital East | Cardiovascular Services | 1500 North Ritter Avenue | Indianapolis | IN | 46219 | 317-355-2058 | 327-351-7866
Community Hospital of the Monterey Peninsula | PO Box HH |  | Monterey | CA | 93942-1085 | 831-625-4553 | 831-625-4877
Community Hospital South | 1500 N. Ritter Avenue |  | Indianapolis | IN | 46219-3027 | 317-355-2058 |
Community Medical Center | 2827 Fort Missoula Road |  | Missoula | MT | 59804 | 406 327-4646 | 406 327-4666
Community Medical Center | 1800 Mulberry Street |  | Scranton | PA | 18510 | 570-969-8219 |
Community Medical Center—Clovis | 2755 Herndon Avenue |  | Clovis | CA | 93611 | 559-324-4747 | 559-324-4004
Community Memorial Hospital | 147 N. Brent Street |  | Ventura | CA | 93003 | 805-652-5617 | 805-585-3046
Community Memorial Hospital | W180 N8085 Town Hall Road |  | Menomonee Falls | WI | 53052 | 414-805-4201 |
Concord Hospital | 250 Pleasant Street |  | Concord | NH | 03301 | 603-230-6029 | 603-228-7342
Condell Medical Center | 801 S. Milwaukee Avenue |  | Libertyville | IL | 60048 | 847-990-5872 | 847-362-1721
Conroe Regional Medical Center | 504 Medical Center Boulevard |  | Conroe | TX | 77304 | 936-538-2779 | 936-538-2649
Covenant Heart Institute | 3615 19th Street |  | Lubbock | TX | 79410 | 806-825-4553 | 806-723-7311
Conway Regional Medical Center | 2302 College Avenue |  | Conway | AR | 72034-6226 | 501-513-5728 | 501-513-5811
Cookeville Regional Medical Center | 142 W. 5th Street |  | Cookeville | TN | 38501-1760 | 931-646-2784 | 931-646-2185
Cooley Dickinson Hospital | 30 Locust Street |  | Northampton | MA | 01060 | 413-582-4701 | 413-582-4717
Cooper University Hospital | One Cooper Plaza | D386B | Camden | NJ | 08103 | 856-968-7630 |
Coral Gables Hospital | 3100 Douglas Road |  | Coral Gables | FL | 33134 | 305-460-1813 | 305-460-8689
Corpus Christi Medical Center | 7101 SPID |  | Corpus Christi | TX | 78412 | 361-761-2738 | 361-761-2656
County of Santa Clara | 751 S. Bascom Avenue |  | San Jose | CA | 95128 | 408-885-4362 | 408-793-5820
Covenant Healthcare | 1447 N. Harrison Street |  | Saginaw | MI | 48602 | 989 583-6544 |
Covenant Medical Center | 3421 West Ninth Street. |  | Waterloo | IA | 50702 | 319 272-5171 | 319-272-7536
Cox Medical Center South | 3801 S. National Avenue |  | Springfield | MO | 65807 | 417-269-6241 | 417-269-4995
Craven Regional Medical Center | 2000 Neuse Boulevard | PO Box 12157 | New Bern | NC | 28560 | 252-633-8236 | 252-633-8271
Creighton University Medical Center | 601 N. 30th Street |  | Omaha | NE | 68131 | 402-449-4078 | 402-449-4475
Crestwood Medical CenterTriad Hospitals, Inc | One Hospital Drive |  | Huntsville | AL | 35801-3495 | 256-429-5628 |
Crittenton Hospital Medical Center | 1101 W. University Drive |  | Rochester | MI | 48307-1831 | 248.652.5612 | 248.652.5879
Crouse Hospital | 736 Irving Avenue |  | Syracuse | NY | 13210 | 315-470-7122 | 315-470-2958
Crozer Chester Medical Center | 1 Medical Center Boulevard |  | Chester | PA | 19013-3995 | 610-447-2306 | 610-447-2924
CVPH Medical Center | 75 Beekman Street |  | Plattsburgh | NY | 12901 | 518-562-7798 | 518-562-7795
Cypress Fairbanks Medical Center | 10655 Steepletop Drive |  | Houston | TX | 77065 | 281-897-3544 | 281-897-3543
Dameron Hospital | 525 W. Acacia Street |  | Stockton | CA | 95203 | 209-242-7027 | 209-461-7534
Danbury Hospital | 24 Hospital Avenue | Cardiology 2 South | Danbury | CT | 06810 | 203-739-6945 | 203-739-1667
Davis Hospital | 1600 West Antelope Drive |  | Layton | UT | 84041 | 801-807-7270 |
Davis Regional Medical Center | 218 Old Mocksville Road |  | Stateville | NC | 28625 | 704-838-7082 |
Dayton Heart Hospital | 707 S. Edwin C. Moses Boulevard |  | Dayton | OH | 45408 | 937-221-8056 | 937-221-8001
DCH Regional Medical Center | 809 University Boulevard E |  | Tuscaloosa | AL | 35401-2029 | 205-759-7346 | 205-343-8234
Deaconess Billings Clinic | 2800 9th Avenue, North |  | Billings | MT | 59101 | 406-657-4336 | 406-657-3843
Deaconess Hospital | 311 Straight Street |  | Cincinnati | OH | 45219 | 513-559-2265 |
Deaconess Hospital | 5501 N. Portland Avenue |  | Oklahoma City | OK | 73112 | 405 604-4166 |
Deaconess Hospital | 600 Mary Street |  | Evansville | IN | 47747 | 812-450-7460 | 812-450-7258
Deaconess Medical Center | W. 800 Fifth Avenue |  | Spokane | WA | 99204 | 509-473-7303 |
Deborah Heart & Lung Center | 200 Trenton Road |  | Browns Mills | NJ | 08015 | 609-893-1200 x5800 | 609-893-5953
Decatur General Hospital | 1201 7th Street |  | Decatur | AL | 35601 | 256-341-2890 |
Degraff Memorial Hospital | 100 High Street |  | Buffalo | NY | 14203 | 716-859-1080 | 716-859-3765
Dekalb Regional Medical Center | 200 Medical Center Drive |  | Fort Payne | AL | 35968 | 256-997-2158 |
Del Sol Medical Center | 10301 Gateway West |  | El Pasoq | TX | 79925 | 915-595-9632 | 915-595-9633
Delray Medical Center | 5352 Linton Boulevard |  | Delray Beach | FL | 33484 | 561-594-3278 | 561-495-3467
Delta Regional Medical Center | 1400 E. Union Street |  | Greenville | MS | 38702 | 662-725-2053 |
Denton Regional Medical Center | 3535 South I-35E |  | Denton | TX | 76205 | 940-384-3875 | 940-384-4707
Denver Health Medical Center | 777 Bannock Street |  | Denver | CO | 80204 | 303-436-5651 | 303-436-7739
DePaul Health Center | 12303 DePaul Drive |  | Bridgeton | MO | 63044 | 314-344-6790 |
Des Peres Hospital | 2345 Dougherty Ferry Road |  | St. Louis | MO | 63122 | 314-966-9468 |
Desert Regional Medical Center | 1150 N. Indian Canyon |  | Palm Springs | CA | 92262 | 760-323-6799 | 760-323-6725
Desert Springs Hospital | 620 Shadow Lane |  | Las Vegas | NV | 89106 | 702-388-8494 |
Desert Valley Hospital | 16850 Bear Valley Road |  | Victorville | CA | 92392 | 760-241-8000 ext. 8674 | 760-843-5063
DeTar Hospital | 506 E. San Antonio Street |  | Victoria | TX | 77902 | 361-788-6991 | 361-788-6137
Dixie Regional Medical Center | 1380 E. Medical Drive |  | St. George | UT | 84790 | 435-251-1906 | 435-251-1950
Doctors Hospital | 9440 Poppy Drive |  | Dallas | TX | 75218 | 214-324-6355 |
Doctor's Hospital | 3983 I-49 S. Service Road |  | Opelousas | LA | 70570 | 337-948-2316 | 337-948-2216
Doctors Hospital at Renaissance | 5501 S. McColl Road |  | Edinburg | TX | 78539 | 956 661-7760 |
Doctors Hospital—Augusta | 3651 Wheeler Drive |  | Augusta | GA | 30909 | 706-651-6672 |
Doctors Hospital of Laredo | 10700 McPherson Road |  | Laredo | TX | 78045 | 956-523-2009 |
Doctors Hospital of Sarasota | 5731 Bee Ridge Roadq |  | Sarasota | FL | 34233 | 941-342-1100 |
Doctors Hospital of Stark | 400 Austin Avenue |  | Massillon | OH | 44646 | 330 837-7200 |
Doctors Medical Center | 2000 Vale Road |  | San Pablo | CA | 94806 | 510-970-5184 |
Doctors Medical Center | 1441 Florida Avenue |  | Modesto | CA | 95350 | 209-576-3603 |
Dominican Santa Cruz Hospital | 1555 Soquel Drive |  | Santa Cruz | CA | 95065 | 831-462-7243 | 831-462-7558
Downey Regional Medical Center | 11500 Brookshire Avenue |  | Downey | CA | 90241 | 562-904-5034 |
Doylestown Hospital | 595 West State Street |  | Doylestown | PA | 18901 | 215-345-2928 | 215-345-2411
DuBois Regional Medical Center | 100 Hospital Avenue |  | DuBois | PA | 15801 | 814-375-7702 |
Duke University Hospital | Erwin Road DUMC 3943 |  | Durham | NC | 27710 | 919-681-4060 |
Dunn Memorial Hospital | 1600 23rd Street |  | Bedford | ID | 47421 | 812-276-1370 | 812-276-1034
Durham Regional Hospital | 3634 Roxboro Road |  | Durham | NC | 27704 | 919-470-6344 |
East Alabama Medical Center | 2000 Pepperall Parkway |  | Opelika | AL | 36830 | 334-528-1748 | 334-528-1764
East Georgia Regional Medical Center | 1499 Fair Road (PO Box 1048) |  | Statesboro | GA | 30459 | 912-486-1530 |
East Jefferson General Hospital | 4200 Houma Boulevard | Quality Management Department | Metairie | LA | 70006 | 504-456-8449 | 504-454-5256
East Ohio Regional Hospital | 90 N. 4th Street |  | Martins Ferry | OH | 43935 | 740-633-4156 |
East Texas Medical Center | 1000 S. Beckham Avenue |  | Tyler | TX | 75711 | 903-535-6397 | 903-535-6597
Eastern Idaho RMC | 3100 Channing Way |  | Idaho Falls | ID | 83404 | 208-529-7394 | 208-529-7092
Eastern Maine Medical Center | 489 State Street | PO Box 404 | Bangor | ME | 04402-0404 | 207-973-8160 | 207-750-2174
Easton Hospital (Northampton Hospital Corp.) | 250 South 21st Street |  | Easton | PA | 18042 | 610-250-4984 | (610) 250-4896
Edward Hospital | 120 Spalding Drive #205 |  | Naperville | IL | 60540 | 630-527-3990 | 630-527-2888
Eisenhower Medical Center | 39000 Bob Hope Drive |  | Rancho Mirage | CA | 92270 | 760-674-3811 | 760-773-4336
El Camino Hospital | 2500 Grant Road |  | Mountain View | CA | 94040 |  |
Eliza Coffee Memorial Hospital | 603 West College Street |  | Florence | AL | 35630 | 256-768-9451 |
Elkhart General Hospital | 600 East Boulevard | 3 South Suites | Elkhart | IN | 46514-2499 | 574-296-6539 | 574-523-3495
Elliot Hospital | 1 Elliot Way |  | Manchester | NH | 03103 | 603 663-2959 |
Ellis Hospital | 1101 Nott Street |  | Schenectady | NY | 12308 | (518) 243-1943 | (518) 243-4459
Elmhurst Hospital Center | 79-01 Broadway | Dept of Cardiology, Suite D-54 | Elmhurst | NY | 11373 | (718) 334-1192 | (718) 334-5990
Elmhurst Memorial Hospital Marquardt Memorial Lib | 200 Berteau Avenue |  | Elmhurst | IL | 60126 | 630-833-1400 x 41431 | 630-782-0724
EMH Regional Medical Center | 630 East River Street |  | Elyria | OH | 44035 | 440-329-7486 | 440-329-7470
Emory Crawford Long Hospital | 550 Peachtree Street |  | Atlanta | GA | 30308 | 404-686-3671 | 404-686-3891
Emory Eastside Medical Center | 1700 Medical Way | (PO Box 587) | Snellville | GA | 30078 | 770-736-2358 |
Emory University Hospital | 1364 Clifton Road, NE C408 |  | Atlanta | GA | 30322 | (404) 727-0750 | (404) 712-1846
Encino-Tarzana Regional Medical Center | 18321 Clark Street |  | Tarzana | CA | 91356-3501 | 818-708-5349 | 818-708-5563
Englewood Hospital & Medical Center | 350 Engle Street |  | Englewood | NJ | 07631 | 201-894-3636 | 201 541 2188
Enloe Medical Center | 1600 Esplanade |  | Chico | CA | 95926 | 530-332-7432 |
Erie County Medical Center | 462 Grider Street |  | Buffalo | NY | 14215 | 716-898-5450 |
Evanston Hospital | 2650 Ridge Ave |  | Evanston | IL | 60201 | 847-570-2418 |
Excela Health Westmoreland Hospital | 532 West Pittsburgh Street |  | Greensburg | PA | 15601 | 724-832-4402 |
Exempla Good Samaritan Medical Center | 2420 W. 26th Avenue Building D Suite 100 |  | Denver | CO | 80211 | 303-813-5040 | 303-813-5055
Exempla Lutheran Medical Center | 2420 W. 26th Avenue Building D Suite 140 |  | Denver | CO | 80211 | 303-813-5038 |
Exempla Saint Joseph Hospital | 2420 W. 26th Avenue Building D Suite 140 |  | Denver | CO | 80211 | 303-813-5040 | 303-813-5055
Exeter Hospital | 5 Alumni Drive |  | Exeter | NH | 03833 | 603 580-7484 | 603-580-7263
Fairfield Cardiac Cath Labs | 3000 Mack Road | Suite 200 | Fairfield | OH | 45014 | 513-870-7106 | 513-603-8478
Fairfield Medical Center | 401 N. Ewing Street |  | Lancaster | OH | 43130 | 740-687-8496 | 740-687-8646
Fairview Hospital | 18101 Lorain Road #329 |  | Cleveland | OH | 44111 | 216-476-7872 | 216-476-7097
Fairview Park Hospital | 200 Industrial Boulevard |  | Dublin | GA | 31021 | 478-274-3300 | 478-274-3191
Fairview Southdale Hospital | 6401 France Avenue South |  | Edina | MN | 55435 | 952-924-5147 | 952-924-5012
Faith Regional Health Services | 2700 W. Norfolk Avenue |  | Norfolk | NE | 68701 | 402-371-4880 | 402-644-7613
Fawcett Memorial Hospital | 21298 Olean Boulevard |  | Port Charlotte | FL | 33949-4960 | 941-629-1181 x6816 | 941-629-5467
FirstHealth Moore Regional Hospital | 155 Memorial Drive |  | Pinehurst | NC | 28374 | 910-715-1591 | 910-715-2179
Fisher-Titus Medical Center | 272 Benedict Avenue |  | Norwalk | OH | 44857 | 419-668-8101 ext. 6475 | 419-660-2715
Flagler Hospital | 400 Health Park Boulevard |  | St. Augustine | FL | 32086 | 904-819-4404 ext 3659 |
Fletcher Allen Health Care | 111 Colchester Avenue |  | Burlington | VT | 05401 | 802-847-5501 | 802-847-3031
Flordia Hospital Zephyrhills | 7050 Gall Boulevard |  | Zephyrhills | FL | 33541 | 813-783-6119 ext 2274 |
Florida Hospital | 220 Winter Park Street |  | Orlando | FL | 32803 | 407-303-5600 x3669 | 407-303-7304
Florida Hospital Ormond Memorial | 875 Sterthaus Avenue |  | Ormond Beach | FL | 32174 | 386-676-6135 | 386-671-6671
Florida Hospital Waterman, Inc. | 1000 Waterman Way |  | Tavares | FL | 32778 | 352-253-3483 | 352-253-3153
Florida Medical Center | 5000 W. Oakland Park Boulevard |  | Lauderdale Lakes | FL | 33313 | 954-735-6000 x4309 |
Flowers Hospital | 4370 West Main Street |  | Dothan | AL | 36305 | 334-794-5000 x8280 |
Floyd Medical Center | 304 Turner McCall Boulevard |  | Rome | GA | 30165 | 706-509-5000 |
Forest Hills Hospital | 102-01 66th Road |  | Forest Hills | NY | 11375 |  |
Forrest General Hospital | 6051 Highway 49 South |  | Hattiesburg | MS | 39404-6389 | 601-288-2819 | 601-288-2808
Forsyth Medical Center | 3333 Silas Creek Parkway | Clinical Improvement Box 102 | Winston-Salem | NC | 27103 | 336-718-6370 | 336-277-9269
Fort Sanders Regional Medical Center | 1901 Clinch Avenue |  | Knoxville | TN | 37916-2307 | 865-541-1414 | 865-541-2893
Fort Walton Beach Medical Center | 1000 Mar Walt Drive |  | Fort Walton Beach | FL | 32547 | 850-315-7817 |
Forum Health—Northside Medical Center | 500 Gypsy Lane |  | Youngstown | OH | 44501-0240 | 330-884-3021 | 330-884-5748
Fountain Valley Regional Hosp | 17100 Euclid Street |  | Fountain Valley | CA | 92708-4004 | 714-966-8043 | 714-966-3327
Frankford Hospital | Knights & Red Lion Roads |  | Philadelphia | PA | 19114 | 215-612-4580 | 215-612-5463
Frankfort Regional Medical Center | 299 Kings Daughter Drive |  | Frankfort | KY | 40601 | 502-226-7698 | 502-226-7680
Franklin Square Hospital | 9000 Franklin Square Drive |  | Baltimore | MD | 21237 | 443-777-7446 |
Frederick Memorial Hospital | 400 W. Seventh Street |  | Frederick | MD | 21710 | 240-566-3269 |
Freeman Hospital | 1102 W. 32nd Street |  | Joplin | MO | 64804 | 417-347-3066 | 417-347-3764
Freeport Health Network | 1045 W. Stephenson Street |  | Freeport | IL | 61032 | 815-599-6384 |
Fremont Area Medical Center | 450 East 23rd Street |  | Fremont | NE | 68025 | 402-727-3659 | 402-727-3688
French Hospital Medical Center | 1911 Johnson Avenue |  | St Luis Obispo | CA | 93401 |  |
Fresno Community Hospital and Medical Center | 110 N. Valeria Street #103 |  | Fresno | CA | 93710 | 559-459-6771 | 559-459-2358
Fresno Heart Hospital | 15 East Audubon Drive |  | Fresno | CA | 93720 | 559-433-8026 | 559-433-8326
Froedtert Hospital | 9200 W. Wisconsin Avenue |  | Milwaukee | WI | 53226 | 414-769-4201 | 414-805-4265
Frye Regional Medical Center | 420 N. Center Street |  | Hickory | NC | 28601 | 828-315-5024 |
Gadsden Regional Medical Center | 1007 Goodyear Avenue |  | Gadsden | AL | 35903 | 256-494-4265 |
Galichia Heart Hospital | 2610 N. Woodlawn Boulevard |  | Wichita | KS | 67220 | 316-858-2930 | 316-858-8999
Garden City Hospital | 6245 Inkster Road |  | Garden City | MI | 48135 | 734-458-3251 | 734-458-3239
Gaston Memorial Hospital | 2525 Court Drive |  | Gastonia | NC | 28054 | 704-834-3605 | 704-834-4678
Gateway Medical Center Gateway Health System | 1771 Madison Street |  | Clarksville | TN | 37043 | 931-551-1662 |
Gateway Regional Medical Center | 2100 Madison Avenue |  | Granite City | IL | 62040 | 618-798-3623 | 618-798-3579
Geisinger Medical Center | 100 North Academy Avenue |  | Danville | PA | 17822-2160 | 570-271-5555 x54807 | 570-271-8056
Geisinger Wyoming Valley Medical Center | 100 North Academy Avenue |  | Danville | PA | 17822-2160 | 570-271-5555 x54807 | 570-271-8056
Genesis Medical Center | 1236 East Rusholme Street | Suite 190 | Davenport | IA | 52803-2459 | 563-421-3935 | 563-421-3933
Genesis Medical Center, Illini Campus | 801 Illini Drive |  | Silvis | IL | 61282 | 309-792-7071 | 309-792-6424
Genesys Regional Medical Center | One Genesys Parkway |  | Grand Blanc | MI | 48439 | 810-606-7653 | 810-606-6668
Georgetown University Hospital | 3800 Reservoir Road NW |  | Washington | DC | 20007 | 202-444-8619 | 202-444-3165
Glendale Adventist Medical Center | 1509 Wilson Terrace |  | Glendale | CA | 91206 | 818-409-8258 | 818-546-5616
Glendale Memorial Hospital and Health Center | 1420 S. Central Avenue |  | Glendale | CA | 91204 | 818-502-1900 x4755 | 818-507-4161
Glens Falls Hospital | 100 Park Street |  | Glens Falls | NY | 12801 | 518-926-4170 | 518-926-4169
Good Samaritan Heart Center | 520 South 7th Street |  | Vincennes | IN | 47591 | 812-885-3964 | 812-885-3915
Good Samaritan Hospital and Health Center | 2222 Philadelphia Drive |  | Dayton | OH | 45406 | 937-278-6251 x2256 | 937-341-8691
Good Samaritan Hospital | 2425 Samaritan Drive | 2425 Samaritan Drive | San Jose | CA | 95124 | 408-559-2189 | 408-559-2692
Good Samaritan Hospital | 605 N. 12th Street |  | Mount Vernon | IL | 62864 | 618-241-4438 | 618-241-3853
Good Samaritan Hospital | 3815 Highland Avenue |  | Downers Grove | IL | 60515 | 630-275-1403 | 603-275-5713
Good Samaritan Hospital | 375 Dixmyth Avenue |  | Cincinnati | OH | 45220-2489 | 513-872-4893 | 513-872-4897
Good Samaritan Hospital | 1225 Wilshire Boulevard |  | Los Angelos | CA | 90017 | 213-977-4058 | 213-977-2371
Good Samaritan Hospital | 10 East 31 Street |  | Kearney | NE | 68848 | 308-865-7516 | 308-865-2918
Good Samaritan Hospital | 255 Lafayette Avenue |  | Suffern | NY | 10901 | 845-368-5915 | 845 368 8250
Good Samaritan Hospital Cardiology | 1000 Montauk Highway |  | West Islip | NY | 11795 | 631-376-4090 | 631-376-4061
Good Samaritan Hospital of Maryland | 5601 Loch Raven Boulevard |  | Baltimore | MD | 21239 | 410-532-4570 | 410-532-4572
Good Samaritan Medical Center | 1309 North Flagler Drive |  | West Palm Beach | FL | 33401 | 561-671-7444 | 561-650-6186
Good Samaritan Regional Medical Center | 3600 NW Samaritan Drive |  | Corvallis | OR | 97330 | 541-768-5265 | 541-768-4776
Good Shepherd Medical Center | 700 East Marshall Avenue |  | Longview | TX | 75601 | 903-315-5118 |
Governor Juan F. Luis Hospital & Medical Center | 4007 Estate Diamond Ruby |  | Christiansted | VI | 00820 | 340-778-6311 | 340-772-7414
Grady Memorial Hospital | 561 West Central Avenue |  | Delaware | OH | 43015-1489 | 740-368-5286 |
Grandview Medical Center | 405 Grand Avenue |  | Dayton | OH | 45405 | 937-723-3335 |
Grant Medical Center | 111 S. Grant Avenue |  | Columbus | OH | 43215 | 614-566-9474 |
Great Plains Regional Medical Center | Box 2339 |  | Elk City | OK | 73648 | 580-225-2511 | 580-821-5541
Greater Baltimore Medical Center | GBMC—Cardiac Cath Lab | 6701 N. Charles Street | Towson | MD | 21204 | 443-849-2269 | 443-849-8154
Greenville Memorial Hospital | 701 Grove Road |  | Greenville | SC | 29605 | 864-455-6464 | 864-455-4775
Greenwich Hospital | 5 Perryridge Road |  | Greenwich | CT | 06830 | 203-863-3689 |
Gulf Coast Medical Center | 449 W. 23rd Street |  | Panama City | FL | 32406-5309 | 850-747-7896 |
Gulf Coast Medical Center | 1400 Highway 59 |  | Wharton | TX | 77488 | 979-282-6115 | 979-282-6163
Gundersen Lutheran Medical Center, Inc. | 1900 South Avenue | H06-004 | LaCrosse | WI | 54601 | 608-775-6398 | 608-775-4802
Gwinnett Hospital System | 1000 Medical Center Boulevard |  | Lawrenceville | GA | 30045 | 678-442-4534 |
Hackensack University Medical Center | 30 Prospect Avenue |  | Hackensack | NJ | 07601 | 201-996-2663 |
Hackley Hospital General Fund | 1700 Clinton Street |  | Muskegon | MI | 49443 | 231-728-4629 | 231-728-5781
Hahnemann University Hospital | 230 N. Broad Street |  | Philadelphia | PA | 19102 | 215-762-2049 |
Halifax Medical Center | 303 N. Clyde Morris Boulevard |  | Daytona Beach | FL | 32114-2732 | 386-756-2143 | 386-254-2934
Halifax Regional Hospital | 2204 Wilborn Avenue |  | South Boston | VA | 24592 | 434-517-3457 | 434-517-3168
Hamilton Medical Center | 1200 Memorial Drive |  | Dalton | GA | 30720 | 706-272-6022 | 706-272-6341
Hamot Medical Center | 201 State Street |  | Erie | PA | 16550 | 814-877-2960 | 814-877-5696
Hannibal Regional Hospital | 6000 Hospital Drive |  | Hannibal | MO | 63401 | 573-248-5290 |
Harbor Hospital Center | 3001 S. Hanover Street |  | Baltimore | MD | 21225 | 410-350-3898 |
Hardin Memorial Hospital | 913 N Dixie Avenue |  | Elizabethtown | KY | 42701 | 270-706-1159 | 270-706-1159
Harlingen Medical Center | 5501 South Expressway 77 |  | Harlingen | TX | 78550 | 956-365-1140 | 956-365-1875
Harper University Hospital | 3990 John R. Street |  | Detroit | MI | 48201 | 313-745-8349 | 319-966-5130
Harris Methodist Fort Worth |  | 1301 Pennsylvania Avenue | Fort Worth | TX | 76104 | 817-250-2780 | 817-250-2752
Harris Methodist HEB | 1600 Hospital Parkway |  | Bedford | TX | 76022 | 817-685-4081 |
Harrison Medical Center | 2520 Cherry Avenue |  | Bremerton | WA | 98310 | 360-792-6808 |
Hartford Hospital | 80 Seymour Street |  | Hartford | CT | 06102-8000 | 860-545-1522 | 860-545-3557
Harton Regional Medical Center | 1801 N. Jackson Street |  | Tullahoma | TN | 37388 | 931-393-7933 |
Havasu Regional Medical Center | 101 Civic Center Lane |  | Lake Havasu City | AZ | 86403 | 928-453-0806 | 928-453-0807
Hawaii Medical Center East, LLC | 2230 Liliha Street |  | Honolulu | HI | 96817 | 808-547-6434 | 808-547-6351
Hawaii Medical Center West | 91-2141 Fort Weaver Road |  | Ewa Beach | HI | 96706 | 808-678-7150 | 808-678-7163
Hays Medical Center | 2220 Canterbury Road |  | Hays | KS | 67601 | 785-623-5051 | 785-623-5052
Hazard ARH Regional Medical Center | 100 Medical Center Drive |  | Hazard | KY | 41701 | 606-439-6827 |
Health Care Authority for Baptist Health | 2105 East South Boulevard |  | Montgomery | AL | 36116 | 334-286-3327 | 334-286-2364
Heart and Lung Clinic | 900 East Broadway Box 5510 |  | Bismarck | ND | 58502 | 701-530-7506 | 701-530-7494
Heart Center of Indiana | 8333 Nabb Road Suite 330 | Suite 330 | Indianapolis | IN | 46290 | 317-338-6012 | 317-338-6214
Heart Hospital of Austin | 3801 N. Lamar Boulevard |  | Austin | TX | 78756 | 512-407-7497 |
Heart Hospital of Lafayette | 1105 Kaliste Saloom Road |  | Lafayette | LA | 70508 | 337-521-1025 | 337-521-1006
Heart Hospital of New Mexico | 504 Elm Street NE |  | Albuqerque | NM | 87102 | 505-724-2029 |
Heart of Florida Regional Medical Center | 40100 Highway 27 |  | Davenport | FL | 33837 | 863-419-2330 |
Heartland Regional Medical Center | 3333 W. Deyoung Street |  | Marion | IL | 62959 | 618-998-7491 |
Heartland Regional Medical Center | The Heart Center—Cardiac Cath Lab | 5325 Faraon Street | Saint Joseph | MO | 64506-3373 | 816-271-6665 | 816-271-1077
Helen Ellis Memorial | 1395 South Pinella Avenue |  | Tarpon Springs | FL | 34689 | 727-942-5110 |
Hellen Keller Hospital | 1300 South Montgomery Avenue |  | Sheffield | AL | 35660 | 256-386-4194 | 256-386-4687
Hemet Valley Medical Center | 1117 E. Devonshire Avenue |  | Hemet | CA | 92543 | (951) 652-2811 |
Hendersonville Medical Center | 355 New Shackle Island Road |  | Hendersonville | TN | 37075 | 615-338-1450 | 615-338-1455
Hendrick Medical Center | 1900 Pine Street |  | Abilene | TX | 79601 | 915-670-2000 |
Hennepin County Medical Center | 701 Park Avenue |  | Minneapolis | MN | 55415-1829 | 612-873-3349 | 612-904-4222
Henrico Doctors Hospital | 1602 Skipwith Road | Cardiac Cath Lab | Richmond | VA | 23229 | 804-289-5633 | 804-285-5143
Henry Ford Hospital | 2799 W. Grand Boulevard | K-14 | Detroit | MI | 48202 | 313-916-4905 | 313-916-1249
Henry Ford Macomb | 15855 Nineteen Mile Road |  | Clinton Township | MI | 48038 | 586 263 2108 | 586 263 2925
Henry Ford Macomb-Warren | 13355 East Ten Mile Road |  | Warren | MI | 48089 | 586-759-7400 |
Henry Mayo Newhall Memorial Hospital | 23845 McBean Parkway |  | Valencia | CA | 91350 | 661-253-8023 | 661-253-8142
Henry Medical Center, Inc | 1133 Eagles Landing Parkway |  | Stockbridge | GA | 30281 | 678-604-5027 | 678-604-5071
Hialeah Hospital | 651 East 25th Street |  | Hialeah | FL | 33013 | 305-835-4136 | 305-835-4355
High Point Regional Hospital | 601 N. Elm Street |  | High Point | NC | 27261 | 336-878-6006 |
Highland Park Hospital | 718 Glenview Avenue |  | Highland Park | IL | 60035 | 847-480-2641 | 847-926-5332
Highlands Regional Medical Center | 3600 S. Highlands Avenue |  | Sebring | FL | 33870 | 863-381-6101 |
Highlands Regional Medical Center | 5000 US 321 |  | Prestonburg | KY | 41653 | 606-886-7481 | 606-886-7799
Hillcrest Baptist Medical Center | 3000 Herring Avenue |  | Waco | TX | 76708 | 254-202-6849 | 254-202-5609
Hillcrest Hospital | 6780 Mayfield Road |  | Mayfield Heights | OH | 44124 | 440-312-8573 | 440-312-6929
Hillcrest Medical Center | 1120 S. Utica Avenue | 3 West | Tulsa | OK | 74104 | 918-579-3396 | 918-579-5355
Hilton Head Regional Medical Center | 25 Hospital Center Boulevard |  | Hilton Head | SC | 29925 | 843-689-8359 |
Hinsdale Hospital | 120 N. Oak Street |  | Hinsdale | IL | 60521 | 630-856-6164 |
HMA-Physician Management Region 25 Disb. Acct. (Physician's Regional) | 6101 Pine Ridge Road |  | Naples | FL | 34119 | 239-304-4733 |
Hoag Memorial Hospital Presbyterian | One Hoag Drive |  | Newport Beach | CA | 92658 | 949-764-6813 | 949-764-1492
Holland Community Hospital | 602 Michigan Avenue |  | Holland | MI | 49423 | 616-394-3596 | 616-394-4207
Holmes Regional Medical Center | 1355 South Hickory Street Suite 203 |  | Melbourne | FL | 32901 | 321-434-1266 | 321-434-7124
Holy Cross Hospital | 4725 N. Federal Highway |  | Ft. Lauderdale | FL | 33308 | 954-229-7968 | 954-267-6696
Holy Cross Hospital | 2701 W. 68th Street |  | Chicago | IL | 60629 | 773-884-7752 | 773-884-8004
Holy Cross Hospital Medical Library | 1500 Forest Glen Road |  | Silver Spring | MD | 20910 | 301-754-7389 | 301-754-7386
Holy Spirit Health System | 503 N 21st Street | Heart Center Administration | Camp Hill | PA | 17011-2204 | 717-972-4745 | 717-972-7581
Hospital of St. Raphael | Cardiac Cath Lab, 1450 Chapel Street |  | New Haven | CT | 06511 | 203-789-3460 | 203-867-5204
Hospital of the University of Pennsylvania | 9011 E. Gates 3400 Spruce Street |  | Philadelphia | PA | 19104 | 215-662-7781 | 215-349-5799
Houston Northwest Medical Center Accounts Payable | 710 FM 1960 Road West |  | Houston | TX | 77090 | 281-440-2886 |
Howard County General Hospital | 5755 Cedar Lane |  | Columbia | MD | 21044 | 410-884-4544 | 410-884-4677
Howard University Hospital | 2041 Georgia Avenue NW |  | Washington | DC | 20060 | 202-865-6835 | 202-865-4449
Huguley Memorial Medical Center | 11801 S. Freeway |  | Ft. Worth | TX | 76115 | 817-551-2542 | 817-551-2568
Huntington Hospital | 100 W. California Boulevard |  | Pasadena | CA | 91109 | 626-397-2229 | 626-397-2191
Huntington Hospital | 270 Park Avenue |  | Huntington | NY | 11743 | 631-351-2798 | 631-351-4115
Huntsville Hospital | 101 Sivley Road |  | Huntsville | AL | 35801 | 256-265-2552 | 256-265-2291
Hutchinson Hospital | 1701 E. 23rd Avenue |  | Hutchinson | KS | 67502 | 620-665-2061 |
Iberia Medical Center | 2315 East Main Street |  | New Iberia | LA | 70560 | 337-374-7192 |
Immanuel—St. Joseph's Hospital | 1025 Marsh Street |  | Mankato | MN | 56001 | 507-317-4328 | 507-389-4774
Indian River Medical Center | 1000 36th Street |  | Vero Beach | FL | 32960 | 772-567-4311 x1810 |
Indiana Heart Institute | 8333 Naab Rd, Suite 330 |  | Indianapolis | IN | 46260 | 317-338-6500 | 317-338-6214
Indiana Regional Medical Center Cardiology Department | 835 Hospital Road |  | Indiana | PA | 15701 | 724-357-8035 | 724-357-8038
Ingalls Hospital | One Ingalls Drive |  | Harvey | IL | 60426 | 708-333-2300 | 708-915-3114
Ingham Regional Medical Center | 401 W. Greenlawn Avenue |  | Lansing | MI | 48910 | 517-334-2720 | 517-367-5676
Innovis Health | 3000 32nd Avenue SW |  | Fargo | ND | 58104 | 701-364-8263 | 701-364-8262
Inova Alexandria Hospital | 4320 Seminary Road |  | Alexandria | VA | 22304 | 703-504-7950 |
Inova Fairfax Hospital/Inova Heart & Vascular Institute | 3300 Gallows Road |  | Falls Church | VA | 22042 | 703-208-6694 | 703-208-6699
Inova Loudoun Hospital | 44035 Riverside Parkway | Suite 120 | Leesburg | VA | 20176 | 703-858-8656 | 703-858-8670
Integris Baptist Medical Center | 3433 NW 56th Street, Suite 805 |  | Oklahoma City | OK | 73112 | 405-949-3648 |
Integris Health | 600 S. Monroe Street |  | Enid | OK | 73701 | 580-548-1111 | 580-548-1487
Integris Southwest Medical Center | 4401 South Western Avenue |  | Oklahoma City | OK | 73109 | 405-636-7574 | 405-231-0559
Intermountain Medical Center | PO Box 577000 |  | Murray | UT | 84157-7000 | 801-507-2958 | 801-507-2996
Iowa Lutheran Hospital | 700 E. University Avenue |  | Des Moines | IA | 50316 | 515-263-5813 | 515-263-5415
Iowa Methodist Medical Center | 700 E. University Avenue |  | Des Moines | IA | 50316 | 515-263-5813 | 515-263-5415
Iredell Memorial Hospital | 557 Brookdale Drive |  | Statesville | NC | 28687 | 704-878-4691 | 704-878-4632
Iroquois Memorial Hospital | 200 Fairman Avenue |  | Watseka | IL | 60970 | 815-432-7720 |
Irvine Regional Hospital and Medical Center | 16200 Sand Canyon Avenue |  | Irvine | CA | 92618-3701 | 949-753-2036 | 949-753-2072
Jackson Hospital and Clinic | 1725 Pine Street |  | Montgomery | AL | 36106 | 334-293-8881 | 334-293-8899
Jackson Madison General Hospital | 708 West Forrest Avenue |  | Jackson | TN | 38301 | 731-541-6326 | 731-425-6749
Jackson Memorial Hospital | 1611 N.W. 12th Avenue |  | Miami | FL | 33136 | 305-585-5084 | 305-585-2551
Jamaica Hospital Medical Center | 8900 VanWyck Expressway |  | Jamaica | NY | 11418 | 718 206-6191 | 718 206-7148
Jane Phillips Memorial Medical Center | 3500 Frank Phillips Boulevard |  | Bartlesville | OK | 74006 | 918-331-1101 | 918-331-1156
Jeanes Hospital | 7600 Central Avenue |  | Philadelphia | PA | 19111 | 215-728-2378 |
Jeff Anderson Regional Medical Center | 2124 14th Street |  | Meridian | MS | 39301 | 601-553-6611 |
Jefferson Memorial Hospital | PO Box 350 |  | Crystal City | MO | 63019 | 636-933-5412 | 636-933-5717
Jefferson Regional Medical Center | 1600 West 40th Avenue |  | Pine Bluff | AR | 71603 | 870-541-4012 |
Jefferson Regional Medical Center | PO Box 18119 565 Coal Valley Road |  | Pittsburgh | PA | 15236-0119 | 412-469-7205 | 412-469-7689
Jersey City Medical Center | 355 Grand Street |  | Neptune | NJ | 07307 | 201-915-2206 | 201-915-2113
Jersey Shore University Medical Center | 1945 State Route 33 |  | Neptune | NJ | 07753 | 732-776-2956 | 732-776-4324
Jewish Hospital | 4777 East Galbraith Road |  | Cincinnati | OH | 45236 | 513-686-3188 | 513-686-4454
Jewish Hospital | 200 Abraham Flexner Way |  | Louisville | KY | 40202 | 502-587-4847 | 502-560-8570
JFK Medical Center | 5631 Glencrest Boulevard |  | Tampa | FL | 33625-1008 | 813-265-0997 | 813-265-1244
John C. Lincoln Hospital—Deer Valley | 19829 N. 27th Ave. |  | Phoenix | AZ | 85027-4002 | 602-870-6060 x3202 |
John C. Lincoln Hospital—North Mountain | 250 E. Dunlap Avenue |  | Phoenix | AZ | 85020-2871 | 602-870-6060 x3202 |
John F. Kennedy Memorial Hospital | 47-111 Monroe Street |  | Indio | CA | 92201 | 760-775-8086 | 760-775-8454
John Muir Medical Center—Concord Campus | 2540 East Street |  | Concord | CA | 94520 | 925-674-2466 |
John Muir—Walnut Creek | 1601 Ygnacio Valley Road |  | Walnut Creek | CA | 94550 | 925-941-7951 | 925-941-7961
Johns Hopkins Bayview Medical Center | 4940 Eastern Avenue |  | Baltimore | MD | 21224 | 410-550-3557 | 410-550-3384
Johns Hopkins Hospital | 600 N. Wolfe Street |  | Baltimore | MD | 21287 | 410-502-0396 | 410-614-4243
Johnson City Medical Center Hosp | 400 N State of Franklin |  | Johnson City | TN | 37604 | 423-431-5690 |
Jordan Valley Hospital | 3580 W. 9000 S |  | West Jordan | UT | 84088 | 801-562-3188 |
Kadlec Medical Center | 888 Swift Boulevard |  | Richland | WA | 99352 | 509-942-2149 | 509-942-2750
Kaiser Foundation Hospital | 1526 Edgemont Street |  | Los Angeles | CA | 90027 | 323-783-6623 | 323 783 7819
Kaiser Foundation Hospital | 6600 Bruceville Road |  | Sacramento | CA | 95823 | 916-688-2287 | 916-688-6684
Kaiser Permanente—Moanalua Medical Center | 3288 Moanalua Road |  | Honolulu | HI | 96819 | 808-432-0000 |
Kaiser Permanente Medical Center—Santa Clara | 710 Lawrence Expressway |  | Santa Clara | CA | 95051 | 408-851-3749 | 408-851-3862
Kaiser Permanente Medical Center Health Sciences Library | 9400 E. Rosecrans Avenue |  | Bellflower | CA | 90706 | 562-461-5679 | 562-461-4487
Kaiser Permanente Walnut Creek | 4647 Zion Avenue |  | Bellflower | CA | 92120 | 619-528-3851 | 619-528-7141
Kaiser Sunnyside Medical Center | 10180 SE Sunnyside Road |  | Clackamas | OR | 97015 | 503-571-6522 | 503-571-6560
Kansas Heart Hospital | 3601 N Webb Road |  | Wichita | KS | 67226 | 316-630-5369 | 316-630-5388
Kansas Heart Hospital | 3601 N Webb Road |  | Wichita | KS | 67226 | 316-630-5369 |
Kansas University Hospital Authority | 3901 Rainbow Boulevard |  | Kansas City | KS | 66160 | 913-588-9731 | 913-588-9773
Kapi'olani Medical Center Pali Momi | 98-1079 Moanalua Road |  | Aiea | HI | 96701 | 808-485-4374 | 808-485-4400
Kaweah Delta Hospital District | Kaweah Delta Hospital District | 400 W. Mineral King Avenue | Visalia | CA | 93291 | 559-624-5524 | 559-635-4065
Kershaw County Medical Center | 1315 Roberts Street |  | Camden | SC | 29020 | 803-713-6887 | 803-713-6324
Kettering Medical Center | 3535 Southern Boulevard |  | Kettering | OH | 45429 | 937-298-3399 x57407 | 937-395-8647
Kingman Regional Medical Center | 3269 Stockton Hill Road |  | Kingman | AZ | 86401 | 928-757-0619 | 928-692-1418
Kings Daughters Hospital | 1901 Southwest H.K. Dodgen Loop |  | Temple | TX | 76502 | 254-742-2111 | 254-742-9205
Kings Daughters Medical Center | 2201 Lexington Avenue |  | Ashland | KY | 41101 | 606-326-6072 | 606-327-5107
Kingwood Medical Center | 22999 Highway 59 N |  | Kingwood | TX | 77339 | 281-348-8361 | 281-348-8390
Knox Community Hospital | 1330 Coshocton Road |  | Mount Vernon | OH | 43050 | 740-393-9058 | 740-399-3113
Kootenai Medical Center | 2003 Lincoln Way |  | Coeur d' Alene | ID | 83814 | 208-666-2189 | 208-666-2596
Kuakini Medical Center | 347 North Kuakini Street | Cardiac Cath Lab | Honolulu | HI | 96817 | 808-547-9602 | 808-547-9604
Labette Health | 1920 S. US Highway 59 PO BOX 956 |  | Parson | KS | 67357 | 620-820-5230 |
Lafayette General Medical Center | 1214 Coolidge Avenue |  | Lafayette | LA | 70505 | 337-289-8674 | 337-289-7169
LaGrange Memorial Hospital | 120 North Oak Street |  | Hinsdale | IL | 60521 | 630-856-6164 | 630-856-6129
Lahey Clinic | 41 Mall Road |  | Burlington | MA | 01805 | 781-744-1083 | 781-744-5577
Lake Charles Memorial Hospital | 1701 Oak Park Boulevard |  | Lake Charles | LA | 70601 | 337-494-2972 | 337-430-6954
Lake Pointe Medical Center | 6800 Scenic Drive |  | Rowlett | TX | 75088 | 972-348-8773 X1711 | 972-463-7456
Lake Regional Health System | 54 Hospital Drive |  | Osage Beach | MO | 65065 | 573-348-8773 or 573-348-8225 | 573-348-8266
Lakeland Hospital | 1234 Napier Avenue |  | Saint Joseph | MI | 49085-2112 | 616-982-4851 | 616-983-8232
Lakeland Regional Medical Center | 1324 Lakeland Hills Boulevard |  | Lakeland | FL | 33804 | 863-687-1100 x3318 | 863-413-5904
Lakeside Hospital | 6901 N. 72nd Street Suite 3300 |  | Omaha | NE | 68122 | 402-572-2689 | 402-572-2371
Lakeview Regional Medical Center | 95 East Fairway Drive |  | Covington | LA | 70433-7500 | 985-867-4080 | 985-867-4081
Lakeway Regional Hospital | 726 McFarland Street |  | Morristown | TN | 37814 | 423-522-6024 | 423-587-8548
Lakewood Hospital | 14519 Detroit Avenue |  | Lakewood | OH | 44107 | 216-227-2422 |
Lakewood Ranch Medical Center | 8330 Lakewood Ranch Boulevard |  | Bradenton | FL | 34202 | 941-782-2273 | 941-782-2556
Lakewood Regional Medical Center | 3700 East South Street |  | Lakewood | CA | 90712 | 562-272-6456 |
Lancaster Community Hosp | 43830 North 10th Street West |  | Lancaster | CA | 93534 | 661-940-1416 | 661-940-1483
Lancaster General Hospital | 555 N. Duke Street PO Box 3555 |  | Lancaster | PA | 17604-3555 | 717-544-4799 |
Lancaster Regional Medical Center | 250 College Avenue |  | Lancaster | PA | 17604 | 717-291-8232 | 717-291-8397
Lane Regional Medical Center | 6300 Main Street |  | Zachary | LA | 70791 | 225-658-4504 |
Lankenau Hospital | Suite 557 Lankenau MOB East | 100 Lancaster Avenue | Wynnewood | PA | 19096 | 610-526-8661 |
Laredo Medical Center | 1720 Bustamante Street |  | Laredo | TX | 78044 | 956-796-3309 |
Largo Medical Center | 201 14th Street SW |  | Largo | FL | 33770 | 727-588-5560 | 727-588-5906
Las Colinas Medical Center | 6800 North MacArthur Boulevard |  | Irving | TX | 75039 | 972-969-2392 | 469-484-1411
Las Palmas Medical Center | 1801 N. Oregon Street |  | El Paso | TX | 79902 | 915-521-1478 |
Lawrence & Memorial Hospital | 365 Montauk Avenue |  | New London | CT | 06375 | 860-442-0711 x2699 | 860-442-7203
Lawrence Hospital | 55 Palmer Avenue |  | Broxville | NY | 10708-3491 | 914-787-3298 |
Lee Memorial Health System—Cape Coral Hospital | 276 Cleveland Avenue |  | Fort Myers | FL | 33901 | 239-573-5548 | 239-573-5542
Lee Memorial Health System—Health Park Med Center | 276 Cleveland Avenue |  | Fort Myers | FL | 33901 | 239-573-5548 | 239-573-5542
Lee's Summit Medical Center | 2100 SE Blue Parkway |  | Lee's Summit | MO | 64063 | 816-282-5582 | 816-282-5581
Leesburg Regional Medical Center | 600 East Dixie Avenue |  | Leesburg | FL | 34748 | 352-323-5957 |
Legacy Emanuel Hospital | 1919 NW Lovejoy Street |  | Portland | OR | 97209 | 503-415-5518 | 503-415-5317
Legacy Good Samaritan Hospital | 1919 NW Lovejoy Street |  | Portland | OR | 97209 | 503-415-5518 | 503-415-5317
Legacy Meridian Park Hospital | 19300 SW 65th Avenue |  | Tualatin | OR | 97062 | 503-692-1212 |
Legacy Salmon Creek Hospital | 1919 NW Lovejoy Street |  | Portland | OR | 97209 | 503-415-5518 |
Lehigh Regional Medical Center | 1500 Lee Boulevard |  | Lehigh Acres | FL | 33963 | 239-368-4470 | 239-368-4470
Lehigh Valley Hospital | 1200 S. Cedar Crest Boulevard | Jaindl Pavilion 1st Floor | Allentown | PA | 18103 | 610-402-0601 | 610-402-8613
Lehigh Valley Hospital—Muhlenberg | 2545 Schoenersville Road | Invasive Cardiology 3rd Floor | Bethlehem | PA | 18017-7330 | 610-402-0601 |
Lenox Hill Heart and Vascular Institute of New York | 100 East 77th Street |  | New York | NY | 10021 | 212-434-6984 |
Lewis Gale Medical Center | 1900 Electric Road |  | Salem | VA | 24153 | 540-776-4939 | 540-776-4924
Lexington Medical Center | 2720 Sunset Boulevard |  | West Columbia | SC | 29169 | 803-791-2105 | 803-791-2660
Licking Memorial Hospital | 1320 W. Main Street |  | Newark | OH | 43055 | 740-348-4186 |
Lima Memorial Hospital | 1001 Bellefontaine Avenue |  | Lima | OH | 45804 | 419-998-4650 | 419-226-5133
Lincoln Park Hospital | 550 W. Webster Avenue |  | Chicago | IL | 60614 | 773-883-3672 | 773-883-3821
Little Company of Mary Hospital | 4101 Torrance Boulevard |  | Torrance | CA | 90503 | 310-303-5514 | 806-313-5514
Little Company of Mary Hospital | 2800 W. 95th Street |  | Evergreen Park | IL | 60805 | 708-229-5593 |
Logan General Hospital, LLC | 20 Hospital Drive |  | Logan | WV | 25601 | 304-831-1870 | 304-831-1840
Loma Linda University Medical Center | 11234 Anderson Street Room 2431 |  | Loma Linda | CA | 92354 | 909-558-4344 | 909-558-4249
Long Beach Memorial Medical Center | 2801 Atlantic Avenue |  | Long Beach | CA | 90806 | 562-933-3739 | 562-933-3328
Long Island College Hospital | 339 Hicks Street |  | Brooklyn | NY | 11201 | 718-780-2395 |
Long Island Jewish Medical Center | 270-05 76th Avenue |  | New Hyde Park | NY | 11040 | 718-470-4276 | 718-347-0753
Longmont United Hospital | 1950 Moutain View Avenue |  | Longmont | CO | 80501 | 303-651-5065 |
Longview Regional Medical Center | PO Box 14000 |  | Longview | TX | 75607 | 903-232-3695 |
Los Alamitos Medical Center | 3751 Katella Avenue |  | Los Alamitos | CA | 90720 | 562-799-3193 |
Los Robles Hospital & Medical Center | 215 W. Janss Road |  | Thousand Oaks | CA | 91360-1899 | 805-370-4585 | 805-267-8914
Louisiana Medical Center and Heart Hospital | 64030 Louisiana Highway 434 |  | Lacombe | LA | 70445 | 985-690-7522 | 985-690-7530
Lourdes Hospital | 1530 Lone Oak Road |  | Paducah | KY | 42003 | 270-444-2105 | 270-444-2886
Lovelace Medical Center | 601 Dr. Martin Luther King, Jr. Ave NE |  | Albuquerque | NM | 87106 | 505-727-8198 |
Lowell General Hospital | 295 Varnum Avenue |  | Lowell | MA | 01854 | 978-937-6226 | 978-937-6913
Lower Bucks Hospital | 501 Bath Road |  | Bristol | PA | 19007 | 215-785-9447 | 215-785-9120
Lower Keys Medical Center | 5900 College Road |  | Key West | FL | 33040 | 305-294-5531 ext 3382 |
LSUHSC—Cath Lab | 1501 Kings Highway |  | Shreveport | LA | 71130 | 318-675-7906 | 318-675-7913
Lubbock Heart Hospital | 4810 N. Loop 289 |  | Lubbock | LA | 79416 | 806-472-5307 | 806-472-3894
Luther Hospital | 1221 Whipple Street |  | Eau Claire | WI | 54703 | 715-838-3788 |
Lutheran Hospital of Indiana | 7950 W. Jefferson Boulevard |  | Fort Wayne | IN | 46804 | 260-435-7480 | 260-435-7632
Lutheran Medical Center | 150 55th Street |  | Brooklyn | NY | 11220 | 718-630-8396 |
Lynchburg General Hospital | 1901 Tate Springs Road |  | Lynchburg | VA | 24501-1167 | 434-947-7173 | 434-947-4601
MacNeal Hospital | 3249 S. Oak Park Avenue |  | Berwyn | IL | 60402 | 708-783-3360 | 708-783-0052
Magnolia Regional Health Center | 611 Alcorn Drive |  | Corinth | MS | 38834 | 662-293-1359 |
Maimonides Medical Center Division of Cardiology | Division of Cardiology | 4802 10th Avenue | Brooklyn | NY | 11219 | 718-283-7094 | 718-635-7388
Maine Medical Center | 22 Bramhall Street |  | Portland | ME | 04102 | 207-662-2661 | 207-662-6210
Manatee Memorial Hospital | 206 Second Street East |  | Bradenton | FL | 34208 | 941-745-7572 | 941-745-6891
Marian Medical Center | 1400 East Church Street |  | Santa Maria | CA | 93454 | 805-739-3746 |
Maricopa Integrated Health System | 2601 E. Roosevelt Street |  | Phoenix | AZ | 85008 | 602-344-5722 | 602-344-1364
Marin General Hospital | 250 Bon Air Road |  | Greenbrae | CA | 94904 | 415-925-7797 | 415-925-7626
Marion General Hospital | 441 N. Wabash Avenue |  | Marion | IN | 46952 | 765-662-4874 | 765-662-4548
Marion General Hospital | 1000 McKinley Park Drive |  | Marion | OH | 43302-6397 | 740-375-6000 | 740-375-6017
Marquette General Hospital System | 580 W. College Avenue |  | Marquette | MI | 49855 | 906-225-3536 |
Martha Jefferson Hospital | 459 Locust Avenue |  | Charlottesville | VA | 22902 | 434-982-8472 |
Martin Memorial Medical Center | PO Box 9010 |  | Stuart | FL | 34995 | 772-221-2094 | 772-419-2104
Mary Black Hospital | 1700 Skylyn Drive |  | Spatanburg | SC | 29307 | 864-573-3384 | 864-573-3274
Mary Greeley Medical Center | 1111 Duff Avenue |  | Ames | IA | 50010 | 515-239-6980 |
Mary Hitchcock Memorial Hospital | One Medical Center Drive |  | Lebanon | NH | 03756 | 603-650-5704 | 603-650-0523
Mary Washington Hospital | 1001 Sam Perry Boulevard |  | Fredericksburg | VA | 22401 | 540-741-4140 | 540-741-2909
Marymount Medical | 310 East 9th Street |  | London | KY | 40741 | 606-877-6124 | 606-877-3834
Massachusetts General Hospital | 55 Fruit Street |  | Boston | MA | 02114 | 617-643-3691 | 617-726-7519
Maury Regional Hospital | 1224 Trotwood Avenue |  | Columbia | TN | 38401 | 931-381-1111 x1663 |
Mayo Clinic Arizona | 5777 E. Mayo Boulevard |  | Phoenix | AZ | 85054 | 480-342-3005 | 480-342-2345
Mayo Clinic—St. Mary's Hospital | 200 First Street SW |  | Rochester | MN | 55905 | 507-284-2111 |
McAlester Regional Health Center | 1 Clark Bass Boulevard |  | McAlester | OK | 74501 | 918-421-8087 |
McAllen Medical Center | 301 W. Expressway 83 |  | McAllen | TX | 78503 | 956-632-4019 |
MCG Health Inc. | 1120 15th Street BBR-8521 |  | Augusta | GA | 30912 | 706-721-1118 | 706-721-0347
McKay-Dee Hospital Center | 4401 Harrison Boulevard |  | Ogden | UT | 84405 | 801-387-3000 |
McKee Medical Center | 2000 Boise Avenue |  | Loveland | CO | 80538 | 970-635-4118 |
McLeod Regional Medical Center | 555 E. Chaves Street |  | Florence | SC | 29501 | 843-777-2101 | 843-777-5075
Mease Countryside Hospital | 3231 Mccullen Booth Road |  | Safety Harbor | FL | 34695 | 727-461-8274 |
Mease Dunedin Hospital | 207 Jeffords Street MS 142 |  | Clearwater | FL | 33756 | 727-461-8274 | 727-461-8651
Med Central Mansfield | 335 Glessner Avenue |  | Mansfield | OH | 44903 | 419-526-8450 | 419-526-8246
Medcenter One | 300 N. 7th Street |  | Bismarck | ND | 58501 | 701-323-6529 |
Medical Center at Bowling Green | 250 Park Street |  | Bowling Green | KY | 42101 | 270-796-2464 | 270-796-2462
Medical Center Hospital | 500 W. 4th Street |  | Odessa | TX | 79760 | 432-640-2262 | 432-640-2282
Medical Center of Aurora | 1501 S. Potomac Street |  | Aurora | CO | 80012 | 303-873-5868 | 303-873-5747
Medical Center of Central Georgia | 777 Hemlock Street HB 53 |  | Macon | GA | 31208 | 478-633-1977 | 478-633-4349
Medical Center of Louisiana at New Orleans | 1541 Tulane Avenue Room #203 Butterworth Building |  | New Orleans | LA | 70112 | 504-903-0857 | 504-903-2270
Medical Center of McKinney | 4500 Medical Center Drive |  | McKinney | TX | 75069 | 972-540-4332 | 972-540-4525
Medical Center of Mesquite | 1011 N. Galloway Avenue |  | Mesquite | TX | 75149 | 214-319-2829 | 214-320-7047
Medical Center of Plano | 3901 W. 15th Street |  | Plano | TX | 75075-7738 | 972-519-1341 | 972-519-1214
Medical Center of the Rockies | 2500 Rocky Mountain Avenue |  | Loveland | CO | 80538 | 970-624-1705 |
Memorial Health Sysytem | 1400 E. Boulder Street |  | Colorado Springs | CO | 80909-5599 | 719-365-5313 | 719-365-5730
Medical City Dallas Hospital | 7777 Forest Lane |  | Dallas | TX | 75230 | 972-566-5573 | 972-566-8046
Medical University of South Carolina | 326 Calhoun Street Suite 239 |  | Charleston | SC | 29401 | 843-792-6401 | 843-792-0072
Memorial Health System | 1400 E. Boulder Street |  | Colorado Springs | CO | 80909-5599 | 719-365-5313 | 719-365-5730
Memorial Health University Medical Center | Cardiac Cath Lab Memorial Health University Medical Center | 4700 Waters Avenue | Savannah | GA | 31404 | 912-350-7233 | 912-350-7692
Memorial Hermann Hospital | 6411 Fannin Street |  | Houston | TX | 77030 | 713-704-0173 |
Memorial Hermann HVI South West | 7787 Southwest Freeway |  | Houston | TX | 77074 | 713-778-2227 | 713-778-2290
Memorial Hermann Memorial City Hospital | 921 Gessner Road |  | Houston | TX | 77024 | 713-242-3968 | 713-242-3539
Memorial Hermann Northeast | 18951 Memorial North |  | Humble | TX | 77338 | 281-540-7974 | 281-540-6411
Memorial Hermann Northwest Hospital | 1635 North Loop West |  | Houston | TX | 77008 | 713-867-4587 |
Memorial Hermann The Woodlands Hospital | 9250 Pinecroft Drive |  | Spring | TX | 77380 | 281-364-4185 | 281-364-4186
Memorial Hospital | 2525 Desales Avenue |  | Chattanooga | TN | 37404-1102 | 423-495-6245 | 423-495-4122
Memorial Hospital at Gulfport | 4500 13th Street | PO Box 1810 | Gulfport | MS | 39502 | 228-575-2482 | 228-575-2469
Memorial Hospital Carbondale | 405 W. Jackson Street |  | Carbondale | IL | 65902 | 618-549-0721 x65472 | 618-529-0437
Memorial Hospital Miramar | 1901 SW 172 Avenue |  | Miramar | FL | 33029 | 954-538-4650 |
Memorial Hospital of Martinsville | 320 Hospital Drive |  | Martinsville | VA | 24112 | 276-666-7799 |
Memorial Hospital of Rhode Island Brown University | 111 Brewster Street |  | Pawtucket | RI | 02860 | 401-729-2642 |
Memorial Hospital of South Bend | 615 N. Michigan Street |  | South Bend | IN | 46601-1033 | 574-647-3593 | 574-647-6691
Memorial Hospital of Tampa | 2901 W. Swann Avenue |  | Tampa | FL | 33609 | 813-0873-6400 x5305 | 813-342-1515
Memorial Hospital Pembroke/ South Broward Hospital | 7800 Sheridan Street |  | Pembroke Pines | FL | 33024 | 954-963-8000 |
Memorial Hospital West/South Broward Hospital District | 703 North Flamingo Road |  | Pembroke Pines | FL | 33028 | 954-430-6880 x7510 |
Memorial Hospital—Jacksonville | 3625 University Boulevard South |  | Jacksonville | FL | 32215 | 904-399-6019 | 904-399-6381
Memorial Hospitals Association | 1700 Coffee Road |  | Modesto | CA | 95355 | 209-526-4500 ext. 6084 | 209-572-7017
Memorial Medical Center | 701 N. First Street |  | Springfield | IL | 62781 | 217-757-4263 | 217-788-5526
Memorial Medical Center | 2450 S. Telshor Boulevard |  | Las Cruces | NM | 88011 | 505-556-5861 | 505-521-5076
Memorial Medical Center | 1086 Franklin Street |  | Johnstown | PA | 15905-4398 | 814-534-3459 | 814-534-3467
Memorial Regional Hospital/South Broward Hospital | 3501 Johnson Street |  | Hollywood | FL | 33021 | 954-987-2020 x1025 | 954-986-6949
Memphis Hospital (Germantown Campus) | 1265 Union Avenue |  | Memphis | TN | 38104-3499 | 901-516-9087 |
Memphis Hospital (North Campus) | 1265 Union Avenue |  | Memphis | TN | 38104-3499 | 901-516-9087 | 901-516-2682
Memphis Hospital (University Campus) | 1265 Union Avenue |  | Memphis | TN | 38104-3499 | 901-516-9087 |
Menifee Valley Medical Center | 28400 McCell Boulevard |  | Sun City | CA | 92585 | 951-672-7042 | 951-672-7055
Menorah Medical Center | 5721 West 119th Street |  | Overland Park | KS | 66209 | 913-498-6033 | 913-498-6106
Mercy Fitzgerald Hospital | 1500 Lansdowne Avenue |  | Darby | PA | 19023 | 610-237-4328 | 610-237-4264
Mercy General Health Partners | 1500 E. Sherman Boulevard |  | Muskegon | MI | 49444 | 231-672-4606 | 231-672-3965
Mercy General Hospital—Sacramento | 3939 J Street | Suite 215 | Sacramento | CA | 95819 | 916-453-4231 | 916-453-4587
Mercy Gilbert Medical Center | 3555 South Val Vista Drive | Attn.: Cardiac Cath Lab | Gilbert | AZ | 85296 | 480-728-7050 | 480-728-9645
Mercy Health System of Northwestern Arkansas | 1200 West Walnut Street |  | Rogers | AR | 72756 | 479-986-3422 | 479-619-3237
Mercy Hospital | 2925 Chicago Avenue |  | Minneapolis | MN | 55407 | 763-458-3245 | 763-322-8738
Mercy Hospital—Scranton | 746 Jefferson Avenue |  | Scranton | PA | 18501 | 570-348-7885 | 570-348-2147
Mercy Hospital & Medical Center | 2525 South Michigan Avenue |  | Chicago | IL | 60616 | 312-567-7938 | 312-567-6587
Mercy Hospital Attn.: Accounts Payable | 3663 South Miami Avenue |  | Miami | FL | 33133 | 305-860-5271 | 305-860-5163
Mercy Hospital of Buffalo | 565 Abbott Road |  | Buffalo | NY | 14220 | 716-828-2824 | 716-828-2714
Mercy Hospital Attn: A/P | 271 Carew Street PO Box 9012 |  | Springfield | MA | 01102 | 413-748-9621 | 413-748-9634
Mercy Iowa City | 500 East Market Street |  | Iowa City | IA | 52245 | 319-339-3678 |
Mercy Medical Center | 2700 Steward Parkway |  | Roseburg | OR | 97470 | 541-677-2471 | 541-677-4416
Mercy Medical Center | 801 5th Street |  | Sioux City | IA | 51101 | 712-279-2348 |
Mercy Medical Center | 1111 6th Avenue |  | Des Moines | IA | 51101 | 712-279-2348 |
Mercy Medical Center | 1320 Mercy Drive | Cardiology Management and Support 3C | Canton | OH | 44708 | 330-489-1000 x1637 |
Mercy Medical Center | 301 St. Paul Place |  | Baltimore | MD | 21202 | 410-951-7947 |
Mercy Medical Center | 500 S. Oakwood Road |  | Oshkosh | WI | 54904 | 920-730-2621 |
Mercy Medical Center | 701 10th Street SE |  | Cedar Rapids | IA | 52403 | 319-533-0060 | 319-398-6336
Mercy Medical Center | 1000 North Village Ave |  | Rockville Centre | NY | 11571 | 516-705-2058 | 516-705-2774
Mercy Medical Center Merced | 301 E. 13th Street |  | Merced | CA | 95340 | 209-385-7814 | 209-385-7816
Mercy Medical Center Redding | 2175 Rosaline Avenue; | PO Box 496009 | Redding | CA | 96049-6009 | 530-247-3474 | 530-242-5212
Mercy Medical Center—North Iowa | 1000 4th Street SW |  | Mason City | IA | 50401 | 641-422-5177 | 641-422-5179
Mercy Regional Health Center | 1823 College Avenue |  | Manhattah | KS | 67218 | 785-776-2889 |
Mercy Regional Medical Center | 1010 Three Springs Boulevard |  | Durango | CO | 81301 | 970-764-2285 | 970-764-2299
Mercy San Juan Hospital | 3941 J Street | c/o Mercy General Hospital Administration | Sacramento | CA | 95819 | 916-453-4231 | 916-453-4587
MeritCare Hospital | MeritCare Hospital/Heart Services Data/Research |  | Fargo | ND | 58122 | 701-234-7242 | 701-234-7404
Meriter Hospital | 202 South Park Street | 10 Tower—Heart Center | Madison | WI | 53715 | 608-417-5875 | 608-417-6198
Mesa General Hospital | 515 N. Mesa Drive |  | Mesa | AZ | 85201 | 480-827-2448 | 480-827-2495
Methodist Health System | PO Box 655999 |  | Dallas | TX | 75203 | 214-947-8181 |
Methodist Hospital | 7700 Floyd Curl Drive |  | San Antonio | TX | 78229 | 210-575-6808 |
Methodist Hospital | 6500 Excelsior Boulevard 2nd Floor HVC |  | St. Louis Park | MN | 55426 | 952-993-2362 | 952-993-6879
Methodist Hospital of South CA | 300 W Huntington Drive |  | Arcadia | CA | 91007-3402 | 626-898-8670 | 626-821-6982
Methodist Hospital Southlake Campus | 8701 Broadway |  | Merrillville | IN | 46410-7035 | 219-738-3555 | 219-738-3431
Methodist Medical Center | 280 Fort Sanders Boulevard Building 4, Suite 218 |  | Knoxville | TN | 37922 | 865-531-5361 | 865-531-5036
Methodist Medical Center of Illinois | 221 NE Glen Oak Avenue |  | Peoria | IL | 61636 | 309-672-4133 | 309-672-4116
Methodist Speciality and Transplant Hospital | 7700 Floyd Curl Drive |  | San Antonio | TX | 78229 |  |
Methodist Sugar Land Hospital | 16655 Southwest Freeway |  | Sugar Land | TX | 77479 | 281-274-8325 | 281-274-8335
Methodist Willowbrook Hospital | 18220 Tomball Parkway |  | Houston | TX | 77070 | 281-477-1044 |
Metro Health Hospital | 5900 Byron Center Road |  | Wyoming | MI | 49519 | 616-252-7415 | 616-252-0417
MetroHealth Medical Center | 2500 MetroHealth Drive |  | Cleveland | OH | 44109 | 216-778-4793 | 216-778-8662
Metroplex Hospital | 2201 S. Clear Creek Road |  | Killeen | TN | 76549 | 254-519-8447 |
MetroWest Medical Center | 115 Lincoln Street | Cardiac Cath Lab | Framingham | MA | 01702-6327 | 508-383-1338 | 508-383-1458
Miami Valley Hospital | One Wyoming Street |  | Dayton | OH | 45409 | 937-208-6638 | 937-208-6685
Middletown Regional Hospital | One Medical Center |  | Franklin | OH | 45005 | 513-420-5755 x6452 | 513-420-5002
Midland Memorial Hospital | 2200 W. Illinois Avenue c/o Heart Institute |  | Midland | TX | 79701 | 432-685-6966 |
Midlands Community Hospital | 6901 N. 72nd Street |  | Omaha | NE | 68122 | 402-572-2689 | 402-572-2371
MidMichigan Medical Center—Midland | 4005 Orchard Drive |  | Midland | MI | 48670 | 989-837-9044 | 989-837-9032
Midwest Regional Medical Center | 2825 Parklawn Drive |  | Midwest City | OK | 73110 | 405-610-8069 |
Milford Regional Medical Center | 14 Prospect Street |  | Milford | MA | 01568 | 508-422-2463 | 508-487-9328
Millard Fillmore Hospital | 100 High Street |  | Buffalo | NY | 14203 | 716-859-1080 | 716-859-3765
Mills-Peninsula Hospital | 1783 Elcamino Real |  | Burlingame | CA | 94010 | 650-696-5937 | 650-696-5460
Mission Hospital Regional Medical Center | 27700 Medical Center Road |  | Mission Viejo | CA | 92691-6426 | 949-364-1400 x2048 | 949-365-2320
Mission Hospitals, Inc. | 509 Biltmore Avenue |  | Asheville | NC | 28801-4690 | 828-213-7037 | 828-213-7296
Mission Regional Medical Center | 900 S. Bryan Road |  | Mission | TX | 78572 | 956-323-1904 |
Mississippi Baptist Medical Center | 1225 N State Street |  | Jackson | MS | 39202-2097 | 601-968-1011 | 601-968-1142
Missouri Baptist Medical Center | 3015 N. Ballas Road | 3105 North Ballas Road | Saint Louis | MO | 63131-2374 | 314-996-5693 | 314-432-2245
Moberly Regional Medical Center | 1515 Union Avenue |  | Moberly | MO | 65270 | 660-269-2949 | 660-269-2948
Mobile Infirmary Medical Center | PO Box 2144 |  | Mobile | AL | 36652 | 251-435-2540 | 251-435-7278
Monongalia Genera; Hospital | 1200 JD Anderson Drive |  | Morgantown | WV | 26505 | 304-285-5173 | 304-285-5109
Montefiore Medical Center | 111 East 210th Street |  | Bronx | NY | 10467-2490 | 718-920-7389 | 718-920-6798
Montgomery General Hospital | 18101 Prince Philip Drive |  | Olney | MD | 20832 | 301-774-8952 | 301-570-7866
Morris Hospital | 150 West High Street |  | Morris | IL | 60450 | 815-942-2932 | 815-942-9538
Morristown Memorial Hospital | 100 Madison Avenue |  | Morristown | NJ | 07962 | 973-971-8848 | 973-290-7337
Morton Plant Hospital | 207 Jeffords Street |  | Clearwater | FL | 33756 | 727-461-8274 | 727-461-8651
Morton Plant North Bay Hospital | 6600 Madison Street |  | New Port Richey | FL | 34652 | 727-461-8274 |
Moses Cone Health System | 1200 N. Elm Street |  | Greensboro | NC | 27401 | 336-832-2851 | 336-832-2851
Mother Frances Hospital | 800 E.Dawson Street |  | Tyler | TX | 75701 | 903-531-4309 | 903-525-1589
Mount Auburn Hospital | 330 Mount Auburn Street | South 2—Administration | Cambridge | MA | 02138 | 617-441-1625 | 617-499-5132
Mount Carmel East | 6150 East Broad Street | Office EB 148 | Columbus | OH | 42313 | 614-546-4786 | 614-546-4798
Mount Carmel St. Ann's Hospital | 6150 East Broad Street | Office EB 148 | Columbus | OH | 42313 | 614-546-4786 | 614-546-4798
Mount Carmel West | 6150 East Broad Street | Office EB 148 | Columbus | OH | 42313 | 614-546-4786 | 614-546-4798
Mount Clemens Regional Medical Center | 1000 Harrington Street |  | Mount Clemens | MI | 48043-2992 | 586-493-8088 | 586-493-8835
Mount Sinai Medical Center | 4300 Alton Road |  | Miami Beach | FL | 33140 | 305-535-7950 | 305-674-2556
Mountainview Hospital | 3100 N. Tenaya Way |  | Las Vegas | NV | 89128 | 702-255-5102 | 702-255-5029
Munroe Regional Medical Center | 1500 SW 1st Avenue PO Box 6000 |  | Ocala | FL | 34478 | 352.351.7200 ext 6478 | 352.671.2034
Munson Medical Center | 1105 Sixth Street |  | Traverse City | MI | 49684-2386 | 231-935-7633 | 231-315-6524
Muskogee Regional Medical Center | 300 Rockefeller Drive |  | Muskogee | OK | 74401 | 918-684-2357 | 918-781-6308
Nacogdoches Medical Center | 4920 NE Stallings Drive |  | Nacogdoches | TX | 75965 | 936-568-3407 |
Naples Community Hospital | 350 7th Street South |  | Naples | FL | 34102 | 239-436-5226 |
Natchez Regional Medical Center | 54 Sgt. Prentiss Drive |  | Natchez | MS | 39120 | 601-443-2691 |
NEA Baptist Memorial Hospital | 3024 Stadium Boulevard |  | Jonesboro | AR | 72401 | 870-972-7079 |
Nebraska Heart Hospital | 7500 South 91st Street |  | Lincoln | NE | 68526 | 402-328-3047 | 402-328-3035
Nebraska Methodist Hospital | 8303 Dodge Street |  | Omaha | NE | 68114 | 402-354-4733 | 402-354-8790
New Hanover Regional Medical Center | 2131 S. 17th Street |  | Wilmington | NC | 28402 | 910-342-3285 | 910-342-3820
New Milford Hospital | 21 Elm Street |  | New Milford | CT | 06776 | 860-210-5065 | 860-350-7714
New York Community Hospital | 2525 Kings Highway |  | Brooklyn | NY | 11229 | 718-692-8745 | 718-692-8456
New York Hospital Medical Center of Queens Health Education Library | 56-45 Main Street EO Lab 3rd Floor |  | Flushing | NY | 11355 | 718-661-7400 |
New York Methodist Hospital | 506 6th Street Brooklyn |  | New York City | NY | 11215 | 718-780-3464 | 718-780-7763
New York Presbyterian Hospital | 6220West 168th Street | PH-2 | New York City | NY | 10032 | 212-305-1788 | 212-305-1708
Newark Beth Israel Medical Center | 201 Lyons Avenue at Osborne Terrace |  | Newark | NJ | 07112 | 973 926 7283 | 973 926 6526
Nicholas H. Noyes Memorial Hospital | 111 Clara Barton Street |  | Dansville | NY | 14437 | 585-335-4349 | 585-335-5881
NIX Healthcare System | 414 Navarro Street |  | San Antonio | TX | 78205 | 210-579-3221 |
Norman Regional Health System | PO Box 1308 |  | Norman | OK | 73070-1308 | 405-307-1064 | 405-307-1168
North Austin Medical Center | 12221 MoPac Expressway North |  | Austin | TX | 78758 | 512-901-1327 | 512-901-1969
North Bay Medical Center | 1200 B. Gale Wilson Boulevard |  | Fairfield | CA | 94533 | 707-429-6706 | 707-429-6862
North Carolina Baptist Hospital | Medical Center Boulevard |  | Winston-Salem | NC | 27157 | 336-716-5861 |
North Central Baptist Hospital | 520 Madison Oak Drive |  | San Antonio | TX | 78258 | 210-297-1264 | 210-297-0926
North Colorado Medical Center | 1801 16th Street |  | Greeley | CO | 80631 | 970-350-6167 | 970-350-6164
North Cypress Medical Center | 21214 Northwest Freeway |  | Cypress | TX | 77429 | 832-912-3500 |
North Florida Regional Medical Center | 6500 Newberry Road |  | Gainesville | FL | 32605 | 352-333-4925 | 352-333-4295
North Hills Hospital | 4401 Booth Calloway Road |  | North Richland Hills | TX | 76180 | 817-255-1894 | 817-255-1888
North Kansas City Hospital | 2800 Clay Edward Drive |  | North Kansas City | MO | 64116 | 816-691-5036 | 816-346-7672
North Memorial Medical Center | 3300 Oakdale Avenue, N |  | Robbinsdale | MN | 55422 | 763-520-5478 |
North Mississippi Medical Center | 830 S. Gloster Street |  | Tupelo | MS | 38801 | 662-377-4667 | 662-377-2733
North Oaks Medical Center | 15790 Paul Vega MD Drive |  | Hammond | LA | 70403 | 985-230-6836 | 985-230-6438
North Ridge Medical Center | 5757 N. Dixie Highway |  | Fort Lauderdale | FL | 33334 | 954-776-6000 x2137 | 954-202-4876
North Shore Medical Center—Salem Hospital | 81 Highland Avenue | Davenport 5 | Salem | MA | 01970 | 978-354-2506 | 978-825-6493
North Shore University Hospital | 300 Community Drive |  | Manhasset | NY | 11030 | 516-562-1463 | 516-562-3675
North Suburban Medical Center | 9191 Grant Street |  | Denver | CO | 80229 | 303-450-4447 | 303-450-4594
North Vista Hospital | 1409 E. Lake Mead Boulevard |  | North Las vegas | NV | 89030 | 702-657-5504 |
Northeast Alabama Regional Medical Center | PO Box 2208 | 400 East 10th Street | Anniston | AL | 36202 | 256-235-5499 | 256-231-8362
Northeast Baptist Hospital | 8811Village Drive |  | San Antonio | TX | 78217 | 210-297-1264 | 210-297-0926
Northeast Georgia Medical Center | 743 Spring Street |  | Gainesville | GA | 30501 | 678-989-2818 | 770-538-7592
NorthEast Medical Center | 920 Church Street North |  | Concord | NC | 28025 | 704-783-4156 | 704-783-1436
Northeast Methodist Hospital | 12412 Judson Road |  | Live Oak | TX | 78233 | 210-757-5868 | 210-757-5859
Northern Illinois Medical Center | 4201 Medical Center Drive |  | McHenry | IL | 60050 | 815-759-4581 | 815-759-4568
Northern Michigan Regional Hospital | 416 Connable Avenue |  | Petoskey | MI | 49770 | 231-487-7581 | 231-487-7720
Northridge Hospital Medical Center | 18300 Roscoe Avenue |  | Northridge | CA | 91325 | 818-885-8500 ext. 2283 | 818-885-5333
Northshore Regional Medical Center | 100 Medical Center Drive |  | Slidell | LA | 70461 | 985-646-5746 | 985-646-5007
Northside Hospital | 1000 Johnson Ferry Road |  | Atlanta | GA | 30342 | 404-851-8963 |
Northside Hospital | 6000 49th Street, N |  | Pinellas Park | FL | 33709 | 727-521-5068 | 727-521-5044
Northside Hospital—Forsyth | 1200 Northside Forsyth Drive |  | Cumming | GA | 30041 | 770-844-3607 | 770-844-3503
Northwest Community Hospital | 800 W. Central Road |  | Arlington Heights | IL | 60005 | 847-618-7627 |
Northwest Hospital | 1550 North 115th Street |  | Seattle | WA | 98113 | 206-368-5760 |
Northwest Hospital center | 5401 Old Court Road |  | Randallstown | MD | 21133 | 410-496-7126 | 410-521-2843
Northwest Medical Center | 2801 N. State Road 7 |  | Margate | FL | 33063 | 954-978-4059 |
Northwest Medical Center | Northwest Medical Center | 6200 N. La Cholla Boulevard | Tucson | AZ | 85741 | 520-469-8489 | 520-469-8949
Northwest Medical Center—Bentonville | 3000 Medical Center Parkway |  | Bentonville | AR | 72712 | 479-553-4508 |
Northwest Medical Center—Springdale | 609 West Maple Street |  | Springdale | AR | 72764 | 479-757-4244 |
Northwest Mississippi Regional Medical Center | 1970 Hospital Drive |  | Clarksdale | MS | 38614 | 662-624-3283 | 662-621-5077
Northwestern Memorial Hospital | 676 N. St. Clair Street, Suite 1700 |  | Chicago | IL | 60611 | 312-926-1096 | 312-695-6854
Norton Audubon | PO Box 35070 |  | Louisville | KY | 40232 | 502-629-8893 | 502-629-4044
Norton Hospital | PO Box 35070 |  | Louisville | KY | 40232 | 502-629-8893 | 502-629-4044
Norwalk Hospital | 24 Stevens Street |  | Norwalk | CT | 06856 | 203-852-2127 |
NYU Medical Center | 560 First Avenue |  | New York | NY | 10016 | 212-263-7514 |
Oak Hill Hospital | 11375 Cortez Boulevard |  | Brooksville | FL | 34613 | 352-597-7085 |
Oakwood Hospital & Medical Center | 18101 Oakwood Boulevard Suite 124 |  | Dearborn | MI | 48124 | 313-593-8581 | 313-436-2082
Obici Hospital | 2800 Godwin Boulevard |  | Suffolk | VA | 23434 | 757-934-4500 |
Ocala Regional Mecical Center | 1431 SW First Avenue |  | Ocala | FL | 34474 | 352-401-1484 | 352-401-1552
Ocean Springs Hospital | 3109 Bienville Boulevard |  | Ocean Springs | MS | 39564 | 228-818-1111 |
Ochsner Medical Center—Baton Rouge | 17000 Medical Center Drive |  | Baton Rouge | LA | 70816 | 225-755-4934 | 225-755-4870
Ochsner Medical Center—West Bank | 2500 Belle Chasse Highway |  | Gretna | LA | 70056 | 504-391-5560 | 504-391-5530
Ochsner Medical Center—Kenner (Kenner Regional Medical Center) | 180 West Esplanade Avenue |  | Kenner | LA | 70065 | 504-464-8116 | 504-464-8733
Ochsner Medical Foundation | 1514 Jefferson Highway |  | New Orleans | LA | 70121 | 504-842-3726 | 504-838-8853
Oconee Regional Medical Center | 812 N. Cobb Street |  | Milledgeville | GA | 31061 | 478-454-3663 |
O'Connor Hospital | 2105 Forest Avenue |  | San Jose | CA | 95128 | 408-918-6224 |
Odessa Regional Hospital | 520 East Sixth Street |  | Odessa | TX | 79760 | 432-582-8147 | 432-582-8927
Ogden Regional Medical Center | 5475 South 500 East |  | Ogden | UT | 84403 | 801-479-2473 | 801-479-2037
Ohio State University Medical Center | >410 W. 10th Avenue | 142 Doan Hall | Columbus | OH | 43210-1228 | 614-293-6332 | 614-293-8862
Ohio Valley Medical Center | 2000 Eoff Street |  | Wheeling | WV | 26003 | 304-234-8146 | 304-234-1815
Oklahoma Heart Hospital | 4050 W. Memorial Road |  | Oklahoma City | OK | 73120 | 405-608-3511 | 405-608-1498
Oklahoma State University Medical Center | 744 W. 9th Street |  | Tulsa | OK | 74127 | 918-599-5239 | 918-599-5444
Olathe Medical Center | 20333 W. 151st Street |  | Olathe | KS | 66061-7211 | 913-791-4265 | 913-791-3508
Opelousas General Health System | 539 E. Prudhomme Street |  | Opelousas | LA | 70570 | 337-594-3912 | 337-407-1403
Orange Coast Memorial Medical Center | 9920 Talbert Avenue |  | Fountain Valley | CA | 92708 | 714-378-7505 | 714-378-7161
Orange Regional Medical Center | 60 Prospect Avenue |  | Middletown | NY | 10940 | 845-343-2424 ext. 4503 |
Oregon Health & Science University | 3181 SW Sam Jackson Road |  | Portland | OR | 97239 | 503-494-3405 | 503-494-0822
Orlando Regional Medical Center | 1414 Kuhl Avenue |  | Orlando | FL | 32806 | 321-841-8047 | 407-872-1275
Osceola Regional Medical Center | 700 W. Oak Street |  | Kissimmee | FL | 34745 | 407-518-3994 |
OSF Saint Anthony Medical Center | 5666 East State Street |  | Rockford | IL | 61108 | 815-227-2160 |
OSF Saint Joseph Medical Center | 2200 E. Washington Street |  | Bloomington | IL | 61701 | 309-661-5070 |
OSF Saint Francis Medical Center | 530 N.E. Glen Oak Avenue |  | Peoria | IL | 61637 | 309-655-6839 | 309-655-7861
OU MEDICAL CENTER | 700 NE 13th Street |  | Oklahoma City | OK | 73104 | 405-271-4811 |
Our Lady of Lourdes Medical Center | 1600 Haddon Avenue |  | Camden | NJ | 08103 | 856-365-4082 |
Our Lady of Lourdes Regional Medical Center | 611 Saint Landry Street PO Box 4027 |  | Lafayette | LA | 70506 | 337-289-4650 |
Our Lady of The Lake Regional | 5000 Hennessy Boulevard |  | Baton Rouge | LA | 70808-4350 | 225-765-8691 | 225-765-6638
Our Lady of the Resurrection Medical Center | 5645 W. Addison Street |  | Chicago | IL | 60634 | 773-794-7638 | 773-794-8428
Overlake Hospital Medical Center | 1035 116th Avenue NE |  | Bellevue | WA | 98004 | 425-688-3722 | 425-283-5119
Overland Park Regional Medical Center/Health Midwest | 10500 Quivira Road |  | Overland Park | KS | 66215 | 913-541-5996 |
Owensboro Medical Health System | 811 E. Parrish Avenue |  | Owensboro | KY | 42303 | 270-688-1594 | 270-688-2683
Ozarks Medical Center | 100 Kentucky Avenue |  | West Plains | MO | 65775 | 417-256-1718 | 417-256-1785
P and S Surgical Hospital | 312 Grammont Street |  | Monroe | LA | 71201 | 318-998-8212 | 318-998-8220
Palm Beach Gardens Medical Center | 3360 Burns Road |  | Palm Beach Gardens | FL | 33410 | 561-694-7185 |
Palmetto General Hospital | 2001 West 68th Street |  | Hialeah | FL | 33016 | 305-819-1208 | 305-819-1203
Palmetto Health Heart Hospital | 6 Richland Medical Park Drive | Suite 4525 | Columbia | SC | 29203 | 803-434-2049 | 803-434-2058
Palomar Medical Center | 555 East Valley Parkway |  | Escondido | CA | 92025 | 760-739-3551 |
Palos Community Hospital | 12251 S. 80th Avenue | Cardiovascular Services | Palos Heights | IL | 60463-0930 | 708-923-5443 | 708-923-4448
Paoli Hospital | 557 Lankenau MOB East | 100 Lancaster Avenue | Wynnewood | PA | 19096 | 610-526-8661 |
Paradise Valley Hospital | 3929 E. Bell Road |  | Phoenix | AZ | 85032 | 602-923-5777 | 602-923-5750
Paradise Valley Hospital | 2400 E. Fourth Street |  | National City | CA | 91950 | 619-470-4263 | 619-470-4162
Paris Regional Medical Center | 820 Clarksville Street |  | Paris | TX | 75460 | 903-737-3874 | 903-737-3649
Park Plaza Hospital | 1313 Hermann Drive |  | Houston | TX | 77004 | 713-527-5112 |
Parkland Health and Hospital Systems | 5201Harry Hines Boulevard |  | Dallas | TX | 75235 | 214-590-8966 |
Parkridge Medical Center | 2333 McCallie Avenue |  | Chattanooga | TN | 37404 | 423-493-1798 | 423-493-7962
Parkview Hospital | 2200 Randallia Drive |  | Fort Wayne | IN | 46805 | 260-373-4640 | 260-373-7295
Parkview Hospital | 1726 Shawano Avnue |  | Green Bay | WI | 54303-3282 | 920-498-4235 |
Parkview Medical Center | 400 W. 16th Street |  | Pueblo | CO | 81003 | 719-584-4650 | 719-584-4209
Parkwest Medical Center | 9352 Parkwest Boulevard |  | Knoxville | TN | 37923 | 865-373-1328 | 865-373-1322
Parma Community General Hospital | 7007 Powers Boulevard |  | Parma | OH | 44129 | 440-743-2317 | 440-743-4058
Parrish Medical Center | 951 N. Washington Avenue |  | Titusville | FL | 32796 | 321-268-6874 | 321-268-6369
Pasco Regional Medical Center | 13000 100 Fort King Road |  | Dade City | FL | 33525 | 352-518-1020 |
Peace River Regional Medical | 2500 Harbor Boulevard |  | Port Charlotte | FL | 33952 | 941-766-4142 | 941-766-4169
Peconic Bay Medical Center | 1300 Roanoake Avenue |  | Riverhead | NY | 11901 | 631-548-6871 |
Peninsula Regional Medical Center | 100 East Carroll Street |  | Salisbury | MD | 21801 | 410-543-7530 x3444 | 410-543-7134
Penn Presbyterian Medical Center | 39th & Market Streets |  | Philadelphia | PA | 19104 | 215-662-9142 | 215-243-3254
Penn State Hershey Medical Center | PO Box 850 H139 |  | Hershey | PA | 17033 | 717-531-6416 | 717-531-0174
Pennsylvania Hospital | 800 Spruce Street |  | Philadelphia | PA | 19107-6192 | 215-829-5335 |
Penrose—St. Francis Health Services | 2222 North Nevada, #220 |  | Colorado Springs | CO | 80907 | 1-719-776-2992 | 1-719-776-5823
Phelps County Regional Medical Center | 1000 W. 10th Street |  | Rolla | MO | 65401 | 573-458-7689 |
Phoenix Baptist Hospital | 2000 W. Bethany Home Road |  | Phoenix | AZ | 85015 | 602-246-5511 | 602-246-5929
Phoenixville Hospital | 140 Nutt Road |  | Phoenixville | PA | 19460-3906 | 610-983-1236 | 610-983-1238
Physicians Medical Center Carraway | 1600 Carraway Boulevard |  | Birmingham | AL | 35234 | 205-502-6936 | 205-502-5563
Piedmont Hospital | 95 Collier Road Suite 2075 |  | Atlanta | GA | 30309 | 404-605-3122 | 404-605-0276
Piedmont Medical Center | 222 S. Herlong Avenue |  | Rock Hill | SC | 29732 | 803-981-7499 |
Pikesville Medical Center | 911 Bypass Road |  | Pikesville | KY | 41501 | 606-218-4961 | 606-437-3979
Pinnicle Health Invasive Cardiology | 111 South Front Street |  | Harrisburg | PA | 17101-2099 | 717-782-3170 | 717-782-5807
Pioneer Valley Hospital | 3590 West 9000 South, Suite 315 |  | West Jordan | UT | 84088 |  |
Pitt County Memorial Hospital | 300 Moye Boulevard |  | Greenville | NC | 27834 | 252-744-5316 | 252-744-1317
Plantation General Hospital | 401 NW 42nd Avenue |  | Plantation | FL | 33317 | 954-513-6459 |
Plaza Medical Center of Fort Worth | 900 Eighth Avenue |  | Fort Worth | TX | 76104 | 817-347-4957 | 817-347-5711
Pocono Medical Center | 206 East Brown Street |  | East Stroudsburg | PA | 18301 | 570-420-5878 | 570-422-8394
Pomona Valley Hospital Med Center | 1798 N. Garey Avenue |  | Pomona | CA | 91768 | 909-865-9501 x4331 | 909-623-6354
Pontiac Osteopathic Hospital | 50 N. Perry Street |  | Pontiac | MI | 48342 | 248-338-5229 | 248-338-5569
Poplar Bluff Regional Medical Center | 2620 N. Westwood Boulevard |  | Poplar Bluff | MO | 63901 | 573-727-2544 | 573-727-2549
Port Huron Hospital | 1221 Pine Grove Avenue |  | Port Huron | MI | 48060 | 810-985-2631 | 810-985-2696
Porter Adventist Hospital | 2525 S. Downing Street |  | Denver | CO | 80210-5817 | 303-765-3593 | 303-765-3734
Porter Valparaiso Hospital Campus | 814 Laporte Avenue |  | Valparaiso | IN | 46383 | 219-263-7277 | 219-263-7942
Portneuf Medical Center | 651 Memorial Drive |  | Pocatello | ID | 83201 | 208-239-2554 | 208-239-3741
Portsmouth Regional Hospital | 333 Borthwick Avenue |  | Portsmouth | NH | 03801 | 603-433-5266 | 603-433-4047
Prairie Lakes Healthcare | 401 9th Avenue |  | Watertown | SD | 57201 | 605-882-7672 | 605-882-7720
Presbyterian Healthcare Services | PO Box 26666 |  | Albuquerque | NM | 87125 | 505-841-1145 | 505-841-1382
Presbyterian Hospital | 200 Hawthorne Lane |  | Charlotte | NC | 28233 | 704-384-9838 | 704-316-9104
Presbyterian Hospital—Denton | 3000 I-35 N |  | Denton | TX | 76201 | 940-898-7225 |
Presbyterian Hospital—Dallas | Presbyterian Hospital | 8200 Walnut Hill Lane | Dallas | TX | 75231 | 214-345-6022 | 214-345-6081
Presbyterian Hospital—Plano | 6200 West Parker Road |  | Plano | TX | 75093-7914 | 972-981-3362 | 972-981-3022
Presbyterian Intercommunity Hospital | 12401 Washington Boulevard |  | Whittier | CA | 90602 | 562-698-0811 ext. 2637 | 562-698-1351
Presbyterian/St.Luke's Medical Center | 1719 E. 19th Avenue |  | Denver | CO | 80218-1235 | 303-839-6164 | 303-839-6786
Prince George's Hospital Center | 3001 Hospital Drive |  | Cheverly | MD | 20785 | 240-988-2272 | 301-618-6460
Princeton Baptist Medical Center | Princeton BMC, Nursing Administration 701 Princeton Avenue, SW |  | Birmingham | AL | 35211-1399 | 205-783-3327 | 205-783-7172
Proctor Hospital | 5409 N. Knoxville Avenue |  | Peoria | IL | 61614 | 309-689-8641 | 309-689-8629
Protestant Memorial Medical Center | 4500 Memorial Drive |  | Belleville | IL | 62226 | 618-257-5046 | 618-257-6811
Provena Covenant Medical Center | 1400 West Park Street |  | Urbana | IL | 61801-9901 | 217-443-5000 x4614 |
Provena Mercy Medical Center | 1325 North Highland Avenue |  | Aurora | IL | 60506 | 630-801-2796 | 630-801-5545
Provena Saint Joseph Medical Center | 333 North Madison Street |  | Joliet | IL | 60435-6595 | 815-725-7133 | 815-773-7072
Provena Saint Marys Hospital | 500 West Court Street |  | Kankakee | IL | 60901 | 815-937-2137 | 815-935-6662
Provena St. Joseph Hospital | 77 N. Airlite Street |  | Elgin | IL | 60123 | 847-695-3200 x5321 | 847-888-3514
Providence Alaska Medical Center | 3200 Providence Drive |  | Anchorage | AK | 99508-4662 | 907-261-4934 | 907-261-3683
Providence Everett Medical Center | 1321 Coby Avenue | PO Box 1147 | Everett | WA | 98206-1147 | 425-261-3904 | 425-261-3901
Providence Health Center | 6901 Medical Parkway |  | Waco | TX | 76712 | 254-751-4732 | 254-751-4584
Providence Holy Cross Medical Center | 501 South Buena Vista Street |  | Burbank | CA | 91505 | 818-847-3897 |
Providence Hospital | 6801 Airport Boulevard |  | Mobile | AL | 36608 | 251-631-3455 | 251-639-2911
Providence Hospital | 2435 Forest Drive |  | Columbia | SC | 29204 | 803-227-7039 | 803-400-5039
Providence Medford Medical | 1111 Crater Lake Avenue |  | Medford | OR | 97504 | 541-732-6698 | 541-732-6698
Providence Medical Center | 8929 Parallel Parkway |  | Kansas City | KS | 66112-1689 | 913-596-4614 | 913-596-4996
Providence Memorial Hospital | 2001 North Oregon Street |  | El Paso | TX | 79902 | 915-747-2873 | 915-747-2873
Providence Portland Medical Center | 9205 SW Barnes Road | 9205 South West. Barnes Road | Portland | OR | 97225 | 503-216-7184 | 503-216-7274
Providence Saint Joseph Medical Center | 501 South Buena Vista Street |  | Burbank | CA | 91505 | 818-847-3897 |
Providence Saint Vincent Medical Center | Regional Heart Data Services | 9205 South West Barnes Road #33 | Portland | OR | 97225 | 503-216-7184 | 503-216-7274
Providence St. Peter Hospital | 413 N. Lilly Road |  | Olympia | WA | 98506 | 360-493-4508 | 360-493-5213
Queen of the Valley Medical Center | 1000 Trancas Street |  | Napa | CA | 94558 | 707-251-1390 | 707-251-1722
Queens Medical Center | 1301 Punchbowl Street |  | Honolulu | HI | 96813 | 808-389-7744 | 808-547-4077
Rancho Spring Medical Center | 36485 Inland Valley Drive |  | Wildomar | CA | 92595 |  |
Rankin Medical Center | 350 Crossgates Boulevard |  | Brandon | MS | 39042 | 601-824-8374 | 601-824-8378
Rapid City Regional Hospital | 353 Fairmont Boulevard |  | Rapid City | SD | 57702 | 605-719-1220 | 605-719-4354
Rapides Regional Medical Center | 211 4th Street Box 30101 |  | Alexandria | LA | 71301 | 318-449-7540 | 318-449-7524
Redmond Regional Medical Center | 501 Redmond Road |  | Rome | GA | 30165 | 706-802-3831 | 1-866-947-1325
Regents of the University of Michigan | 300 N. Ingalls Street 7A10 |  | Ann Arbor | MI | 48109 | 734-998-8208 | 734-998-8203
Regional Hospital of Jackson | 367 Hospital Boulevard |  | Jackson | TN | 38305 | 731-661-2124 | 731-661-2216
Regional Medical Center | 225 N. Jackson Avenue |  | San Jose | CA | 95116 | 408-259-5000 ext. 2181 | 408-347-4072
Regional Medical Center | 3000 St. Matthews Road |  | Orangeburg | SC | 29118 | 803-395-2960 | 803-395-2925
Regional Medical Center | 900 Hospital Drive |  | Madisonville | KY | 42431-1644 | 270-825-5183 | 270-326-5021
Regional Medical Center Bayonet Point | 14000 Fivay Road |  | Hudson | FL | 34667 | 727-819-2929 x1235 |
Regions Hospital | 640 Jackson Street | Mail Stop 11102-M | St. Paul | MN | 55101 | 651-254-3351 | 651-254-2390
Reid Hospital & Healthcare Services | 1401 Chester Boulevard |  | Richmond | IN | 47374 | 765-983-3476 | 765-983-3116
Renown Regional Medical Center | 1155 Mill Street | R 11 | Reno | NV | 89502 | 775-982-5833 | 775-982-5602
Research Medical Center | 2316 East Meyer Boulevard | Cardiology Services | Kansas City | MO | 64132 | 816-276-4421 | 816-276-4356
Reston Hospital Center | 1850 Town Center Parkway |  | Reston | VA | 20190 | 703-689-9071 |
Resurrection Medical Center | 7435 Talcott Avenue |  | Chicago | IL | 60631 | 773-792-8961 | 773-792-5179
Rex Hospital | 4420 Lake Boone Trail |  | Raleigh | NC | 27607 | 919-784-3192 | 919-784-3490
Rhode Island Hospital | 593 Eddy Street |  | Providence | RI | 02903 | 401-444-7193 | 401-444-7061
Richmond University Medical Center | 355 Bard Avenue |  | Staten Island | NY | 10310 | 718-818-4352 | 718-818-4247
Riddle Memorial Hospital | 1068 W. Baltimore Pike |  | Media | PA | 19063-5177 | 610-891-6205 | 610-891-6255
Rideout Memorial Hospital | 726 4th Street |  | Maryville | CA | 95901 | 530-751-4270 x1455 | 530-749-4593
Ridgecrest Regional Hospital | 1081 N. China Lake Boulevard |  | Ridgecrest | CA | 93555 | 760-499-3926 |
Riley Hospital | 1102 Constitution Avenue |  | Meridian | MS | 39301 | 601-484-3577 |
Rio Grande Regional Hospital | 101 E. Ridge Road |  | McAllen | TX | 78503 | 956-632-6731 | 956-632-6734
River Oaks Hospital | 1030 River Oaks Drive |  | Flowood | MS | 39232 | 601-936-2387 | 601-936-2249
River Region Medical Center | 2100 Highway 61 North |  | Vicksburg | MS | 39183 | 601-883-5759 | 601-883-6828
Riverside Community Hospital | 4445 Magnolia Avenue |  | Riverside | CA | 92501 | 951-788-3449 |
Riverside Medical Center | 350 N. Wall Street |  | Kankakee | IL | 60901 | 815-936-8966 | 815-802-1351
Riverside Methodist Hospital | 3535 Olentangy River Road |  | Columbus | OH | 43214 | 614-566-3757 | 614-566-6838
Riverside Regional Medical Center | 500 J Clyde Morris Boulevard |  | Newport News | VA | 23601 | 757-594-3309 | 757-594-3547
Riverview Hospital | 395 Westfield Road |  | Noblesville | IN | 46060 | 317-776-7177 |
Riverview Regional Medical Center | 600 South Third Street | PO Box 268 | Gadsden | AL | 35901 | 256-543-5808 | 256-543-5535
Robert Packer Hospital | 1 Guthrie Square |  | Gadsden | AL | 18840 | 570-882-4916 | 570-882-5809
Robinson Memorial Hospital | 6847 N. Chestnut Street |  | Ravenna | OH | 44266 | 330-297-8217 | 330-297-4086
Rochester General Hospital | 1425 Portland Avenue |  | Rochester | NY | 14621 | 585-922-4693 |
Rockford Memorial Hospital | 2400 North Rockton Avenue |  | Rockford | IL | 61103 | 815-971-6727 | 815-971-9564
Rogue Valley Medical Cent | 2825 E. Barnett Road | Performance Improvement Dept. | Medford | OR | 97504 | 541-789-4815 | 541-789-4811
Roper Hospital | 316 Calhoun Street |  | Charleston | SC | 29401 | 843-724-2683 | 843-724-1983
Rose Medical Center | 4567 E. 9th Avenue |  | Denver | CO | 80220-3941 | 303-320-2238 | 303-320-2645
Round Rock Medical Center | 2400 Round Rock Medical Center |  | Round Rock | TX | 78681 | 512-341-5227 |
Rush Hospital | 1314 19th Avenue |  | Meridian | MS | 39301 | 601-703-9494 |
Rush North Shore Medical Center | 9600 Gross Point Road |  | Skokie | IL | 60076 | 847-933-6787 | 847-933-3858
Rush Oak Park Hospital | 520 South Maple Avenue |  | Oak Park | IL | 60304-1097 | 708-660-6665 | 708-660-6658
Rush University Medical Center | 1653 West Congress Parkway |  | Chicago | IL | 60612 | 312-942-6806 | 312-942-7986
Rush-Copley Medical Center Attn: Health Science Library |  | 2000 Ogden Avenue | Alexander City | AL | 60504 | 630-898-5658 |
Russell Medical Center | 3316 Highway 280 PO Box 939 |  | Alexander City | AL | 35011 | 256-329-7180 |
Rutland Regional Medical Center | 160 Allen Street |  | Rutland | VT | 05701 | 802-772-2613 |
Sacred Heart Hospital of Pensacola | 5151 North 9th Avenue |  | Pensacola | FL | 32504-8721 | 850-416-7766 | 850-416-5245
Sacred Heart Hospital Attn: A/P | 900 W. Clairemont Avenue |  | Eau Claire | WI | 54701 | 715-839-4590 |
Sacred Heart Medical Center | 1155 Hilyard Street |  | Eugene | OR | 97401 | 541-984-4269 |
Sacred Heart Medical Center | 101 W. Eighth Avenue |  | Spokane | WA | 99204 | 509-474-3733 | 509-474-3741
Saddleback Memorial Medical Center | 24451 Health Center Drive |  | Laguna Hills | CA | 92653 | 949-452-3867 |
Saint Agnes Medical Center | 1303 East Herndon Avenue |  | Fresno | CA | 93720 | 559-450-3915 |
Saint Anthony Medical Center | 1201 S. Main Street |  | Crown Point | IN | 46307 | 219-757-6162 | 219-757-6367
Saint Bernadine Medical Center | 2101 N. Waterman Avenue | 2101 N. Waterman Avenue | San Bernadino | CA | 92404-4836 | 909-881-7669 | 909-881-4534
Saint Clare's Hospital | 611 St. Joseph's Avenue |  | Marshfield | WI | 54449 | 715-389-5130 | 715-389-3200
Saint Elizabeth Health Center | 1044 Belmont Avenue |  | Youngstown | OH | 44511 | 330-480-6668 | 330-480-2572
Saint Elizabeth Hospital | 2700 W. 9th Avenue Suite 107 |  | Oshkosh | WI | 54904 | 920-223-1154 | 920-223-1180
Saint Elizabeth Medical Center—South | 1 Medical Village Drive |  | Edgewood | KY | 41017-3403 | 859-301-5672 | 859-301-3897
Saint Elizabeth Regional Medical Center | 555 S. 70th Street |  | Lincoln | NE | 68510-2462 | 402-219-7255 | 402-219-7900
Saint Elizabeth's Hospital | 211 South 3rd Street |  | Belleville | IL | 62220-1915 | 618-234-2120 x2105 | 618-222-4622
Saint Francis Hospital | 2122 Manchester Expressway |  | Columbus | GA | 31904 | 706-596-4166 | 706-596-4351
Saint Francis Hospital | 5959 Park Avenue |  | Memphis | TN | 38119 | 901-765-2358 |
Saint Francis Hospital | 6161 S. Yale Avenue |  | Tulsa | OK | 74136 | 918-494-6265 | 918-494-4199
Saint Francis Hospital & Health Center | 8111 S. Emerson Avenue |  | Indianapolis | IN | 46237 | 317-851-1545 | 317-851-1655
Saint Francis Hospital & Medical Center | 114 Woodland Street |  | Hartford | CT | 06105 | 860-714-4060 | 860-714-8001
Saint Francis Hospital and Health Center | 12935 Gregory Street |  | Blue Island | IL | 60406-2470 | 708-824-4893 | 708-824-4513
Saint Francis Hospital of Evanston | 355 Ridge Avenue |  | Evanston | IL | 60202 | 847-316-6245 | 847-316-4515
Saint John Hospital & Medical Center | 22151 Moross Road | Professional Bldg #1, #126 | Detroit | MI | 48236-2148 | 313-343-7870 | 313-417-2758
Saint John Macomb—Oakland Hospital | 11800 E. 12 Mile Road | Room # 2510 | Warren | MI | 48093 | 586-573-5891 | 586-573-5841
Saint Johns Mercy Medical Center | 615 S. New Ballas Road |  | St. Louis | MO | 63141 | 314-251-6544 | 314-251-4751
Saint Joseph Hospital | 2900 N. Lake Shore Drive |  | Chicago | IL | 60657-6274 | 773-665-3597 | 773-665-6348
Saint Joseph Hospital | Saint Joseph Hospital & Medical Center | 350 West Thomas Road | Phoenix | AZ | 85013 | 602-406-6935 |
Saint Joseph Hospital | 2700 Dolbeer Street |  | Eureka | CA | 95501 | 707-445-8121 x6240 | 707-269-3842
Saint Joseph Hospital | 3001 W. Martin Luther King Boulevard |  | Tampa | FL | 33607 | 813-554-8711 | 813-870-4663
Saint Joseph Regional Health Center | 2801 Franciscan Street |  | Bryan | TX | 77802-2544 | 979-776-2941 | 979-776-4985
Saint Joseph's Hospital | 1824 Murdoch Avenue |  | Parkersburg | WV | 26102-0327 | 304-424-4577 | 304-424-4643
Saint Josephs Hospital/Marshfield Clinic | 611 St. Joseph Avenue |  | Marshfield | WI | 54449-1832 | 715-389-5130 | 715-389-3200
Saint Joseph's Hospital of Atlanta | 5665 Peachtree Dunwoody Road |  | Atlanta | GA | 30342 | 404-851-5059 |
Saint Louis University Hospital | 3635 Vista at Grand |  | Saint Louis | MO | 63110 | 314-577-8204 | 314-268-5472
Saint Luke's Hospital | 1026 A Avenue, North East |  | Cedar Rapids | IA | 52406-3026 | 319-369-8005 | 319-368-5583
Saint Luke's Hospital | 4401 Wornall Road (MAHI 5th Floor) |  | Kansas City | MO | 64111 | 816-932-5692 |
Saint Luke's Hospital | 232 S. Woods Mill Road |  | Chesterfield | MO | 63017-3417 | 314-205-6981 | 314-336-5472
Saint Luke's Regional Medical Center | 190 E. Bannock Street |  | Boise | ID | 83712-6241 | 208-381-1767 | 208-381-1631
Saint Margaret Mercy | 5454 Hohman Avenue |  | Hammond | IN | 46320 | 219.933.2120 | 219.933.2583
Saint Mary Corwin Medical Center | 1008 Minnequa Avenue |  | Pueblo | CO | 81004-3798 | 719-560-5280 | 719-560-5789
Saint Mary Mercy Hospital | 36475 West Five Mile Road |  | Livonia | MI | 48154 | 734-655-2988 | 734-655-2884
Saint Mary's Hospital | 56 Franklin Street |  | Waterbury | CT | 06706 | 203-709-6375 |
Saint Mary's Hospital and Regional Medical Center | 2635 N. 7th Street |  | Grand Junction | CO | 81501-8209 | 970-244-2312 | 970-244-7033
Saint Mary's Medical Center | 2900 First Avenue |  | Huntington | WV | 25702 | 304-526-8794 |
Saint Mary's Medical Center | 3700 Washington Avenue |  | Evansville | IN | 47750 | 812-485-4139 | 812-485-7030
Saint Mary's Regional Medical Center | 235 W. Sixth Street |  | Reno | NV | 89503 | 775-770-3929 | 775-770-3665
Saint Peter's Hospital | 315 South Manning Boulevard |  | Albany | NY | 12208 | 518-525-1983 |
Saint Rita's Medical Center | 730 West Market Street |  | Lima | OH | 45801-4602 | 419-996-5520 | 419-996-5409
Saint Rose Dominican—Siena Campus | 3001 St. Rose Parkway |  | Henderson | NV | 89052 | 702-616-5372 |
Saint Thomas Health Care Services | 4220 Harding Road |  | Nashville | TN | 37202-0380 | 615-222-6282 | 615-222-6285
Saint Vincent Health Center | 252 West 25th Street |  | Erie | PA | 16544 | 814-452-5467 | 814-452-5651
Saint Vincent Hospital | 123 Summer Street | Suite 270 | Worcester | MA | 01608 | 508-363-7171 | 508-363-9621
Saint Vincent Hospital Manhattan | 170 W. 12th Street |  | New York | NY | 10011 | 212-604-7456 |
Saint Vincent Medical Center/Health Center | 2 St. Vincent Circle |  | Little Rock | AR | 72205 | 501-552-4826 |
Saint Vincent's Medical Center | 2800 Main Street |  | Bridgeport | CT | 06606 | 203-576-6114 | 203-576-6020
Salem Hospital (Regional Health Services) | 665 Winter Street SE |  | Salem | OR | 97301-3919 | 503-561-5412 |
Salina Regional Health Center | 400 S. Santa Fe Avenue |  | Salina | KS | 67401 | 785-452-6893 | 785-452-7044
Salinas Valley Memorial Hospital | 450 E. Romie Lane |  | Salinas | CA | 93901-4098 | 831-757-4333 ext. 2105 | 831-771-5079
Salt Lake Regional Medical Center | 3580 W. 9000 W |  | West Jordan | UT | 84088 | 801-562-3188 |
San Antonio Community Hospital | 999 San Bernardino Road |  | Upland | CA | 91786 | 909-920-6117 |
San Francisco Heart and Vascular Institute | 1900 Sullivan Avenue |  | Daly City | CA | 94015 | 650-991-6358 | 650-755-7315
San Jacinto Methodist Hospital | 4401 Garth Road |  | Baytown | TX | 77521 | 281-420-7372 |
San Joaquin Community Hospital | 2615 Chester Avenue |  | Bakersfield | CA | 93301 | 661-869-6508 | 661-869-6935
San Juan Regional Medical Center | 801 W. Maple Street |  | Farmington | NM | 87401 | 505-324-3373 | 505-599-4705
San Ramon Regional Medical Center | 6001 Norris Canyon Road |  | San Ramon | CA | 94583 | 625-570-7885 |
Sand Lake Hospital | 1414 Kuhl Avenue |  | Orlando | FL | 32806 | 321-841-8047 |
Sanford USD Medical Center | 1305 West 18th Street |  | Sioux Falls | SD | 57117 | 605-328-7873 | 605-333-1964
Santa Barbara Cottage Hospital | PO Box 689 |  | Santa Barbara | CA | 93102-0689 | 805-569-8282 | 805-569-7411
Santa Rosa Memorial Hospital | 1165 Montgomery Drive PO Box 522 |  | Santa Rosa | CA | 95402 | 704-525-5300 x5890 | 707-522-1555
Santa Theresa Community Hospital | 250 Hospital Parkway 1st Floor Cath Office |  | San Jose | CA | 95119 | 408-972-7492 | 408-972-7162
Sarasota Memorial Hospital | 1700 S. Tamiami Trail |  | Sarasota | FL | 34239 | 941-917-1331 | 941-917-6162
Satilla Heart Center | 410 Darling Avenue |  | Waycross | GA | 31501 | 912-287-2625 |
Savoy Medical Center | 801 Poincianna Street |  | Mamou | LA | 70554 | 337-468-5261 | 337-468-3342
Scott and White Hospital | 2401 South 31st Street |  | Temple | TX | 76508 | 254-724-5037 | 254-724-1799
Scottsdale Healthcare Osborn | 7400 E. Osborn Road |  | Scottsdale | AZ | 85260 | 480-882-5391 |
Scottsdale Healthcare Shea | 9003 E. Shea Boulevard—Administration |  | Scottsdale | AZ | 85260 | 480-882-5391 |
Scripps Green Hospital—La Jolla | 10666 North Torrey Pines Road |  | La Jolla | CA | 92037 | 858-554-3618 | 858-554-3636
Scripps Memorial Hospital—La Jolla | 9888 Genessee Avenue |  | La Jolla | CA | 92037 | 858-626-7057 | 858-626-4112
Scripps Mercy Hospital—San Diego | 4077 5th Avenue | MER 74 | San Diego | CA | 92103 | 619-686-3462 | 619-260-7047
Scripps Mercy Hospital—Chula Vista | 435 H Street |  | Chula Vista | CA | 91910 | 619-691-7278 | 619-407-7666
Sebastian River Medical Center | 13695 US Highway 1 |  | Sebastian | FL | 32962 | 772-581-2019 | 772-388-3689
Self Regional Healthcare | 1325 Spring Street |  | Greenwood | SC | 29646 | 864-725-7004 |
Sentara Norfolk General Hospital | 600 Gresham Drive |  | Norfolk | VA | 23507 | 757-668-2035 | 757-668-3579
Sentara Obici Hospital | 2800 Goodwin Boulevard |  | Suffolk | VA | 23434 | 757-388-2035 | 757-388-3579
Sentara Virginia Beach General Hospital | 1060 First Colonial Road |  | Virginia Beach | VA | 23454-0685 | 757-395-6783 | 757-395-8725
Sequoia Hospital | Whipple and Alameda Avenues | 170 Alameda de Las Pulgas | Redwood City | CA | 94062 | 650-367-5925 | 650-482-6187
Seton Medical Center | 1201 W. 38th Street |  | Austin | TX | 78705 | 512-324-1000 x17713 | 512-324-1083
Shady Grove Adventist Hospital | 9901 Medical Center Drive |  | Rockville | MD | 20850 | 301-279-6188 | 240-453-5915
Shands at AGH | 801 SW 2nd Avenue |  | Gainesville | FL | 32601 | 352-338-7177 | 352-338-7122
Shands Jacksonville Medical Center | 655 West 8th Street |  | Jacksonville | FL | 32209 | 904-244-3304 | 904-244-3102
Sharon Regional Health System | 740 E. State Street |  | Sharon | PA | 16146 | 724-983-3911 | 724-983-3965
Sharp Chula Vista Medical Center | 8695 Spectrum Center Court |  | San Diego | CA | 92123 | 619-482-5867 |
Sharp Grossmont | 5555 Grossmont Center Drive |  | La Mesa | CA | 91942 | 619-740-4123 | 619-740-4213
Sharp Memorial Hospital | 7901 Frost Street |  | San Diego | CA | 92123 | 858-939-6713 |
Shasta Regional Medical Center | 1100 Butte Street |  | Redding | CA | 96001 | 530-244-8200 |
Shawnee Mission Medical Center | 9100 West 74th Street |  | Shawnee Mission | KS | 66204-4004 | 913-676-2052 | 913-789-3190
Shelby Baptist Medical Center | 1000 First Street North |  | Alabaster | AL | 35007 | 205-620-8184 | 205-620-7003
Sherman Hospital | 934 Center Street | Decision Support | Elgin | IL | 60120 | 847-429-1248 | 847-429-2816
Shore Health System of Maryland | 219 South Washington Street |  | Easton | MD | 21601 | 410-822-1000 x5810 |
Sierra Medical Center | 1625 Medical Center Drive |  | El Paso | TX | 79902 | 915-747-2873 | 915-747-2716
Sierra Vista Regional Medical Center | 1010 S. Murray Avenue |  | San Luis Obispo | CA | 93405 | 805-546-5122 | 805-546-5106
Silver Cross Hospital | 1200 Maple Road |  | Joliet | IL | 60432 | 815-740-7104 |
Simi Valley Hospital & Health Care Services | 2975 North Sycamore Drive |  | Simi Valley | CA | 93065 | 805-955-6000 |
Sinai—Grace Hospital | 6071 W. Outer Drive |  | Detroit | MI | 48235 | 313-966-6870 |
Sinai Hospital of Baltimore | 2401 West Belvedere Avenue |  | Baltimore | MD | 21215-5271 | 410-601-8140 |
Singing River Hospital | 3109 Bienville Boulevard |  | Ocean Springs | MS | 39564 | 228-818-5000 |
Skaggs Community Health Center | PO Box 650 |  | Branson | MO | 65615-0650 | 417-335-7442 | 417-335-7131
Sky Ridge Medical Center | 10101 Ridgegate Parkway |  | Lone Tree | CO | 80124 | 720-225-1865 | 720-225-1869
Skyline Medical Center/HTI Memorial Hospital Corp. | 3441 Dickerson Pike |  | Nashville | TN | 37207 | 615-769-4450 | 615-769-4451
Smith of Georgia, LLC d.b.a. Smith Northview Hopsital | PO Box 10010 |  | Valdosta | GA | 31604 | 229-671-2016 | 229-671-2054
Somerset Hospital | 225 South Center Avenue |  | Somerset | PA | 15501-2088 | 814-443-5390 | 814-443-5768
Sound Shore Medical Center | 16 Guion Place |  | New Rochelle | NY | 10801 | 914-365-4733 | 914-638-1393
South Bay Hospital | 4016 Sun City Center Boulevard |  | Sun City Center | FL | 33570 | 813-634-0280 |
South Crest Hospital | 8801 S. 101st E Avenue |  | Tulsa | OK | 74133 | 918-294-4677 | 918-294-4943
South Fulton Medical Center | 1170 Cleveland Avenue |  | East Point | GA | 30344 | 404-466-6404 | 404-466-6420
South GA Medical Center | PO Box 1727 |  | Valdosta | GA | 31603-1727 | 912-259-4340 | 912-259-4341
South Miami Hospital | 6200 SW 73rd Street |  | Miami | FL | 33143 | 786-662-5300 | 786-662-5138
South Nassau Communities Hospital | One Healthy Way |  | Oceanside | NY | 11572 | 516-632-3418 | 516-336-2943
South Shore Hospital | 55 Fogg Road |  | South Weymouth | MA | 02190-2432 | 781-340-8501 | 781-340-8826
Southeast Alabama Medical Center | 1108 Ross Clark Circle |  | Dothan | AL | 36301 | 334-793-8188 |
Southeast Baptist Hospital | 4214 E. Southcross Boulevard |  | San Antonio | TX | 78222 | 210-297-1264 | 210-297-0926
Southeast Missouri Hospital | 1701 Lacey Street |  | Cape Girardeau | MO | 63701 | 573-651-5557 | 573-986-5978
Southern Hills Hospital | 9300 West Sunset Road |  | Las Vegas | NV | 89148 | 702-880-2147 |
Southern New Hampshire Medical Center | 8 Prospect Street |  | Nashua | NH | 03060 | 603-577-2320 | 603-577-2909
Southern Ohio Medical Center | 1805 27th Street |  | Portsmouth | OH | 45662 | 740-356-8573 | 740-354-2798
Southern Regional Medical Center | 11 Upper Riverdale Road SW |  | Riverdale | GA | 30274 | 770-991-8682 | 770-991-8619
Southlake Hospital | 1099 Citrus Tower Boulevard |  | Clermont | FL | 34711 | 352-241-7276 | 352-241-7107
Southside Hospital | 301 East Main Street |  | Bayshore | NY | 11706 | 631-968-3009 | 631-968-3177
Southwest Florida Regional Medical Center | 636 Del Prado Boulevard Suite 104 |  | Cape Coral | FL | 33990 | 239-573-5548 | 239-573-5542
Southwest General Health Center | 18697 Bagley Road |  | Middleburg Heights | OH | 44130-3417 | 440-816-4760 | 440-816-5768
Southwest General Hospital | 7400 Barlite Boulevard |  | San Antonio | TX | 78224 | 210-921-3385 | 210-921-3438
Southwest Medical Center | 2810 Ambassador Caffrey Parkway |  | Lafayette | LA | 70506 | 337-981-2949 x1274 |
Southwest MS Regional Medical Center | 303 Marion Avenue |  | McComb | MS | 39648 | 601-249-1832 | 601-249-1835
Southwest Washington Medical Center | 600 NE 92nd Avenue |  | Vancouver | WA | 98664 | 360-514-3372 | 360-514-1852
Spalding Regional Medical Center | 601 South 8th Street |  | Griffin | GA | 30224 | 770-233-2013 |
Sparks Regional Medical Center | P O Box 17006 | 1001 Towson | Fort Smith | AR | 72917-7006 | 479-573-2330 | 479-441-4877
Sparrow Health System | 1215 East Michigan Avenue |  | Lansing | MI | 48909-7980 | 517-364-2506 | 517-484-9759
Spartanburg Regional Medical Center | 101 East Wood Street | Cardiac Cath Lab/3rd Floor Heart Center | Spartanburg | SC | 29303 | 864-560-8345 | 864-560-6007
Spectrum Health | 100 Michigan Street NE | MC 037, Rm 3825A | Grand Rapids | MI | 49503-2560 | 616-391-2458 | 616-391-2761
Spring Branch Medical Center | 8850 Long Point Road |  | Houston | TX | 77055 | 713-722-3214 | 713-722-3785
Spring Valley Hospital | 5400 S. Rainbow Boulevard |  | Las Vegas | NV | 89118 | 702-853-3162 | 702-853-8606
Springfield Regional Medical Center, Fountain Camp | 1343 North Fountain Boulevard |  | Springfield | OH | 45503 | 937-328-9319 | 937-328-8788
Springhill Memorial Hospital | 3719 Dauphin Street |  | Mobile | AL | 36608 | 251-460-5326 | 251-461-4126
Springs Memorial Hospital | 800 West Meeting Street |  | Lancaster | SC | 29720 | 803-286-1671 | 803-313-3152
SSM St. Joseph Health Center | 300 First Capitol Drive |  | St. Charles | MO | 63301 | 314-518-0751 | 636-947-5684
SSM St. Joseph Hospital of Kirkwood | 525 Couch Avenue |  | Kirkwood | MO | 63122 | 314-966-1578 | 314-256-6451
St. Anthony Central Hospital | 4231 W. 16th Avenue |  | Denver | CO | 80204-1335 | 303-629-2288 | 303-595-6912
St. James Hospital and Health Centers | 20201 S. Crawford Avenue |  | Olympia Fields | IL | 60461 | 708-679-2033 |
St. Joseph Hospital | 700 Broadway |  | Fort Wayne | IN | 46802 | 260-425-3425 |
St. Joseph Hospital—Oakland | 44405 Woodward Avenue |  | Pontiac | MI | 48341-5023 | 248-858-6038 | 248-858-3288
St. Joseph Medical Center | 1717 South J Street |  | Tacoma | WA | 98405-4933 | 253-426-6046 | 253-426-6440
St. Josephs Hospital | 69 W. Exchange Street |  | St Paul | MN | 55102 | 651-326-3088 | 651-232-3296
St. Joseph Hospital Health Center | 301 Prospect Avenue |  | Syracuse | NY | 13203 | 315-448-5832 | 315-448-5656
St. Luke's Cornwall Hospital | 70 DuBois Street |  | Newburgh | NY | 12550 | 845-568-2094 | 845-568-2980
St. Mary's Health Care Systems | 1230 Baxter Street |  | Athens | GA | 30606 | 706-389-2284 | 706-389-2285
St. Mary's Hospital | 400 North Pleasant |  | Centralia | IL | 62801 | 618-436-8980 | 618-436-8052
St. Mary's Regional Medical Center | 305 S. 5th Street |  | Enid | OK | 73701 | 580-249-3026 | 580-249-3994
St. Vincent Mercy Medical Center | 2213 Cherry Street |  | Toledo | OH | 43608 | 419-251-2761 |
St. Agnes Hospital | 900 Caton Avenue |  | Baltimore | MD | 21229 | 410-368-2822 | 410-368-3220
St. Alexius Medical Center | 1555 Barrington Road |  | Hoffman Estates | IL | 60194-1018 | 847-755-8678 | 847-755-8499
St. Alphonsus Regional Medical Center | 1055 N. Curtis Road |  | Boise | ID | 83706 | 208-367-2930 | 208-367-4270
St. Anthony Hospital | 1000 N. Lee Avenue |  | Oklahoma City | OK | 73102 | 405-272-7394 | 405-272-7169
St. Anthony's Health Care | 1200 7th Avenue North | MS 2019 | St. Petersburg | FL | 33705 | 727-825-1520 | 727-825-1518
St. Anthony's Medical Center | 10010 Kennerly Road |  | St. Louis | MO | 63128-2106 | 314-525-1834 |
St. Barnabas Medical Center | 94 Old Short Hills Road |  | Livingston | NJ | 07039 | 973-322-5562 | 973-422-0723
St. Bernards Medical Center | 225 E. Jackson Avenue |  | Jonesboro | AR | 72401 | 870-972-4147 | 870-974-7021
St. Catherine Hospital East Chicago | 1500 South Lake Park Avenue |  | Hobart | IN | 46342 | 219-947-6767 | 219-947-6769
St. Catherine of Siena | 50 Route 25A |  | Smithtown | NY | 11787 | 631-862-3510 | 631-862-3802
St. Charles Medical Center | 2500 North East Neff Road |  | Bend | OR | 97701-6015 | 541-318-4985 | 541-383-6825
St. Clair Hospital | St. Clair Hospital | 1000 Bower Hill Road | Pittsburgh | PA | 15243 | 412-942-2267 |
St. David's Medical Center | 919 East 32nd Street |  | Austin | TX | 78765 | 512-370-4420 |
St. David's South Austin Hospital | 901 W. Ben White Boulevard |  | Austin | TX | 78704 | 512-448-7373 | 512-448-7498
St. Dominic-Jackson Memorial Hospital | 969 Lakeland Drive |  | Jackson | MS | 39216 | 601-200-2713 |
St. Edwards Mercy Medical Center | 7301 Rogers Avenue |  | Ft. Smith | AR | 72917-7000 | 479-314-5682 | 479-314-1447
St. Elizabeth Hospital | 2233 W. Division Street |  | Chicago | IL | 60622 | 312-770-2244 | 312-770-2030
St. Elizabeth Hospital Medical Center | 1501 Hartford Street |  | Lafayette | IN | 47904 | 765-423-6298 | 765-423-6293
St. Elizabeth Medical Center | 2209 Genesee Street |  | Utica | NY | 13501 | 315-734-3335 | 315-734-3072
St. Francis Health Center | 1700 SW 7th Street |  | Topeka | KS | 66605 | 785-295-7828 | 785-231-5992
St. Francis Hospital | One St. Francis Drive |  | Greenville | SC | 29601 | 864-255-1079 | 864-255-1762
St. Francis Hospital | 701 N. Clayton Street |  | Wilmington | DE | 19805 | 302-421-4395 | 302-421-4397
St. Francis Hospital | 333 Laidley Street | PO Box 44 Culloden, WV 25510 | Charleston | WV | 25322 | 304-347-6500 ext. 6675 | 304-347-6153
St. Francis Hospital | 100 Port Washington Boulevard |  | Roslyn | NY | 11576 | 516-562-6252 | 516-562-6178
St. Francis Medical Center | 211 Saint Francis Drive |  | Cape Girardeau | MO | 63703-5049 | 573-331-5286 | 573-331-5023
St. Francis Medical Center | 3630 Imperial Highway |  | Lynwood | CA | 90265 | 310-900-8641 | 310-885-5938
St. Francis Medical Center | 309 Jackson Street |  | Monroe | LA | 71201 | 318-327-5243 | 318-327-4144
St. Francis Medical Center | 601 Hamilton Avenue |  | Trenton | NJ | 08629 | 609-599-5771 | 609-599-5715
St. Francis North Hospital | 309 Jackson Street |  | Monroe | LA | 71201 | 318-327-5243 |
St. Helena Hospital | 10 Woodland Road |  | St. Helena | CA | 94574 | 707-967-6325 | 707-967-5744
St. James Health Care | 400 South Clark Street |  | Butte | MT | 59701 | 406-723-2794 |
St. John Medical Center | 1923 S. Utica Avenue | Heart Institute Education/Research | Tulsa | OK | 74104 | 918-744-2825 | 918-744-3281
St. John Medical Center | 1615 Delaware Street |  | Longview | WA | 98632 | 360-636-4823 | 360-414-2739
St. John Providence Hospital | 16001 W. Nine Mile Road |  | Southfield | MI | 48075 | 248-849-2076 | 248-849-2853
St. John West Shore Hospital | 29000 Center Ridge Road |  | Westlake | OH | 44145 | 440-827-5506 | 440-827-5110
St. John's Hospital | 800 E. Carpenter Street |  | Springfield | IL | 62769 | 217-544-6464 x47139 | 217-535-3885
St. John's Hospital | 1235 East Cherokee Street |  | Springfield | MO | 65804 | 417-820-7523 | 417-820-7786
St. John's Pleasant Valley Hospital | 2309 Antonio Avenue |  | Camarillo | CA | 93010 | 805-988-2500 x2099 | 805-981-4403
St. John's Queens Hospital | 90-02 Queens Boulevard |  | Elmhurst | NY | 11373 | 718-558-0032 | 718-558-1878
St. Johns Regional Medical Center | 2727 McClelland Boulevard |  | Joplin | MO | 64804 | 417-625-2215 | 417-659-6704
St. Johns Regional Medical Center | 1600 N. Rose Avenue |  | Oxnard | CA | 93030-3722 | 805-988-2500 x2099 | 805-981-4403
St. John's Riverside Hospital | 967 North Broadway | Health Information Services | Yonkers | NY | 10701 | 914-964-4350 | 914-964-4929
St. Joseph Hospital | 172 Kinsley Street |  | Nashua | NH | 03060 | 603-882-3000 x67117
St. Joseph Hospital | 360 Broadway |  | Bangor | ME | 04401 | 207-262-1403 | 207-262-2422
St. Joseph Hospital | 1 Saint Joseph Drive |  | Lexington | KY | 40504 | 859-313-2395 | 859-313-4337
St. Joseph Hospital | 2901 Squalicum Parkway |  | Bellingham | WA | 98225 | 360-734-5400 x3504 | 360-738-6733
St. Joseph Intercommunity Hospital | 2605 Harlem Road |  | Cheektowaga | NY | 14225 | 716-891-2683 | 716-891-2688
St. Joseph Medical Center | 12th & Walnut Streets |  | Reading | PA | 19603 | 610-378-2340 | 610-378-2530
St. Joseph Medical Center | 1401 St. Joseph Parkway |  | Houston | TX | 77002 | 713-757-7418 | 713-757-7420
St. Joseph Medical Center | 7601 Olser Drive |  | Towson | MD | 21204 | 410-337-1509 | 410-337-3947
St. Joseph Mercy Hospital | 5325 Elliot Drive |  | Ann Arbor | MI | 48106 | 734-712-2728 | 734-712-8689
St. Joseph Reg. Medical Center | 801 E. Lasalle Avenue |  | South Bend | IN | 46617 | 574-237-7979 | 574-282-8960
St. Joseph Regional Medical Center | 703 Main Street |  | Paterson | NJ | 07503 | 973-754-3559 | 973-754-2342
St. Joseph's Hospital | 11705 Mercy Boulevard |  | Savannah | GA | 31419 | 912-819-5291 | 912-691-9066
St. Joseph's Hospital | 350 N. Wilmot Road |  | Tucson | AZ | 85711 | 520-696-2529 |
St. Joseph's Medical Center | 127 S. Broadway |  | Yonkers | NY | 10701 | 914-378-7499 | 914-965-4838
St. Josephs Medical Center of Stockton | 1805 North California Street Suite 303 | Suite #303 | Stockton | CA | 95204 | 209-461-5375 | 209-461-3462
St. Josephs Mercy Health Center | 300 Werner Drive |  | Hot Springs | AR | 71913 | 501-622-1489 | 501-622-2334
St. Jude Medical Center | 101 East Valencia Mesa |  | Fullerton | CA | 92835 | 714.992.3000 ext. 5346 | 714.446.5120
St. Luke Hospital East | 85 N. Grand Avenue |  | Ft. Thomas | KY | 41075 | 859-572-3905 | 859-572-2355
St. Luke Hospital West | 7380 Turfway Road |  | Florence | KY | 41042 | 859-962-5200 |
St. Luke's Baptist Hospital | 7830 Floyd Curl Drive |  | San Antonio | TX | 78229 | 210-297-1264 | 210-297-0926
St. Luke's Community Medical Center (The Woodlands) |  | 17200 St. Luke's Way | The Woodlands | TX | 77384 | 936-266-3964 | 936-266-2009
St. Luke's Episcopal Hospital | 3100 Main Street | MC5-313 | Houston | TX | 77030 | 832-355-7276 | 832-355-3965
St. Lukes Hospital | 363 Higland Avenue |  | Falls River | MA | 02720 | 508-679-7159 |
St. Lukes Hospital | 5901 Monclova Road |  | Maumee | OH | 43537 | 419-893-5951 | 419-897-8381
St. Luke's Hospital | 915 E. First Street |  | Duluth | MN | 55805 | 218-249-6024 | 218-249-5110
St. Luke's Hospital & Health Network | 801 Ostrum Street |  | Bethlehem | PA | 18015 | 610-954-4630 | 610-954-4631
St. Luke's Hospital and Health Network (Allentown Campus) | 1736 Hamilton Boulevard |  | Allentown | PA | 18104 | 610-954-4640 | 610-954-2537
St. Luke's Hospital—Mayo Clinic | 4201 Belfort Road |  | Jacksonville | FL | 32216 | 904-296-4125 |
St. Luke's Medical Center | 2901 West Oklahoma Avenue |  | Milwaukee | WI | 53215-4330 | 414-649-6807 |
St. Luke's South Hospital | 12300 Metcalf Avenue |  | Overland Park | KS | 66213 | 913-317-7494 |
St. Luke's—Roosevelt Hospital Center | 1111 Amsterdam Avenue |  | New York City | NY | 10025 | 212-523-3755 | 212-523-2991
St. Mark's Hospital/ Northern Utah Healthcare Corporation | 6985 Union Park Center |  | Cottonwood Heights | UT | 84047 | 801-268-7265 |
St. Mary Hospital | 1201 Langhorne Newton Road |  | Langhorne | PA | 19047 | 215-710-5735 |
St. Mary Medical Center | 18300 Highway 18 |  | Appple Valley | CA | 92307 | 760-946-8165 | 760-946-8867
St. Mary Medical Center | 1050 Linden Avenue |  | Long Beach | CA | 90813-3321 | 562-491-9052 | 562-491-9795
St. Mary Medical Center | 1500 South Lake Park Avenue |  | Hobart | ID | 46342 | 219-947-6767 | 219-947-6769
St. Mary of Nazareth Hospital Center | 2233 W. Division Street |  | Chicago | IL | 60622 | 312-770-2244 | 312-770-2030
St. Mary's Health Center | 6420 Clayton Road |  | St. Louis | MO | 63117 | 314-768-8874 | 314-768-7122
St. Mary's Hospital | 707 S. Mills Street |  | Madison | WI | 53715-1849 | 608-259-3473 | 608-229-7178
St. Mary's Hospital | 1800 East Lake Shore Drive |  | Decatur | IL | 62521 | 217-464-2402 |
St. Mary's Hospital (Passaic) | 350 Boulevard |  | Passaic | NJ | 07055 | 973-365-4323 | 973-365-4375
St. Mary's Medical Center | 901 45th Street |  | West Palm Beach | FL | 33407 | 561-882-2710 |
St. Mary's Medical Center | 450 Stanyan Street |  | San Francisco | CA | 94117 | 415-750-5551 | 415-750-5825
St. Mary's Medical Center | 900 E. Oak Hill Avenue |  | Knoxville | TN | 37917 | 865-545-8177 |
St. Mary's Medical Center | 407 East Third Street |  | Duluth | MN | 55805 | 218-786-4129 | 218-786-4834
St. Mary's of Michigan | 800 S. Washington Avenue |  | Saginaw | MI | 48601 | 989-907-8409 |
St. Michael's Medical Center | 111 Central Avenue |  | Newark | NJ | 07102 | 973-877-5153 |
St. Nicholas Hospital | 3100 Superior Avenue |  | Sheboygan | WI | 53081 | 920-451-7466 | 920-452-8336
St. Patrick Hospital and Health Sciences Center | 500 W. Broadway |  | Missoula | MT | 59802 | 406-329-5770 | 406-329-5652
St. Rose Hospital | 27200 Calaroga Avenue |  | Hayward | CA | 94539 | 510-264-4505 | 510-264-4213
St. Tammany Parish Hospital | 1202 S. Tyler Street |  | Covington | LA | 70433 | 985-898-4005 |
St. Vincent Charity Hospital | 2351 East 22nd Street |  | Cleveland | OH | 44115 | 216-363-2532 | 216-363-2783
St. Vincent Healthcare | 1233 N. 30th Street |  | Billings | MT | 59101 | 406-237-4360 | 406-237-4390
St. Vincent Hospital | 810 St. Vincents Drive |  | Birmingham | AL | 35205 | 205-939-7814 | 205-930-2689
St. Vincent Medical Center | 2131 W. 3rd Street |  | Los Angeles | CA | 90703 | 213-207-5667 |
St. Vincent's Medical Center | 1800 Barrs Street |  | Jacksonville | FL | 32204 | 904-308-3863 |
St. Vincent's East | 50 Medical Park East Drive |  | Birmingham | AL | 35235-3499 | 205-838-3463 | 205-838-3708
Stacia Hansen | 45 Reade Place |  | Poughkeepsie | NY | 12601 | 845-437-3180 | 845-437-3144
Stanford Hospital and Clinics | Falk Building 2nd Floor 300 Pasteur Drive |  | Stanford | CA | 94305 | 650 736-7920 | 650 725-3846
Staten Island University Hospital | 475 Seaview Avenue |  | Staten Island | NY | 10305 | 718-226-1719 | 718-226-1733
Stony Brook University Medical Center | 3 Technology Drive |  | East Setauket | NY | 11733-4073 | 631-444-5289 |
Stormont-Vail Regional Medical Center | 929 SW Mulvane Street |  | Topeka | KS | 66606 | 785-270-4103 | 785-270-4105
Straub Clinic & Hospital: Cath Lab | 888 S. King Street |  | Honolulu | HI | 96813 | 808-522-3626 | 808-522-2370
Stringfellow Memorial Hospital | 301 East 18th Street |  | Anniston | AL | 36202 | 256-235-8935 |
Suburban Hospital | 8600 Old Georgetown Road |  | Bethesda | MD | 20814 | 301-896-2857 | 301-493-4259
Summerlin Hospital Medical Center | 657 Town Center Drive |  | Las Vegas | NV | 89144 |  |
Summit Healthcare Regional Medical Center | 2200 East Show Low Lake Road |  | Show Low | AZ | 85901 | 928-537-6518 |
Summit Medical Center | East Main & South 20th Streets |  | Van Buren | AR | 72956 | 479-471-4435 |
Sun Coast Hospital | 2025 Indian Rocks Road S |  | Largo | FL | 33774-1096 | 727-586-7124 |
Sun Health Boswell Hospital | 10401 West Thunderbird Boulevard |  | Sun City | AZ | 85351 | 623-875-6560 | 623-815-6095
Sunrise Hospital and Medical Center | 3186 S. Maryland Parkway |  | Las Vegas | NV | 89109 | 702-892-3695 |
Sutter Delta Medical Center | 3901 Lone Tree Way |  | Antioch | CA | 94509 | 925-779-3092 |
Sutter Medical Center—Sacramento | 5151 F Street 1 South | Transplant & Heart Specialty Clinics | Sacramento | CA | 95819 | 916-733-0909 |
Sutter Medical Center of Santa Rosa | 3325 Chanate Road |  | Santa Rosa | CA | 95404 | 707-576-4093 | 707-576-5550
Swedish American Hospital | 1401 E. State Street |  | Rockford | IL | 61104 | 815-961-2382 | 815-489-4069
Swedish Covenant Hospital | 5145 N. California Avenue |  | Chicago | IL | 60625 | 773-878-8200 x5702 |
Swedish Health Services | 500 17th Avenue #A85C |  | Seattle | WA | 98104 | 206-386-6057 |
Swedish Medical Center | 501 East Hampden Avenue |  | Englewood | CO | 80113 | 303-788-4804 | 303-788-5085
T. J. Samson Community Hospital | 1301 North Race Street |  | Glasgow | KY | 42141 | 270-651-4868 |
Tacoma General Hospital | 315 Martin Luther King, Jr. Way |  | Tacoma | WA | 98415 | 253-403-3437 | 253-403-2461
Tahlequah City Hospital | 1400 East Downing Street |  | Tahlequah | OK | 74465-1008 | 918-453-2155 |
Tallahassee Memorial Hospital | 1300 Miccosukee Road | Attn: Performance Improvement | Tallahassee | FL | 32308 | 850-431-4942 | 850-431-4949
Tampa General Hospital | PO Box 1289 |  | Tampa | FL | 33601-1289 | 813-844-4352 | 813-844-7963
Temple University Hospital | 3401 North Broad Street | 1st Floor Room B-150 | Philadelphia | PA | 19140 | 215-707-5501 | 215-707-3535
Terre Haute Regional Hospital | 3901 South 7th Street |  | Terre Haute | IN | 47802 | 812-237-9866 | 812-237-1365
Terrebonne General Medical Center | 8166 Main Street |  | Houma | LA | 70360 | 985-873-4189 | 985-873-4256
Texoma Medical Center | 1000 Memorial Drive |  | Denison | TX | 75020 | 903-416-4120 |
TexSAn Heart Hospital | 6700 IH-10 West |  | San Antonio | TX | 78201-2009 | 210-736-8008 | 210-736-8400
The Christ Hospital | 2139 Auburn Avenue |  | Cincinnati | OH | 45219 | 513-585-2840 | 513-585-3296
The George Washington University Hospital | 900 23rd Street, NW |  | Washington | DC | 20037 | 202-715-5320 | 202-715-5083
The Heart Hospital Baylor Plano | 1100 Allied Drive |  | Plano | TX | 75093 | 469-814-3530 |
The Heart Hospital of Northwest Texas | 1501 S. Coulter Street | PO Box 1110 | Amarillo | TX | 79175 | 806-351-5837 | 806-351-5147
The Hospital at WestlakeMedical Center | 5656 Bee Caves Road M-302 |  | Austin | TX | 78746 | 512-697-3582 | 512-697-3583
The Indiana Heart Hospital | 8075 North Shadeland Avenue |  | Indianapolis | ID | 46250 | 317-621-8723 | 317-621-8706
The Medical Center (TMC) | 1000 Dutch Ridge Road |  | Beaver | PA | 15009 | 724-773-8225 |
The Medical Center of Southeast Texas | 2555 Jimmy Johnson Boulevard |  | Port Arthur | TX | 77640 | 409-853-5356 | 409-853-5355
The Methodist DeBakey Heart Center | 6565 Fannin Street |  | Houston | TX | 77030 | 713-441-2592 |
The Monroe Clinic | 515 22nd Avenue |  | Monroe | WI | 53566 | 608-324-1327 | 608-324-1722
The Mount Sinai Hospital of Queens | 25-11 30th Avenue |  | Long Island City | NY | 11102 | 718-267-4226 |
The Mount Sinai Medical Center | The Mount Sinai Medical Center |  | New York | NY | 10029 | 212-241-7272 | 212-534-2776
The Nebraska Medical Center | 987551 Nebraska Medical Center |  | Omaha | NE | 68198 | 402-552-2314 | 402-552-2789
The Reading Hospital and Medical Center | Sixth Avenue and Spruce Street |  | West Reading | PA | 19611 | 610-988-8923 | 610-988-8636
The Toledo Hospital | 2142 North Cove Boulevard | Jobst Tower Suite 200 | Toledo | OH | 43606 | 419-291-5968 |
The Valley Hospital | 223 North Van Dien Avenue |  | Ridgewood | NJ | 07450 | 201-291-6037 | 201-291-6046
The Washington Hospital | 155 Wilson Avenue |  | Washington | PA | 15301-3398 | 724-223-3570 |
The Western Pennsylvania Hospital | 4800 Friendship Avenue | CVI | Pittsburgh | PA | 15224 | 412-578-5366 | 412-578-4624
The Wisconsin Heart Hospital, Inc | WFH Clinical Data Management and Analysis | 5000 West Chambers, M229 | Milwaukee | WI | 53210 | 414-447-2727 | 414-874-4386
Thomas Jefferson University Hospital | TJUH | 111 S. 11th Street Gibbon Building | Philadelphia | PA | 19107 | 215-955-2532 | 215-923-4942
Tift Regional Medical Center | PO Box 747 | 901 E. 18th Street | Tifton | GA | 31794 | 229-353-6762 | 229-353-6098
Tobey Hospital | 363 Highland Avenue |  | Fall River | MA |  | 508-679-7153 |
Tomball Regional Hospital | 605 Holderrieth Boulevard |  | Tomball | TX | 77375 | 281-401-7553 | 281-357-2274
Torrance Memorial Medical Center | 3330 Lomita Boulevard |  | Torrance | CA | 90505 | 310-784-4937 | 310-784-3775
Tri-City Medical Center | 4002 Vista Way |  | Oceanside | CA | 92056 | 760-940-7802 |
Trident Regional Medical Center | 9330 Medical Plaza Drive |  | Charleston | SC | 29406 | 843-847-4981 | 843-847-4169
Trinity Hospitals | PO Box 5020 |  | Minot | ND | 58702 | 701-857-5766 | 701-857-3576
Trinity Medical Center | Attn: CardioVascular Services | 800 Montclair Road | Birmingham | AL | 35213 | 205-592-5623 |
Trinity Medical Center | 4602 3rd Street |  | Moline | IL | 61265 | 309-779-3902 | 309-779-5222
Trinity Medical Center West | 4000 Johnson Road |  | Steubenville | OH | 43952 | 740-264-8192 | 740-264-8654
Trinity Regional Medical Center | 802 Kenyon Road |  | Fort Dodge | IA | 50501 | 515-574-6459 | 515-574-6036
Trinity Regional Medical Center | 4602 3rd Street |  | Moline | IL | 61265 | 309-779-3902 | 309-779-5222
Tucson Heart Hospital | 4888 North Stone Avenue |  | Tucson | AZ | 85704 | 520-696-2529 |
Tucson Medical Center | 5301 E. Grant Road |  | Tucson | AZ | 85712 | 520-324-3527 |
Tufts Medical Center | 750 Washington Street |  | Boston | MA | 02111 | 617-636-2811 |
Tulane Medical Center | 1415 Tulane Avenue |  | New Orleans | LA | 70112 | 504-988-1407 | 504-799-7973
Tuomey Healthcare System Tuomey Regional Medical Center | 129 N. Washington Street |  | Sumter | SC | 29150 | 803-778-9450 |
UC San Diego Medical Center | 200 W. Arbor Drive |  | San Diego | CA | 92103 | 619-543-5726 |
UMASS Memorial Medical Center | 55 Lake Ave North |  | Worcester | MA | 01655-0002 | 508-334-7361 | 508-856-6571
Union Hospital | 1606 N. 7th Street |  | Terre Haute | IN | 47804 | 812-238-7582 |
Union Memorial Hospital | 201 E. University Parkway |  | Baltimore | MD | 21218-2891 | 410-554-6550 | 410-554-6599
United Health Services Hospitals/Wilson Regional Medical Center | 33-57 Harrison Street | Decker 4 Lobby | Johnson City | NY | 13790 | 607-763-6197 | 607-763-5335
United Hospital | 333 N. Smith Avenue |  | St. Paul | MN | 55102 | 651-241-8544 | 651-241-2666
United Hospital Center, Inc. | PO Box 1680 |  | Clarksburg | WV | 53143 | 262-656-3110 | 262-656-3141
United Hospital System | 6308 8th Avenue |  | Kenosha | WI | 53143 | 262-656-3110 | 262-656-3141
United Regional Healthcare System | 1600 11th Street |  | Wichita Falls | TX | 76301 | 940-764-2850 | 940-764-2865
Unity Health Center | 1102 West MacArthur |  | Shawnee | OK | 74804 | 405-878-3486 | 405-878-3484
Unity Hospital | 550 Osbourne Road NE |  | Minneapolis | MN | 55432 | 612-262-6028 | 612-262-4370
Unity Hospital | 1555 Long Pond Road |  | Rochester | NY | 14626 | 585-723-7312 | 585-368-4973
University Community Hospital | 3100 East Fletcher Avenue |  | Tampa | FL | 33613 | 813-615-7845 | 813-615-8107
University Community Hospital Carrollwood Campus | 3100 East Fletcher Avenue |  | Tampa | FL | 33613 | 813-615-7845 | 813-615-8107
University Hospital | 620 19th Street South |  | Birmingham | AL | 35249 | 205-934-8716 | 205-924-8720
University Hospital | 234 Goodman Street |  | Cincinnati | OH | 45219 | 513-584-0295 | 513-584-2242
University Hospital | 1350 Walton Way |  | Augusta | GA | 30901 | 706-774-7764 | 706-774-7640
University Hospitals Bedford Medical Center | 44 Blaine Avenue |  | Bedford | OH | 44146 | 440-735-3526 | 440-735-3527
University Hospitals Case Medical Center | 11100 Euclid Avenue |  | Cleveland | OH | 44106 | 216-844-7924 | 216-844-1419
University Hospitals Geauga Medical Center | 13207 Ravenna Road |  | Chardon | OH | 44024 | 440-285-6372 | 440-285-3230
University Hospitals Richmond Medical Center | 27100 Chardon Road |  | Richmond Heights | OH | 44143 | 440-585-6115 | 440-585-6293
University Hospital UMDNJ | 150 Bergen Street |  | Newark | NJ | 07101 | 973-972-1662 | 973-972-7414
University Medical Center | 1501 N. Campbell Avenue |  | Tucson | AZ | 85724 | 520-694-6899 | 520-694-2617
University Medical Center | 602 Indiana Avenue |  | Lubbock | TX | 79410 | 806-775-9274 |
University Medical Center LSU | 2390 W. Congress Street |  | Lafayette | IA | 70506 | 337-261-6333 | 337-261-6334
University Medical Center of Las Vegas | 1800 W. Charleston Boulevard |  | Las Vegas | NV | 89102 | 702-383-2348 | 702-383-2658
University of Califorina, Irvine Division of Cardiology | 101 The City Drive |  | Orange | CA | 92868 | 714-456-5984 |
University of California (UCLA) | 18033 Le Conte Avenue |  | Los Angeles | CA | 90095 | 310-825-6536 |
University of California Davis Medical Center | 2315 Stockton Boulevard Main Hospital, Rm 6312 |  | Sacramento | CA | 95817 | 916-734-7279 | 916-734-5378
University of California San Francisco Medical Center | 505 Parnassus Avenue L-523 Box 0210 |  | San Francisco | CA | 94143-0210 | 415-353-7832 | 415-353-8713
University of Chicago Hospitals | 5841 S. Maryland Avenue |  | Chicago | IL | 60637 | 773-834-0283 | 773-834-5923
University of Colorado Hospital Authority | 16205 E. 16th Avenue | Box 132 | Aurora | CO | 80045 | 720-848-7546 |
University of CT Health Center/John Dempsey Hospital | 263 Farmington Avenue |  | Farmington | CT | 06030 | 860-679-4117 | 860-679-4256
University of Florida (Shands)College of Medicine | 1600 SW Archer Road |  | Gainesville | FL | 32610 | 352-265-0119 | 352-265-0314
University of Illinois Medical Center at Chicago | 1740 W. Taylor Street | Bld 949 Rm 2181 | Chicago | IL | 60610 | 312-996-3839 | 312-413-7904
University of Iowa Hospitals and Clinics | 200 Hawkins Drive |  | Iowa City | IA | 52242 | 319-353-6810 |
University of Kentucky | 800 Rose Street |  | Lexington | KY | 40536 | 859-323-4738 | 859-257-7383
University of Louisville Hospital | 530 S. Jackson Street |  | Loiusville | KY | 40202 | 502-562-3715 |
University of Maryland Medical Center Cardiology | 22 S. Greene Street |  | Baltimore | MD | 21201-1544 | 410-328-1044 | 410-328-1717
University of Minnesota Medical Center Fairview | 420 Delaware Street SE MMC 815 |  | Minneapolis | MN | 55455 | 612-273-5592 | 612-273-8467
University of Mississippi Medical Center | 2500 N. State Street |  | Jackson | MS | 39216 | 601-984-2250 | 301-984-2631
University of Missouri Hospital and Clinics | 1 Hospital Drive |  | Columbia | MO | 65212 | 573-882-2297 | 573-884-1999
University of North Carolina Hospitals | UNC Hospitals | 101 Manning Drive CB#7075 | Chapel Hill | NC | 27514 | 919-966-9421 | 919-966-6955
University of Rochester Medical Center | 601 Elmwood Avenue |  | Rochester | NY | 14642 | 585-273-4453 |
University of South Alabama Cardiology Department | 2451 Fillingim Street |  | Mobile | AL | 36617 | 251-471-7361 | 251-470-1685
University of Tennessee Medical Center | 1924 Alcoa Highway |  | Knoxville | TN | 37920-6999 | 865-544-9785 | 865-525-3742
University of Texas Medical Branch at Galveston | 301 University Boulevard |  | Galveston | TX | 77555-0294 | 409-747-2194 | 409-772-5141
University of Texas Southwestern—University Hospital | 5323 Harry Hines Boulevard |  | Dallas | TX | 75390-9013 | 214-645-5552 | 214-645-5537
University of Toledo Medical Center | 3065 Arlington Avenue | DH2261 | Toledo | OH | 43614 | 419-383-5150 | 419-383-3149
University of Utah Hospitals and Clinics | 50 North Medical Drive |  | Salt Lake City | UT | 84132 | 801-585-9940 |
University of Virginia Medical Center | PO Box 800679 |  | Charlottesville | VA | 22908-0679 | 434-243-6825 | 434-982-3885
University of Washington Medical Center | 1959 NE Pacific Street |  | Seattle | WA | 98195-6422 | 206-598-0531 |
University of Wisconsin Hospital & Clinics | 600 Highland Avenue MC 3204 |  | Madison | WI | 53792 | 608-890-8618 |
UPMC Mercy | 1400 Locust Street |  | Pittsburgh | PA | 15219 | 412-232-8440 |
UPMC Passavant Hospital | 9100 Babcock Boulevard |  | Pittsburgh | PA | 15237 | 412-635-3878 |
UPMC Presbyterian Hospital | 5230 Centre Avenue |  | Pittsburgh | PA | 15232 | 412-623-6233 | 412-623-0051
UPMC Shadyside Hospital | 5230 Centre Avenue |  | Pittsburgh | PA | 15232 | 412-623-6233 | 412-623-6228
Upper Chesapeake Medical Center, Inc | 500 Upper Chesapeake Drive |  | Bel Air | MD | 21014 | 443-643-2449 | 443-643-4917
Upstate Medical University (SUNY) | 750 East Adams Street |  | Syracuse | NY | 13120 | 315-464-4232 | 315-464-7101
USC University Hospital | 1500 San Pablo Street |  | Los Angeles | CA | 90033 | 323-442-8479 |
Utah Valley Regional Medical Center | 1034 S. 500 W |  | Provo | UT | 84605 | 801-357-3613 |
Val Verde Regional Medical Center | 801 Bedell Avenue |  | Del Rio | TX | 78840 | 830-778-3656 | 830-778-3656
Valley Baptist Medical Center | 2101 Pease Street |  | Harlingen | TX | 78550 | 956-389-1102 | 956-389-6763
Valley Care Medical Center | 1111 East Stanley Boulevard |  | Livermore | CA | 94550 | 925-734-3335 | 925-416-3544
Valley Hospital Medical Center | 620 Shadow Lane |  | Las Vegas | NV | 89106 | 702-894-5743 |
Valley Medical Center | 400 South 43rd Street |  | Renton | WA | 98058 | 425.228.3440 X5965 |
Valley Presbyterian Hospital | 15107 Vanowen Street |  | Van Nuys | CA | 91405 | 818-904-3742 | 818-902-5206
Valley Regional Medical Center | Valley Regional Medical Center | 100A East Alton Gloor Building | Brownsville | TX | 78526 | 956-350-7327 | 956-350-7723
Valley View Medical Center | 5330 S. Highway 95 |  | Fort Mohave | AZ | 86427 | 928 788 7248 | 928-788-7869
Vanderbilt Heart Institute | 1215 21st Avenue | MCE 5th floor | Nashville | TN | 37232 | 615-343 8231 |
Vaughan Regional Medical Center | 1015 Medical Center Parkway |  | Selma | AL | 36701 | 334-418-4461 | 334-418-3588
VCU—Medical College of Virginia | PO Box 980036 |  | Richmond | VA | 23298 | 804-828-9005 | 804-828-4528
Venice Regional Medical Center | 540 The Rialto |  | Venice | FL | 34285 | 941-483-7713 | 941-483-7220
Verde Valley Medical Center | 269 South Candy Lane |  | Cotttonwood | AZ | 86326 | 928-639-6486 | 928-639-6405
Verdugo Hills Hospital | 1812 Verdugo Boulevard |  | Glendale | CA | 91208 | 812-952-2243 |
Via Christi Wichita Health Network | 929 N. St. Francis Street |  | Wichita | KS | 67214 | 316-268-6763 |
Ville Platte Medical Center | 800 East Main Street |  | Ville Platte | LA | 70586 | 337-363-9447 |
Virginia Hospital Center | 1701 N. George Mason Drive |  | Arlington | VA | 22205-3698 | 703-558-6678 | 703-558-6728
Virginia Mason Medical Center | 1100 Ninth Avenue | X3-CVL | Seattle | WA | 98111 | 206-341-0530 | 206-223-6695
W. A. Foote Memorial Hospital | Charles Anderson Building Level 4 | 205 N. East Avenue | Jackson | MI | 49201 | 517-788-7880 x3450 | 517-780-7208
Wadley Regional Medica Center | 1000 Pine Street |  | Texarkana | TX | 75501 | 903-798-7420 | 903-798-7428
WakeMed Cary Hospital | 3128 Smoketree Court |  | Raleigh | NC | 27604 | 919-350-2998 |
WakeMed Raleigh Campus | 3000 New Bern Avenue |  | Raleigh | NC | 27610 | 919-350-6357 | 919-350-8972
Walker Regional Medical Center | 3400 Highway 78 E |  | Jasper | AL | 35501 | 205-387-4009 |
Washington Adventist Hospital | 7600 Carroll Avenue |  | Takoma Park | MD | 20912 | 301 891-5901 | 301-891-6365
Washington County Hospital | 251 East Antietam Street |  | Hagerstown | MD | 21740 | 301-790-8665 |
Washington Hospital | 2000 Mowry Avenue |  | Fremont | CA | 94538 | 510-745-6504 |
Washington Hospital Center | 110 Irving Street NW Rm 5A14 |  | Washington | DC | 20010 | 202-877-7687 | 202-877-2566
Washington Regional Medical Center | 1125 N College Avenue |  | Fayetteville | AR | 72703-1994 |  |
Waterbury Hospital | PO Box 2153 |  | Waterbury | CT | 06722-2153 | 203-575-5572 | 203-575-5575
Watsonville Community Hospital | 75 Nielson Street |  | Watsonville | CA | 95076 | 831-761-5696 | 831-728-4758
Waukesha Memorial Hospital | 725 American Avenue |  | Waukesha | WI | 53188 | 262-928-2621 | 262-928-2775
Weatherford Regional Medical Center | 713 East Anderson Street |  | Weatherford | TX | 76086 | 817-599-1845 | 817-599-1162
Weiss Memorial Hospital | 4646 N. Marine Drive |  | Chicago | IL | 60640 | 773-564-5917 | 773-564-5911
Wellmont Holston Valley Medical Center | 130 W Ravine Road |  | Kingsport | TN | 37660 | 423-224-6529 | 423-224-6540
Wellstar Cobb Hospital | 531 Roselane Street |  | Marietta | GA | 30060 | 770-793-5218 | 677-331-6959
Wellstar Kennestone Hospital | 677 Church Street |  | Marietta | GA | 30066 | 770-793-5218 | 678-331-6959
Wesley Medical Center | 550 N. Hillside Street |  | Wichita | KS | 67214 | 316-962-3230 |
Wesley Medical Center | 5001 Hardy Street |  | Hattiesburg | MS | 39402 | 601-268-8526 |
West Anaheim Medical Center | 3033 West Orange Avenue |  | Anaheim | CA | 92084 | 714-229-4081 |
West Florida Hospital | 8383 Davis Highway |  | Pensacola | FL | 32514 | 850-494-4028 | 850-494-4867
West Hills Hospital | 7300 Medical Center Drive |  | West Hills | CA | 91307 | 818-676-4106 | 818-676-4323
West Houston Medical Center | 12141Richmond Avenue |  | Houston | TX | 77082 | 281-588-8248 | 281-596-5915
West Jefferson Medical Center | 1101 Medical Center Boulevard |  | Marrero | LA | 70072 | 504-349-1417 |
West Suburban Medical Center | 3 Erie Court |  | Oak Park | Il | 60302 | 708-763-2572 | 708-763-1591
West Valley Hospital | 13677 W. McDowell Road |  | Goodyear | AZ | 85338 | 623-882-1818 | 623-882-1510
West Virginia University Hospitals, Inc. | PO Box 8003 | Medical Center Drive | Morgantown | WV | 26506-8003 | 304-598-6121 | 304-598-4277
Westchester County Medical Center | 95 Grasslands Road Suite 114 |  | Valhalla | NY | 10595 | 914-493-5319 |
Western Arizona Regional Medical Center | 2735 Silver Creek Road |  | Bullhead City | AZ | 86442 | 928-763-2273 |
Western Baptist Hospital | 2501 Kentucky Avenue |  | Paducah | KY | 42003 | 270-575-2300 | 270-575-8486
Western Medical Center Santa Ana | 1001 North Tustin Avenue |  | Santa Ana | CA | 92705 | 714-953-2501 | 714-953-3481
Western Plains Medical Center | 3001 Avenue A |  | Dodge City | KS | 67801 | 620-225-8402 |
Westside Regional Medical Center | 8201 West Broward Boulevard |  | Plantation | FL | 33324 | 954-370-4445 | 954-577-2485
Wheaton Franciscan Healthcare—All Saints, Inc. | WFHC Clinical Data Management and Analysis | 5000 West Chambers, M229 | Milwaukee | WI | 53210 | 414-447-2727 | 414-874-4386
Wheaton Franciscan Healthcare—St. Francis, Inc. | WFHC Clinical Data Management and Analysis | 5000 West Chambers, M229 | Milwaukee | WI | 53210 | 414-447-2727 | 414-874-4386
Wheaton Franciscan Healthcare—St. Joseph, Inc. | WFH Clinical Data Management and Analysis | 5000 West Chambers, M229 | Milwaukee | WI | 53210 | 414-447-2727 | 414-874-4386
Wheeling Hospital | 1 Medical Park |  | Wheeling | WV | 26003 | 304-243-3089 | 304-243-6400
White County Medical Center | 3214 E. Race Avenue |  | Searcy | AR | 72143-4810 | 501-380-3102 | 501-380-3101
White Memorial Medical Center | 1720 Cesar E. Chavez Avenue |  | Los Angeles | CA | 90033 | 323-268-5000 | 323-881-8872
White River Medical Center | 1710 Harrison Street |  | Batesville | AR | 72501 | 870-262-6150 | 870-262-3170
William Beaumont Hospital | 3601 West Thirteen Mile Road |  | Royal Oak | MI | 48073 | 248-898-4015 |
William Beaumont Hospita—Troy | 44201 Dequindre Road |  | Troy | MI | 48085 | 248-964-6874 | 248-964-6801
William W. Backus Hospital | 326 Washington Street |  | Norwich | CT | 06360 | 860-889-8331 | 860-425-3828
Willis-Knighton Medical Center | 2600 Greenwood Road |  | Shreveport | LA | 71103 | 318-212-8576 | 318-212-4307
Wilson Memorial Hospital | 915 West Michigan Street |  | Sidney | OH | 45365 | 937-498-5524 | 937-498-5536
Wilson N. Jones Medical Center | 500 N Highland Avenue |  | Sherman | TX | 75092 | 903-870-5516 | 903-870-5520
Winchester Medical Center Inc. | 220 Campus Boulevard Suite 313 |  | Winchester | VA | 22601 | 540-536-4750 | 540-536-6879
Winter Haven Hospital | 20005 Avenue F Northeast |  | Winter Haven | FL | 33881 | 863-293-1121 x3560 | 863-292-4123
Winthrop—University Hospital | 259 First Street |  | Mineola | Ny | 11501 | 516-663-2476 | 516-663-2926
Wise Regional Health System | 609 Medical Center Drive |  | Decatur | TX | 76234 | 940-627-5921 x3766 | 940-626-1387
Wishard Health Services Attn: A/P | 1001 W. 10th Street |  | Indianapolis | IN | 46202 | 317-630-7203 |
Woman's Christian Association Hospital | 207 Foote Avenue |  | Jamestown | NY | 14701 | 716-664-8172 | 716-664-8241
Woodland Heights Medical Center | 505 S. John Redditt Drive |  | Lufkin | TX | 75904 | 936-637-8520 | 936-637-8519
Wuesthoff Health System | 110 Longwood Avenue |  | Rockledge | FL | 32956-5002 | 321-636-2211 x1095 |
Wyckoff Heights Medical Center | 374 Stockholm Street | Division of Cardiology—3rd Floor | Brooklyn | NY | 11237 | 718-486-4278 | 718-963-6396
Wyoming Medical Center | 1233 East 2nd Street |  | Casper | WY | 82601-2988 | 307-577-2548 | 307-577-5018
Wyoming Valley Health Care System | 575 North River Street |  | Wilkes-Barre | PA | 18764 | 570-552-4415 | 570-552-4416
Yakima Regional Medical Center/Cardiac Center | 110 S. 9th Avenue |  | Yakima | WA | 98902 | 509-454-6508 |
Yakima Valley Memorial Hospital | 2811 Tieton Drive |  | Yakima | WA | 98902 | 509-249-5381 | 509-574-5800
Yale New Haven Hospital | 20 York Street |  | New Haven | CT | 06510 |  |
Yavapai Regional Medical Center | 1003 Willow Creek Rd |  | Prescott | AZ | 86301 | 928-771-5610 | 928-771-5615
York Hospital | 15 Hospital Drive |  | York | ME | 03909 | 207-351-3421 | 207-351-3427
York Hospital | 1001 South George Street |  | York | PA | 17405 | 717-851-4554 | 717-851-4206
Yuma Regional Medical Center | 2400 S. Avenue A |  | Yuma | AZ | 85364 | 928-336-7055 | 928-336-7487

Addendum X—Active CMS Coverage-Related Guidance Documents [January Through March 2008]

On September 24, 2004, we published a notice in the Federal Register (69 FR 57325), in which we explained how we would develop coverage-related guidance documents. These guidance documents are required under section 731 of the MMA. In our notice, we committed to the public that, “At regular intervals, we will update a list of all guidance documents in the Federal Register.”

Addendum X includes a list of active CMS guidance documents as of the ending date of the period covered by this notice. To obtain full-text copies of these documents, visit the CMS Coverage Web site at http://www.cms.hhs.gov/mcd/index_list.asp?list_type=mcd_1.

Document Name: Factors CMS Considers in Commissioning External Technology Assessments.

Date of Issuance: April 11, 2006.

Document Name: Factors CMS Considers in Opening a National Coverage Determination.

Date of Issuance: April 11, 2006.

Document Name: (Draft) Factors CMS Considers in Referring Topics to the Medicare Coverage Advisory Committee.

Date of Issuance: March 9, 2005.

Document Name: National Coverage Determinations with Data Collection as a Condition of Coverage: Coverage With Evidence Development.

Date of Issuance: July 12, 2006.

Addendum XI—List of Special One-Time Notices Regarding National Coverage Provisions [January Through March 2008]

As medical technologies, the contexts under which they are delivered, and the health needs of Medicare beneficiaries grow increasingly complex, our national coverage determination (NCD) process must adapt to accommodate these complexities. As part of this adaptation, our national coverage decisions often include multi-faceted coverage determinations, which may place conditions on the patient populations eligible for coverage of a particular item or service, the providers who deliver a particular service, or the methods in which data are collected to supplement the delivery of the item or service (such as participation in a clinical trial).

We outline these conditions as we release new or revised NCDs. However, details surrounding these conditions may need to be shared with the public as “one-time notices” in the Federal Register. For example, we may require that a particular medical service may be delivered only in the context of a CMS-recognized clinical research study, which was not named in the NCD itself. We would then use Addendum XI of this notice, along with our coverage Web site at http://www.cms.hhs.gov/coverage, to provide the public with information about the clinical research study that it ultimately recognizes.

Addendum XI includes any additional information we may need to share about the conditions under which an NCD was issued as of the ending date of the period covered by this notice.

There were no Special One-Time Notices Regarding National Coverage Provisions published this quarter.

Addendum XII—National Oncologic PET Registry (NOPR)

In January 2005, we issued our decision memorandum on positron emission tomography (PET) scans, which stated that CMS would cover PET scans for particular oncologic indications, as long as they were performed in the context of a clinical study. We have since recognized the National Oncologic PET Registry as one of these clinical studies. Therefore, in order for a beneficiary to receive a Medicare-covered PET scan, the beneficiary must receive the scan in a facility that participates in the Registry. The following facilities have met the CMS's requirements for performing PET scans under National Coverage Determination CAG-00181N.

Facility name | Provider number | Date approved | State | Other information
Barnes-Jewish Hospital, Barnes-Jewish Plaza, Mailstop # 90-72-374, St. Louis, MO 63110 | E40080o | 03/07/2006 | MO
Duke University Medical Center PET Facility, Room 0402 Duke So., Durham, NC 27710 | 34003 | 03/07/2006 | NC | Yellow Zone Box 3949.
VCU Health System—Molecular Imaging Center, Dept of Nuclear Medicine—North Hospital 7th Floor, Richmond, VA 23298 | 490032 | 03/07/2006 | VA | 1300 East Marshall—PO Box 980001.
Acadiana Oncologic Imaging, 2311 Kaliste Saloom, Lafayette, LA 70508 | 5CA64 | 03/06/2006 | LA
Adler Institute for Advanced Imaging, 261 Old York Road, Suite 106, Jenkintown, PA 19046 |  | 03/07/2006 | PA
Advanced Medical Imaging San Saba, 215 N San Saba, Suite 107, San Antonio, TX 78207 | 00BC90 | 03/07/2006 | TX
Advanced Medical Imaging Stone Oak, 540 Oak Centre, Suite 100, San Antonio, TX 78258 | 00BC90 | 03/07/2006 | TX
Advanced Radiological PET Imaging, PC, 2334 30th Avenue, Astoria, NY 11102 | 05677 | 03/07/2006 | NY | Lower Level.
Akron Regional PET Scan, LLC, 3009 Smith Road, Suite 350, Akron, OH 44333 | AKID01691 | 03/07/2006 | OH
American Radiology Services—Owings Mills, 21 Crossroads Drive, Suite 100, Owings Mills, MD 21117, | 434L | 03/07/2006 | MD
American Radiology Services—Bethesda, 6430 Rockledge Drive, Suite 100, Bethesda, MD 20817 | G00000 | 03/07/2006 | MD
American Radiology Services—Waldorf, 3510 Old Washington Road, Suite 101, Waldorf, MD 20602 | 435L | 03/07/2006 | MD
American Radiology Services—Columbia, 8820 Columbia Parkway 100, Columbia, MD 21045, | 434L | 03/07/2006 | MD
American Radiology Services—Frederick, 141 Thomas Johnson Drive, Suite 170, Frederick, MD 21702 | 435L | 03/07/2006 | MD
American Radiology Services—Timonium, 2080 York Road, Suite 160, Timonium, MD 21093 | 434L | 03/07/2006 | MD
Angel Williamson Imaging Center—Ft. Walton Beach, 1013-D Mar-Walt Drive, Ft. Walton Beach, FL 32547 | 39953A | 03/07/2006 | FL
Angel Williamson Imaging Center—Pensacola, 5120 Bayou Boulevard, Suite 9, Pensacola, FL 32503 | 39953 | 03/07/2006 | FL
Edison Imaging Center, 3900 Park Avenue, Suite 107, Edison, NJ 08820 | AS008835 | 03/07/2006 | NJ
Avon Medical Diagnostic Center, 1480 Center Road, Suite C, Avon, OH 44011 | MC4039571 | 03/07/2006 | OH
Baltimore Imaging Centers, 3708 Mountain Road, Pasadena, MD 21122 | H476 | 03/07/2006 | MD
Baptist Hospital PET/CT, 1000 West Moreno Street, Pensacola, FL 32501 | 100093 | 03/07/2006 | FL
Bethesda Health City, 2623 S Seacrest Boulevard, Boynton Beach, FL 33435 | 40237 | 03/07/2006 | FL
PET/CT Imaging at White Marsh, 9900 Franklin Square Drive, Suite D, Nottingham, MD 21236 | FMNX01 | 03/07/2006 | MD
Biomedical Research Foundation PET Imaging Center, 1505 Kings Highway, Shreveport, LA 71103 | 5D914 | 03/07/2006 | LA
BodyScan of Louisville LLC, 807 Shelbyville Road, Suite 201, Louisville, KY 40222 | 9372701 | 03/07/2006 | KY
Bradley Regional PET Imaging, Cleveland, TN 37311 | 3373976 | 03/07/2006 | TN | 2305 Chambliss Ave NW.
PET Imaging Institute of NJ, 1608 Rte 88 West, Suite 302, Brick, NJ 08724 | 070684 | 03/07/2006 | NJ
Broward PET Imaging Center, LLC, 4850 W. Oakland Park Boulevard, Suite A, Fort Lauderdale, FL 33313 | E5709 | 03/07/2006 | FL
Camelback Imaging, 15215 S. 48th Street, #110, Phoenix, AZ 85044, | 100488, | 03/07/2006, | AZ
California Imaging and Treatment Center, 3000 Oak Road, #111, Walnut Creek, CA 95497 | ZZZ27175Z | 03/07/2006 | CA
Cancer Care Centers of Brevard, 1430 S Pine Street, Melbourne, FL 32901 | 39835 | 03/07/2006 | FL
Center for Medical Imaging—Florida Hospital, 1922 Salk Avenue, Tavares, FL 32778 | 100057 | 03/07/2006 | FL
Cancer Center of Colorado Springs, 320 E. Fontanero, Suite 200, Colorado Springs, CO 80907 | 79804 | 03/07/2006 | CO
Centro Sononuclear de Rio Piedras, 1028 Los Angeles Street, San Juan, PR 00926 | 83910 | 03/07/2006 | PR
Chattanooga Imaging East, 1710 Gunbarrel Road, Chattanooga, TN 37421 | 3716643 | 03/07/2006 | TN
Chester County PET Associates, 701 East Chester Marshall Street, West Chester, PA 19380 | 085698 | 03/07/2006 | PA
Cincinnati PET Scan, LLC—Kenwood, 7730 Montgomery Road, Suite 120, Cincinnati, OH 45236 | 311754291 | 03/07/2006 | OH
Cincinnati PET Scan, LLC Monfort Heights, 5575 Cheviot Road, Cincinnati, OH 45247 | 311754291 | 03/07/2006 | OH
Clinical PET of Hernando, 4003 Mariner Boulevard, Spring Hill, FL 34609 | L13228 | 03/07/2006 | FL
Clinical PET of Citrus, 6140 W Corporate Oaks Drive, Crystal River, FL 34429 | U0121 | 03/07/2006 | FL
Clinical PET of Lake City, 484 SW Commerce Drive, Suite 145, Lake City, FL 32025 | V2683 | 03/07/2006 | FL
Clinical PET of Ocala, 3143 SW 32nd Avenue, Suite 100, Ocala, FL 34474 | E7179 | 03/07/2006 | FL
Columbus Regional Hospital, 2400 East 17th Street, Columbus, IN 47201 | 150112 | 03/07/2006 | IN
Concord Imaging, 18802 Meisner Drive, San Antonio, TX 78258 | 00126Z | 03/07/2006 | TX
Dartmouth Hitchcock Medical Center, One Medical Center Drive, Lebanon, NH 03756 |  | 03/07/2006 | NH
Dedicated PET Imaging, 2315 Sunset Boulevard, Suite E, Steubenville, OH 43952 | 01181 | 03/07/2006 | OH
Diablo Valley Oncology & Hematology Medical Group, 3000 Oak Road, #111, Walnut Creek, CA 94597 | ZZZ26796Z | 03/07/2006 | CA
Diagnostic Imaging at Baywalk, 129 1st Avenue N, St. Petersburg, FL 33701 | 00022 | 03/07/2006 | FL
DMS Imaging, 2101 N. University Drive, Fargo, ND 58109 |  | 03/07/2006 | ND | PO Box 8070.
Doylestown PET Associates, 599 W. State Street, Doylestown, PA 18901 | 059536 | 03/07/2006 | PA | Suite 202.
East Bay Medical Oncology-Hematology Assoc., Inc, 3000 Oak Road, #111, Walnut Creek, CA 94597 | ZZZ267792 | 03/07/2006 | CA
East River Medical Imaging, 519 East 72 Street, Suite 103, New York, NY 10021 | W11781 | 03/07/2006 | NY
El Camino Imaging Center, 8020 Constitution Place NE, Albequerque, NM 87110 | 237150 | 03/07/2006 | NM
Elite Imaging, LLC, 2845 Aventura Boulevard, Suite 145, Aventura, FL 33180 | K3535 | 03/07/2006 | FL
EPIC Imaging Center, 233 NE 102nd Avenue, Portland, OR 97220 | 0000WCGNQ | 03/07/2006 | OR
Evergreen Radia, 11521 NE 128th Street, Kirkland, WA 98034 | GAB39931 | 03/07/2006 | WA
Excel Diagnostics Imaging Clinics, 9701 Richmond Avenue, Suite 122, Houston, TX 77042 | FTA109 | 03/07/2006 | TX
First Imaging of the Carolinas, 30 Memorial Drive, Pinehurst, NC 29374 | 2346997 | 03/07/2006 | NC
Florida Hospital Advanced Nuclear Imaging PET, 328 Spruce Street, Orlando, FL 32804 | 100007 | 03/07/2006 | FL
Fort Jesse Imaging Center, LLC, 2200 Fort Jesse Road, Suite 120, Normal, IL 61761 | 209824 | 03/07/2006 | IL
Fox Chase Cancer Center, 333 Cotman Avenue, Philadelphia, PA 19111 | 390196 | 03/07/2006 | PA
Frederick Imaging Centers, 46B Thomas Johnson Drive, Frederick, MD 21702 | H476 | 03/07/2006 | MD
Fusion Diagnostic Group, LLC, 1700 California Street, Suite 260, San Francisco, CA 94109 | 00G366470 | 03/07/2006 | CA
Fusion Imaging Institute, 2419 E. Commercial Boulevard, Suite 101, Ft. Lauderdale, FL 33308 | 18281 | 03/07/2006 | FL
Future Diagnostics Group, 254 N. Republic Avenue, Joliet, IL 60435 | 200825 | 03/07/2006 | IL
Greater Niagra PET, LLC, 1 Columbia Drive, Suite 3, Niagra Falls, NY 14305 | BA0213 | 03/07/2006 | NY | Witmer Park Medical Center.
Hematology Oncology Associates of Baton Rouge, 4950 Essen Lane, Baton Rouge, LA 70809 | 5C696 | 03/07/2006 | LA
Gulf Coast Cancer & Diagnostic of Southeast, 12811 Beamer Road, Houston, TX 77089 | 149949301 | 03/07/2006 | TX
Henry Ford, Department of Radiology, 2799 W. Grand Boulevard, Detroit, MI 48202 | 230053 | 03/07/2006 | MI
High Point Regional Health System, 601 N. Elm Street, High Point, NC 27262 | 3400040 | 03/07/2006 | NC
Highlands Oncology Group, 3232 N. North Hills Boulevard, Fayetteville, AR 27203 | 5B823 | 03/07/2006 | AR
Holy Name Hospital, 718 Teaneck Road, Teaneck, NJ 07666 | 310008 | 03/07/2006 | NJ | PET/CT Center.
Holy Family Memorial Medical Center, PO Box 1450, Manitowoc, WI 54221 | 520107 | 03/07/2006 | WI | 2300 Western Ave.
Hospital of Saint Raphael, 1450 Chapel Street, New Haven, CT 05611 | 070001 | 03/07/2006 | CT
San Patricio MRI & CT Center, 1508 Roosevelt Avenue, Suite 103, San Juan, PR 00920 | 84997 | 03/07/2006 | PR
Imaging Center of Hartford Hospital, 80 Seymour Street, PO Box 5037, Hartford, CT 06102 | 070025 | 03/07/2006 | CT
Indian Wells PET/CT Center, 74785 Highway 111, #101, Indian Wells, CA 92210 | 1264523891 | 03/07/2006 | CA
Imaging Technology Associates, 3800 Reservoir Road NW, Washington, DC 20007 | FDNCX1 | 03/07/2006 | DC | Gorman 2043, PET Scan.
San Francisco Magnetic Resonance Center, 1180 Post Street, San Francisco, CA 94109 | ZZZ27498Z | 03/07/2006 | CA
Intermountain Medical Imaging, 2929 E Magic View Drive, Meridian, ID 83642 | 82-05144-22 | 03/07/2006 | ID
Jefferson Center City Imaging, 850 Walnut Street, Philadelphia, PA 19107 | 66277 | 03/07/2006 | PA
Kansas City Cancer Center—Kansas, 12200 W. 110th Street, Overland Park, KS 66210 | 5650000D | 03/07/2006 | KS
Kansas City Cancer Center—Missouri, 4881 Goodview Circle, Lee's Summit, MO 66064 | 5650000E | 03/07/2006 | MO
Kreitchman PET Center, 180 Ft. Washington Avenue, HP3-315, New York, NY 10032 | WEM661 | 03/07/2006 | NY
LakePointe PET, 10914 Hefner Pointe Drive, Suite 100, Oklahoma City, OK 73120 | 700522143 | 03/07/2006 | OK
Lakeshore PET Imaging, LLC, 4932 W 95th Street, Oak Lawn, IL 60453 | 200108 | 03/07/2006 | IL
Larchmont Imaging Associates, LLC, 210 Ark Road, Mt. Laurel, NJ 08054 | 517216 | 03/07/2006 | NJ
Las Cruces PET/CT Imaging, 1121 Mall Drive, Suite D, Las Cruces, NM 88011 | 300521065 | 03/07/2006 | NM
Lehigh Valley Diagnostic Imaging PET/CT, 1230 S. Cedar Crest Boulevard, Suite 104, Allentown, PA 18103 | 563802 | 03/07/2006 | PA
LifeScan Louisville, LLC, 4046 Dutchmans Lane, Louisville, KY 40207 | 9365601 | 03/07/2006 | KY
Limerick PET Associates, 420 W. Linfield-Trappe Road, Limerick, PA 19468 | 075015 | 03/07/2006 | PA | Suite 3400, Third Floor, Rear.
LifeScan Minnesota, 6525 France Avenue S, Suite 225, Edina, MN 55435 | 470000014 | 03/07/2006 | MN
Louisiana PET Imaging of Alexandra, LLC, 5419 A Jackson Street Exit, Alexandria, LA 71303 | 5C743 | 03/07/2006 | LA
LMR PET, 12600 Creekside Lane, Ft. Meyers, FL 33919 | E5725 | 03/07/2006 | FL
Louisiana PET Imaging of Lake Charles, LLC, 1750 Ryan Street, Lake Charles, LA 70601 | 5C905 | 03/07/2006 | LA
Insight Diagnostic Center—Forest Lane, 11617 N. Central Expressway, #132, Dallas, TX 75243 | FTA016 | 03/07/2006 | TX
MDI of Thousand Oaks, 300 Lombard Street, Thousand Oaks, CA 91360 | W14186 | 03/07/2006 | CA
Meadowbrook PET Associates, 1695 Huntington Pike, Meadowbrook, PA 19046 | 064866 | 03/08/2006 | PA
Medical Imaging of Baltimore, 6715 N. Charles Street, Baltimore, MD 21204 | 258L | 03/08/2006 | MD
Metabolic Imaging of Laredo, 2344 Laguna Del Mar, Suites 5 & 6, Laredo, TX 78045 | FTN029 | 03/08/2006 | TX
Methodist Hospital PET Imaging Center, 301 W. Huntington Drive, Suite 120, Arcadia, CA 91007 | 9511643336 | 03/08/2006 | CA
Metro Region PET Center at Chevy Chase, 5454 Wisconsin Avenue, Suite 810, Chevy Chase, MD 20815 | 724811 | 03/08/2006 | MD
Clinical PET of St. Charles County, 1475 Kisker Road, St. Charles, MO 63304 | 000047047 | 03/08/2006 | MO
Metro Region PET Center at Woodburn Nuclear Medicine, 3289 Woodburn Road, Annandale, VA 22003 | 724811 | 03/08/2006 | VA
Michiana Hematology-Oncology, PC, 100 Navarre Place, Suite 5550, South Bend, IN 46601 | 216950 | 03/08/2006 | IN
Michigan State University—Radiology, 184 Radiology Building, East Lansing, MI 48824 | OC36350 | 03/08/2006 | MI
Clinical PET of West County, 450 N. New Ballas Road, Creve Coeur, MO 63141 | 000093043 | 03/08/2006 | MO
Modality Integration Services, Inc., 1854 SW Greenway Circle, West Linn, OR 97068 |  | 03/08/2006 | OR
Molecular Imaging Center, 1733 Curie Drive, Suite 305, El Paso, TX 79912 | 00315U | 03/08/2006 | TX
Molecular Imaging of Suburban Chicago, LLC, 908 N. Elm Street, Suite 110, Hinsdale, IL 60521 | 212300 | 03/08/2006 | IL
Montclair Road Imaging LLC, 924 Montclair Road, Suite 108, Birmingham, AL 35213 | 000056277 | 03/08/2006 | AL
Montefiore Medical Center, 1695A Eastchester Road, Bronx, NY 10461 | W06552 | 03/08/2006 | NY
Neurodiagnostics, PSC, 1725 Harrodsburg Road, Suite 100, Lexington, KY 40504 | 0406 | 03/08/2006 | KY
New Century Imaging, 555 Kinderkamack Road, Oradel, NJ 07649 | 085146 | 03/08/2006 | NJ
Newport Diagnostic Center, 1605 Avocado Avenue, Newport Beach, CA 92660 | W13396 | 03/08/2006 | CA
Next Generation Radiology PET/CT, 560 Northern Boulevard, Suite 111, Great Neck, NY 11021 | WR6091 | 03/08/2006 | NY
North Valley MRI and CT, 1638 Esplanade, Chico, CA 95926 | ZZZ247802 | 03/08/2006 | CA
Northwest Alabama Cancer Center Radiology Services, 302 W. Dr. Hicks Boulevard, Florence, AL 35630 | 051552219 | 03/08/2006 | AL
Northern Kentucky PET Scan, LLC, 651 Centre View Boulevard, Crestview Hills, KY 41017 | 311754291 | 03/08/2006 | KY
Northwest Cancer Center, 17323 Red Oak Drive, Houston, TX 77090 | 00D29C | 03/08/2006 | TX
Northwestern Memorial Hospital, 251 East Huron Street, Chicago, IL 60611 | 140281 | 03/08/2006 | IL | Galter 8-113.
Northern Shared Medical Services—Atlantic, IA, 1501 East Tenth Street, Atlantic, IA 50022 | I16068 | 03/08/2006 | IA | Cass County Memorial Hospital.
Northern Shared Medical Services—Audubon, IA, 515 Pacific Street, Audubon, Iowa 50025 | I16068 | 03/08/2006 | IA | Audobon County Memorial Hospital.
Northern Shared Medical Services—Beloit, KS, 400 West Eighth, Beloit, KS 67420 | 130618 | 03/10/2006 | KS | Mitchell County Hospital.
Northern Shared Medical Services—Bloomfield, IA, 507 North Madison Street, Bloomfield, IA 52537 | I16068 | 03/10/2006 | KS | Davis County Hospital.
Northern Shared Medical Services—Carrollton, MO, 1502 North Jefferson, Carrollton, MO 64633 | 000047013 | 03/10/2006 | MO | Carroll County Memorial Hospital.
Northern Shared Medical Services—Centerville, IA, 1st St. Joseph Drive, Centerville, IA 52544 | I16068 | 03/10/2006 | IA | Mercy Medical Center.
Northern Shared Medical Services—Carthage, IL, 160 S. Adams Street, Carthage, IL 62321 | 208196 | 03/10/2006 | IL | Memorial Hospital.
Northern Shared Medical Services—Clarinda, IA, 823 S. 17th Street, Clarinda, IA 51632 | I16068 | 03/10/2006 | IA | Clarinda Regional Health Center.
Northern Shared Medical Services—Chanute, KS, 629 South Plummer, Chanute, KS 66720 | 130618 | 03/10/2006 | KS | Neosho Memorial Regional Medical Center.
Northern Shared Medical Services—Edwardsville, IL, 1121 University Drive, Edwardsville, IL 62025 | 208196 | 03/10/2006 | IL | Edwardsville Health Center.
Northern Shared Medical Services—El Dorado, AR, 700 West Grove Street, El Dorado, AR 71730 | 5F168 | 03/10/2006 | AR | Medical Center of South Arkansas.
Northern Shared Medical Services—Farmington, MO, 1212 Weber Road, Farmington, MO 63640 | 000047013 | 03/10/2006 | MO | Mineral Area Regional Medical Center.
Northern Shared Medical Services—Janesville, WI, 1321 Creston Park Drive, Janesville, WI 53545 | 000092420 | 03/10/2006 | WI | Janesville Occupational Health & Medical Center.
Northern Shared Medical Services—Hiawatha, KS, 300 Utah Street, Hiawatha, KS 66434 | 130618 | 03/10/2006 | KS | Hiawatha Community Hospital.
Northern Shared Medical Services—Keokuk, IA, 1600 Morgan Street, Keokuk, IA 52632 | I16068 | 03/10/2006 | IA | Keokuk Area Hospital.
Northern Shared Medical Services—Macomb, IL, 525 East Grant Street, Macomb, IL 61455 | 208196 | 03/10/2006 | IL | McDonough District Hospital.
Northern Shared Medical Services—Mexico, MO, 620 East Monroe Street, Mexico, MO 65265 | 000047013 | 03/10/2006 | MO | Audrain Medical Center.
Northern Shared Medical Services—Moberly, MO, 1515 Union Avenue, Moberly, MO 65270 | 000047013 | 03/10/2006 | MO | Moberly Regional Medical Center.
Northern Shared Medical Services—Mountain Home, AR, 899 Burnett Drive, Mountain Home, AR 72653 | 5F168 | 03/10/2006 | AR | Cogburn Cancer Clinic.
Northern Shared Medical Services—Poplar Bluff, MO, 221 Physicians Park Drive, Poplar Bluff, MO 63901 | 000047013 | 03/10/2006 | MO | Poplar Bluff Medical Partners.
Northern Shared Medical Services—Perryville, MO, 434 North West Street, Perryville, MO 63775 | 000047013 | 03/10/2006 | MO | Perry County Memorial Hospital.
Northern Shared Medical Services—Rolla, MO, 1000 West Tenth Street, Rolla, MO 65401 | 000047013 | 03/10/2006 | MO | Phelps Co Regional Medical Center.
Northern Shared Medical Services—Virginia, MN, 901 Ninth Street North, Virginia, MN 55792 | 470000057 | 03/10/2006 | MN | Virginia Regional Medical Center.
Northern Shared Medical Services—Russellville, AR, 2504 West Main Street, Russellville, AR 72801 | 5F168 | 03/10/2006 | AR | Russellville Land Co.
Northern Shared Medical Services—West Plains, MO, 1100 Kentucky Avenue, West Plains, MO 65775 | 000047013 | 03/10/2006 | MO | Ozarks Medical Center.
Oakwood Hospital Medical Center, 18101 Oakwood Boulevard, Dearborn, MI 48124 | 230020 | 03/10/2006 | MI
Oakwood Southshore Medical Center, 5450 Fort Street, Trenton, MI 48183 | 230176 | 03/10/2006 | MI
Ocean Medical Imaging Center, 21 Stockton Drive, Toms River, NJ 08755 | 158432 | 03/10/2006 | NJ
Orange County Regional PET Center, LLC, 16300 Sand Canyon Avenue, Suite 103, Irvine, CA 92618 | TP018 | 03/10/2006 | CA
Orange Advanced Imaging Center, 230 Main Street, #101, Orange, CA 92868 | TP016A | 03/10/2006 | CA
Pacific Coast Imaging—Irvine, 250 E Yale Loop, Suite A, Irvine, CA 92604 | WG87478B | 03/10/2006 | CA
Pacific Coast Imaging—Newport, 3300 West Coast Highway, Newport Beach, CA 92663 | WG87478 | 03/10/2006 | CA
Pacific Imaging and Treatment Center, 5395 Ruffin Road, Suite 202, San Diego, CA 92123 | TP126 | 03/10/2006 | CA
Palm Beach Cancer Institute, 1395 State Road 7, Suite 310, Wellington, FL 33414 | 34754 | 03/10/2006 | FL
Pennsylvania PET Associates, 800 Spruce Street, Philadelphia, PA 19107 | 066282 | 03/10/2006 | PA | Second Floor, Widener Building.
PET Center of Western NY, 127 North Street, Batavia, NY 14020 | 187140 | 03/10/2006 | NY
Pet Imaging at CDR, 7600 N 15th Street, Suite 102, Phoenix, AZ 85020 | WCFDG | 03/10/2006 | AZ
PET Imaging at the Lake, 5000 Hennessy Boulevard, Baton Rouge, LA 70809 | 5C868 | 03/10/2006 | LA
PET Imaging Center at Harford County, 602 S Atwood Road, Suite 201, Bel Air, MD 21014 | FMN006 | 03/10/2006 | MD
PET Imaging Institute of South Florida—East, 150 N 35th Avenue, 665, Hollywood, FL 33021 | E3783 | 03/10/2006 | FL
PET Imaging Institute of South Florida—West, 603 N Flamingo Road, S-155, Pembroke Pines, FL 33028 | E3783 | 03/10/2006 | FL
PET Scan Arizona—Peoria, 13460 N 94th Drive, Suite J1, Peoria, AZ 85381 | 75400 | 03/10/2006 | AZ
PET Scan Arizona—Phoenix, 6036 N 19th Avenue, Suite 305, Phoenix, AZ 85015 | 66860 | 03/10/2006 | AZ
PET/CT Diagnostic Medical Imaging, PC, 1200 Waters Place, Suite M108, Bronx, NY 10461 | W31091 | 03/10/2006 | NY
Precision Imaging, 4416 East West Highway, Suite 410, Bethesda, MD 20814 | FMN005 | 03/10/2006 | MD
Preferred PET Imaging of Kansas, LLC, 928 N. St. Francis Street, Wichita, KS 67214 | 110693 | 03/10/2006 | KS
Premium Diagnostics Center, 5319 Hoag Drive, Suite 130, Elyria, OH 44035 | ID01851 | 03/10/2006 | OH
PET Center Ft. Worth, 800 W. Magnolia Avenue, Fort Worth, TX 76104 | 0J062 | 03/10/2006 | TX | Suite 100.
Radiology Associates, LLP, 6001 S. Staples Street, Corpus Christi, TX 78413 | 00E816 | 03/10/2006 | TX
S. Arlington Imaging Center, 4601 Matlock Road, Arlington, TX 76018 | 0J062 | 03/10/2006 | TX
Radiology Group Imaging Center, LLC, 1970 E. 53rd Street, Davenport, IA 52807 | 16031 | 03/10/2006 | IA
PET/CT Scan Center Pembroke, 11325 Pembroke Square, Suite 116, Waldorf, MD 20603 | 521454775 | 03/10/2006 | MD
New York MedScan, 751 Second Avenue, New York, NY 10017 | 978701 | 03/10/2006 | NY
Rex Healthcare, 4420 Lake Boone Trail, Raleigh, NC 27607 | 340114 | 03/10/2006 | NC
San Fernando Regional PET Center, 6855 Noble Avenue, Van Nuys, CA 91405 | TP078 | 03/10/2006 | CA
PET/CT Imaging Center of Northwest Florida, 5149 North 9th Avenue, Suite 124, Pensacola, FL 32504 | U4696 | 03/10/2006 | FL
Saint Joseph's Hospital—Nuclear Medicine, 611 St. Joseph Avenue, Marshfield, WI 54449 | 520037 | 03/10/2006 | WI
Shared PET Imaging, LLC—Brooklyn NY, 6300 Eight Avenue, Brooklyn, NY 11220 | 97Z661 | 03/10/2006 | NY
SC Cancer Specialists, 25 Hospital Center Boulevard #301, Hilton Head Island, SC 29926 | 1285633289 | 03/10/2006 | SC
Shared PET Imaging, LLC—Granger IN, 6901 N. Main Street, Granger, IN 46530 | 232800 | 03/10/2006 | IN
University Hospital—Cincinnati, Eden Avenue & Albert Sabin Way, Cincinnati, OH 45219 |  | 03/10/2006 | OH
Shared PET Imaging, LLC—Marion OH, 1050 Delaware Avenue, Marion, OH 43302 | ID01511 | 03/10/2006 | OH
Shared PET Imaging, LLC—Terre Haute IN, 3702 South Fourth Street, Terre Haute, IN 47802 | 201320 | 03/10/2006 | IN
South Jersey Radiology Associates, PA, 100 Carnie Boulevard, Suite B5, Voorhees, NJ 08043 | S0429966 | 03/10/2006 | NJ
Southwest PET/CT Institute—Tucson, 3503 N. Campbell, Suite 155, Tucson, AZ 85719 | 1396736922 | 03/10/2006 | AZ
Southwest PET/CT Institute—Yuma, 1951 W. 25th Street, Suite G, Yuma, AZ 85364 | 106077 | 03/10/2006 | AZ
St. Francis Health Center, 1700 SW 7th Street, Topeka, KS 66606 | 17-0016 | 03/10/2006 | KS
Southwoods PET Scan, LLC, 250 Debartolo Place, Building B, Youngstown, OH 44512 | PCN05210036 | 03/10/2006 | OH
St. Louis PET Centers, LLC, 12637 Olive Boulevard, Creve Coeur, MO 63376 | 1861470734 | 03/10/2006 | MO
St. Vincent's PET Center, LLC, 2660 10th Avenue S, POBI, Suite 104, Birmingham, AL 35205 | 051555054 | 03/10/2006 | AL
Sun Molecular Imaging—Peoria, 13090 N. 94th Drive, #103, Peoria, AZ 85381 | 71585 | 03/10/2006 | AZ
Sun Molecular Imaging—Sun City West, 13909 W Camino Del Sol, #101, Sun City West, AZ 85375 | 71585 | 03/10/2006 | AZ
Tarzana Advanced Imaging, 5536 Reseda Boulevard, Tarzana, CA 91356 | TP051A | 03/10/2006 | CA
The Methodist Hospital PET Center, 6565 Fannin Street, MBI-066, Houston, TX 77030 | 450358 | 03/10/2006 | TX
Texarkana PET Imaging Institute, LP, 1929 Moores Lane, Texarkana, TX 75503 | FTN008 | 03/10/2006 | TX
The PET/CT Center of North Florida, 5742 Booth Road, Jacksonville, FL 32207 | K7038P | 03/10/2006 | FL
The Washington Hospital, 155 Wilson Ave, Washington, PA 15301 | 390042 | 03/10/2006 | PA
The PET/CT Scanning Center, 235 18th Street, SE, Hickory, NC 28602 | 2881788 | 03/10/2006 | NC
Thompson Cancer Survival Center PET Imaging Center, 9711 Sherrill Boulevard, Knoxville, TN 37923 | 3791106 | 03/10/2006 | TN
Thunderbird MRI and PET Center, 6591 W. Thunderbird Road, Suite A-1, Glendale, AZ 85306 | 79467 | 03/10/2006 | AZ
Tower Imaging Roxsan, 465 N. Roxbury Drive, Suite 101, Beverly Hills, CA 90210 | TP114 | 03/10/2006 | CA
Tower Hematology Oncology Medical Group, 9090 Wilshire Boulevard, Suite 200, Beverly Hills, CA 90211 | W11793 | 03/10/2006 | CA
TRA Medical Imaging, 2202 S Cedar, Suite 200, Tacoma, WA 98405 | 001055600 | 03/10/2006 | WA
Trident PET of Fayette, 1275 Highway 54 West, Suite 102, Fayetteville, GA 30214 | 47BBBJJ | 03/10/2006 | GA
Trident PET of Gwinnett, 545 Old Norcross Road, Lawrenceville, GA 30045 | 47BBBGX | 03/10/2006 | GA | Suite 200.
Trident PET of Savannah, 7135 Hodgson Memorial Drive, Savannah, GA 31406 | 47BBBKP | 03/10/2006 | GA | Suite 10A.
Tristan Associates, 4520 Union Deposit Road, Harrisburg, PA 17111 | 112344 | 03/10/2006 | PA
Union Square Diagnostic Imaging, 144 Fourth Avenue, New York, NY 10003 | WR7502 | 03/10/2006 | NY
UCLA—Dept. of Molecular & Medical Pharmacology, 10833 Le Conte Avenue, Los Angeles, CA 90095 | HW13029 | 03/10/2006 | CA | AR-115-CHS.
UCLA—Dept. of Molecular & Medical Pharmacology, 10833 Le Conte Avenue, Los Angeles, CA 90095 | HW13029 | 03/10/2006 | CA | AR-115-CHS.
University Nuclear Medicine, Inc., 105 Parker Hall, Buffalo, NY 14214 | 14414A | 03/10/2006 | NY | 3435 Main St.
University Radiology Group, 75 Veronica Avenue, Suite 102, Somerset, NJ 08873 | 425699 | 03/10/2006 | NJ
Anne Arundel Medical Center, 2001 Medical Parkway, Annapolis, MD 21401 | 210023 | 03/10/2006 | MD
US Imaging Center Corp., LLC, 842 Sunset Lake Boulevard, Suite 301, Venice, FL 34292 | U0331 | 03/10/2006 | FL
USC PET Imaging Science Center, 1510 San Pablo Street, Suite 350, Los Angeles, CA 90033 | W11874 | 03/10/2006 | CA
Rolling Oaks Radiology, 415 Rolling Oak Drive, Suite 160, Thousand Oaks, CA 91361 | W10746 | 03/10/2006 | CA
Vero Radiology Associates, Inc., 777 37th Street, Suite A-103, Vero Beach, FL 32960 | 97445 | 03/10/2006 | FL
Ventura Coast Imaging Center, 4601 Telephone Road, Suite 101, Ventura, CA 93003 | W11335 | 03/10/2006 | CA
Washington Imaging Services, LLC, 1135-116th Avenue, NE, Bellevue, WA 98004 | GAB23386 | 03/10/2006 | WA
Washington Hospital Center, 110 Irving Street, NW, Washington, DC 20010 | 090011 | 03/10/2006 | DC
Washoe Med Imaging Services at 75 Kirman, 75 Kirman Avenue, Reno, NV 89502 | WCHBB | 03/10/2006 | NV
Wesley Long Hospital—Moses Cone Health System, 501 North Elam Avenue, Greensboro, NC 27403 | 34-0091 | 03/10/2006 | NC
Westcoast Radiology, 36463 US Highway, 19 N., Palm Harbor, FL 34684 | E4187 | 03/10/2006 | FL
Western Washington Oncology, 4525 3rd Avenue SE, Lacey, WA 98503 | 1497749642 | 03/10/2006 | WA
Windber Medical Center, 600 Somerset Avenue, Windber, PA 15963 | 390112 | 03/10/2006 | PA
Wyoming Valley PET Associates, 190 Welles Street, Forty Fort, PA 18704 | 045012 | 03/10/2006 | PA
Youngstown Regional PET Scan, 850 McKay Court, Youngstown, OH 44512 | Y0ID0174 | 03/10/2006 | OH
X-RAY Associates at Santa Fe, 490 A West Zia Road, Suite 130, Santa Fe, NM 87505 | 2258263 | 03/10/2006 | NM
Sibley Memorial Hospital, 5255 Loughboro Road, NW, Washington, DC 20016 | 090005 | 03/10/2006 | DC
Lerman Diagnostic Imaging, 6511 Fort Hamilton Parkway, Brooklyn, NY 11215 | 16H771 | 03/10/2006 | NY
XRC Medical Imaging, 53940 Carmichael Drive, South Bend, IN 46635 | 187390 | 03/10/2006 | IN
St. Luke's Hospital, 1026 A. Avenue N.E., Cedar Rapids, IA 52406-3026 | 160045 | 03/10/2006 | IA | P.O. Box 3026.
University Imaging at Science Park, 110 Science Parkway, Suite 100, Rochester, NY 14620 | 16624A | 03/10/2006 | NY
Kadlec Medical Center/Nuclear Medicine Dept., 945 Goethals Street, Richland, WA 99352 | 1972507580 | 03/10/2006 | WA
Central Georgia PET, LLC, 1650 Hardmon, Macon, GA 31201 | 47BBBKC | 03/10/2006 | GA
PET/CT Imaging at Swedish Cancer Institute, 1221 Madison Street, First Floor, Seattle, WA 98104 | 8857387 | 03/10/2006 | WA
National PET Scan Duval, LLC, 425 North Lee Street, Jacksonville, FL 32204 | E7348 | 03/10/2006 | FL
National PET Scan Pinellas, LLC, 805 Executive Center Drive W, St. Petersburg, FL 33702 | E7503 | 03/10/2006 | FL
National PET Scan Dade, LLC, 7867 North Kendall Drive, Suite 121, Miami, FL 33156 | E5427 | 03/10/2006 | FL
National PET Scan Broward, LLC, 6290 North Federal Highway, Fort Lauderdale, FL 33308 | E5432 | 03/10/2006 | FL
Scottsdale Medical Imaging, Ltd., 7624 E. Indian School Road, Suite 109-1, Scottsdale, AZ 85251 | WCFKX | 03/10/2006 | AZ
Lakes Regional General Hospital, 80 Highland Street, Laconia, NH 03246 | 300005 | 03/10/2006 | NH
Northern California PET Imaging Center, 3195 Folsom Boulevard, Sacramento, CA 95816 | ZZZ15725Z | 03/10/2006 | CA
Northern California PET Imaging Center—Mobile, 3195 Folsom Boulevard, Sacramento, CA 95816 | ZZZ25157Z | 03/10/2006 | CA
Northern California PET Imaging Center—VAPA, 3801 Miranda Avenue, Palo Alto, CA 94304 | ZZZ21308Z | 03/10/2006 | CA
Advanced Medical Imaging, 3548 Route 9 South, Old Bridge, NJ 08857 | 595865 | 03/10/2006 | NJ
St. Vincent Infirmary Medical Center, PET/CT Center, 2 St. Vincent Circle, Little Rock, AR 72205-5499 | 04-0007 | 03/10/2006 | AR
Lincoln Trail Diagnostics, 1111 Woodland Drive, Elizabethtown, KY 42701 | 470001408 | 03/10/2006 | KY
LifeScan Imaging, 607 Clifty Street, Somerset, KY 42503 | 7614 | 03/10/2006 | KY
St. John's Hospital Springfield Nuclear Medicine, 1235 E. Cherokee Street, Springfield, MO 65804 | 26-0065 | 03/10/2006 | MO
City of Hope, 1500 E. Duarte Road, Duarte, CA 91010 | 050146 | 03/10/2006 | CA | Dept. of Nuclear Medicine.
Hackettstown Regional Medical Center, 651 Willow Grove Street, Hackettstown, NJ 07840 | 310115 | 03/10/2006 | NJ
Imaging Alliance—Nashville PET, LLC, 52 White Bridge Road, Nashville, TN 37205 | 3791068 | 03/10/2006 | TN
Molecular Imaging of Bradenton, 2301 60th Street, Court West, Suite A, Bradenton, FL 34209 | U1334 | 03/10/2006 | FL
Molecular Imaging of Charlotte County, 4130 Tamiami Trail, Port Charlotte, FL 33952 | U1934 | 03/10/2006 | FL
Imaging For Life, 3830 Bee Ridge Road, Suite A, Sarasota, FL 34233 | E6704 | 03/10/2006 | FL
Seattle Nuclear Medicine/Ultrasound Associates, 1229 Madison Street, Suite 1050, Seattle, WA 98104 | G000158400 | 03/10/2006 | WA
Columbus Circle Imaging, 1790 Broadway, 9th Floor, Yonkers, NY10704 | W00691 | 03/10/2006 | NY
Bryn Mawr Imaging Center—PET, 100 Lancaster Avenue, Wynnewood, PA 19096 | 473120 | 03/10/2006 | PA
Beth Israel Deaconess Medical Center, 330 Brookline Avenue, Boston, MA 02215 | 220086 | 03/10/2006 | MA
Boca Raton Community Hospital, 800 Meadows Road, Boca Raton, FL 33486 | 100168 | 03/10/2006 | FL
Centro Tomograficio de PR, Inc., 1409 Ashford Avenue, San Juan, PR 00907 | 0087834 | 03/10/2006 | PR
Comprehensive Cancer Centers of Nevada, 3730 S. Easton, Las Vegas, NV 89109 | WCHCX | 03/10/2006 | NV
Grossman Imaging Center of CMH, 2151 E. Gonzales Road, Suite 101, Oxnard, CA 93036 | W17252 | 03/10/2006 | CA
Cookeville Regional Medical Center, 142 W. 5th Street, Cookeville, TN 38501 | 440059 | 03/10/2006 | TN
Instituto Central de Diagnostico, Inc.,1er. Floor Oncologic Hospital, San Juan, PR 00928 | 007835 | 03/10/2006 | PR | PR Medical Center.
Mercy Medical Center—Cedar Rapids, 701 Tenth Street SE, Cedar Rapids, IA 52403 | 16-0079 | 03/10/2006 | IA
Midwest Radiologic Imaging—1144217241, 4087 Gateway Boulevard, Newburgh, IN 47630 | 1144217241 | 03/10/2006 | IN
Miami Valley Hospital, 1 Wyoming Street, Dayton, OH 45409 | 360051 | 03/10/2006 | OH
Midwest Radiologic Imaging—214790, 4087 Gateway Boulevard, Newburgh, IN 47630 | 214790 | 03/10/2006 | IN
Midwest Regional PET/CT Center, 6001 S. Sharon Avenue, Suite #2, Sioux Falls, SD 57108 | 41406 | 03/10/2006 | SD
Mission Hospital, PET Center, 222 Asheland Avenue, Asheville, NC 28801 | 3400002 | 03/10/2006 | NC
Mobile Molecular Imaging, LLC, 100 Memorial Hospital Drive, Suite 1E, Mobile, AL 36608 | 1003804345 | 03/10/2006 | AL
Nebraska Health Imaging, 7819 Dodge Street, Omaha, NE 68114 | 098975 | 03/13/2006 | NE
Montgomery Metabolic & Memory Imaging Center, 7100 University Ct., Montgomery, AL 36117 | 057554625 | 03/13/2006 | AL
Orange County Diagnostic Radiology, Inc., 17150 Euclid Street, Suite 101, Fountain Valley, CA 92708 | TD057 | 03/13/2006 | CA
Northwest PET Imaging, 265 N. Broadway, Portland, OR 97227 | 105512 | 03/13/2006 | OR
Nevada Cancer Institute Medical Group, One Breakthrough Way, 10441 W. Twain Avenue, Las Vegas, NV 89135 | 100505 | 03/13/2006 | NV
Positron Emission Tomography Institute at Hampton, 5357 Henneman Drive, Norfolk, VA 23513 | FVN001 | 03/13/2006 | VA
Positron Imaging Facility, 1311 Record Crossing Road, Mail Code 9140 Dallas, TX 75235 | UT000F626 | 03/13/2006 | TX
Premier Diagnostic Imaging, 10019 Forest Green Boulevard, Louisville, KY 40299 | 9375201 | 03/13/2006 | KY
Positron PET/CT of the Southern Tier, 169 Riverside Drive, Binghamton, NY 13905 | AA1047 | 03/13/2006 | NY
Radiology Regional Center, PA, Inc.—Naples, 700 Goodlette Road, Naples, FL 34102 | 77185 | 03/13/2006 | FL
Somascan Plaza, Inc., Suite 405 Torre de Plaza Plaza Las Americas, San Juan, PR 00917 | 0089178 | 03/13/2006 | PR
Somascan, Inc., Jose Marti #56, San Juan, PR 00917 | 0082435 | 03/13/2006 | PR
Southern Indiana Radiological Associates, 500 Landmark Avenue, Bloomington, IN 47403 | 214160 | 03/13/2006 | IN
Southern Illinois Cancer Center, 10286 Fleming Road, Carterville, IL 62918 | 643740 | 03/13/2006 | IL
South Nassau PET, One Healthy Way, Oceanside, NY 11572 | 97z851 | 03/13/2003 | NY
Southwest Diagnostic Center for Molecular Imaging, 8440 Walnut Hill Lane, Suite 100, Dallas, TX 75231 | FTN-015 | 03/13/2006 | TX
St. Mary's Health Systems, 900 E. Oakhill Avenue, Knoxville, TN 37917 | 440120 | 03/13/2006 | TN
Tower Diagnostic Center, 4719 N. Habana Avenue, Tampa, FL 33614 | 00169 | 03/13/2003 | FL
Torrance Morial Medical Center, 3330 Lomita Boulevard, Torrance, CA 90505 | 050351 | 03/13/2006 | CA
University of Colorado Hospital (AOP), 1635 N. Ursula Street, Aurora, CO 80045 | 06-0024 | 03/13/2006 | CO
William Beaumont Hospital—Royal Oak, 3601 West 13 Mile Road, Royal Oak, MI 48073-6769 | 23030 | 03/13/2006 | MI
Esther Quijoy Catalya, M.D., 3000 Oak Road #111, Walnut Creek, CA 94597 | 00A449120 | 03/13/2006 | CA
Valley PET Institute, 311 S. Ham Lane, Lodi, CA 95242 | 00C283720 | 03/13/2006 | CA
Dan Ben-Zeev, M.D., 3000 Oak Road #111, Walnut Creek, CA 94597 | 00G129831 | 03/13/2006 | CA
Midwest Center for Advanced Imaging, 1307 Macom Drive, Naperville, IL 60564 | L72461 | 03/13/2006 | IL
Crittenton Hospital Medical Center, 1101 W. University Drive, Rochester, MI 48307 | 230054 | 03/13/2006 | MI
Medical Specialists of Palm Beaches, Inc., 5700 Lake Worth Road, Suite 204, Lake Worth, FL 33463 | 33941A | 03/13/2006 | FL
PET Medical Imaging Center, 3264 North Evergreen Drive, Grand Rapids, MI 49525 | 0P02650 | 03/13/2006 | MI
Radiology Regional Center, PA, Inc.—RPET, 6100 Winkler Road, Suite A, Fort Myers, FL 33919 | 77185 | 03/13/2006 | FL
Good Samaritan Hospital, 520 S. 7th Street, Vincennes, IN 47591 | 150042 | 03/13/2006 | IN
Central Indiana Cancer Center, 6845 Rama Drive, Indianapolis, IN 46219 | 065910 | 03/13/2006 | IN
Decatur PET Imaging, 2774 W. Decatur Road, Decatur, GA 30033 | 47BBBLP | 03/13/2006 | GA
Community Memorial Hospital, Medical Imaging, 855 S. Main Street, Oconto Falls, WI 54154 | 00439MPN | 03/13/2006 | WI
Olympic Radiology, 2700 Clare Avenue, Bremerton, WA 98310 | 000242100 | 03/13/2006 | WA
Capitol Imaging, 3161 L Street, Sacramento, CA 95816 | 1285615294 | 03/13/2006 | CA
National Medical Imaging—Bryn Mawr, 574 W. Lancaster Avenue, Bryn Mawr, PA 19010 | 024513 | 03/13/2006 | PA
National Medical Imaging—Langhorne, 2 Doublewoods Road, Suite B Langhorne, PA 19047 | 024513 | 03/13/2006 | PA
National Medical Imaging—Philadelphia, 1903-05 South Broad Street, Philadelphia, PA 19148 | 024513 | 03/13/2006 | PA
University of VA Health System, Radiology, 1215 Lee Street, Charlottesville, VA 22908 | 490009 | 03/13/2006 | VA
Florida Institute for Advanced Diagnostic Imaging, 9238 US 19, Port Richey, FL 34668 | 59-3475930 | 03/13/2006 | FL
Roseville PET & Nuclear Medicine Imaging, 2241 Douglas Boulevard #110, Roseville, CA 95661 | 1194706689 | 03/13/2006 | CA
Memorial Sloan Kettering Cancer Center, 1275 York Avenue, New York, NY 10021 | 330154 | 03/13/2006 | NY
Northeast PET Imaging Center, 8400 Roosevelt Boulevard, Suite 208 Philadelphia, PA 19152 | 083723 | 03/13/2006 | PA | Medical Arts Center at Parte Ridge.
UAMS PET Center, 4301 West Markham Street Little Rock, AR 72205 | 50528 | 03/13/2006 | AR
Joliet Oncology-Hematology Assoc., Ltd., 1600 W. Route 6, Morris, IL 60450 | 205474 | 03/13/2006 | IL
Saint Luke's Hospital, 4323 Wornall Road, Kansas City, MO 64111 | 26-0138 | 03/13/2006 | MO | AH Peet Center.
Mercy Medical Center, 1320 Mercy Drive, Canton, OH 44708 | 360070 | 03/13/2006 | OH
Dayton Medical Imaging Center, 7901 Schatz Pointe Drive, Dayton, OH 45459 | US1D00231 | 03/13/2006 | OH
Community Radiology of Virginia, 2000 Leatherwood Lane, Bluefield, VA 24605 | FVA002 | 03/13/2006 | VA
Bab Radiology—Huntington, 75 East Main Street, Huntington, NY 11743 | W1L612 | 03/13/2006 | NY
Bab Radiology—Hauppauge, 521 Route 111, Suite 312, Hauppauge, NY 11788 | W1L601 | 03/13/2006 | NY
Center for Diagnostic Imaging-37, 5775 Wayzata Boulevard #190, St. Louis Park, MN 55416 | 470000037 | 03/13/2006 | MN
Center for Diagnostic Imaging, 5775 Wayzata Boulevard, Suite 190, St. Louis Park, MN 55416 | C01307 | 03/13/2006 | MN
Center for Diagnostic Imaging—Mendota Heights, 910 Sibley Memorial Highway, Mendota Heights, MN 55118 | 470000038 | 03/13/2006 | MN
Huntsville Hospital Imaging Center, 1963 Memorial Parkway, Huntsville, AL 35801 | 010039 | 03/13/2006 | AL
Long Beach PET Imaging Center, 2888 Long Beach Boulevard, Suite 110, Long Beach, CA 90806 | TG167 | 03/13/2006 | CA
Highway Imaging Associates, LLP, 2095 Flatbush Avenue, Brooklyn, NY 11234 | W10671 | 03/13/2006 | NY
St. Vincent Hospital, PO Box 13508, Green Bay, WI 54307 | 520075 | 03/13/2006 | WI
Park South Imaging Center, 6215 21st Avenue, West #A, Bradenton, FL 34209 | E1858 | 03/13/2006 | FL
Mary Bird Perkins Cancer Center, 4950 Essen Lane, Baton Rouge, LA 70809 | 57290 | 03/13/2006 | LA
Boston Diagnostic Imaging, 398 Altamonte Drive, Altamonte Springs, FL 32701 | E3510 | 03/13/2006 | FL
Sioux Valley Hospital Medical Center, 1305 W. 18th Street, Sioux Falls, SD 57117 | 430027 | 03/13/2000 | SD
Indianapolis Regional PET Scan, LLC, 3830 Shore Drive, Indianapolis, IN 46254 | 207260 | 03/13/2006 | IN
St. Joseph's PET Center, 1 Mercy Lane, Suite 105, Hot Springs, AR 71913 | 5C739 | 03/13/2006 | AR
Hinsdale PET Scan, LLC, 812 Ogden Avenue, Westmont, IL 60559 | 206271 | 03/13/2006 | IL
Del Amo PET Imaging Center, 3531 Fashion Way, Torrance, CA 90501 | TP120 | 03/13/2006 | CA
North Shore PET Imaging Center, 85 Herrick Street, Beverly, MA 1915 | 327110 | 03/13/2006 | MA | Beverly Hospital.
Robert D. Russo & Associates Radiology, PC, PO Box 6128, Bridgeport, CT 06606 | C02013 | 03/13/2006 | CT
Advanced Medical Specialties, 9035 Sunset Drive, Suite 102, Miami, FL 33173 | K7806 | 05/03/2006 | FL
Baptist M & S Imaging Center—Downtown, 215 E. Quincy Street #100, San Antonio, TX 78215 | FTA078 | 05/03/2006 | TX
Community Cancer Center, 545 W. Umpqua Street, Roseburg, OR 97470 | R116571 | 05/03/2006 | OR
Baptist M & S Imaging Center, 7888 Fredericksburg Road, San Antonio, TX 78228 | FTA078 | 05/03/2006 | TX
Evanston Northwestern Healthcare—Highland Park, 757 Park Avenue West, Highland Park, IL 60035 | 14-0010 | 05/03/2006 | IL
Grenada Diagnostic Radiology, 1300 Sunset Drive, Suite U, Grenada, MS 38901 | 470000034 | 05/03/2006 | MS
Huntsman Cancer Hospital, 2000 Circle of Hope, Suite 2121, Salt Lake City, UT 84112-5550 | 460009 | 05/03/2006 | UT
High Tech Medical Park, 11800 Southwest Highway, Palos Heights, IL 60463 | 0703070 | 05/03/2006 | IL
Cyrus Diagnostic Imaging, Inc., 165 Waymont Court, Lake Mary, FL 32746 | 40586 | 05/03/2006 | FL
Indiana Regional PET Imaging, 7891 Broadway, Suite A, Merrillville, IN 46410 | 229400 | 05/03/2006 | IN
Lancaster PET Imaging, 2100 Harrisburg Pike, Lancaster, PA 17601 | 054504 | 05/03/2006 | PA
James PET/CT Imaging Center, 236 Doan Hall, Columbus, OH 43210 | 360242 | 05/03/2006 | OH | 410 W. 10th Ave.
Mary Lanning Memorial Hospital, 715 N. St. Joseph Avenue, Hastings, NE 68901 | 280032 | 05/03/2006 | NE
Maplewood Cancer Center—MOHPA, 1580 Beam Avenue, Maplewood, MN 55109 | C01828 | 05/03/2006 | MN
Titusville Area Hospital, 406 W. Oak Street, Titusville, PA 16354 | 390122 | 05/03/2006 | PA
Memorial Hospital, 325 S. Belmont Street, York, PA 17403 | 390101 | 05/03/2006 | PA
Mercy Regional Health Center, 1823 College Avenue, Manhattan, KS 66502 | 17-0142 | 05/03/2006 | KS
Northshore Regional PET Scan, LLC, 1464 Waukegan Road, Glenview, IL 60025 | 206272 | 05/03/2006 | IL
Northwest Indiana PET/CT Center, 1505 S. Calument Road, Suites 7 & 8, Chesterton, IN 46304 | 229810 | 05/03/2006 | AL
Parkway Ventures, Inc., 9000 Franklin Square Drive, Baltimore, MD 21237 | FMN002 | 05/03/2006 | MD | Franklin Square Hospital.
PET Fusion Imaging, 3707 New Vision Drive, Fort Wayne, IN 46845 | 190320 | 05/03/2006 | IN
River Oaks Imaging & Diagnostics, PO Box 4346, Houston, TX 77210 | FTA059 | 05/03/2006 | TX | Dept 848.
Regional PET Scan, LLC—Beachwood, 2000 Auburn Road, Beachwood, OH 44122 | REID02211 | 05/03/2006 | OH
Regional PET Scan, LLC—Fairview, 20455 Lorain Road, Fairview Park, OH 44126 | REID02211 | 05/03/2006 | OH
Regional PET Scan, LLC—Ridgepark, 7575 Northcliff Avenue, Brooklyn, OH 44144 | REID02211 | 05/03/2006 | OH
Saint Francis Hospital, 114 Woodland Street, Hartford, CT 06105 | 07-0002 | 05/03/2006 | CT
St Nicholas Hospital, 3100 Superior Avenue, Sheboygan, WI 53081 | 520044 | 05/03/2006 | WI
Swedish Medical Center, 501 E. Hampton Avenue, Englewood, CO 80113 | 060034 | 05/03/2006 | CO
St Bernards PET Center, 225 E. Jackson Avenue, Jonesboro, AR 72401 | 5C658 | 05/03/2006 | AR
Toledo Regional PET Scan, LLC, 3442 Granite Circle, Toledo, OH 43617 | T0ID01881 | 05/03/2006 | OH
University MRI, 3848 F.A.U. Boulevard, Suite 200, Boca Raton, FL 33431 | E1765 | 05/03/2006 | FL
Tucson PET Imaging, 5355 E. Erickson Drive, Tucson, AZ 85712 | WCBBM | 05/03/2006 | AZ
Via Christi Oklahoma Regional Medical Center, 1900 N. 14th Street, Ponca City, OK 74601 | 370006 | 05/03/2006 | OK
Christian Hospital, 11133 Dunn Road, St Louis, MO 63136 | 260180 | 05/03/2006 | MO
DRA Imaging PC, 1 Columbia Street, Poughkeepsie, NY 12601 | W18691 | 05/03/2006 | NY
Cleveland Clinic Star Imaging, 921 Jasonway Avenue, Columbus, OH 43214 | 34-1932969 | 05/03/2006 | OH
Norman PET Associates, LLC, 3750 W. Robinson Street, Suite 130, Norman, OK 73072 | 900522224 | 05/03/2006 | OK
Rhode Island PET Services—St. Josephs, 200 High Service Avenue, N Providence, RI 02904 | 479003556 | 05/03/2006 | RI
Rhode Island PET Services—South County Hospital, 100 Kenyon Avenue, Wakefield, RI 02879 | 479003556 | 05/03/2006 | RI
Rhode Island PET Services—Roger Williams, 825 Chalkstone Avenue, Providence, RI 02908 | 479003556 | 05/03/2006 | RI
Rhode Island PET Services—Landmark, 115 Cass Avenue, Woonsocket, RI 02895 | 479003556 | 05/03/2006 | RI
Forest City Diagnostic Imaging, 735 Perryville Road, Rockford, IL 61107 | 546450 | 05/03/2006 | IL | Lower Level 2.
New England Molecular Imaging—York, 15 Hospital Drive, York, ME 03909 | 479003556 | 05/03/2006 | ME
Pavilion Imaging, 750 Wellington Avenue, Grand Junction, CO 81502 | 060023 | 05/03/2006 | CO
Lifescan Chicago, 2242 W. Harrison Street, Chicago, IL 600612 | 470000014 | 05/03/2006 | IL
Southeast Medical Imaging, 300 Evergreen Drive, Suite 210, Glen Mills, PA 19342 | 092801 | 05/03/2006 | PA
The Western Pennsylvania Hospital, 4800 Friendship Avenue, Pittsburgh, PA 15224 | 390090 | 05/03/2006 | PA
Southtowns PET/CT, 550 Orchard Park Road, West Seneca, NY 14224 | 14422A | 05/03/2006 | NY
Main Street Radiology—Bayside, 44-01 Francis Lewis Boulevard, Bayside, NY 11361 | 04217 | 05/03/2006 | NY
Main Street Radiology—Bayside, 44-01 Francis Lewis Boulevard, Bayside, NY 11361 | 04217A | 05/03/2006 | NY
West VA University Center for Advanced Imaging, 1 Medical Center Drive, Morgantown, WV 26506 | 9121131 | 05/03/2006 | WV | PO Box 9236, Health Center South.
Twin Lakes Medical Specialist, PA, 228 Bucher Drive, Mountain Home, AR 72653 | 5B019 | 05/03/2006 | AR
Valley Metabolic Imaging, LLC, 6121 N Thesta Street, Fresno, CA 93710 | ZZZ23924Z | 05/03/2006 | CA | Suite 207.
Johnson City Medical Center, 400 North State of Franklin, Johnson City, TN 37642 | 440063 | 05/03/2006 | TN
St Louis University Hospital, 3665 Vista Avenue, St Louis, MO 63110 | 000050109 | 05/03/2006 | MO
Margaret R. Pardee Memorial Hospital, 800 North Justice Street, Hendersonville, NC 28791 | 340017A | 05/03/2006 | NC
Valley Imaging Partnership 1401 W. Merced Avenue #103, West Covina, CA 91790 | TP035 | 05/03/2006 | CA
Sierra Imaging, 155 Calle Portal, Sierra Vista, AZ 85635 | Z68496 | 05/03/2006 | AZ
Aspirus Wausau Hospital, 333 Pine Ridge Boulevard, Wausau, WI 54401 | 520030A | 05/03/2006 | WI
Cancer Care Northwest PET Center, 910 W 5th, Spokane, WA 99204 | 1922072081 | 05/03/2006 | WA | Suite 130.
PET/CT Imaging of North Texas, 2900 North I-35, Denton, TX 76201 | 00088Y | 05/03/2006 | TX | Suite 119.
Loyola University Health System, 2160 S. First Avenue, Maywood, IL 60153 | 140276 | 05/03/2006 | IL
St. Elizabeth Medical Center, One Medical Village Drive, Edgewood, KY 41017 | 180035 | 05/03/2006 | KY
Cleveland Clinic, 9500 Euclid Ave, Cleveland, OH 44195 | 9925511 | 05/03/2006 | OH
Ingalls Family Care Center, 6701 159th Street, Tinley Park, IL 60477 | 14-0191 | 05/03/2006 | IL
PET Fusion Center, 4204 Houma Boulevard, Metairie, LA 70006 | 5CB31 | 05/03/2006 | LA
United Regional Medical Center, 1001 McArthur Drive, Manchester, TN 37355 | 440007 | 05/03/2006 | TN
Joel Bernstein, MD, 5395 Ruffin Road, Suite 202, San Diego, CA 92123 | W18972 | 05/03/2006 | CA
Hasnat Ahmed, MD, 5395 Ruffin Road, Suite 202, San Diego, CA 92123 | W18370 | 05/03/2006 | CA
Meridian North Imaging Center, 12188 N. Meridian Street, Carmel, IN 46280 | 026010 | 05/03/2006 | IN | Suite 100.
Cancer Center Oncology Medical Group, 5395 Ruffin Road, Suite 202, San Diego, CA 92123 | W12245A | 05/06/2006 | CA
Firelands Regional Medical Center, 1101 Decatur Street, Sandusky, OH 44870 | 360025 | 05/03/2006 | OH
United Radiology—Greenbelt, PO Box 34979, West Bethesda, MD 20827 | FMN007 | 05/03/2006 | MD
Richard Just, MD, 5395 Ruffin Road, Suite 202, San Diego, CA 92123 | W16197 | 05/03/2006 | CA
Michael Kipper, MD, 5395 Ruffin Road, Suite 202, San Diego, CA 92123 | A24091 | 05/03/2006 | CA
McLaren Regional Medical Center, 401 S. Ballenger Highway, Flint, MI 48532 | 230141 | 05/03/2006 | MI
United Radiology—Silver Spring, PO Box 34979, West Bethesda, MD 20827 | FMN007 | 05/03/2006 | MD
United Radiology—Rockville, PO Box 34979, West Bethesda, MD 20827 | FMN007 | 05/03/2006 | MD
St Mary's Health Center, 6420 Clayton Road, St Louis, MO 63117 | 260091 | 05/03/2006 | MO
Bay Regional Medical Center, 1900 Columbus Avenue, Bay City, MI 48708 | 230041 | 05/03/2006 | MI
Lapeer Regional Medical Center, 1375 N. Main Street, Lapeer, MI 48446 | 230193 | 05/03/2006 | MI
Scottsdale Medical Imaging, Ltd.—SW Diagnostics, 9003 E. Shea Boulevard, Scottsdale, AZ 85260 | 1902896236 | 05/03/2006 | AZ
Valley Medical Oncology Consultants, Inc., 3000 Oak Road #111, Walnut Creek, CA 94597 | ZZZ29659Z | 05/03/2006 | CA
Northwest Community Hospital, 800 W Central Road, Arlington Heights, IL 60005 | 36-2340313 | 05/03/2006 | IL
PET Imaging of Dallas, 8333 Douglas Avenue, C-20,Dallas, TX 75225 | FTN017 | 05/03/2006 | TX
PET Imaging of Dallas—Northeast, 1250 R Northwest Highway, Garland, TX 75041 | FTN028 | 05/03/2006 | TX
St Joseph's Regional Medical Center, 703 Main Street, Paterson, NJ 07503 | 310019 | 05/03/2006 | NJ
PET Imaging of Houston, 2493-A South Braeswood, Houston, TX 77030 | FTN010 | 05/03/2006 | TX
Goshen General Hospital, 200 High Park Avenue, Goshen, IN 46526 | 150026 | 05/03/2006 | IN
PET Imaging of ELMC, 8550 West 38th Avenue, Suite 102, Wheat Ridge, CO 80033 | 800665 | 05/03/2006 | CO
PET Imaging of Houston—Southeast, 6021 Fairmont Parkway, Suite 120, Pasadena, TX 77505 | FTN030 | 05/03/2006 | TX
Peninsula Imaging, LLC, 560 Riverside Drive, Suite A104, Salisbury, MD 21801 | 481L | 05/03/2006 | AL
Zwanger-Pesiri, 126 Hicksville Road, Massapequa, NY 11758 | W13931 | 05/03/2006 | NY
Las Calinas PET Imaging, LLP, 1110 Cottonwood Lane, Irving, TX 75038 | FTN019 | 05/03/2006 | TX | Suite 220.
Mt Carmel Regional Medical Center, 1102 East Centennial, Pittsburg, KS 66762 | 014041 | 05/03/2006 | KS
Iowa Blood & Cancer Care, PLC, 855 A. Avenue NE, Cedar Rapids, IA 52402 | I6672 | 05/03/2006 | IA | Medical Office Plaza, LL4.
Hackensack University Medical Center, 30 Prospect Avenue, Hackensack, NJ 07601 | 310001 | 05/03/2006 | NJ
McLeod PET Imaging Center, 800 East Cheves Street, Florence, SC 29501 | 570370242001 | 05/03/2006 | SC | Suite 170.
St Alexius Medical Center, 900 E. Broadway Avenue, Bismarck, ND 58506 | 35-0002 | 05/03/2006 | ND | PO Box 5510.
Center for Diagnostic Imaging, 1295 Orange Avenue, Winter Park, FL 32789 | K0097 | 05/03/2006 | FL
Charleston Radiologists, PA, 9313 Medical Plaza Drive, Charleston, SC 29406 | 1709 | 05/03/2006 | SC | Suite 302.
PET Imaging of Houston—West, 9525 Katy Freeway, Suite 102, Houston, TX 77024 | FTN023 | 05/03/2006 | TX
University Hospitals of Cleveland, 11100 Euclid Avenue, Cleveland, OH 44106 | 36-0137 | 05/03/2006 | OH | Mailstop BSHB5056.
PET Imaging of Sugar Land, 17320 W Grand Parkway S., Suite A, Sugar Land, TX 77479 | FTN027 | 05/03/2006 | TX
PET Imaging of Oklahoma City, 1000 N. Lincoln Boulevard, Suite 250, Oklahoma City, OK 73104 | 800522283 | 05/03/2006 | OK
PET Imaging of Tulsa, 6711 S. Yale, #104, Tulsa, OK 74136 | 400522320 | 05/03/2006 | OK
PET Imaging of The Woodlands, 3091 College Park Drive, Suite 340, The Woodlands, TX 77384 | FTN021 | 05/03/2006 | TX
Tarrant Diagnostic Imaging, 1121 8th Avenue, Fort Worth, TX 76104 | FTN012 | 05/03/2006 | TX
Wyandot Memorial Hospital, 85 North Sandusky Avenue, Upper Sandusky, OH 43351 | 361329 | 05/03/2006 | OH
Oregon Health & Science University, 3181 SW Sam Jackson Park Road, Portland, OR 97229 | 380009 | 05/03/2006 | OR
Saint John's Health System, 2015 Jackson Street, Anderson, IN 46016 | 150088 | 05/03/2006 | IN
Hudson Valley PET Imaging, LLC, 160 North Midland Avenue, Nyack, NY 10960 | W1L903 | 05/03/2006 | NY
Kingston Diagnostic Center, 167 Schwenk Drive, Kingston, NY 12401 | W1L921 | 05/03/2006 | NY
Appleton Medical Center, 1818 N. Meade Street, Appleton, WI 54911 | 520160 | 05/03/2006 | WI
St. Elizabeth Health Center, 1044 Belmont Avenue, Youngstown, OH 44501 | 360064 | 05/03/2006 | OH
Sinai Hospital of Baltimore, 2401 West Belvedere Avenue, Baltimore, MD 21215 | 210012 | 05/03/2006 | MD
Associates in Radiology of Plattsburgh, NY, 762 Route 3, Suite 14, Plattsburgh, NY 12901 | 33572A | 05/03/2006 | NY
Affiliated PET Systems—Rockville, 9711 Medical Center Drive, Rockville, MD 20850 | FDNX01 | 05/03/2006 | MD
Lake Medical Imaging & Breast Center, 1400 US Highway 441 North, Suite 510, The Villages, FL 32159 | 59-3522082 | 05/03/2006 | FL
Affiliated PET Systems—Silver Spring, 1400 Forest Glen Road, Silver Spring, MD 20910 | FDNX01 | 05/03/2006 | MD | Suite 430.
North Texas Clinical PET Institute, 3535 Worth Street, Suite 150, Dallas, TX 75246 | 99R339 | 05/03/2006 | TX
Lake Imaging Center, 801 E. Dixie Avenue, Suite 104, Leesburg, FL 34748 | 59-3635297 | 05/06/2006 | FL
Edwards Comprehensive Cancer Center, 1400 Hal Greer Boulevard, Huntington, WV 25701 | 510055 | 05/03/2006 | WV
Allison Cancer Center, 301 North N Street, Midland, TX 79701 | 140414744 | 05/03/2006 | TX
Clinical PET of Leesburg, 8525 US Highway 441, Leesburg, FL 34748 | E7179A | 05/03/2006 | FL
Greene Medical Imaging, PC, 159 Jefferson Heights, D-106, Catskill, NY 12414 | W25021 | 05/03/2006 | NY
Caritas PET Imaging, LLC—Norwood Hosp, 70 Walnut Street, Foxboro, MA 02035 | 32-7092 | 05/03/2006 | MA | Caritas Norwood Hospital—Foxboro Campus.
Caritas PET Imaging, LLC—New England Medical Center, 750 Washington Street, Boston, MA 02111 | 32-7092 | 05/03/2006 | MA | Tufts—New England Medical Center.
Austin, Radiological Assn.—San Marcos, 1348 B Highway 123 South, San Marcos, TX 78666 | 74-1597116 | 05/03/2006 | TX
ARA Imaging—Rock Creek, 2120 N Mays, #220, Round Rock, TX 78664 | 20-1651590 | 05/03/2006 | TX
ARA Imaging—Southwood, 1701 W. Ben White Boulevard, #170, Austin, TX 78704 | 20-1651590 | 05/03/2006 | TX
Elkhart General Hospital, 600 East Boulevard, Elkhart, IN 46514 | 15-0018 | 05/03/2006 | IN
Austin, Radiological Assn.—Midtown, 1301 W. 38th Street, Suite 100, Austin, TX 78705 | 74-1597116 | 05/03/2006 | TX
Caritas PET Imaging, LLC—St. Elizabeth's, 736 Cambridge Street, Boston, MA 02135 | 32-7092 | 05/03/2006 | MA | St. Elizabeth's Medical Center.
Global PET Imaging, LLC, 1800 Hollister Drive, Suite G-10 Libertyville, IL 60048 | 309590 | 05/03/2006 | IL | Grand Oaks Health Center.
Caritas PET Imaging, LLC—Carney Hospital, 2100 Dorchester Avenue, Dorchester, MA 02124 | 32-7092 | 05/03/2006 | MA | Caritas Carney Hospital.
Caritas PET Imaging, LLC—Milton Hospital, 92 Highland Street, Milton, MA 02186 | 32-7092 | 05/03/2006 | MA
Caritas PET Imaging, LLC—St. Anne's Hospital, 795 Middle Street, Fall River, MA 02721 | 32-7087 | 05/03/2006 | MA | St. Anne's Hospital.
Caritas PET Imaging, LLC—Good Samaritan, 235 North Pearl Street, Brockton, MA 02301 | 32-7087 | 05/03/2006 | MA | Caritas Good Samaritan Medical Center.
Panhandle PET Imaging, 6700 W. 9th Avenue, Amarillo, TX 79106 | TFN0007 | 05/03/2006 | TX
PET Imaging of San Francisco, 1700 California Street, Suite 480, San Francisco, CA 94109 | ZZZ-223-782 | 05/03/2006 | CA
PET/CT Imaging of Berkeley, 2855 Telegraph Avenue, Suite 100, Berkeley, CA 94705 | ZZZ-288-837 | 05/03/2006 | CA
Western Maryland Health System—Sacred Heart Campus, 902 Seton Drive, Cumberland, MD 21502 | 210027 | 05/03/2006 | MD | Western Maryland Health System—Sacred Heart Campus.
Desert PET Imaging, LLC, 1180 N. Indian Cyn Drive, Palm Springs, CA 92262 | ZZZ28648Z | 05/03/2006 | CA
First PET of Stockton, 4744 Quail Lake Drive, Stockton, CA 95207 | 00A484230 | 05/03/2006 | CA
Utah Cancer Specialist, 3838 South 700 East, Salt Lake City, UT 84106 | 57172 | 05/03/2006 | UT | Suite 100.
Washington Radiology Associates, PC, 2121 K Street, NW, Washington, DC 20006 | WA409885 | 05/03/2006 | DC | Suite T-120.
New Rochelle Radiology Associates, PC, 175 Memorial Highway, New Rochelle, NY 10801 | W05571 | 05/03/2006 | NY
North Little Rock PET Associates, LLC, 3500 Springhill Drive, North Little Rock, AR 72117 | 5F437 | 05/03/2006 | AR | Suite 100.
Advanced Imaging Concepts, PL, 13063 Cortez Boulevard, Brooksville, FL 34613 | 94774 | 05/03/2006 | FL
Mansfield Imaging Center, 536 S. Trimble Road, Mansfield, OH 44906 | MAD10921 | 05/03/2006 | OH
West Tennessee Imaging Center, 300 Coatsland Drive, Jackson, TN 38305 | 44-0002 | 05/03/2006 | TN
Imaging Center of North Central Indiana, Inc., 2201 W. Boulevard, Kokomo, IN 46902 | 224110 | 05/03/2006 | IN
University of Kansas Hospital, 3901 Rainbow Boulevard, Kansas City, KS 66160 | 17-00040 | 05/03/2006 | KS | Division of Nuclear Medicine.
PET Imaging of SWLA, LLC, 600 Bayou Pines East, Lake Charles, LA 70601 | 5CK63 | 05/03/2006 | LA | Suite A.
Community Imaging Partners of Frederick, 67 Thomas Johnson Drive, Frederick, MD 21702 | 980M | 05/03/2006 | MD
Community Imaging Partners of Olney, 18111 Prince Phillip Drive #T-20, Olney, MD 20832 | 409410 | 05/03/2006 | MD | Community Imaging Partners.
The West Clinic, PC, 100 N. Humphreys Boulevard, Memphis, TN 38120 | 3704066 | 05/03/2006 | TN
Imaging Central LLC, 7111 W. Central Avenue, Toledo, OH 43617 | IMID01641 | 05/03/2006 | OH
Advanced Radiology—Dixon, 291 Stoner Avenue, Westminster, MD 21157 | 527L | 05/03/2006 | MD
Advanced Radiology—Harford Imaging, 104 Plumtree Road, Bel Air, MD 21015 | 527L | 05/03/2006 | MD | Suite 106.
Advanced Radiology—Cross Roads, 4801 Dorsey Hall Road, Ellicott City, MD 21042 | 527L | 05/03/2006 | MD | Suite 101.
Advanced Radiology—PET Imaging of MD, 1700 Reisterstown Road, Baltimore, MD 21208 | 527L | 05/03/2006 | MD | Suite 119.
Cancer & Blood Disease Center, 521 N. Lecanto Highway, Lecanto, FL 34461 | 72840 | 05/03/2006 | FL
Huntington Outpatient Imaging Center, Inc., 800 S. Fairmount Avenue, Pasadena, CA 91105 | W1575B | 05/03/2006 | CA | Suite 120.
Universal Imaging, Inc., 4600 Investment Drive, Troy, MI 48083 | ON69130 | 05/03/2006 | MI
Berger Health System, 1170 North Court Street, Circleville, OH 43113 | 360710 | 05/03/2006 | OH
Contemporary Imaging—Trenton, 1676 Fort Street, Trenton, MI 48183 | 0P23200 | 05/03/2006 | MI
South Tulsa PET, LLC, 7712 S. Yale Avenue, Tulsa, OK 74136 | 800522360 | 05/03/2006 | OK | Ste 100.
Cancer Center of the Carolinas, 200 Andrews Street, Greenville, SC 29601 | 6526 | 05/03/2006 | SC | Suite 100.
OSF Saint Francis Medical Center, 530 NE Glen Oak Avenue, Peoria, IL 61637 | 14-0067 | 05/03/2006 | IL
Sacred Heart—St. Mary's Hospitals, Inc., 2251 Northshore Drive, Rhinelander, WI 54501 | 1100700 | 05/03/2006 | WI
Capital Region Radiation Therapy & Imaging, 3400 W. Truman Boulevard, Jefferson City, MO 65109 | 260047 | 05/03/2006 | MO | PO 150832.
University PET/CT Imaging, 19 Bradhurst Avenue, Hawthorne, NY 10532 | W2Y371 | 05/03/2006 | NY | Suite 1200.
Aztech Radiology—Apache Trail, 1840 W. Apache Trail, Apache Junction, AZ 85222 | Z72398 | 05/03/2006 | AZ
Aztech Radiology—Casa Grande, 1669 E McMurray Boulevard, Casa Grande, AZ 85222 | Z25341 | 05/03/2006 | AZ
Missouri Cancer Associates, 105 N. Keene Street, Columbia, MO 65201 | 000012700 | 05/03/2006 | MO | Suite 100.
White River Medical Center, 1710 Harrison Street, Batesville, AR 72501 | 040119 | 05/03/2006 | AR
Englewood Hospital & Medical Center, 350 Engle Street, Englewood, NJ 07631 | 310045 | 05/03/2006 | NJ
Regional Imaging & Therapeutic Radiology Services, 360 Bard Avenue, Staten Island, NY 10310 | 1023095445 | 05/03/2006 | NY
Rocky Mountain Cancer Centers—South, 7951 E. Maplewood Avenue, Suite 300, Greenwood Village, CO 80111 | 204508 | 05/03/2006 | CO
Rocky Mountain Cancer Centers—North, 7951 E. Maplewood Avenue, Suite 300, Greenwood Village, CO 80111 | 204508 | 05/03/2006 | CO
Molecular Imaging of Hamilton County—Bethesda, 4197 Fulton Road NW, Suite C, Canton, OH 44718 | MOID01221 | 05/03/2006 | OH
Molecular Imaging of Hamilton County—Good Sam, 4197 Fulton Road NW, Suite C, Canton, OH 44718 | MOID01221 | 05/03/2006 | OH
Kettering Medical Center, 3535 Southern Boulevard, Kettering, OH 45429 | 360079 | 05/03/2006 | OH
St. Mary's Hospital, 5801 Bremo Road, Richmond, VA 23226 | 540793767 | 05/03/2006 | VA
Columbus Medical Institute of NY, 97-85 Queens Boulevard, Rego Park, NY 11374 | 05679 | 05/03/2006 | NY
Meadville Medical Center, 1034 Grove Street, Meadville, PA 16335 | 39-0113 | 05/03/2006 | PA
Chambersburg Hospital—Radiology, 112 North Seventh Street, Chambersburg, PA 17201 | 390151 | 05/03/2006 | PA
Oregon Advanced Imaging, 881 O'Hare Parkway, Medford, OR 97504 | R114546 | 05/03/2006 | OR
Singing River Hospital, 2809 Denny Avenue, Pascagoula, MS 39581 | 250040 | 05/03/2006 | MS
East Texas Medical Center—Tyler, 1000 S. Beckham Avenue, Tyler, TX 75701 | 4500833 | 05/03/2006 | TX
Columbia, St. Mary's Hospital, 2025 E. Newport Avenue, Columbia Campus, Milwaukee, WI 53211 | 520051 | 05/03/2006 | WI
Sharon Regional Health System, 740 East State Street, Sharon, PA 16146 | 390211 | 05/03/2006 | PA
Northern Ohio Imaging Center, 1900 West River Road, Elyria, OH 44035 | 36-0172 | 05/03/2006 | OH
Oxford Valley Diagnostic Center, 940 Town Center Drive, Langhorne, PA 19047 | 232745550 | 05/03/2006 | PA | Suite F50.
The Emory Clinic, 1365 Clifton Road, Building C, Room Court 048, Atlanta, GA 30322 | 582030692 | 05/03/2006 | GA
Alegent Health Bergan Mercy Medical Center, 7500 Mercy Road, Omaha, NE 68124 | 280060 | 05/03/2006 | NE
University Center Imaging, 1065 Delaware Avenue, Marion, OH 43302 | 20-3873307 | 05/03/2006 | OH
Elk Regional Health Center, 763 Johnsonburg Road, St Mary's, PA 15857 | 39-0154 | 05/03/2006 | PA
Health Park Hospital, 1636 Higdon Ferry Road, Hot Springs, AR 71913 | 04-0142 | 05/03/2006 | AR
Johnsonburg Health Center, 81 Clarion Road, Johnsonburg, PA 15845 | 39-0104 | 05/03/2006 | PA
Jane Phillips Medical Center, 3500 E. Frank Phillips Boulevard, Bartlesville, OK 74006 | 370015 | 05/03/2006 | OK
North Main Imaging Center, 7650 First Place, Suite B, Oakwood Village, OH 44146 | NEID01521 | 05/03/2006 | OH
PET Imaging Center of Delaware County—DCMH, 501 North Lansdowne Avenue, Drexel Hill, PA 19026 | 390081 | 05/03/2006 | PA
NEO—PET CRC Imaging, 7650 First Place, Suite B, Oakwood Village, OH 44146 | NEID01521 | 05/03/2006 | OH
PET Imaging Center of Delaware County—Springfield, 190 West Sproul Road, Springfield, PA 19064 | 381080 | 05/03/2006 | PA
Harper University Hospital, 3990 John R Street, Detroit, MI 48201 | 230104 | 05/03/2006 | MI
Sinai-Grace Hospital, 6071 W. Outer Drive, Detroit, MI 48235 | 23-0024 | 05/03/2006 | MI
Seattle Radiologists APC, 1229 Madison Street, Seattle, WA 98104 | G0001589600 | 05/03/2006 | WA | #900.
Huron Valley—Sinai Hospital, 1 William Carl Drive, Commerce, MI 48382 | 23-0277 | 05/03/2006 | MI
East Memphis PET Imaging, 6005 Park Avenue, Memphis, TN 38119 | 3374526 | 05/03/2006 | TN | Suite 101B.
UPMC—PET Imaging Facility, 200 Lothrop Street, Pittsburgh, PA 15213 | 390164 | 05/03/2006 | PA | 9th Floor, B-Wing PUH.
UPMC—PET Imaging Facility, 300 Halket Street, Pittsburgh, PA 15213 | 390114 | 05/03/2006 | PA
Rhode Island Hospital, 593 Eddy Street, Providence, RI 02903 | 05-025-8954 | 05/03/2006 | RI
David C. Pratt Cancer Center, 607 South New Bulbs Road, St Louis, MO 63141 | 260020 | 05/03/2006 | MO
Lewistown Hospital, 400 Highland Avenue, Lewistown, PA 17044 | 390048 | 05/03/2006 | PA
Lawrence Memorial Hospital, 325 Maine Street, Lawrence, KS 66044 | 170137 | 05/03/2006 | KS
Jameson Hospital, 1211 Wilmington Avenue, New Castle, PA 16105 | 39-0016 | 05/03/2006 | PA
Diagnostic Clinic of Houston, 1200 Binz Street, Houston, TX 77004 | 76-0203506 | 05/03/2006 | TX
Arlington Heights Radiology Center, LLC, 121 South Wilke Road, Arlington Heights, IL 60005 | 212301 | 05/03/2006 | IL
Oregon Imaging Center, 1200 Hilyard Street, Eugene, OR 97401 | R0000WCPGH | 05/03/2006 | OR | #330.
Arlington Heights Radiology Center, LLC, 121 South Wilke Road, Arlington Heights, IL 60005 | 212301 | 05/03/2006 | IL
Indiana Univ Radiology Assoc PET Imaging Center, 950 W. Walnut Street, Room E124, Indianapolis, IN 46202 | 959090 | 05/03/2006 | IN
Morristown Memorial Hospital, 100 Madison Avenue, Morristown, NJ 07962 | 310015 | 05/03/2006 | NJ
Baton Rouge Radiology Group, 5422 Dijon Drive, Baton Rouge, LA 70808 | 5B039 | 05/03/2006 | LA
North Texas PET Imaging, 3720 South I-35E, Denton, TX 76210 | 752131429 | 05/03/2006 | TX
Children's Hospital of Michigan PET Center, 3901 Beaubien Street, Detroit, MI 48201 | 23-3300 | 05/03/2006 | MI
Winchester Medical Center, 1840 Amherst Street, Winchester, VA 22601 | 490005 | 05/03/2006 | VA
Decatur Health Imaging, LLC, 1123 16th Avenue SE, Decatur, AL 35601 | 051555161 | 05/03/2006 | AL
Health Imaging Services, LLC, 1760 Warnke Circle NE, Cullman, AL 35058 | 051553273HEA | 05/03/2006 | AL
PET/CT Imaging of the Mainline, 21 Industrial Boulevard, Suite 103 Paoli, PA 19301 | 097715 | 05/03/2006 | PA
PET Imaging of Brevard, 1430 Pine Street, Melbourne, FL 32901 | 39254 | 05/03/2006 | FL
North Carolina Baptist Hospital, Medical Center Boulevard, Winston Salem, NC 27157 | 34-0047 | 05/03/2006 | NC
St Francis Hospital, 34515 9th Avenue S, Federal Way, WA 98003 | 500108 | 05/03/2006 | WA
Saint Barnabas Outpatient Center, 200 S. Orange Avenue, Livingston, NJ 07039 | 440149 | 05/03/2006 | NJ
PET/CT Imaging of Ramapa Radiology, 972 Route 45, Suite 106, Pomona, NY 10970 | W21711 | 05/03/2006 | NY
Medical University of South Carolina PET/CT, 169 Ashley Avenue, Charleston, SC 29425 | 420004 | 05/03/2006 | SC
Akron General Medical Center, 300 Wabash Avenue, Akron, OH 44307 | 36-0027 | 05/03/2006 | OH
New England Molecular Imaging—Mercy Hospital, 144 State Road, Portland, ME 04103 | NE327075 | 05/03/2006 | ME
New England Molecular Imaging—Penobscot Bay, 6 Glenn Cove Drive, Rockport, ME 04856 | NE327076 | 05/03/2006 | ME
Center for Outpatient Services—St. Joseph, 3900 Hollywood Road, St. Joseph, MI 49085 | 23-0021 | 05/03/2006 | MI
New England Molecular Imaging—Central Maine, 12 High Street, Lewiston, ME 04240 | NE327076 | 05/03/2006 | ME
Imaging Consultants, Inc.—Berkshire, 8 Conte Drive, Pittsfield, MA 01210 | 327085 | 05/03/2006 | MA
Imaging Consultants, Inc.—Boston Medical, 840 Harrison Avenue, Boston, MA 02118 | 327083 | 05/03/2006 | MA
Imaging Consultants, Inc.—Boston PET, One Brookline, Place, Brookline, MA 02445 | 327083 | 05/03/2006 | MA
Baptist Memorial Hospital PET Center, 6027 Walnut Grove Road, Memphis, TN 38120 | 44-0048 | 05/03/2006 | TN
Southern Oklahoma PET/CT Imaging, 701 E. Robinson Street, Norman, OK 73071 | 90015477 | 05/03/2006 | OK
Ann G. Fetters Diagnostic Imaging Center, 2151 N. Harbor Boulevard, Fullerton, CA 92835 | 050168 | 05/03/2006 | CA
Pitt County Memorial Hospital, 2100 Stantonsburg Road, Greenville, NC 27835 | 56-0585243 | 05/03/2006 | NC
Inland Imaging, LLC, 105 W. 8th Avenue, Spokane, WA 99202 | AB01749 | 05/03/2006 | WA | Suite 100C.
University of Chicago Hospitals, 5758 S. Maryland Avenue, Chicago, IL 60637 | 140088 | 05/03/2006 | IL | Room #0150.
Birch Medical Imaging Center, 20162 SW Birch Street, Newport Beach, CA 92660 | W19353 | 05/03/2006 | CA
Tennessee Oncology PET Services, 2018 Murphy Avenue, Nashville, TN 37203 | 3709319 | 05/03/2006 | TN | Suite 200.
Tennessee PET Scan, 1020 N. Highland Avenue, Murfreesboro, TN 37130 | 3791187 | 05/03/2006 | TN | Suite A.
Texas Oncology—Harris Center HEB, 1615 Hospital Parkway, Bedford, TX 76022 | 00R66C | 05/03/2006 | TX | Suite 300.
Greater Dayton Cancer Center, 3120 Governor's Place Boulevard, Kettering, OH 45409 | 9295791 | 05/03/2006 | OH
Martha Jefferson Hospital, 459 Locust Avenue, Charlottesville, VA 22902 | 490077 | 05/03/2006 | VA
Modern Diagnostic Imaging, 600 S. Dobson Road, Chandler, AZ 85224 | 107628 | 05/03/2006 | AZ | Suite B-16.
Christiana Care Nuclear Medicine/PET, 4755 Ogletown-Stanton Road, Newark, DE 19718 | 080001 | 05/03/2006 | DE
Advanced Imaging of Port Charlotte, LLC, 2625 Tamiami Trail, Port Charlotte, FL 33952 | K6802 | 05/03/2006 | FL | Suite 1.
St. Joseph's Diagnostic Center—MLK, 3003 Martin Luther King, Jr. Boulevard, Tampa, FL 33067 | 97779 | 05/03/2006 | FL
South Carolina Oncology Associates, 166 Stoneridge Drive, Columbia, SC 29210 | 6275 | 05/03/2006 | SC
South Carolina Oncology Associates, 166 Stoneridge Drive, Columbia, SC 29210 | 6276 | 05/03/2006 | SC
Access Health Imaging, 5257 Highway 82, East, Lake Village, AR 71653 | 5M809 | 05/03/2006 | AR
PET/CT Services of Florida—Beverly Hills, 3404 N. Lecanto Highway, Beverly Hills, FL 34465 | V0103 | 05/03/2006 | FL | Beverly Hills Medical Park.
PET/CT Services of Florida—Ocala, 1541 SW 1st Avenue, Ocala, FL 34474 | V0103 | 05/03/2006 | FL | Suite 101B.
Blanchard Valley Regional Health Center, 145 W. Wallace Street, Findlay, OH 45840 | 360095 | 05/03/2006 | OH
Papastavros Associates Medical Imaging, 1701 Augustine Cut-Off, Wilmington, DE 19803 | 1083615561 | 05/03/2006 | DE
PET Imaging of Willowbrook, 13300 Hargrave Road, Houston, TX 77070 | FTN032 | 05/03/2006 | TX | Suite 130.
PET Imaging of Northern Colorado, 1915 Wilmington Drive, Ft Collins, CO 80528 | 804621 | 05/03/2006 | CO | Suite 101.
Temecula Valley Advanced Imaging, 25395 Hancock Avenue, Murrieta, CA 92592 | ZZZ-150752 | 05/03/2006 | CA | Suite 110.
Saint Anthony Memorial Health Center, 301 West Homer Street, Michigan City, IN 46360 | A150015 | 05/03/2006 | IN
Salina Regional Health Center, 400 S. Santa Fe Avenue, Salina, KS 67401 | 170012 | 05/03/2006 | KS | PO Box 5080.
Cancer Center of Kansas, 818 N. Emporia Street, Wichita, KS 67214 | 110217 | 05/03/2006 | KS | Suite 100.
Clinton Crossings Imaging, 995 Senator Keating Boulevard, Rochester, NY 14618 | 14439A | 05/03/2006 | NY
NSMS—Shelby County, 4253 Argosy Court, Madison, WI 53714 | I16068 | 05/03/2006 | WI
Verrazano Radiology, PC, 256A Mason Avenue, Staten Island, NY 10305 | 200011201 | 05/03/2006 | NY
Imaging Consultants, Inc.—Brockton Hospital, 680 Centre Street, Brockton, MA 02301 | 327085 | 05/03/2006 | MA
Imaging Consultants, Inc.—Cape Cod, 252 Long Pond Drive, Harwich, MA 02645 | 327085 | 05/03/2006 | MA | Fontain Medical Center.
Imaging Consultants Inc—Falmouth, 100 Ter Hewn Drive, Falmouth, MA 02540 | 327085 | 05/03/2006 | MA
Imaging Consultants, Inc.—Jordan, 275 Sandwich Street, Plymouth, MA 02360 | 327085 | 05/03/2006 | MA
Imaging Consultants, Inc.—Holyoke, 575 Beech Street, Holyoke, MA 01040 | 327085 | 05/03/2006 | MA
Imaging Consultants, Inc.—Mercy Medical, 271 Carew Street, Springfield, MA 01089 | 327085 | 05/03/2006 | MA
Imaging Consultants, Inc.—Lawrence Memorial, 170 Governors Avenue, Medford, MA 02155 | 327083 | 05/03/2006 | MA
Imaging Consultants, Inc.—Metro West, 115 Lincoln Street, Framingham, MA 01701 | 327083 | 05/03/2006 | MA
Imaging Consultants, Inc.—Milford, 14 Prospect Street, Milford, MA 01757 | 327085 | 05/03/2006 | MA
Imaging Consultants, Inc.—Quincy, 114 Whitwell Street, Quincy, MA 02196 | 327083 | 05/03/2006 | MA
Imaging Consultants, Inc.—Saints Memorial, 2 Hospital Drive, Lowell, MA 01852 | 327083 | 05/03/2006 | MA
Imaging Consultants, Inc.—Truesdale, 1030 Presidents Avenue, Fall River, MA 02720 | 327085 | 05/03/2006 | MA
Imaging Consultants, Inc.—Twin City, 76 Summer Street, Fitenburg, MA 01420 | N/A | 05/03/2006 | MA
Imaging Consultants, Inc.—Worcester, 20 Worcester Center Boulevard, Worcester, MA 01608 | 327085 | 05/03/2006 | MA
Sentara Mobile PET/CT—Careplex, 5900 Lake Wright Drive, Suite B, Norfolk, VA 23502 | 250605 | 05/04/2006 | VA
Sentara Mobile PET/CT—Lake Wright, 5900 Lake Wright Drive, Suite B, Norfolk, VA 23502 | 250605 | 05/04/2006 | VA
Sentara Mobile PET/CT—Princess Anne, 5900 Lake Wright Drive, Suite B, Norfolk, VA 23502 | 250605 | 05/04/2006 | VA
Sentara Mobile PET/CT—Williamsburg, 5900 Lake Wright Drive, Suite B, Norfolk, VA 23502 | 250605 | 05/04/2006 | VA
Memorial Hospital of South Bend, 615 N. Michigan Street, South Bend, IN 46601 | 150058 | 05/04/2006 | IN
NSMS—Belleville, IL, 4253 Argosy Court, Madison, WI 53714 | 208196 | 05/04/2006 | WI
NSMS—Flora, IL, 4253 Argosy Court, Madison, WI 53714 | 208196 | 05/04/2006 | WI
NSMS—Breese, IL, 4253 Argosy Court, Madison, WI 53714 | 208196 | 05/04/2006 | WI
SSM DePaul Health Center, 12303 DePaul Drive, St Louis, MO 63044 | 260104 | 05/04/2006 | MO
Lutheran Hospital, 7950 W. Jefferson Boulevard, Fort Wayne, IN 46804 | 150017 | 05/11/2006 | IN
Memorial MRI and Diagnostic, 1346 Campbell Road, Houston, TX 77055 | 00941U | 05/11/2006 | TX
Shields Imaging of Eastern Mass, 55 Fogg Road, Weymouth, MA 2190 | 327088 | 05/11/2006 | MA
Baystate MRI and Imaging Center, 3300 Main Street, Springfield, MA 1107 | 327039 | 05/11/2006 | MA
Advanced Imaging Center, 16110 Jog Road, 200, Delray Beach, FL 33446 | U2049 | 05/11/2006 | FL
UMASS Memorial MRI and Imaging Center, 214 Shrewsburg Street, Worcester, MA 1604 | 327040 | 05/11/2006 | MA
RCOA Imaging Services, 1108 Minnequa Avenue, Pueblo, CO 81004 | 475748 | 05/11/2006 | CO
Adventist Health PET/CT—Hanford, 450 N. Greenfield Avenue, Hanford, CA 93230 | ZZZ318852 | 05/11/2006 | CA
Adventist Health PET/CT—Feather River, 5974 Pertz Road, Paradise, CA 95969 | ZZZ318852 | 05/11/2006 | CA
Adventist Health PET/CT—Sonora, 1000 Greenley Road, Sonora, CA 95370 | ZZZ318852 | 05/11/2006 | CA
Sarasota Memorial PET, 5350 University Parkway, Sarasota, FL 34238 | U1775 | 05/11/2006 | FL
Adventist Health PET/CT—Redbud, 18th Ave. at Highway 53, PO Box 6710, Clear Lake, CA 95422 | ZZZ318852 | 05/11/2006 | CA
Adventist Health PET/CT—St. Helena, 10 Woodland Road, St. Helena, CA 94574 | ZZZ318852 | 05/11/2006 | CA
Adventist Health PET/CT—Ukiah, 275 Hospital Drive, Ukiah, CA 95482 | ZZZ318852 | 05/11/2006 | CA
Mease Outpatient Imaging, 1840 Mease Drive, Safety Harbor, FL 34685 | 100265 | 05/11/2006 | FL
Bardmoor Outpatient Center, 8787 Bryan Dairy Road, Largo, FL 33777 | 00594C | 05/11/2006 | FL
Trinity Outpatient Center, 2102 Trinity Oaks Boulevard, New Port Richey, FL 34655 | 00594D | 05/11/2006 | FL
Walnut Creek Imaging Center, 114 La Casa Via, #200, Walnut Creek, CA 94598 | ZZZ13902Z | 05/11/2006 | CA
Carlisle Imaging Center, 1240 S. Ft. Harrison, Clearwater, FL 33756 | 594 | 05/11/2006 | FL
Valley Radiology Imaging at Samaritan, 2581 Samaritan Drive, #100, San Jose, CA 95124 | ZZZ139851Z | 05/11/2006 | CA
Forest Hills PET Imaging, 102-02 Queens Boulevard, Forest Hills, NY 11375 | 06998G | 05/11/2006 | NY
Roper LowCountry PET Imaging Center, 316 Calhoun Street, Charleston, SC 29401 | Q326280001 | 05/11/2006 | SC
Premier PET Imaging of NJ, 119 Cherry Hill Road, Parsippany, NJ 07054 | 68433 | 05/11/2006 | NJ | Suite 100.
Methodist Medical Center of Illinois, 221 NE Glen Oak Avenue, Peoria, IL 61636 | 370661223 | 05/11/2006 | IL
Medical Imaging of Baltimore, 6715 N. Charles Street, Baltimore, MD 21204 | 258L | 05/12/2006 | MD
Yagnesh Oza, MD, 4117 Velerous Memorial Drive, Mt Vernon, IL 62864 | 212702 | 05/12/2006 | IL
Moffitt Cancer Center, 12902 Magnolia Drive, Tampa, FL 33612 | 100271 | 05/12/2006 | FL
PrimeMed Imaging, 5 Morgan Highway, Suite 7, Scranton, PA18505 | 260 | 05/12/2006 | PA | Morgan Medical Complex.
Rockville PET Imaging, PC, 119 North Park Avenue, Rockville Centre, NY 11570 | WTC601 | 05/12/2006 | NY | Suite 101.
Porter Adventist Hospital, 2525 South Downing Street, Denver, CO 80210 | 60064 | 05/12/2006 | CO
Rapid City Regional Hospital Medical Imaging Services, 353 Fairmont Boulevard, Rapid City, SD 57701 | 43007 | 05/12/2006 | SD
Advanced Radiolgy Consultants, 56 Quarry Road, Trumbull, CT 06611 | C02747 | 05/12/2006 | CT
Northeastern PA Imaging Center, 2601 Stafford Avenue, Scranton, PA 18505-0305 | 475385 | 05/12/2006 | PA | PO BOX 3305.
Billings MRI Center, 1041 North 29th Street, Billings, MT 59101-1075 | 81030 | 05/12/2006 | MT
Aurora St. Luke's Medical Center, 2900 W. Oklahoma Avenue, Milwaukee, WI 53215 | 520138 | 05/12/2006 | WI | Nuclear Medicine Department.
Memorial & St. Elizabeth's Healthcare Services, LLC, 4000 N. Illinois Lane, Swansea, IL 62226 | 201339 | 05/12/2006 | IL | PET/CT Imaging Center.
Palm Beach Cancer Institute—West Palm Beach, 1309 North Flagler Drive, West Palm Beach, FL 33401-2710 | 34754 | 05/12/2006 | FL
Overlook Hospital, 99 Beauvoir Avenue, Summit, NJ 07902 | 8772966189 | 05/12/2006 | NJ
Ashland Bellefonte Cancer Center, 122 Saint Christopher Drive, Ashland, KY 41101 | 2150 | 05/12/2006 | KY
Bryn Mawr Imaging Center, 101 S. Bryn Mawr Avenue, Bryn Mawr, PA 19010 | 473120 | 05/12/2006 | PA
Oncology Alliance, 1055 N. Mayfair Road, Suite 100, Wauwatosa, WI 53220 | 32836000 | 05/12/2006 | WI
Shared PET Maimonides, 6300 Eighth Avenue, Brooklyn, NY 11220 | 97Z661 | 05/12/2006 | NY
Hoboken Radiology, LLC, 79 Hudson Street, Suite 100, Hoboken, NJ 07030 | 80395 | 05/12/2006 | NJ
Akron City Hospital, 525 E. Main Street, Akron, OH 44309 | 360020 | 05/12/2006 | OH
Park Avenue Radiologists, PC, 525 E. Main Street, Rome, GA 30165 | W21771 | 05/12/2006 | NY
Comprehensive Blood & Cancer Center, 6501 Truxtun Avenue, Bakersfield, CA 93309 | zzz238732 | 05/12/2006 | CA
Rome Imaging Center, 309 West 10th Street, Rome, GA 30165 | GRP1221 | 05/12/2006 | GA
Hawaii PET Imaging, 2230 Liliha Street, Honolulu, HI 96817 | 54537 | 05/12/2006 | HI
Imaging Consultants, Inc. at Henry Heywood Hospital, 242 Green Street, Gardner, MA 01440 | 327085 | 05/12/2006 | MA
Imaging Consultants, Inc. at Nashoba Valley Medical Center, 200 Groton School Road, Ayer, MA 01432 | 327085 | 05/12/2006 | MA
Rhode Island PET Services at Memorial Hospital, 111 Brewster Street, Pawtucket, RI 2860 | 479003556 | 05/12/2006 | RI
Osceola Cancer Center, 737 W. Oak Street, Kissimmee, FL 34741 | 1629034202 | 05/12/2006 | FL
Valley Radiologists, Ltd.—Paseo II Office, 5605 W. Eugie Avenue, Suite 110, Glendale, AZ 85304 | 1902896236 | 06/13/2006 | AZ
Southeast GYN, Oncology PET, 5210 Belfort Road, Suite 130, Jacksonville, FL 32256 | 45542 | 06/13/2006 | FL
The Johns Hopkins PET Center, 600 N. Wolfe Street, Baltimore, MD 21287 | 210009 | 06/13/2006 | MD | Nelson Basement.
Maklansky, Grunter, Kurzban, Cohen, Zimmer, Hyman, 165 East 84th Street, New York, NY 10028 | W20393 | 06/13/2006 | NY
Methodist Medical Center of Illinois, 112 Crescent Avenue, Peoria, IL 61636 | 370661223 | 06/13/2006 | IL
Phoebe Putney Memorial Hospital, 417 Third Avenue, PO Box 1828, Albany, GA 31702-1828 | 110007 | 06/13/2006 | GA
Eiber Radiology/PET Premier Imaging, 21 West 49th Street, Hialeah, FL 33012 | k3166 | 06/13/2006 | FL
Botsford Hospital, 28050 Grand River Avenue, Farmington Hills, MI 48336 | 230151 | 06/13/2006 | MI
Middletown Regional Hospital, 105 McKnight Drive, Middletown, OH 45044 | 360076 | 06/13/2006 | OH
Waukesha Memorial Hospital, 725 American Avenue, Waukesha, WI 53188 | 390910727 | 06/13/2006 | WI
Battle Creek Health System, 300 North Avenue, Battle Creek, MI 49016 | 230075 | 06/13/2006 | MI
Orlando Regional Medical Center, 1414 Kuhl Avenue, Orlando, FL 32806 | 100006 | 06/13/2006 | FL
NorthEast Medical Center, 1065 NorthEast Gateway Court NE, Concord, NC 28025 | 340001 | 06/13/2006 | NC
Premier Medical Imaging, 7651 Stagers Loop, Delaware, OH 43015 | 9912921 | 06/13/2006 | OH
Advanced Radiolgy Consultants, 15 Corporate Drive, Trumbull, CT 6611 | C02747 | 06/13/2006 | CT
Advance PET Imaging, 23 Technology Drive, East Setauket, NY 11733 | 46a401 | 06/13/2006 | NY
Premier PET Imaging of Wichita, 500 S. Main Street, Suite B, Wichita, KS 67202 | 110682 | 06/13/2006 | KS
Health Center Northwest, 320 Sunnyview Lane, Kalispell, MT 59901 | 270087 | 06/13/2006 | MT
Olympic Medical Center, 844 N. 5th Avenue, Sequim, WA 98382 | 500072 | 06/13/2006 | WA
Premier PET Imaging of Jacksonville, 5210 Belfort Road, Suite 130, Jacksonville, FL 32256 | K3166 | 06/13/2006 | FL
PET/CT Imaging of San Jose, 2211 Moorpark Avenue, Suite 220, San Jose, CA 95128 | ZZZ19866Z | 06/13/2006 | CA
The Reading Hospital and Medical Center, 6th and Spruce Streets, West Reading, PA 19611 | 390044 | 06/13/2006 | PA
Julia Rackley Perry Memorial Hospital, 530 Park Avenue East, Princeton, IL 61356 | 141337 | 06/13/2006 | IL
Ashland Bellefonte Cancer Center, 122 Saint Christopher Drive, Ashland, KY 41101 | 2150 | 06/13/2006 | KY
Tower Imaging BBD, 14231 Bruce B Down Boulevard, Tampa, FL 33613 | 169 | 06/13/2006 | FL
VyMed Diagnostic Imaging Tampa, LLC, 10010 N. Dale Mabry, Suite 160, Tampa, FL 33618 | U4068 | 06/13/2006 | FL
Texas Oncology Cancer Center Sugar Land, 1350 First Colony Boulevard, Sugar Land, TX 77479 | 00073F | 06/13/2006 | TX
Samaritan North Health Center, 9000 N. Main Street, Dayton, OH 45415 | 360052 | 06/13/2006 | OH
The PET Center of Oxford, 1612 US Highway 78 East, Suite 102, Oxford, AL 36203 | 51554888 | 06/13/2006 | AL
Shared PET Mem Lighthouse, 6901 N. Main Street, Granger, IN 46530 | 232800 | 06/13/2006 | IN
Shared PET Hope Cancer Center, 3702 South Fourth Street, Terre Haute, IN 47802 | 201320 | 06/13/2006 | IN
Athens Regional Medical Center, 1199 Prince Avenue, Athens, GA 30606 | 110074 | 06/13/2006 | GA
Muskogee PET & Nuclear Imaging, 3300 Chandler Road, Suite #106 Muskogee, OK 74403 | 400522529 | 06/13/2006 | OK
Lubbock Imaging Center, 4011 19th Street, Lubbock, TX 79410 | 00027K | 06/13/2006 | TX
Memorial Medical Center, 701 N. First Street, Springfield, IL 62781 | 140148 | 06/13/2006 | IL
Hamamatsu/Queen's PET Imaging Center, 1301 Punchbowl Street, Honolulu, HI 96813 |  | 06/13/2006 | HI
Aurora BayCare Medical Center, 2845 Greenbrier Road, Green Bay, WI 54308 | 520193 | 06/13/2006 | WI
Medical Center of Plano, 3901 W. 15th Street, Plano, TX 75002 | 450651 | 06/13/2006 | TX
Carolinas Medical Center, 1000 Blythe Boulevard, Charlotte, NC 28203 | 340113 | 06/13/2006 | NC
Redwood Regional Medical Group d.b.a. Santa Rosa Radiology, 121 Sotoyome Street, Santa Rosa, CA 95405 | 680344865 | 06/13/2006 | CA
Boone Hospital Center, 1600 East Broadway, Columbia, MO 65201 | 260068 | 06/13/2006 | MO
River Radiology, 45 Pine Grove Avenue, Kingston, NY 12401 | W30681 | 06/13/2006 | NY
University of Washington Medical Center, 1959 NE Pacific Street, Seattle, WA 98195 | 142700 | 06/13/2006 | WA
Mid American Imaging—Salem, 1987 E. 4th Street, Salem, OH 44460 | ID00804 | 06/13/2006 | OH
Piedmont Medical Center, 222 S. Herlong Avenue, Rock Hill, SC 29732 | 420002 | 06/13/2006 | SC
Alliance Imaging—Sparks, 1311 South I Street, Fort Smith, AR 72817 | 5F463 | 06/13/2006 | AR
Radiology Imaging Associates, 1825 SE Tiffany Avenue, Suite 104, Port St. Lucie, FL 34952 | 52 | 06/13/2006 | FL
Mount Sinai Medical Center, One Gustave L. Levy Place, New York, NY 10029 | H23620 | 06/13/2006 | NY
NSMS—Ottawa, IL, 4253 Argosy Court, Madison, WI 53714 | 208196 | 06/13/2006 | WI
Center for Diagnostic Imaging, 1550 E. Chestnut Avenue, Vineland, NJ 08360 | 53290 | 06/13/2006 | NJ | Bldg 4, Suite A.
St. Mary Mercy Hospital—Livonia, 36475 Five Mile Road, Livonia, MI 48154 | 230002 | 06/13/2006 | MI
Harold Leever Regional Cancer, 1075 Chase Parkway, Waterbury, CT 06708 | 470000025 | 06/13/2006 | CT
Kentucky Metabolic Imaging, 2425 Regency Road, Suite B, Lexington, KY 40503 | 9366001 | 06/13/2006 | KY
Western Baptist Hospital, 2501 Kentucky Avenue, Paducah, KY 42001 | 180104 | 06/13/2006 | KY
St. Anthony Regional Hospital, 311 South Clark Street, Box 628, Carroll, IA 51401 | 1720067127 | 06/13/2006 | IA
Alliance Imaging—Sequoia Hospital, 170 Alameda De Las Pulgas, Redwood City, CA 94062 | ZZZ28890Z | 06/13/2006 | CA
Craven Regional Medical Center, 2000 Neuse Boulevard, New Bern, NC 28560 | 340131 | 06/13/2006 | NC
Alliance Imaging—Tri City Medical Center, 4002 Vista Way, Oceanside, CA 92056 | TG281C | 06/13/2006 | CA
Alliance Imaging—Yavapai, Del Webb Outpatient Center, Prescott Valley, AZ 86314 | 76103 | 06/13/2006 | AZ | 3262 Windsong Drive.
Saint Vincent's Comprehensive Cancer Center, 325 West 15th Street, New York, NY 10011 | 330290 | 06/13/2006 | NY
Alliance Imaging—Southwest Medical Imaging, 3104 Stockton Hill Road, Kingman, AZ 86401 | 76103 | 06/13/2006 | AZ
Alliance Imaging—North Idaho Imaging, 700 Ironwood Drive, Coeur d'Alene, ID 93814 | 1790291 | 06/13/2006 | ID
Froedtert Hospital, 9200 W. Wisconsin Avenue, Milwaukee, WI 53226 | 520177 | 06/13/2006 | WI
Alliance Imaging—Flagstaff Medical Center, 1200 N. Beaver Street, Flagstaff, AZ 86001 | 71855 | 06/13/2006 | AZ
South Florida Oncology and Hematology Consultants, 4850 W. Oakland Park Boulevard, Lauderdale Lakes, FL 33313 | 33873 | 06/13/2006 | FL | Suite A.
Alliance Imaging—Sierra Vista, 300 El Camino Real, Sierra Vista, AZ 85635 | 71855 | 06/13/2006 | AZ
Alliance Imaging—St. Joseph Eureka, 2700 Dolbeer Street, Eureka, CA 95501 | zzz23046z | 06/13/2006 | CA
Alliance Imaging—Corvallis Clinic, 3680 NW Samaritan Drive, Corvallis, OR 97330 | 132104 | 06/13/2006 | OR
Bridgeport Hospital, 267 Grant Street, Bridgeport, CT 06610 | 70010 | 06/13/2006 | CT
Valley Radiologists, Ltd.—Paseo II Office, 5605 W. Eugie Avenue, Glendale, AZ 85304 | 1902896236 | 06/13/2006 | AZ | Suite 110.
Central Texas Medical Center, 1301 Wonder World Drive, San Marcos, TX 78666 | 450272 | 06/13/2006 | TX
Alliance Imaging—Verde Valley Medical Center, 269 S. Candy Lane, Cottonwood, AZ 86326 | 76103 | 06/13/2006 | AZ
Alliance Imaging—Union Hospital Cecil, 106 Bow Street, Elkton, MD 21821 | FMN008 | 06/13/2006 | MD
St. Joseph Mercy Hospital—Ann Arbor, 5301 E. Huron River Road, Ann Arbor, MI 48106 | 230156 | 06/13/2006 | MI
Alliance Imaging—Navapache, 2200 E. Show Low Lake, Show Low, AZ 85901 | 76103 | 06/13/2006 | AZ
St. Clare Medical Center, 1710 Lafayette Road, Crawfordsville, IN 17933 | 150022 | 06/13/2006 | IN
Boynton Beach EFL, Imaging Center, LLC, 2300 S. Congress Avenue, Boynton Beach, FL 33426 | 272376000 | 06/13/2006 | FL | #105.
Aurora Medical Center Oshkosh, 855 N. Westhaven Drive, Oshkosh, WI 54904 | 590198 | 06/13/2006 | WI
Southeast GYN, Oncology PET, 5210 Belfort Road, Jacksonville, FL 32256 | 45542 | 06/13/2006 | FL | Suite 130.
Stockton MRI & Molecular Imaging Medical Center, 2320 N. California Street #2, Stockton, CA 95219 | ZZZ290872 | 06/13/2006 | CA
South Texas Cancer Center, 2150 N. Expressway 83, Brownsville, TX 78521 | 14041756 | 06/13/2006 | TX
Southwest Cancer Care Medical Group, 5395 Ruffin Road, San Diego, CA 92123 | W4957B | 06/13/2006 | CA | #202.
Radiology Associates of Venice and Englewood, PA, 512-516 S. Nokomis Avenue, Venice, FL 34285 | 99390 | 06/13/2006 | FL
Langlade Memorial Hospital Oncology, 112 E. 5th Avenue, Antigo, WI 54409 | 521350 | 06/13/2006 | WI
RCOA Imaging Services, 305 South 5th Street, Enid, OK 73701 | 400522301 | 06/13/2006 | OK
North Shore Hematology Oncology Associates, PC, 235 N. Belle Mead Road, East Setauket, NY 11733 | W04051 | 06/13/2006 | NY
Providence Holy Cross Imaging Center, 26357 McBean Parkway, Suite 155, Santa Clarita, CA 91355 | TP129 | 06/13/2006 | CA
Alaska Open Imaging Center, LLC, 6911 DeBarr Road, Anchorage, AK 99504 | K153149 | 06/13/2006 | AK
Temecula Valley Nuclear Medicine, 25485 Medical Center Drive, Murrieta, CA 92562 | 00A417170 | 06/13/2006 | CA | Suite 102.
Hematology Oncology Assoc. of the Treasure Coast, 1801 SE Hillmoor Drive, Port Saint Lucie, FL 34952 | 40806 | 06/13/2006 | FL | Suite B-107 (Mobile).
The Center for Cancer and Blood Disorders, 800 W. Magnolia Avenue, Fort Worth, TX 76104 | 00L79L | 06/13/2006 | TX
Alliance Imaging—South Coast Medical Cente, r 31872 Pacific Coast Highway, Laguna Beach, CA 92651 | TG281B | 06/13/2006 | CA
The Medical Center at Bowling Green, 250 Park Street, Bowling Green, KY 42101 | 180013 | 06/13/2006 | KY | PET/CT Center.
Johns Hopkins Bayview Medical Center, 4940 Eastern Avenue, Baltimore, MD 21224 | 210029 | 06/13/2006 | MD | Imaging Department—Nuclear Medicine,
University of Michigan, Department of Radiology, 1500 E. Medical Center Drive, Ann Arbor, MI 48109 | 230046 | 06/13/2006 | MI | Box 0028, B1H418 University Hospital.
Carmichael Imaging, LLC, 4147 Carmichael Road, Montgomery, AL 36106 | 51551742 | 06/13/2006 | AL
Clearfield Hospital, 809 Turnpike Avenue, Clearfield, PA 16830 | 390052 | 06/13/2006 | PA
Clinical Pet of Hernando, 4003 Mariner Boulevard, Spring Hill, FL 34609 | V2683 | 06/13/2006 | FL
Booth Radiology, 105 Kings Way, W. Hurffville-Crosskeys Road, Sewell, NJ 08080 | 39460 | 06/13/2006 | NJ
Clinical PET of Zephyrhills, 38044 Daughtery Road, Zephyrhills, FL 33542 | E7179B | 06/13/2006 | FL
Radiology & Diagnostic Imaging, 2200 East Parrish Avenue, Owensboro, KY 42303 | 3641 | 06/13/2006 | KY | Building D.
Santa Monica Bay Physicians, 12524 W. Washington Boulevard, Los Angeles, CA 90066 | W14560 | 06/13/2006 | CA
Missouri Baptist Medical Center, 3023 N. Ballas Road, St. Louis, MO 63141 | 260108 | 06/13/2006 | MO | Suite 150, Building D.
Radiology Associates of Tallahassee, PA, 1600 Phillips Road, Tallahassee, FL 32308 | 60 | 06/13/2006 | FL
Pacific Imaging—Oakland, 3200 Telegraph Avenue, Oakland, CA 94609 | 1265480099 | 06/13/2006 | CA
Medical Group of North County, 5395 Ruffin Road #202, San Diego, CA 92123 | W11609 | 06/13/2006 | CA | #202.
Somerset Community Hospital, 225 South Center Avenue, Somerset, PA 15501 | 390039 | 06/13/2006 | PA
Elmbrook Memorial Hospital, 19333 W. North Avenue, Brookfield, WI 53045 | 520170 | 06/13/2006 | WI
San Luis Diagnostic Medical Associates, 1100 Monterey Street, San Luis Obispo, CA 93401 | W14221 | 06/13/2006 | CA | Suite 210.
Cancer Care Centers of S.Texas, PA (New Braunfels), 1448 Common Street, New Braunfels, TX 78130 | 00U40Q | 06/13/2006 | TX
Cancer Care Centers of S.Texas, PA (San Antonio), 8109 Fredericksburg Road, San Antonio, TX 78229 | 00U40Q | 06/13/2006 | TX
Cancer Care Centers of S.Texas, PA (Kerrville), 694 Hill Country Drive, Kerrville, TX 78028 | 00U40Q | 06/13/2006 | TX
San Antonio Molecular Imaging SAMI, 9102 Floyd Curl Drive, San Antonio, TX 78240 | FTN025 | 06/13/2006 | TX | Suite 193.
Pacific Medical Imaging and Oncology Center, Inc., 707 South Garfield Avenue, Alhambra, CA 91801 | W19267 | 06/13/2006 | CA | Suite B-001.
Northern IL Cancer Treatment Center, 327 IL Route 2, Dixon, IL 61021 | 210699 | 06/13/2006 | IL
Cancer Care Center, 2210 Green Valley Road, New Albany, IN 47150 | 243690 | 06/13/2006 | IN | Suite 1.
Northeast Radiology, 3839 Danbury Road, Brewster, NY 10509 | 1134118607 | 06/13/2006 | NY
New England PET Imaging System, 70 East Street, Methuen, MA1844 | M20762 | 06/13/2006 | MA
Southeast Texas PET Imaging, 690 North 14th Street, Beaumont, TX 77702 | 0004CC | 06/13/2006 | TX
Sun City West PET Scan, 14418 W. Meeker Boulevard, Sun City West, AZ 85374 | 102496 | 06/13/2006 | AZ | Suite 105.
Butler Memorial Hospital, 911 East Brady Street, Butler, PA 16001 | 390168 | 06/13/2006 | PA
Diagnos, Inc., d.b.a. Diagnos PET/CT Imaging, 2000 North Loop West, Houston, TX 77018 | ftnx11 | 06/13/2006 | TX | Suite 100.
Alliance Imaging—Washington Hospital, 38950 Civic Center Drive, Fremont, CA 94538 | ZZZ28890Z | 06/13/2006 | CA
Providence Saint Joseph Hospital, 201 S. Buena Vista Street, Burbank, CA 91505 | 50235 | 06/13/2006 | CA | #125.
Alliance Imaging—Centinela Freeman, 333 Prairie Avenue, Inglewood, CA 90301 | TG281 | 06/13/2006 | CA
Alliance Imaging—Corona Regional Hospital, 800 S. Main Street, Corona, CA 91720 | ZZZ23042Z | 06/14/2006 | CA
Alliance Imaging—St. Mary's Regional Medical Center, 235 W. 6th Street, Reno, NV 89503 | 37860 | 06/14/2006 | NV | 235 W. 6th Street.
Alliance Imaging—Downey Regional Medical Center, 11500 Brookshire Avenue, Downey, CA 90241 | TG490 | 06/14/2006 | CA
Alliance Imaging—Visalia Medical Clinic, 5400 W. Hillsdale Drive, Visalia, CA 93291 | ZZZ23046Z | 06/14/2006 | CA
Alliance Imaging—Anaheim Memorial Medical Center, 1111 W. La Palma Avenue, Anaheim, CA 92801 | TD017C | 06/14/2006 | CA | Anaheim Memorial Medical Center.
Glendale Diagnostic Imaging Network Medical Office, 403 South Glendale Avenue, Glendale, CA 91205 | W19100 | 06/14/2006 | CA
Advanced Imaging at Baybrook, 11 Murray Street, Glens Falls, NY 12801 | 33554a | 06/14/2006 | NY
Elizabethtown Hematology-Oncology PLC, 1107 Woodland Drive, Elizabethtown, KY 42701 | 3638 | 06/14/2006 | KY | Suite 105.
Northern Arizona Radiology, 77 W. Forest Avenue, Suite 101, Flagstaff, AZ 86001 | WCGJX | 06/14/2006 | AZ
Suburban Imaging—Coon Rapids, 8990 Springbrook Drive, Suite 140, Coon Rapids, MN 55433 | 3087 | 06/14/2006 | MN
Covenant Medical Center, 200 East Ridgeway Avenue, Waterloo, IA 50702 | 421264647 | 06/14/2006 | IA
Mayo Clinic Rochester, 10 3rd Avenue NW, Rochester, MN 55905 | 1922074434 | 06/14/2006 | MN | Charlton Building.
Thousand Oaks Diagnostic Imaging Center, 2180 Lynn Road, Thousand Oaks, CA 91360 | TP118 | 06/14/2006 | CA
InnerVision Advanced Medical Imaging, 3801 Amelia Avenue, Lafayette, IN 47905 | 167840 | 06/14/2006 | IN
UT-M. D. Anderson Cancer Center—PET Facility, 1220 Holcombe Boulevard, Houston, TX 77030 | 450076 | 06/14/2006 | TX | ACB 6th Floor.
Emory University Hospital, 1364 Clifton Road, NE, Atlanta, GA 30322 | 110010 | 06/14/2006 | GA | Rm. E121 Nuclear Medicine/PET.
Glendale MRI Institute, 624 S. Central Avenue, Glendale, CA 91204 | HW9951 | 06/14/2006 | CA
Princeton Radiology, 9 Centre Drive, Jamesburg, NJ 08831 | 526492 | 06/14/2006 | NJ
Caromont Imaging Services, 620 Summit Crossing Place, Gastonia, NC 28054 | 340032 | 06/14/2006 | NC | Suite 106.
North Central Imaging, 155 Sonterra Boulevard, Suite 100, San Antonio, TX 78258 | 00867N | 06/14/2006 | TX
Robert L. B. Tobin Diagnostic Imaging Center, 7979 Wurzbach Drive, Suite U113, San Antonio, TX 78229 | 00867N | 06/14/2006 | TX
Edwards Comprehensive Cancer Center, 1400 Hal Greer Boulevard, Huntington, WV 25701 | 510055 | 06/14/2006 | WV
Home Hospital GLHS, 2400 South Street, Lafayette, IN 47904 | 150109 | 06/14/2006 | IN
St. Luke's North PET, 153 Brodhead Road, Bethlehem, PA 18017 | 390049 | 06/14/2006 | PA
Alamance Regional Medical Center, 1240 Huffman Mill Road, Burlington, NC 27216-0202 | 340070 | 06/14/2006 | NC | PO Box 202.
Verrazano Radiology, 256 Mason Avenue, Staten Island, NY 10305 | 1698 | 06/14/2006 | NY
Total Imaging Sun City, 3862 Sun City Center, Sun City Center, FL 33571 | U4840 | 06/14/2006 | FL
Ortonville Area Health Services, 450 Eastvold Avenue, Ortonville, MN 56278 | 241342 | 06/14/2006 | MN
Merle West Medical Center, 2865 Daggett Avenue, Klamath Falls, OR 97601 | 380050 | 06/14/2006 | OR
Elite Imaging, LLC, 2845 Aventura Boulevard, Aventura, FL 33180 | K3535 | 06/14/2006 | FL | Suite 145.
St. Mary Centralia, 400 N. Pleasant Avenue, Centralia, IL 62801 | 140034 | 06/14/2006 | IL
North Texas Regional Cancer Center, 3705 W. 15th Street, Plano, TX 75075 | 00543K | 06/14/2006 | TX
Centegra Health System, 4201 Medical Center Drive, McHenry, IL 60050 | 140116 | 06/14/2006 | IL
Boston Diagnostic Imaging, 398 East Altamonte Drive, Altamonte Springs, FL 32701 | 77022 | 06/14/2006 | FL
William W. Backus Hospital, 326 Washington Street, Norwich, CT 06360 | 70024 | 06/14/2006 | CT
NSMS—Sparta, IL, 4253 Argosy Court, Madison, WI 53714 | 208196 | 06/14/2006 | WI
LaPorte Hospital & Healthcare Services, 1007 Lincolnway, LaPorte, IN 46350 | 150006 | 06/14/2006 | IN
Skagit Valley Hospital, 1415 E. Kincaid Street, Mt.Vernon, WA 98273 | 500003 | 06/14/2006 | WA
Alliance Imaging—Fairfield Hospital, 303 NW 11th Street, Fairfield, IL 62837 | 213393 | 06/14/2006 | IL
Anderson Hospital, 6800 State Route 162, Maryville, IL 62062 | 212761 | 06/14/2006 | IL
Alliance Imaging—Dean, 1313 Fish Hatchery Road, Madison, WI 53715 | 92170 | 06/14/2006 | WI
Alliance Imaging—Research, 2316 E. Meyer Boulevard, Kansas City, MO 64112 | 9004263A | 06/14/2006 | MO
Alliance Imaging—St. Joseph, 1000 Carondelet Drive, Kansas City, MO 64114 | 9004263A | 06/14/2006 | MO
Beebe Health Campus, d.b.a. Beebe Medical Center, 18941 John J. Williams Highway, Rehoboth, DE 19971 | 80007 | 06/14/2006 | DE
Medical Outsourcing Services, LLC, 1200 Maple Road, Joliet, IL 60432 | 211223 | 06/14/2006 | IL
Silver Spring Radiology, 10801 Lockwood Drive, Silver Spring, MD 20901 | FDX009 | 06/14/2006 | MD | STE 170.
New England PET of Greater Lowell, 295 Varnum Avenue, Lowell, MA 01854 | 327080 | 06/14/2006 | MA
Stanford University, 900A Blake Wilbur Drive, Stanford, CA 94305 | 50441 | 06/14/2006 | CA
Medical Outsourcing, Services, LLC, 3333 W. DeYoung Street, Marion, IL 62959 | 211224 | 06/14/2006 | IL
Medical Outsourcing Services, LLC, 1700 Clinton Street, Muskegon, MI 49443 | 230066 | 06/14/2006 | MI
Medical Outsourcing Services, LLC, 1001 Bellefontaine Avenue, Lima, OH 45807 | MEID02391 | 06/14/2006 | OH
Golf Diagnostic Imaging Center, 9680 Golf Road, Des Plaines, IL 60016 | 378810 | 06/14/2006 | IL
Medical Outsourcing Services, LLC, 2816 South Ellis Avenue, Chicago, IL 60616 | 211222 | 06/14/2006 | IL
Medical Outsourcing Services, LLC, 1100 E. Norris Drive, Ottawa, IL 61350 | 211224 | 06/14/2006 | IL
Medical Outsourcing Services, LLC, 111 E. Spring Street, Streator, IL 61364 | 211224 | 06/14/2006 | IL
Mansfield Imaging Center, 536 S. Trimble Road, Mansfield, OH 44906 | MAD10921 | 06/14/2006 | OH | Suite A.
Manhattan Diagnostic Radiology, 400 East 66th Street, New York, NY 10021 | W23211 | 06/14/2006 | NY
Riverside Walter Reed Hospital, 7519 Hospital Drive, Gloucester, VA 23061 | 490130 | 06/14/2006 | VA
Good Shepherd Hospital, 450 West Highway 22, Barrington, IL 60010 | 140291 | 06/14/2006 | IL
Alliance Imaging—Presbyterian Intercomm Hospital, 12401 Washington Boulevard, Whittier, CA 90602 | TG281A | 06/14/2006 | CA | Presbyterian Intercommunity Hospital.
Altru Hospital, 1200 S. Columbia Road, Grand Forks, ND 58201 | 350019 | 06/14/2006 | ND
Mid American Imaging—Union Hospital, 659 Boulevard Street, Dover, OH 44622 | ID00805 | 06/14/2006 | OH
Gundersen Clinic, 1900 South Avenue, Lacrosse, WI 54601 | 34217 | 06/14/2006 | WI
University of Minnesota Medical Center, Fairview, 500 Harvard Street, SE, Box 292, Minneapolis, MN 55455 | C02390 | 06/14/2006 | MN
The Christ Hospital, 2139 Auburn Avenue, Cincinnati, OH 45219 | 360163 | 06/14/2006 | OH
West Michigan Cancer Center, 200 N. Park Street, Kalamazoo, MI 49007 | 0N66660 | 06/14/2006 | MI
Cyrus Diagnostic Imaging, Inc., 165 Waymont Court, Lake Mary, FL 32746 | 40586 | 06/14/2006 | FL
Cancer Centers of Florida, 1561 West Fairbanks Avenue, Winter Park, FL 32789 | K1833 | 06/14/2006 | FL
Cedars-Sinai Medical Center, 8700 Beverly Boulevard, Adler-Nail PET Center, Los Angeles, CA 90048 | 951644600 | 06/14/2006 | CA | S. Mark Taper Foundation Imaging Center.
Cancer Centers of Florida, 52 West Gore Street, Orlando, FL 32806 | K1833 | 06/14/2006 | FL
Cancer Centers of Florida, 1111 Blackwood Avenue, Ocoee, FL 34761 | K1833 | 06/14/2006 | FL
Mt. Clemens Regional Medical Center, 1000 Harrington Street, Mt. Clemens, MI 48043 | 230227 | 06/14/2006 | MI
Truxtun Radiology Medical Group, LP, 1818 16th Street, Bakersfield, CA 93301 | ZZZ25213Z | 06/14/2006 | CA
Medical Outsourcing Services, LLC, 1515 North Madison Avenue, Anderson, IN 46011 | 223260 | 06/14/2006 | IN
Medical Outsourcing Services, LLC, 1215 Franciscan Drive, Litchfield, IL 62056 | 211224 | 06/14/2006 | IL
Piedmont Medical Center, 1968 Peachtree Road, NW, Atlanta, GA 30305 | 110083 | 06/14/2006 | GA
Medical Outsourcing Services, LLC, 1400 West Park Street, Urbana, IL 61801 | 211224 | 06/14/2006 | IL
Central Indiana PET, LLC, 8301 Harcourt Road, Suite 100, Indianapolis, IN 46260 | 201930 | 06/14/2006 | IN
Medical Outsourcing Services, LLC, 812 North Logan Avenue, Danville, IL 61832 | 211224 | 06/14/2006 | IL
Queens Medical Imaging, PC, 69-15 Austin Street, Forest Hills, NY 11375 | 1023011285 | 06/14/2006 | NY
NYOH PET/CT Imaging, 43 New Scotland Avenue, Albany, NY 12208 | 56917A | 06/14/2006 | NY
Conroe Regional Medical Center, 504 Medical Center Boulevard, Conroe, TX 77304 | 450222 | 06/14/2006 | TX
Northeast Georgia Health System, Inc., Northeast Georgia Medical Center, 743 Spring Street, Gainesville, GA 30501 | 110029 | 06/14/2006 | GA
Texas Oncology, PA—Mckinney, 4510 Medical Center Drive, Mckinney, TX 75069 | 00543K | 06/14/2006 | TX | #215.
Medical Outsourcing Services, LLC, 7150 Clearwater Drive, Indianapolis, IN 46256 | 223260 | 06/14/2006 | IN
Medical Outsourcing Services, LLC, 1402 East County Line Road, Indianapolis, IN 46227 | 223260 | 06/14/2006 | IN
Texas Cancer Center—Sherman, 2800 Highway 75 North, Sherman, TX 75090 | 00543K | 06/14/2006 | TX
Medical Outsourcing Services, LLC, 120 Ralston Avenue, Defiance, OH 43512 | MEID02391 | 06/14/2006 | OH
Medical Outsourcing Services, LLC, 2400 N. Rockton Avenue, Rockford, IL 61103 | 211224 | 06/14/2006 | IL
Arlington Cancer Center, 906 W. Randol Mill Road, Arlington, TX 76012 | 00LK20 | 06/14/2006 | TX
Jupiter Medical Center, 2055 Military Trail, Jupiter, FL 33458 | 100253 | 06/14/2006 | FL
Cheyenne Radiology Group and MRI, PC, 2003 Bluegrass Circle, Cheyenne, WY 82009 | W309142 | 06/14/2006 | WY
Hunterdon Imaging, PA, 2100 Wescott Drive, MRI, Suite, Flemington, NJ 08822 | 714119 | 06/14/2006 | NJ
Medical Outsourcing Services, LLC, 200 Berteau Avenue, Elmhurst, IL 60126 | 211223 | 06/14/2006 | IL
Magnolia Regional Center, 611 Alcorn Drive, Corinth, MS 38834 | 250009 | 06/14/2006 | MS
Monroe Clinic, 515 22nd Avenue, Monroe, WI 53566 | 520028 | 06/14/2006 | WI
Jupiter Hematology-Oncology Associates, 345 Jupiter Lakes Boulevard, Jupiter, FL 33458 | 34922 | 06/14/2006 | FL | Ste.100.
Southwest Regional Cancer Center, 901 West 38th Street, Austin, TX 78705 | 0080BY | 06/14/2006 | TX
Positron Imaging Of Austin, 6101 Balcones Drive, Austin, TX 78731 | 00538K | 06/14/2006 | TX
Southern Ocean County Hospital, 1140 Route 72 West, Manahawkin, NJ 08050 | 310113 | 06/14/2006 | NJ | Radiology.
Medical Outsourcing Services, LLC, 9830 S. Ridgeland Road, Chicago Ridge, IL 60145 | 211222 | 06/14/2006 | IL
Medical Outsourcing Services, LLC, 430 West Votaw Street, Portland, IN 47374 | 223260 | 06/14/2006 | IN
Saint Agnes Medical Center, 1303 E. Herndon Avenue, Fresno, CA 93720 | 50093 | 06/14/2006 | CA
Central Physicians Imaging, 100 Southland Drive, Lexington, KY 40503 | 9375001 | 06/14/2006 | KY | Suite B.
NEA Medical Center, 3024 Stadium Boulevard, Jonesboro, AR 72401 | 1386699353 | 06/14/2006 | AR
Northgate Medical Imaging, LLC, 807 Northgate Boulevard, New Albany, IN 47150 | 1205894235 | 06/14/2006 | IN
Ball Memorial Hospital, 2401 University Avenue, Muncie, IN 47303 | 150089 | 06/14/2006 | IN
The MRI Center, 5200 Harroun Road, Sylvania, OH 43560 | 360074 | 06/14/2006 | OH | Flower Hospital.
St. Joseph Regional Health Center, 2801 Franciscan Drive, Bryan, TX 77802 | 450011 | 06/14/2006 | TX
Steinberg Diagnostic (SDMI), 2850 Siena Heights, Henderson, NV 89052 | WCHCC | 06/14/2006 | NV
Raritan Bay Medical Center, 1 Hospital Plaza, Old Bridge, NJ 08857 | 310039 | 06/14/2006 | NJ
MRI Center—St. Anne Mercy Hospital, 3404 W. Sylvania Avenue, Toledo, OH 43623 | 360262 | 06/14/2006 | OH
MRI Center—St. Charles Mercy Hospital, 2600 Navarre Avenue, Oregon, OH 43616 | 360081 | 06/14/2006 | OH
MRI Center—St. Luke's Hospital, 2901 Monclova Road, Maumee, OH 43537 | 360090 | 06/14/2006 | OH
MRI Center—St. Vincent Medical Center, 2213 Cherry Street, Toledo, OH 43608 | 360112 | 06/14/2006 | OH
MRI Center—Toledo Hospital, 2142 N. Cove Boulevard, Toledo, OH 43606 | 360068 | 06/14/2006 | OH
McAlester Regional Health Center, One Clark Bass Boulevard, McAlester, OK 74501 | 370034 | 06/14/2006 | OK
Express Imaging Center, Ltd., 1987 West Fourth Street, Mansfield, OH 44906 | 9299151 | 06/14/2006 | OH | Suite A.
Mercy Regional Medical Center, 375 East Park Avenue, Durango, CO 81301 | 60013 | 06/14/2006 | CO
Texas Oncology—Longview Cancer Center PET, 1300 N. Fourth Street, Longviews, TX 75601 | 00T35E | 06/14/2006 | TX
UNC Hospitals, 101 Manning Drive, Chapel Hill, NC 27514 | 3400610 | 06/14/2006 | NC | PET Department. Basement W/C Hospital.
DeKalb Medical Center—Diagnostic Imaging Center, 2701 North Decatur Road, Decatur, GA 30033 | 110076 | 06/14/2006 | GA
Long Island Pet Imaging, 6 Ohio Drive, Lake Success, NY 11042 | W4921 | 06/14/2006 | NY | Suite 101.
Vanderbilt University Medical Center, 1161 21st Avenue South, Nashville, TN 37232 | 3284867 | 06/14/2006 | TN | Building 1251 RRB.
Medical Outsourcing Services, LLC, 1800 E. Lakeshore Drive Decatur, IL 62521 | 211224 | 06/14/2006 | IL
New York PET and CTA Imaging Center, 7404 5th Avenue, Brooklyn, NY 11209 | 1083680003 | 06/14/2006 | NY
Mercy Medical Center—North Iowa, 1000 4th Street SW, Mason City, IA 50401 | 160064 | 06/14/2006 | IA
Lawrence and Memorial Hospital, 365 Motauk Avenue, New London, CT 06320 | 70007 | 06/14/2006 | CT
Superior Medical Diagnostics II, LLC, 235 Franklin Avenue, Nutley, NJ 07110 | 68423 | 06/14/2006 | NJ
Oncology Specialists, S.C., 7900 N. Milwaukee Avenue, Niles, IL 60714 | 587940 | 06/14/2006 | IL | Suite 16.
Hahnemann University Hospital, Broad & Vine, MS300, Philadelphia, PA 19102 | 390290 | 06/14/2006 | PA
Shrewsbury Diagnostic Imaging, LLC, 1131 Broad Street, Shrewsbury, NJ 07702 | 24021 | 06/14/2006 | NJ | Suite 110.
Medical Outsourcing Services, LLC, 500 West Court Street, Kankakee, IL 60901 | 211224 | 06/14/2006 | IL
Forsyth Medical Center, 3333 Silas Creek Parkway, Winston Salem, NC 27103 | 3400014 | 06/14/2006 | NC
Medical Outsourcing Services, LLC, 500 John Deere Road, Moline, IL 61265 | 211224 | 06/14/2006 | IL
Medical Outsourcing Services, LLC, 836 W. Wellington Avenue, Chicago, IL 60657 | 211222 | 06/14/2006 | IL
Medical Outsourcing Services, LLC, 1600 West Walnut, Jacksonville, IL 62650 | 211224 | 06/14/2006 | IL
Medical Outsourcing Services, LLC, 1600 23rd Street, Bedford, IN 47471 | 223260 | 06/14/2006 | IN
Medical Outsourcing Services, LLC, 1500 North Ritter Avenue, Indianapolis, IN 46219 | 223260 | 06/14/2006 | IN
Medical Outsourcing Services, LLC, 1221 N. Highland, Aurora, IL 60506 | 211223 | 06/14/2006 | IL
Medical Outsourcing Services, LLC, 1000 Lincoln Health Center Drive, Mattoon, IL 61938 | 211224 | 06/14/2006 | IL
Salinas Valley Memorial Healthcare System, 450 E. Romie Lane, Salinas, CA 93901 | 50334 | 06/14/2006 | CA
Bridgeport Hospital, 267 Grant Street, Bridgeport, CT 06610 | 70010 | 06/14/2006 | CT
MRIGP, Inc., d.b.a. Advanced Medical Imaging Diamond H., 2490 W 26th Avenue, Suite 20A, Denver, CO 80211 | H8808 | 06/14/2006 | CO
RCHO PET Imaging, 5120 Belfort Boulevard, Suite 130, Jacksonville, FL 32256 | 40259 | 06/14/2006 | FL
Presbyterian Hospital, 200 Hawthorne Lane, Charlotte, NC 28204 | 560554230 | 06/14/2006 | NC
Eisenhower Imaging Center, 39000 Bob Hope Drive, Rancho Mirage, CA 92210 | ZZZ91572Z | 06/14/2006 | CA | Lower Level Lucy Curci Cancer Center.
Mississippi Baptist Medical Center, 501 Marshall Street, Jackson, MS 39202 | 250102 | 06/14/2006 | MS
Texas Oncology—South Texas Cancer Center, 2121 Pease Street, Suite 101, Harlingen, TX 78550 | 14041756 | 06/14/2006 | TX | Texas Oncology—South Texas Cancer Center.
Valley Radiologists, Ltd.—Paseo II Office, 5605 W. Eugie Avenue, Suite 110, Glendale, AZ 85304 | WCFHS | 06/14/2006 | AZ
Good Samaritan Hospital, 400 15th Avenue SE, Puyallup, WA 98372 | 500079 | 06/14/2006 | WA
St. John's Mercy Hospital, 851 5th Street, Washington, MO 63090 | 260052 | 06/14/2006 | MO
Memorial Hermann The Woodlands OPID, 9200 Pinecroft Drive, Suite 100, The Woodlands, TX 77380 | 741152597 | 07/14/2006 | TX
St. Luke's Hospital, 232 South Wood's Mill Road, Chesterfield, MO 63017 | 260179 | 07/14/2006 | MO
Lake Vista Cancer Center, 2790 Lake Vista Drive, Lewisville, TX 75067 | 00543K | 07/14/2006 | TX
Palms Imaging Medical Group, Inc., 1901 Outlet Center Drive, Oxnard, CA 93036 | W19564 | 07/14/2006 | CA
Houston Medical Imaging, LLC, 3310 Richmond Avenue, Houston, TX 77006 | 00137K | 07/14/2006 | TX
Alliance Imaging—West Anaheim Medical Center, 3033 W. Orange Avenue, Anaheim, CA 92804 | TD017 | 07/14/2006 | CA
Winthrop PET Imaging Center, 222 Station Plaza North, Suite 140, Mineola, NY 11501 | 330167 | 07/14/2006 | NY
Greenville Hospital System, University Medical Center, 701 Grove Road, Greenville, SC 29605 | 420078 | 07/14/2006 | SC
High Field Open MRI, 1895 Jefferson Road, Rices Landing, PA 15357 | 7885 | 07/14/2006 | PA
PET/CT Center at St. Anthony's POB, 1201 5th Avenue North, St. Petersburg, FL 33705 | E5753 | 07/14/2006 | FL | Suite 100.
Texas Oncology—Deke Slayton Cancer Center, 501 Medical Center, Webster, TX 77598 | 00t40e | 07/14/2006 | TX
Invision North Florida Outpatient Imaging Center, 6605 NW 9th Boulevard, Gainesville, FL 32609 | E4639 | 07/14/2006 | FL
Memorial Hospital of Union County, 500 London Avenue, Marysville, OH 43040 | 360092 | 07/14/2006 | OH
Texas Oncology/South Texas Cancer Center—McAllen, 1901 S. 2nd Street, McAllen, TX 78503 | 00N39J | 07/14/2006 | TX
Baylor Medical Center at Irving, 1901 North MacArthur Boulevard, Irving, TX 75061 | 450079 | 07/14/2006 | TX
Providence Park Hospital, 47601 Grand River Avenue, Novi, MI 48374 | 230019 | 07/14/2006 | MI
Texas Oncology—Abilene, 1957 Antilley Road, Abilene, TX 79606 | 140414748 | 07/14/2006 | TX
St. Anthony Hospital, 1000 North Lee Street, Oklahoma City, OK 73101 | 370037 | 07/14/2006 | OK
Rice Memorial Hospital, 301 Becker Avenue SW, Willmar, MN 56201 | 240088 | 07/14/2006 | MN
LDS Hospital Nuclear Medicine, 8th Avenue & C Street, Salt Lake City, UT 84143 | 460010 | 07/14/2006 | UT
RMG First & Laurel Imaging Center, 2466 First Avenue, San Diego, CA 92101 | W14057 | 07/14/2006 | CA
RMG Gardenview Imaging Center, 1200 Gardenview Road, Encinitas, CA 92024 | W14057F | 07/14/2006 | CA | Suite 110.
Decatur County Memorial Hospital, 720 North Lincoln Street, Greensburg, IN 47240 | 150062 | 07/14/2006 | IN
Midland Imaging Center, 5001 Andrews Highway, Midland, TX 79703 | 00U75H | 07/14/2006 | TX
Advanced Imaging, LLC, 3433 NW 56th C-10, Oklahoma City, OK 73112 | 400522379 | 07/14/2006 | OK
University of Iowa Hospitals and Clinics, 200 Hawkins Drive, Iowa City, IA 52242 | 160058 | 07/14/2006 | IA
AZ Oncology Associates PET/CT & CT Imaging Center, 2070 W. Rudasill Road, Tucson, AZ 85704 | 25291 | 07/14/2006 | AZ | Suite 110.
Medical Diagnostic Imaging, 14 Raymond Avenue, Poughkeepsie, NY 12603 | EEN841 | 07/14/2006 | NY
Shore Memorial Hospital, 10085 William F. Bernart Circle, Nassawadox, VA 23413 | 540560500 | 07/14/2006 | VA
Deaconess Hospital, 600 Mary Street, Evansville, IN 47747 | 150082 | 07/14/2006 | IN
Great Neck Imaging, PC, 907 Northern Boulevard, Great Neck, NY 11021 | 1487646311 | 07/14/2006 | NY
FMH Rose Hill, 1562 Opossumtown Pike, Frederick, MD 21702 | KP72 | 07/14/2006 | MD
Oakwood Annapolis Hospital, 33155 Annapolis Road, Wayne, MI 48184 | 230142 | 07/14/2006 | MI
The Regional Cancer Center, 2500 West 12th Street, Erie, PA 16505 | 140052 | 07/14/2006 | PA
Meritcare Hospital, 801 North Broadway, Fargo, ND 58122 | 350011 | 07/14/2006 | ND
Community Hospitals and Wellness Centers, 433 W. High Street, Bryan, OH 43506 | 360121 | 07/14/2006 | OH
Sacred Heart Hospital, 900 W. Clairemont Avenue, Eau Claire, WI 54701 | 520013 | 07/14/2006 | WI
Via Radiology—Meridian Pavilion, 11011 Meridian Avenue North #101, Seattle, WA 98133 | 8859612 | 07/14/2006 | WA
Medical Outsourcing Services, LLC, 2200 Market Street, Charlestown, IN 47111 | 223260 | 07/14/2006 | IN
Allegheny General Hospital, 320 East North Avenue, Pittsburgh, PA 15232 | 60503 | 07/14/2006 | PA | Division of Nuclear Medicine.
Texas Oncology—12th Avenue, 1001 W. 12th Avenue, Fort Worth, TX 76104 | 00R66C | 07/14/2006 | TX
Southwest Fort Worth Cancer Center, 6500 Harris Parkway, Fort Worth, TX 76132 | 00R66C | 07/14/2006 | TX
St. Rita's Medical Center, 730 W. Market Street, Lima, OH 45801 | 360066 | 07/14/2006 | OH
New Mexico Oncology Hematology Consultants, Ltd., 4901 Lang Avenue NE, Albuquerque, NM 87109 | 850367056 | 07/14/2006 | NM
Emory Eastside Medical Center, 545 Old Norcross Road, Lawrenceville, GA 30045 | 110192 | 07/14/2006 | GA | Suite 200.
Riverside Regional Medical Center, 500 J. Clyde Morris Boulevard, Newport News, VA 23601 | 490052 | 07/14/2006 | VA
Connecticut Oncology & Hematology, 220 Kennedy Drive, Torrington, CT 06790 | C00633 | 07/14/2006 | CT
Chilton Memorial Hospital, 97 West Parkway, Pompton Plains, NJ 07444 | 310017 | 07/14/2006 | NJ
Riverside Diagnostic Center Williamsburg, 120 Kings Way, Williamsburg, VA 23188 | 490052 | 07/14/2006 | VA
Lawrence County MRI & Diagnostic Imaging Center, 2526 Wilmington Road, New Castle, PA 16105 | 68617 | 07/14/2006 | PA
Joint Township District Memorial Hospital, 200 St. Clair Street, Saint Marys, OH 45885 | 360032 | 07/14/2005 | OH
Radiation Therapy Regional Centers, 3680 Broadway, Fort Myers, FL 33901 | 77215 | 07/14/2006 | FL
Graduate Hospital, 1800 Lombard Street, Philadelphia, PA 19146 | 390285 | 07/14/2006 | PA | One Graduate Hospital.
Columbia Diagnostic Center, 1111 Paulison Avenue, Clifton, NJ 07015 | 94729 | 07/14/2006 | NJ
The Nebraska Medical Center, 4250 Dewey Avenue, Omaha, NE 68113 | 280013 | 07/14/2006 | NE
Memorial Hermann Memorial City OPID, 925 Gessner Road, Houston, TX 77024 | 741152597 | 07/14/2006 | TX
Clifton Springs Hospital and Clinic, 2 Coulter Road, Clifton Springs, NY 14432 | 330265 | 07/14/2006 | NY
Monongalia General Hospital, 1200 J. D. Anderson Drive, Morgantown, WV 26505 | 510024 | 07/14/2006 | WV | Monongalia General Hospital.
Providence Portland Medical Center, 4805 NE Glisan Street, Portland, OR 97213 | 380061 | 07/14/2006 | OR
Highfield Open MRI, Inc., 995 GreenTree Road, Pittsburgh, PA 15220 | 7885 | 07/14/2006 | PA
Providence St. Vincent Medical Center, 9205 SW Barnes Road, Portland, OR 97225 | 380004 | 07/14/2006 | OR
Conway Regional Imaging Center, 2120 Robinson Avenue, Conway, AR 72034 | 40029 | 07/14/2006 | AR
Martin Memorial Medical Center, 300 Hospital Avenue, Stuart, FL 34994 | 100044 | 07/14/2006 | FL
Northwest Medical Foundation of Tillamook, 1000 Third Street, Tillamook, OR 97141 | 381317 | 07/14/2006 | OR | Tillamook County General Hospital.
O'Connor Hospital, 2105 Forest Avenue, San Jose, CA 95128-1471 | 50153 | 07/14/2006 | CA
Midtown Imaging, LLC—Wellington, 440 N. State Road 7, Wellington, FL 33411 | E9133 | 07/14/2006 | FL
Midtown Imaging, LLC—Jupiter, 345 Jupiter Lakes Boulevard, Jupiter, FL 33458 | E9133 | 07/14/2006 | FL | Suite 100.
MMI/Mid Coast Hospital, 51 US Route 1, Scarborough, ME 04074 | 327079 | 07/14/2006 | ME | Suite O.
Molecular Imaging Institute, 5349 Commerce Boulevard, Crown Point, IN 46307 | 192870 | 07/14/2006 | IN
RCOA Imaging Services, 11937 US Highway 271, Tyler, TX 75708 | FTN022 | 07/14/2006 | TX
MMI/Maine Medical Center, 51 US Route 1, Scarborough, ME 4074 | 327079 | 07/14/2006 | ME | Suite O.
Radiology, Ltd., 4640 East Camp Lowell Drive, Tucson, AZ 85712 | WCBBM | 07/14/2006 | AZ
Intermed Oncology Associates, S.C., 6701 159th Street, Tinley Park, IL 60477 | 610860 | 07/14/2006 | IL
Lakes Radiology, 450 Canisteo Street, Hornell, NY 14843 | 1710937727 | 07/14/2006 | NY
Opelousas PET/CT Imaging Center, 3975 I-49 South Service Road, Suite 100, Opelousas, LA 70570 | 5DA11 | 07/14/2006 | LA
Florida Cancer Institute—BRK, 7154 Medical Center Drive, Spring Hill, FL 34608 | 1427017326 | 08/07/2006 | FL
Capital Health System, 446 Belleview Avenue, Trenton, NJ 08618 | 310044 | 08/07/2006 | NJ
Hudson Valley Diagnostic Imaging, PLLC, 575 Hudson Valley Avenue, New Windsor, NY 12553 | WBH241 | 08/07/2006 | NY
St Joseph's Hospital, 3200 Pleasant Valley Road, West Bend, WI 53095 | 520063 | 08/07/2006 | WI
Atlantic Medical Imaging, 30 East Maryland Avenue, Somers Point, NJ 08244 | 101024 | 08/07/2006 | NJ
Providence Imaging Center, 3340 Providence Drive, Anchorage, AK 99508 | 2085R0202X | 08/07/2006 | AK
Rochester Radiology Associates, PC, 1277 Portland Avenue, Rochester, NY 14621 | 199726 | 08/07/2006 | NY
Melbourne Internal Medicine Associates, 1132 South Hickory Street, Melbourne, FL 32901 | 77167 | 08/07/2006 | FL
Highline Imaging, LLC, 275 SW 160th Street, Seattle, WA 98166 | 8801784 | 08/07/2006 | WA
Tyler PET, 415 South Fleishel Avenue, Tyler, TX 75702 | 752131429 | 08/07/2006 | TX
Lake City Medical Center, 340 NW Commerce Drive, Lake City, FL 32055 | 100156 | 08/07/2006 | FL
Blount Memorial Hospital, 907 East Lamar Alexander Boulevard, Maryville, TN 37804 | 440011 | 08/07/2006 | TN
Texas Cancer Center Mesquite, 4700 North Galloway, Mesquite, TX 75150 | R339 | 08/07/2006 | TX
Rutland Regional Medical Center: Diagnostic Imaging, 160 Allen Street, Rutland, VT 05701 | 470005 | 08/07/2006 | VT
MDMED, Inc., 155 Calle Portal, Suite 700, Sierra Vista, AZ 85635 | Z68496 | 08/07/2006 | AZ
Atlantic Medical Imaging Wall Township, 2399 North Highway 34, Manasquan, NJ 08736 | 101024 | 08/07/2006 | NJ | Ramshorn Executive Centre Bldg B.
Newport Imaging Center, 455 Old Newport Road, Suite 101, Newport Beach, CA 92660 | W10829 | 08/07/2006 | CA
Cancer Care and Hematology Specialists (CCHSC), 8915 West Golf Road, Niles, IL 60714-05825 | 355030 | 08/07/2006 | IL
Hematology Oncology Associates of Illinois (HOAI), 715 West North Avenue, Melrose Park, IL 60160 | 218860 | 08/07/2006 | IL
Princeton Community Hospital, 122 12th Street Ext, Princeton, WV 24740 | 510046 | 08/07/2006 | WV | PO Box 1369.
TRICAT, LLC at Edison, 3830 Park Avenue, Edison, NJ 08820 | 27193 | 08/07/2006 | NJ | Suite 102.
Olathe Medical Center, 20333 W. 151st Street, Olathe, KS 66061 | 170049 | 08/07/2006 | KS
St. Joseph Hospital, 1140 West La Veta Avenue, Orange, CA 92868 | 50069 | 08/07/2006 | CA | 2nd Floor Nuclear Medicine.
Baptist Health Medical Center, 9601 I630, Exit 7, Little Rock, AR 72205-7299 | 40114 | 08/07/2006 | AR
Florida Cancer Specialists, 3840 Broadway, Fort Myers, FL 33901 | 1225064520 | 08/07/2006 | FL
Pacca PET Imaging, 5210 Belfort Road, Suite 130, Jacksonville, FL 32256 | 37572 | 08/07/2006 | FL
National PET Scan Palm Beach, LLC, 16110 Jog Road, Delray Beach, FL 33484 | 1164452405 | 08/07/2006 | FL | Suite 200.
Central Memphis Regional PET Imaging Center, LLC, 1388 Madison Avenue, Memphis, TN 38104 | 1295719110 | 08/07/2006 | TN
Johnston Memorial Hospital, 351 Court Street NE, Abingdon, VA 24210 | 490053 | 08/07/2006 | VA
Lenox Hill Hospital, 100 East 77th Street, New York, NY 10021 | 131624070 | 08/07/2006 | NY
Mercy Medical Center, 411 Laurel Street, Suite 2310, Des Moines, IA 50314 | 160083 | 08/07/2006 | IA
New Orleans Regional PET Center, LLC, 3434 Prytania Street, Suite 120, New Orleans, LA 70115 | 1538143474 | 08/07/2006 | LA
Indiana Regional Medical Center PET Imaging, 835 Hospital Road, Indiana, PA 15701 | 390173 | 08/07/2006 | PA | PO Box 788.
Mid American—Defiance Clinic, 1400 E. Second Street, Defiance, OH 43512 | ID00809 | 08/07/2006 | OH
Total Imaging Robertson, 737 West Brandon Boulevard, Brandon, FL 33511 | k7282 | 08/07/2006 | FL
New Tampa Imaging Center, 14302 N. Bruce B. Downs Boulevard, Tampa, FL 33613 | k57209 | 08/07/2006 | FL
Summit Imaging, 12037 Cortez Boulevard, Brooksville, FL 34613 | 40986 | 08/08/2006 | FL
University of NM Cancer Research & Treatment Center, 900 Caminodey Salud NE, Albuquerque, NM 87131 | 400521103 | 08/08/2006 | NM
Alliance Imaging—Los Alamitos Med Center, 3751 Katella Avenue, Los Alamitos, CA 90720 | TD017 | 08/08/2006 | CA
NYU Clinical Cancer Center, Diagnostic Imaging, 160 E. 34th Street, New York, NY 10016 | W1L361 | 08/08/2006 | NY | 2nd Floor.
Margaret Mary Community Hospital, 321 Mitchell Avenue, Batesville, IN 47006 | 151329 | 08/08/2006 | IN
Quantum PET—Apple Hill, 37 Monument Road, York, PA 17403 | 40635 | 08/08/2006 | PA
Memorial Hospital, 1204 N. Mound Street, Nacogdoches, TX 75961 | 450508 | 08/08/2006 | TX
BMH—DeSoto, 7601 Southcrest Parkway, Southaven, MS 38671 | 250141 | 08/08/2006 | MS
Riverside Medical Center, 300 Bourbonnais Campus, Bourbonnais, IL 60914 | 140186 | 08/08/2006 | IL | Riverside Medical Center.
UCSD Center for Molecular Imaging, 11388 Sorrento Valley Road, Suite 100, San Diego, CA 92121 | TG302 | 08/08/2006 | CA
Imaging Partners at Valley, LLC, 400 South 43rd Street, Renton, WA 98055 | AB38657 | 08/08/2006 | WA | Olympic Building.
El Paso Cancer Treatment Center, 7848 Gateway East Boulevard, El Paso, TX 79915 | 00543K | 08/08/2006 | TX
Desert Radiologists, 3930 S. Eastern Avenue, Las Vegas, NV 89119 | VWCCBT | 08/08/2006 | NV
Saint Joseph Hospital, 2900 North Lake Shore Drive, Chicago, IL 60068 | 140224 | 08/08/2006 | IL
Midstate Medical Center, 435 Lewis Avenue, Meriden, CT 06451 | 60646715 | 08/08/2006 | CT
Brookville Hospital, 100 Hospital Road, Brookville, PA 15825 | 391312 | 08/08/2006 | PA
Suntree Diagnostic Center, 6300 N. Wickham Road, Suite 101, Melbourne, FL 32940 | 701 | 08/08/2006 | FL
Virginia Mason Medical Center, 1100 Ninth Avenue, Seattle, WA 98101 | 500005 | 08/08/2006 | WA
Van Wert County Hospital, 1250 South Washington Street, Van Wert, OH 45891 | 360071 | 08/08/2006 | OH
Manhasset Diagnostic Imaging, PC, 1350 Northern Boulevard, 2nd Floor, Manhasset, NY 11030 | W14841 | 08/08/2006 | NY
Southern New Mexico Cancer Center, 150 Road Runner Parkway, Las Cruces, NM 88011 | 752131429 | 08/08/2006 | NM
Davis Memorial Hospital, Gorman Avenue and Reed Street, Elkins, WV 26241 | 510030 | 08/08/2006 | WV | Gorman Avenue.
Advocate Good Samaritan Hospital, 3815 Highland Avenue, Downers Grove, IL 60515 | 140288 | 08/08/2006 | IL
Benefis Healthcare, 1101 26th Street South, Great Falls, MT 59405 | 270012 | 08/08/2006 | MT
Fort Walton Beach Medical Center, 1032 Mar Walt Drive, Fort Walton Beach, FL 32547 | 100223 | 08/08/2006 | FL
Blessing Hospital, PO Box #7005, Quincy, IL 62305 | 140015 | 08/08/2006 | IL
Alliance Imaging—Allen County Hospital, 101 South 1st Street, Iola, KS 53808 | 130656 | 08/08/2006 | KS
Florida Cancer Institute—NPR, 8763 River Crossing Boulevard, New Port Richey, FL 34655 | 1427017326 | 08/08/2006 | FL
Kimball Medical Center, 600 River Avenue, Lakewood, NJ 08701 | 315084 | 08/08/2006 | NJ
Radiology Imaging Associates at Heritage, 8926 Woodyard Road, Clinton, MD 20735 | 521454775 | 08/08/2006 | MD | Suite 502.
Immanuel Medical Center, 6901 North 72nd Street, Omaha, NE 68122 | 280081 | 08/08/2006 | NE
North Fork Radiology, 1333 Roanoke Avenue, Riverhead, NY 11901 | w11401 | 08/08/2006 | NY
South County PET Imaging, LLC, 10010 Kennerly Road, St. Louis, MO 63128 | 93053 | 08/08/2006 | MO
Carolinas Hospital System, 805 Pamplico Highway, Florence, SC 29505 | 621587267 | 08/08/2006 | SC
Radiology Associates of San Luis Obispo, 522 E. Plaza Drive, Santa Maria, CA 93454 | GR0009774 | 08/08/2006 | CA
Florida Cancer Specialists—Port Charlotte, 22395 Edgewater Drive, Port Charlotte, FL 33980 | 1225064520 | 08/08/2006 | FL
Florida Cancer Specialists—Venice, 901 South Tamiami Trail, Venice, FL 34285 | 1225064520 | 08/08/2006 | FL
Florida Cancer Specialists—Bradenton, 6001 21st Avenue West, Bradenton, FL 34209 | 1225064520 | 08/08/2006 | FL
Nebraska Methodist Hospital, 8303 Dodge Street, Omaha, NE 68114 | 280040 | 08/08/2006 | NE
PET/CT Center of Richardson, 399 Melrose Drive, Richardson, TX 75080 | 1740207539 | 08/08/2006 | TX | Suite A.
Molecular Imaging at Sequoia Imaging Center, 4949 W. Cypress Avenue, Visalia, CA 93277 | ZZZ27463Z | 08/08/2006 | CA
Central Jersey Radiologists, 2128 Kings Highway, Oakhurst, NJ 07755 | 527995 | 08/08/2006 | NJ
Claxton-Hepburn Medical Center, 214 King Street, Ogdensburg, NY 13669 | 330211 | 08/08/2006 | NY
Memorial Hermann Southeast, 11800 Astoria Boulevard, Houston, TX 77089 | 741152597 | 08/08/2006 | TX
NSMS—Pine Bluff, AR, 4253 Argosy Court, Madison, WI 53714 | 5f168 | 08/08/2006 | WI
Yuma Regional Medical Center, 2400 S. Avenue A, Yuma, AZ 85364 | 866007596 | 08/08/2006 | AZ
Carle Clinic, 1702 S. Mattis Avenue, Champagne, IL 61820 | 371188284 | 08/08/2006 | IL
North Shore—LIJ Center for Advanced Medicine, 450 Lakeville Road, Lake Success, NY 11042 | 330106 | 08/08/2006 | NY | North Shore—LIJ Center for Advanced Medicine Diagnostic Imaging Center.
McAlester Diagnostic Imaging, 10 South Third Street, McAlester, OK 74501 | 1760411540 | 08/08/2006 | OK | Suite 100.
California Imaging Institute, 1867 E. Fir Avenue, Fresno, CA 93720 | ZZZ03565Z | 08/08/2006 | CA
Bon Secours Memorial Regional Medical Center, 8260 Atlee Road, Mechanicsville, VA 23116 | 541744931 | 08/08/2006 | VA
University of Maryland Medical Center, 22 S. Greene Street Gudelksy 2nd Floor, Baltimore, MD 21201 | 210002 | 08/08/2006 | MD | Division of Nuclear Medicine.
Bixby Medical Center, 818 Riverside Avenue, Adrian, MI 49221 | 230005 | 08/08/2006 | MI
Kern Radiology Medical Group, 2301 Bahamas Drive, Bakersfield, CA 93309 | 1720023997 | 08/08/2006 | CA
Bon Secours St. Francis Medical Center, 13710 St. Francis Boulevard, Midlothian, VA 23114 | 311716973 | 08/08/2006 | VA
MMI/Maine General Waterville, 51 US Route 1, Scarborough, ME 04074 | 327079 | 08/08/2006 | ME | Suite O.
Mount Adams Imaging Center, 3911 Castlevale Road, Yakimaw, WA 98902 | 8857843 | 08/08/2006 | WA
Carilion Roanoke Memorial Hospital, 2001 Crystal Spring Avenue, Roanoke, VA 24014 | 490024 | 08/08/2006 | VA
Seton Medical Center; Nuclear Medicine Dept., 1900 Sullivan Avenue, Daly City, CA 94015-2229 | 50289 | 08/08/2006 | CA
Arnett Imaging Center, 2403 Loy Drive, Lafayette, IN 47909 | 224390 | 08/08/2006 | IN
Advanced Diagnostic Imaging, PC, 1120 Professional Boulevard, Evansville, IN 47630 | 639970 | 08/08/2006 | IN
Queen of Peace Hospital, 301 Second Street NE, New Prague, MN 56071 | 241361 | 08/08/2006 | MN
Agnesian Health Care, 430 E. Division Street, Fond du Lac, WI 54935 | 520088 | 08/08/2006 | WI
ACMH Hospital, One Nolte Drive, Kittanning, PA 16201 | 390163 | 08/08/2006 | PA
Wilshire Oncology Medical Group, Inc., 1280 Corona Pointe Court, Corona, CA 92879 | zzz19568z | 08/08/2006 | CA | Suite 112.
United Radiology—Laurel, 14201 Laurel Park Drive, Laurel, MD 20707 | 2.01558E+11 | 08/08/2006 | MD | Suite 208.
Bay Area Medical Center, 3100 Shore Drive, Marinette, WI 54143 | 520113 | 08/08/2006 | WI
Penn State Milton S. Hershey Medical Center, 500 University Drive, Hershey, PA 17033 | 251854772 | 08/08/2006 | PA | HG380.
Delta St. Joseph's MRI, LLC, 1617 N. California Street, Stockton, CA 95204 | ZZZ19725Z | 08/08/2006 | CA | Suites 1A and 1B.
United Radiology: Bowie, 16701 Melford Boulevard, Bowie, MD 20715 | 2.01558E+11 | 08/08/2006 | MD
United Radiology Gaithersburg, 702 Russell Avenue, Gaithersburg, MD 20877 | 2.01558E+11 | 08/08/2006 | MD
United Radiology Olney, 18120 Hillcrest Drive, Olney, MD 20832 | 2.01558E+11 | 08/08/2006 | MD | Suite A.
FCS/Axcess Diagnosis/Sarasota, 600 N. Cattleman Road, Sarasota, FL 34232 | 1225064520 | 08/08/2006 | FL
NSMS—Greenville, IL, 4253 Argosy Court, Madison, WI 53714 | 208196 | 08/08/2006 | WI
FCS/Axcess Diagnosis/Venice, 842 Sunset Lake Boulevard, Venice, FL 34292 | 1225064520 | 08/08/2006 | FL | Suite #301.
Leading Edge Radiation, 8715 5th Avenue, Brooklyn, NY 11209 | WEM111 | 09/05/2006 | NY
Rena Tarbet Cancer Center, 4201 Medical Center Drive, Suite 180, McKinney, TX 75069 | oow753 | 09/05/2006 | TX
McLaughlin & Marte, M.D, LLP, 3850 Tampa Road, Suite 202, Palm Harbor, FL 34684 | 1003862079 | 09/05/2006 | FL
BryanLGH Medical Center, 2300 South 16th Street, Lincoln, NE 68502 | 280003 | 09/05/2006 | NE
Freehold MR Associates, 691 West Main Street, Freehold, NJ 07728 | 405856 | 09/05/2006 | NJ
Franciscan Skemp Healthcare, 700 West Avenue South, La Crosse, WI 54601 | 520004 | 09/05/2006 | WI
Teton Radiology, 2001 S. Woodruff, Suite 17, Idaho Falls, ID 83404 | 1371462 | 09/05/2006 | ID
Fletcher Allen Health Care, Mobile Pad, 790 College Parkway, Colchester, VT 05446 | 1659309615 | 09/05/2006 | VT | 790 College Parkway.
University of Penn Imaging Center, 3600 Market Street, 3rd Floor Silverstein, Philadelphia, PA 19104 | 764089 | 09/05/2006 | PA
Sitron-Hammel Radiology Group, 4277 Hempstead Turnpike, Suite 200, Bethpage, NY 11714 | W14891 | 09/05/2006 | NY
MRI of Saint Louis Obispo, 1064 Murray Avenue, San Luis Obispo, CA 93405 | 1881661361 | 09/05/2006 | CA
Lahey Clinic, 41 Mall Road, Burlington, MA 01805 | 220171 | 09/05/2006 | MA
St. Joseph Medical Center, 215 N. 12th Street, Reading, PA 19603 | 390096 | 09/05/2006 | PA
Spartanburg Regional Medical Center, 101 E. Wood Street, Spartanburg, SC 29303 | 420007 | 09/05/2006 | SC
Aurora Sinai Medical Center, 945 N. 12th Street, Milwaukee, WI 53201 | 520064 | 09/05/2006 | WI
FHN Memorial Hospital, 1045 W. Stephenson Street, Freeport, IL 61032 | 140160 | 09/05/2006 | IL
Southwest Washington Medical Center, 400 NE Mother Joseph Place, Vancouver, WA 98668 | 500050 | 09/05/2006 | WA
St. Lukes Center for Diagnostic Imaging, 6 McBride and Sons Corporate Center Drive, Suite 101, Chesterfield, MO 63005 | 47006 | 09/05/2006 | MO
The Stamford Health System, Shelbourn Road & West Broad Street, Stamford, CT 06904 | 70006 | 09/05/2006 | CT
Hagerstown Imaging, LLC, 1150 A Professional Court, Hagerstown, MD 21741 | 1518914936 | 09/05/2006 | MD
GCM Suburban Imaging, 6420 Rockledge Drive, Suite 3100, Bethesda, MD 20817 | 409623 | 09/05/2006 | MD
Alliance Imaging—No. Idaho Imaging, 2003 Lincoln Way, Coeur d'Alene, ID 83814 | 1790291 | 09/05/2006 | ID
HPMA PET Center, 22710 Professional Drive, Suite 104, Kingwood, TX 77339 | 0019BY | 09/05/2006 | TX
Parma Community General Hospital, 7007 Powers Boulevard, Parma, OH 44129 | 360041 | 09/05/2006 | OH
Pacific Shores Medical Group PET Imaging, 1043 Elm Street #104, Long Beach, CA 90813 | W13494 | 09/05/2006 | CA
Clark Memorial Hospital, 1220 Missouri Avenue, Jeffersonville, IN 47130 | 15009 | 09/05/2006 | IN
Abilene Imaging Center, LLC, 750 North 18th Street, Abilene, TX 79601 | FTA070 | 09/05/2006 | TX
DuBois Regional Medical Center, 100 Hospital Avenue, DuBois, PA 15801 | 390086 | 09/06/2006 | PA
Meeker County Memorial Hospital, 612 South Sibley Avenue, Litchfield, MN 55355 | 241366 | 09/06/2006 | MN
Memorial Health, 4700 Waters Avenue, Savannah, GA 31403 | 110036 | 09/06/2006 | GA
St. Luke's Regional Medical Center, Ltd., 190 E. Bannock Street, Boise, ID 83712 | 130006 | 09/06/2006 | ID
Radiology Consultants Imaging Center, 400 Avenue K, SE, Winter Haven, FL 33880 | U3944 | 09/06/2006 | FL
Patient Comprehensive Cancer Center, 4352 North Josey Lane, Carrollton, TX 75010 | 0083BY | 09/06/2006 | TX
The University of Tennessee Medical Center, 1924 Alcoa Highway, Knoxville, TN 37920 | 440015 | 09/06/2006 | TN
Radiation Therapy Regional Centers—Naples, 800 Goodlette Road, Suite 110, Naples, FL 34102 | 77215 | 09/06/2006 | FL
St. Mary's Medical Center, 2900 First Avenue, Huntington, WV 25702 | 510007 | 09/06/2006 | WV
McKinney Regional Cancer Center, 4601 Medical Center Drive, McKinney, TX 75069 | 00711W | 09/06/2006 | TX
WCA Hospital, PO Box 840, Jamestown, NY 14701 | 330239 | 09/06/2006 | NY | 207 Foote Avenue.
Grants Pass Imaging and Diagnostic Center, LLC, 1619 NW Hawthorne, Suite 110, Grants Pass, OR 97526 | 1659307973 | 09/06/2006 | OR
Baptist Memorial Hospital—Golden Triangle, 2520 5th Street North, Columbus, MS 39705 | 250100 | 09/06/2006 | MS
Florida Medical Clinic, 13417 US Highway 301, Dade City, FL 33525 | 39715 | 09/06/2006 | FL
Saint Clare's Hospital, 400 West Blackwell Street, Dover, NJ 07801 | 310067 | 09/06/2006 | NJ
Radiation Medicine Associates, 2202 South 77 Sun Shine Strip, Suite E, Harlingen, TX 78550 | 00645N | 09/06/2006 | TX
The Radiology Clinic, LLC, 208 McFarland Circle North, Tuscaloosa, AL 35406 | 13089 | 09/06/2006 | AL
Bay Area Hospital, 1775 Thompson Road, Coos Bay, OR 97420 | 30090 | 09/06/2006 | OR
MMI/St. Mary's Hospital, 51 US Route 1, Scarborough, ME 04074 | 327079 | 09/06/2006 | ME | Suite O.
Gulf Coast Medical Diagnostic Center, 2024 State Avenue, Panama City, FL 32405 | 30930 | 09/06/2006 | FL
Diagnostic Radiology Systems, Inc., 1010 Medical Center Drive, Powderly, KY 42366 | 9366001 | 09/06/2006 | KY
Lewis Gale Medical Center, 1900 Electric Road, Salem, VA 24153 | 490048 | 09/06/2006 | VA
Radiology Diagnostic Center, 1310 Las Tablas Road, Suite 103, Templeton, CA 93465 | W7491 | 09/06/2006 | CA
Weslaco Nuclear Imaging Center, 913 S. Airport Drive, Weslaco, TX 78596 | 1780796219 | 09/06/2006 | TX
Pioneer PET, LLC, 1930 E. Southern Avenue, Tempe, AZ 85282 | 1265401996 | 12/05/2006 | AZ
Kearney Imaging Center, LLC, 3219 Central Avenue, Suite 109, Kearney, NE 68847 | 98950 | 12/05/2006 | NE
Rose Medical Center, 4567 East 9th Avenue, Denver, CO 80220 | 841321373 | 12/05/2006 | CO
UCSF Medical Center, 185 Berry Street, San Francisco, CA 94107 | 50454 | 12/05/2006 | CA | Lobby 7, Suite 180.
Broward General Medical Center, 1500 S. Andrews Avenue, Fort Lauderdale, FL 33316 | 100039 | 12/05/2006 | FL
St. Paul Radiology, PA/Midwest Radiology, 166 Fourth Street East, St. Paul, MN 55101 | CO2661 | 12/05/2006 | MN
Queen of the Valley Hospital, 1000 Trancas Street, Napa, CA 94558 | 941243669 | 12/05/2006 | CA
Dana-Farber Cancer Institute, 44 Binney Street, Boston, MA 02115 | 220162 | 12/05/2006 | MA
Holmes Regional Medical Center, 1350 South Hickory Street, Melbourne, FL 32901 | 100019 | 12/05/2006 | FL
Niagara County PET Center, Niagara Falls, NY 14302 | f27482 | 12/05/2006 | NY | 621 Tenth Street Department of Radiology.
Augusta Medical Center, 78 Medical Center Drive, Fishersville, VA 22939 | 490018 | 12/05/2006 | VA
Nevada Cancer Center, 2851 North Tenaya Way, Las Vegas, NV 89128 | VWQBHJ | 12/05/2006 | NV | #100.
Wellstar Kennestone Hospital Imaging Center, 340 Kennestone Hospital Boulevard, Marietta, GA 30060 | 110035 | 12/05/2006 | GA | Suite LL10.
Ashtabula County Medical Center, 2412 Lake Avenue, Ashtabula, OH 44004 | 1285607416 | 12/05/2006 | OH | The Regional Cancer Center.
Rowan Regional Medical Center, 514 Corporate Circle, Salisbury, NC 28147 | 340015 | 12/05/2006 | NC
The Pottsville Hospital and Warne Clinic, 420 South Jackson Street, Pottsville, PA 17901 | 390030 | 12/05/2006 | PA
Georgetown Memorial Hospital, 606 Blackriver Road, Georgetown, SC 29442 | 1982604021 | 12/05/2006 | SC
Medical Center of Arlington, 3301 Matlock Road, Arlington, TX 76015 | 450675 | 12/05/2006 | TX
Valley View Regional Hospital, 430 N. Monte Vista, Ada, OK 74820 | 370020 | 12/05/2006 | OK
Montgomery Medical Services, 644 Maysville Road, Suite 10, Mount Sterling, KY 40353 | 9141 | 12/05/2006 | KY
Medical Outsourcing Services, LLC, 5409 N. Knoxville Avenue, Peoria, IL 61614 | 211224 | 12/05/2006 | IL
Medical Outsourcing Services, LLC, 1300 N. Main Street, Rushville, IN 46173 | 223260 | 12/05/2006 | IN
Mayo Clinic Arizona, 13400 E. Shea Boulevard, Scottsdale, AZ 85259 | WCTGB | 12/05/2006 | AZ
Door County Memorial Hospital, 323 S. 18th Avenue, Sturgeon Bay, WI 54235 | 1093743874 | 12/05/2006 | WI
Center for Diagnostic Imaging—Sartell, 166 19th Street S., Sartell, MN 56377 | C01307 | 12/05/2006 | MN | Suite 100.
South Texas Institute of Cancer, 1205 South 19th Street, Corpus Christi, TX 78405 | 0065AZ | 12/05/2006 | TX
Del Sol Medical Center, 10460 Vista Del Sol, El Paso, TX 79925 | 450646 | 12/05/2006 | TX
University Hospital, 818 St. Sebastian Way, Augusta, GA 30901 | 110028 | 12/05/2006 | GA | Suite 103.
St. John Health System—Tulsa, OK, 1923 S. Utica Avenue, Tulsa, OK 74104 | 370114 | 12/05/2006 | OK
Allen Memorial Hospital, 1825 Logan Avenue, Waterloo, IA 50703 | 160110 | 12/05/2006 | IA
Craig General Hospital, 735 North Foreman Street, Vinita, OK 74301 | 370065 | 12/05/2006 | OK
Vision Imaging of Kingston, 517 Pierce Street, Kingston, PA 18704 | 86463 | 12/05/2006 | PA
Lake Hospital Mentor Campus, 9485 Mentor Avenue, Mentor, OH 44060 | 360098 | 12/05/2006 | OH | Attn:, Suite A.
Excela RCL PET CT Imaging, LLC, 200 Village Drive, Greensburg, PA 15601 | 1144260415 | 12/05/2006 | PA
Kousay Al-Kourainy, MD, 5395 Ruffin Road #202, San Diego, CA 92123 | A39783 | 12/05/2006 | CA
Memorial Hermann Northwest Hospital, 1635 North Loop West, Houston, TX 77008 | 450184 | 12/05/2006 | TX
Accu/Site PET/CT Imaging Center, 30 Harrison Street, Johnson City, NY 13790 | DD1474 | 12/05/2006 | NY | Suite #102.
DDIS—Bond, 9 Bond Street, Brooklyn, NY 11201 | 687s41 | 12/05/2006 | NY
West Valley Radiology Medical Group, 7301 Medical Center Drive, West Hills, CA 91307 | Hw5870A | 12/05/2006 | CA | Suite 103.
Westside Diagnostic and Therapeutic Medical Center, LLC, 12524 West Washington Boulevard, Los Angeles, CA 90066 | TG472 | 12/05/2006 | CA
DDIS—Still, 1783 Stillwell Avenue, Brooklyn, NY 11223 | 687s41 | 12/05/2006 | NY
Alpena Regional Medical Center, 1501 W. Chisholm Street, Alpena, MI 49707 | 386000029 | 12/05/2006 | MI
Santa Monica Imaging Center, 1245 16th Street, Suite 105, Santa Monica, CA 90404 | 1881670248 | 12/05/2006 | CA
Mercer County Community Hospital, 800 W. Main Street, Coldwater, OH 45828 | 360058 | 12/05/2006 | OH
Johnson Memorial Hospital, 1125 W. Jefferson Street, Franklin, IN 46131-2675 | 150001 | 12/05/2006 | IN | PO Box 549.
St. Mary's Health Center, 100 St. Mary's Medical Plaza, Jefferson City, MO 65101 | 260011 | 12/05/2006 | MO
Eastside PET Center, LLC, 46 Medical Park East Drive, Birmingham, AL 35023 | 1619925070 | 12/05/2006 | AL | Suite 224.
United Regional Health Care System, 1600 8th Street, Wichita Falls, TX 76301 | 450010 | 12/05/2006 | TX
Denton Regional Medical Center, 3535 S. I-35, Denton, TX 76210 | 450634 | 12/05/2006 | TX
Canton-Potsdam Hospital, 50 Leroy Street, Potsdam, NY 13676 | 161012691 | 12/05/2006 | NY
St. John Macomb Hospital, 11800 E. 12 Mile Road, Warren, MI 48093 | 230195 | 12/05/2006 | MI
Cleveland Regional Medical Center, 201 East Grover Street, Shelby, NC 28150 | 340021 | 12/05/2006 | NC
Bluefield Regional Medical Center, 500 Cherry Street, Bluefield, WV 24701 | 510071 | 12/05/2006 | WV
Charles Cole Memorial Hospital, 1001 East Second Street, Coudersport, PA 16915 | 390246 | 12/05/2006 | PA
New Jersey State Open MRI, 155 State Street, Hackensack, NJ 07601 | 85238 | 12/06/2006 | NJ
Westcoast Radiology, 501 S. Lincoln Ave., Clearwater, FL 33756 | E4187 | 12/06/2006 | FL
The Iowa Clinic/PETCO, LLC, 1221 Pleasant Street, Des Moines, IA 50309 | I5819 | 12/06/2006 | IA
Quantum PET—Holy Spirit Hospital, 890 Poplar Church Road, Camp Hill, PA 17011 | 40635 | 12/06/2006 | PA
Coastal Bend PET Scan, Ltd., 1533 5th Street, Corpus Christi, TX 78404 | FTN014 | 12/06/2006 | TX
Pottstown Memorial Medical Center, 1600 E. High Street, Pottstown, PA 19464 | 390123 | 12/06/2006 | PA
UTMB PET/CT Imaging Center, UTMB—Rebecca Sealy Hospital, Galveston, TX 77555-0793 | R518 | 12/06/2006 | TX | 301 University Blvd.
Diagnostic Imaging Services, LLC, 11110 Medical Campus Road, Suite 204, Hagerstown, MD 21742 | 1114982808 | 12/06/2006 | MD
North Memorial Medical Center, 3435 West Broadway, Robbinsdale, MN 55422 | 1851344907 | 12/06/2006 | MN
Hays Medical Center, 2220 Canterbury Drive, Hays, KS 67601 | 2473 | 12/06/2006 | KS
St. Patrick Hospital & Health Sciences Center, 500 West Broadway, Missoula, MT 59802 | 1023032588 | 12/06/2006 | MT
Park Ridge Hospital, 100 Hospital Drive, Hendersonville, NC 28792 | 340023 | 12/06/2006 | NC
Fostoria Community Hospital, 610 Plaza Drive, Fostoria, OH 44830 | 361318 | 12/06/2006 | OH
UMDNJ—University Hospital, 30 Bergen Street, Newark, NJ 07101 | 221775306 | 12/06/2006 | NJ | ADMC 5 Room 575 P.O. Box 1709.
Metabolic Imaging of Boca, 5458 Town Center Road, Suite 103, Boca Raton, FL 33486 | E5434 | 12/06/2006 | FL
Olean Open MRI, 413 North 8th Street, Olean, NY 14760 | AA0996 | 12/06/2006 | NY
Mercy Memorial Health Center, 1011 14th Avenue NW, Ardmore, OK 73401 | 731500629 | 12/06/2006 | OK
Pontiac Osteopathic Hospital d.b.a. POH Medical Center, 385 N. Lapeer Road, Oxford, MI 48371 | 230207 | 12/06/2006 | MI
Texas Oncology Ft. Worth, 1450 8th Avenue, Fort Worth, TX 76104 | 00R66C | 12/06/2006 | TX
West Valley Imaging, 3025 S. Rainbow Boulevard, Las Vegas, NV 89146 | WQBDY | 12/06/2006 | NV
Springman Medical Plaza Imaging Center, PO Box 4650, Brownsville, TX 78523 | 1912973108 | 12/06/2006 | TX
EMH Regional Health Care System, 630 East River Street, Elyria, OH 44035 | 360145 | 12/06/2006 | OH
Denfeld Medical Center, 4702 Grand Avenue, Duluth, MN 55807 | C06028 | 12/06/2006 | MN
Caldwell Memorial Hospital, 321 Mulberry Street SW, Lenoir, NC 28645 | 560554202 | 12/06/2006 | NC
Belleville, IL (Swansea), 4253 Argosy Court, Madison, WI 53714 | 208196 | 12/06/2006 | WI
Comprehensive Cancer Centers of Nevada—NW Office, 7445 Peak Drive, Las Vegas, NV 89128 | WCHCX | 12/06/2006 | NV
Wheaton Francisan Healthcare—St. Joseph, 5000 W. Chambers Street, Milwaukee, WI 53210 | 520136 | 12/06/2006 | WI
United Hospital Center, Rt. 19 South, Clarksburg, WV 26302-1680 | 510006 | 12/06/2006 | WV | #3 Hospital Plaza.
Massena Memorial Hospital, 1 Hospital Drive, Massena, NY 13662 | 330223 | 12/06/2006 | NY
Redlands Community Hospital, 350 Terracina Boulevard, Redlands, CA 92373 | ZZZ01782Z | 12/06/2006 | CA
The Valley Hospital, 1 Valley Health Plaza, Paramus, NJ 07652 | 310012 | 12/06/2006 | NJ
Advanced Medical Imaging of Toms River, 1430 Hooper Avenue, Toms River, NJ 08753 | 447655 | 12/06/2006 | NJ | Suite 102.
McKenna Memorial Hospital, 598 N. Union Street, New Braunfels, TX 78130 | 450059 | 12/06/2006 | TX
NSMS—Parkland Farmington, Mo, 4253 Argosy Court, Madison, WI 53714 | 208196 | 12/06/2006 | WI
Alton Memorial Hospital, 1 Memorial Drive, Alton, IL 62002 | 14002 | 12/06/2006 | IL
Medical City Dallas Hospital, Diagnostic Imaging, Dallas, TX 75230 | 20943901 | 12/06/2006 | TX | 7777 Forest Lane.
Mercy Medical Center, 301 St. Paul Place, Baltimore, MD 21202 | 210008 | 12/06/2006 | MD
St. Joseph's Medical Center, 503 N. 3rd Street, Brainerd, MN 56401 | 240075 | 12/06/2006 | MN
Covenant Healthcare, 600 Irving Street, Saginaw, MI 48602 | 1457354318 | 12/06/2006 | MI
Little Company of Mary Hospital, 2800 West 95th Street, Evergreen Park, IL 60805 | 140179 | 12/06/2006 | IL
Marion General Hospital Progressive Medical Imagine, 830 N. Theatre Drive, Marion, IN 46952 | 1457354318 | 12/06/2006 | IN
Escondido Pulmonary Medical Group, 5395 Ruffin Road, Suite 202, San Diego, CA 92123 | W301 | 12/06/2006 | CA
Marshall Medical Center, 1100 Marshall Way, Placerville, CA 95667 | 50254 | 12/06/2006 | CA
Clermont Radiology, 1804 Oakley Seaver Drive, Clermont, FL 34711 | U5066 | 12/06/2006 | FL | Suite B.
Mahoning Valley Imaging, Ltd., 7067 Tiffany Boulevard, Youngstown, OH 44514 | 1457354318 | 12/06/2006 | OH
Southeastern Ohio Regional Medical Center, 1341 Clark Avenue, Cambridge, OH 43725 | 1457354318 | 12/06/2006 | OH
White County Medical Center, 3214 E. Race Avenue, Searcy, AR 72143 | 40014 | 12/06/2006 | AR
MED Arts JVIC, 9101 Franklin Square Drive, Baltimore, MD 21237 | 1932167178 | 12/06/2006 | MD
Memorial Hermann Southwest OPID, 7797 SW Freeway, Houston, TX 77074 | 741152597 | 12/06/2006 | TX
Twin County Regional Hospital, 200 Hospital Drive, Galax, VA 24333 | 1174524094 | 12/06/2006 | VA
Marion Ancillary Services, LLC, 1040 Delaware Avenue, Marion, OH 43302 | 991 | 12/06/2006 | OH
Owensboro Medical Health Systems, Breckenridge Diagnostics, Owensboro, KY 42301 | 180038 | 12/06/2006 | KY | 1020 Breckenridge Street.
NSMS—Darlington, WI, 209 Limestone Pass, Cottage Grove, WI 53527 | 92420 | 12/06/2006 | WI
Santa Fe Imaging, LLC, 1640 Hospital Drive, Santa Fe, NM 87505 | 400521037 | 12/06/2006 | NM
Suncoast Imaging of Port Orange, 1680 Dunlawton Avenue, Port Orange, FL 32127 | 40370B | 12/06/2006 | FL
Great Basin Imaging, 2874 N Carson Street, 3rd Floor, Carson City, NV 89706 | WJBDK | 12/06/2006 | NV
St. Francis Hospital & Health Centers, 1201 Hadley Road, Mooresville, IN 46158 | 1457354318 | 12/06/2006 | IN
Las Colinas Cancer Center, 7415 Las Colinas Boulevard, Irving, TX 75063 | 00J062 | 12/06/2006 | TX
ADI, 4006 Jonathan Street, Waterloo, IA 50701 | I15454 | 12/06/2006 | IA
St. Francis Hospital & Health Centers South, 8111 S. Emerson Avenue, Indianapolis, IN 46237 | 1457354318 | 12/06/2006 | IN
Central Baptist Diagnostic Center, 100 Southland Drive, Lexington, KY 40503 | 9375001 | 06/14/2006 | KY | Suite B.
Baptist Health Medical Center—NLR PET/CT, 3500 Springhill Drive, North Little Rock, AR 72117 | 5F437 | 05/03/2007 | AR | Suite 100.
Commonwealth Hematology Oncology, 216 Southtown Drive, Danville, KY 40422 | 1285687178 | 03/21/2007 | KY
Commonwealth Hematology Oncology, 95 Bogle Office Park Drive, Somerset, KY 42503 | 1285687178 | 03/21/2007 | KY
UMPC and The Washington Hospital Cancer Center, 155 Wilson Avenue, Washington, PA 15301 | 105589VXB | 03/10/2006 | PA
Lexington Diagnostic Center, 1725 Harrodsburg Road, Suite 100, Lexington, KY 40504 | 0406 | 03/08/2006 | KY
UW PET Imaging Center, 8007 Excelsior Drive, Madison, WI 53717 | 1346266319 | 04/03/2007 | WI
Fort Wayne Medical Oncology and Hematology, 7910 W. Jefferson Boulevard, Suite 107, Ft. Wayne, IN 46804 | 055770 | 04/23/2007 | IN
Danbury Hospital, 24 Hospital Avenue, Danbury, CT 06810 | 070033 | 04/23/2007 | CT
Reno Diagnostic Centers, 590 Eureka Avenue, Reno, NV 89512 | 1518904994 | 04/24/2007 | NV
The Kirklin Clinic PET-CT Facility, 2000 6th Ave South, Birmingham, AL 35233 | 10933768723 | 05/07/2007 | AL
PET Imaging Radiology, PSC Paseo San Pablo 100, Bayamon, PR | 0085142 | 05/15/2007 | PR | EDIF Dr. Arturo Cadilla, Suite 208.
Punxsutawney Area Hospital, 81 Hillcrest Drive, Punxsutawney, PA 15767 | 390199 | 05/15/2007 | PA
Princeton Baptist Medical Center, 701 Princeton Avenue SW, Birmingham, AL 35211 | 35211 | 05/30/2007 | AL
Medical Arts Radiology Commack, 55 Veterans Memorial Highway, Commack, NY 11725 | W11682 | 05/31/2007 | NY
Carrol, Sheth & Raghavan, MD, 1460 Bluegrass Avenue, Louisville, KY 40215 | 5460 | 06/05/2007 | KY
Personal Care Molecular Imaging, 1514 Highway 138, Wall, NJ 07719 | 109631 | 06/06/2007 | NJ
Lincoln Radiology Imaging, 7121 Stephanie Lane, Lincoln, NE 68516 | 099920 | 06/06/2007 | NE
Medcenter One, 300 North 7th Street, Bismark, ND 58506-5525 | 1538245634 | 07/24/2007 | ND
Wheaton Franciscan Healthcare—All Saints, 3801 Spring Street, Racine, WI 53405 | 520096 | 08/08/2007 | WI | N/A.
Diagnostic Centers of America, 6080 Boynton Boulevard, Suite 140, Boynton Beach, FL 33437 | E4439 | 08/22/2007 | FL | N/A.
Center for Integrative Cancer Medicine, P.A, 1733 Curie Drive, Suite 305, El Paso, TX 79902 | 00315U | 08/22/2007 | TX | N/A.
St. Luke's Hospital, 1026 A Avenue N.E., Cedar Rapids, IA 52406-3026 | 160045 | 08/22/2007 | IA | N/A.
Shared PET Imaging, LLC—Cincinnati OH, Eden Avenue & Albert Sabin Way, Cincinnati, OH 45219 | ID01511 | 08/22/2007 | OH | N/A.
Integrated Magnetic Imaging, 7100 University Court, Montgomery, AL 36117 | 7811 | 08/22/2007 | AL | N/A.
Northwest PET Imaging, 265 N. Broadway Street, Portland, OR 97227 | 105512 | 08/22/2007 | OR | N/A.
Center for Diagnostic Imaging—St. Louis Park, 5775 Wayzata Boulevard #190, St. Louis Park, MN 55416 | C01307 | 08/22/2007 | MN | N/A.
Ponca City Medical Center, 1900 North 14th Street, Ponca City, OK 74601 | 370006 | 08/22/2007 | OK | N/A.
Sanford Health, 1305 W. 18th Street, Sioux Falls, SD 57117 | 430027 | 08/22/2007 | SD | N/A.
Central Valley PET Imaging, 4744 Quail Lake Drive, Stockton, CA 95207 | 00A484230 | 08/22/2007 | CA | N/A.
PET/CT Imaging Center, 4000 N. Illinois Lane, Swansea, IL 62226 | 201339 | 08/22/2007 | IL | PET/CT Imaging Center.
Memorial Medical Center, 1105 W. Frank Avenue, Suite 100, Lufkin, TX 75901 | 450211 | 08/22/2007 | TX | d.b.a. Temple Imaging Center.
Rockingham Memorial Hospital, 235 Cantrell Ave, Harrisonburg, VA 22801 | 490004 | 08/22/2007 | VA | N/A.
Regions Imaging Center, 401 Phalen Boulevard, 41101C, St. Paul, MN 55101 | 240106 | 08/22/2007 | MN | N/A.
Florida Hospital Imaging, LLC, 335 Clyde Morris Boulevard, Suite 250, Ormond Beach, FL 32174 | 1104876358 | 08/22/2007 | FL | N/A.
Hutchinson Clinic, PA, 2101 North Waldron Street, Hutchinson, KS 67502 | 1043298474 | 08/22/2007 | KS | N/A.
Parkwest Imaging, 3676 Parker Boulevard, Pueblo, CO 81008 | 455838 | 08/22/2007 | CO | N/A.
St. Clair Hospital/UPMC Cancer Center PET/CT, 1000 Bower Hill Road, Pittsburgh, PA 15243 | 1699708792 | 08/22/2007 | PA | N/A.
St. Joseph Mercy Oakland (SJMO), 44405 Woodward Avenue, Pontiac, MI 48341 | 1457354318 | 08/22/2007 | MI | N/A.
Edward Hospital, 801 S. Washington Street, Naperville, IL 60540 | 140231 | 08/22/2007 | IL | N/A.
East Montgomery Imaging Center, 6880 Winton Blount Boulevard, Montgomery, AL 36117 | 58866 | 08/22/2007 | AL | N/A.
Memorial Hospital of Martinsville and Henry County, 320 Hospital Drive, Martinsville, VA 24112 | 490079 | 08/22/2007 | VA | N/A.
Thomas Hospital, 750 Morphy Avenue, Fairhope, AL 36532 | 10100 | 08/22/2007 | AL | N/A.
Portland Adventist Medical Center, 10123 SE Market Street, Portland, OR 97216 | 380060 | 08/22/2007 | OR | N/A.
Nash Healthcare System, Inc., 2460 Curtis Ellis Drive, Rocky Mount, NC 27804 | 340147 | 08/22/2007 | NC | N/A.
North Broward Medical Center, 201 E. Sample Road, Deerfield Beach, FL 33064 | 100068 | 08/22/2007 | FL | Radiology.
Jennie Stuart Medical Center, 320 West 18th Street, Hopkinsville, KY 42240 | 180051 | 08/22/2007 | KY | N/A.
Greater Houston Imaging, L.P., 6565 West Loop South, Suite 100, Bellaire, TX 77401 | FTNPX1 | 08/22/2007 | TX | N/A.
Sunrise Hospital Medical Center, 3186 South Maryland Parkway, Las Vegas, NV 89109 | 290003 | 08/22/2007 | NV | N/A.
The Diagnostic and Treatment Center, 3401 Cranberry Boulevard, Weston, WI 54476 | 92450 | 08/22/2007 | WI | N/A.
Ochsner Medical Center, 1514 Jefferson Highway, New Orleans, LA 70121 | 720502505 | 08/22/2007 | LA | N/A.
Inland Empire Medical Imaging, 225 W. Hospitality Lane, Suite #100, San Bernardino, CA 92408 | zzz316682 | 08/22/2007 | CA | N/A.
Independent Nuclear PET Imaging, 1115 N. Parrott Avenue, Okeechobee, FL 34972 | 1922070796 | 08/22/2007 | FL | N/A.
Hugh Chatham Memorial Hospital, 180 Parkwood Drive, Elkin, NC 28621 | 340097 | 08/22/2007 | NC | N/A.
Marian Medical Center/Plaza Diagnostic Imaging, 525 E. Plaza Drive, Santa Maria, CA 93454 | 50107 | 08/22/2007 | CA | N/A.
DDIS—FH, 8002 Kew Gardens Road, Kew Gardens, NY 11415 | 687s41 | 08/22/2007 | NY | N/A.
NYPH—Weill Cornell, 525 E 68th Street, New York, NY 10021 | 131623978 | 08/22/2007 | NY | N/A.
Genesys Regional Medical Center, One Genesys Parkway, Grand Blanc, MI 48439-8066 | 230197 | 08/22/2007 | MI | N/A.
Geisinger Medical Center, 100 North Academy Avenue, Danville, PA 17822 | 390006 | 08/22/2007 | PA | N/A.
Citrus Diagnostic Center, 922 N Citrus Avenue, Crystal River, FL 34428 | K5374 | 08/22/2007 | FL | N/A.
Middlesex Hospital, 534 Saybrook Road, Middletown, CT 06457 | 70020 | 08/22/2007 | CT | N/A.
Geisinger Wyoming Valley Medical Center, 1000 East Mountain Drive, Wilkes-Barre, PA 18711 | 390270 | 08/22/2007 | PA | N/A.
Canton, IL—Northern Shared Medical Services, 209 Limestone Pass, Cottage Grove, WI 53527 | 208196 | 08/22/2007 | WI | N/A.
Self Regional Healthcare, 102 Academy Street, Greenwood, SC 29646 | 420071 | 08/22/2007 | SC | N/A.
Bristol Hospital, Brewster Road, Bristol, CT 06011 | 70029 | 08/22/2007 | CT | P.O. Box 977.
East Texas Hematology & Oncology Clinic, PA, 1202 West Frank Avenue, Lufkin, TX 75904 | 00T37K | 08/22/2007 | TX | N/A.
St. John River District Hospital, 4100 River Road, East China, MI 48054 | 230241 | 08/22/2007 | MI | N/A.
Morgan Hospital, 2209 John R Wooden Drive, Martinsville, IN 46151 | 150038 | 08/22/2007 | IN | N/A.
Cotton-O'Neil Cancer Center, 1414 SW 8th Street, Topeka, KS 66606 | 1811944457 | 08/22/2007 | KS | N/A.
Barnes-Jewish West County Hospital, 12634 Olive Boulevard, St. Louis, MO 63141 | 260162 | 08/22/2007 | MO | N/A.
Hardin Memorial Hospital, 913 North Dixie Avenue, Elizabethtown, KY 42701 | 180012 | 08/22/2007 | KY | N/A.
Cancer Institute of Florida, LLC, 894 E. Altamonte Drive, Altamonte Springs, FL 32701 | 72793 | 08/22/2007 | FL | N/A.
Community Hospital, New Port Richey, 5637 Marine Parkway, New Port Richey, FL 34652 | 100191 | 08/22/2007 | FL | N/A.
Pulaski Community Hospital, 2400 Lee Highway, Pulaski, VA 24301 | 490116 | 08/22/2007 | VA | N/A.
Advocate South Suburban Hospital, 17800 S. Kedzie Avenue, Hazel Crest, IL 60429 | 3.62169E+11 | 08/22/2007 | IL | N/A.
St. Vincent's Medical Center, 2800 Main Street, Bridgeport, CT 06606 | 70028 | 08/22/2007 | CT | N/A.
Cayuga Medical Center at Ithaca, 3218 Wilkins Road, Ithaca, NY 14850 | 330307 | 08/22/2007 | NY | N/A.
Immanuel—St. Josephs Mayo Health Stystem, 1025 Marsh Street, Mankato MN 56002-8673 | 240093 | 08/22/2007 | MN | PO Box 8673.
Kell West Regional Hospital, 5420 Kell West Boulevard, Wichita Falls, TX 76310 | 450827 | 08/22/2007 | TX | N/A.
Aurora Medical Center Kenosha, 10400 75th Street, Kenosha, WI 53142 | 520189 | 08/22/2007 | WI | N/A.
Aurora Lakeland Medical Center, W3985 County Rd NN, Elkhorn, WI 53121 | 520102 | 08/22/2007 | WI | N/A.
Munson Medical Center, 1105 Sixth Street, Traverse City, MI 49684 | 230097 | 08/22/2007 | MI | N/A.
Kansas City Cancer Center—North, 8700 Greenhills Road, Kansas City, MO 64154 | 5650000E | 08/22/2007 | MO | N/A.
PET Imaging Center of Maine, 885 Union Street, Suite 115, Bangor, ME 04401 | 10211501 | 08/22/2007 | ME | N/A.
SMS—Chester, IL, 1900 State Street, Chester, IL 62233 | 208196 | 08/22/2007 | IL | N/A.
PET of Reston, LP, 1800 Town Center Drive, Suite 115, Reston, VA 20190 | G01960P03 | 08/22/2007 | VA | N/A.
Healthcare Imaging Center, 4334 Central Ave, Riverside, CA 92506 | ZZZ14451Z | 08/22/2007 | CA | N/A.
Robert Wood Johnson University Hospital at Hamilton, 1 Hamilton Health Place, Hamilton, NJ 08690 | 310110 | 08/22/2007 | NJ | N/A.
Northside Hospital, 1000 Johnson Ferry Road, Atlanta, GA 30342 | 110161 | 08/22/2007 | GA | N/A.
Aurora Medical Center Kenosha, 10400 75th Street, Kenosha, WI 53142 | 520189 | 08/22/2007 | WI | N/A.
Partners Imaging Center of Sarasota, 1250 S. Tamiami Trail, Suite 103, Sarasota, FL 34239 | Q0353 | 08/22/2007 | FL | N/A.
Memorial Medical Center, 216 Sunset Place, Neillsville, WI 54456 | 521323 | 08/22/2007 | WI | N/A.
Central Virginia Imaging, LLC, 1900 Tate Spings Road, Suite 21, Lynchburg, VA 24501 | 1578594412 | 08/22/2007 | VA | N/A.
Los Alamitos Medical Center, 3951 Katella Ave, Los Alamitos, CA 90720 | 50551 | 08/22/2007 | CA | N/A.
Valley Advanced Imaging, LLC, 2403 Butler Street, Easton, PA 18042 | 1417907023 | 08/22/2007 | PA | N/A.
Good Samaritan PET/CT and Imaging services, 1245 Montauk Hwy, West Islip, NY 11795 | 330286 | 08/22/2007 | NY | N/A.
Scotland Memorial Hospital, 500 Lauchwood Drive, Laurinburg, NC 28352 | 340008 | 08/22/2007 | NC | N/A.
McFarland Clinic, P.C., 1111 Duff Avenue, Ames, IA 50010 | 1639135643 | 08/22/2007 | IA | N/A.
Providence Hospital, 1150 Varnum Street NE, Washington, DC 20017 | 90006 | 08/22/2007 | DC | N/A.
The Angeles Clinic and Research Institute, 11818 Wilshire Boulevard, Suite 200, Los Angeles, CA 90025 | W15185A | 08/22/2007 | CA | N/A.
Rose Radiology Centers, Inc., 5107 N. Armenia Avenue, Tampa, FL 33603 | 1629162904 | 08/22/2007 | FL | Bldg B.
Texas Oncology East Houston, 13111 East Freeway, Houston, TX 77015 | 1811944101 | 08/22/2007 | TX | N/A.
NSMS—St. Joe's—Breese, IL, 9515 Holy Cross Lane, Breese, IL 62230 | 208196 | 08/23/2007 | IL | N/A.
UT Cancer Institute, 7945 Wolf River Boulevard, Germantown, TN 38138 | 3711381 | 08/23/2007 | TN | N/A.
Fresno Imaging Center, 6191 N. Rhesta Avenue, Fresno, CA 93710 | N/A. | 08/23/2007 | CA | N/A.
Imaging Consultants Inc. at Sturdy Memorial, 211 Park Street, Attleboro, MA 02703 | 327085 | 08/23/2007 | MA | N/A.
Fairfax PET Imaging Center, LLC, 8503 Arlington Boulevard Lower level, Fairfax, VA 22031 | 1861433674 | 08/23/2007 | VA | N/A.
City Hospital, Inc., 2500 Hospital Drive, Martinsburg, WV 25401 | 510008 | 08/23/2007 | WV | N/A.
White Plains Radiology Associates PET Center, Davis and Post Roads, White Plains, NY 10601 | w11842 | 08/23/2007 | NY | N/A.
Lenoir Memorial Hospital, 100 Airport Road, Kinston, NC 28503-1678 | 1962446385 | 08/23/2007 | NC | N/A.
Sand Lake Imaging, 9350 Turkey Lake Road, Orlando, FL 32819 | 34896 | 08/23/2007 | FL | Suite 100.
Advocate Lutheran General Center For Advanced Care, 1800 Luther Lane, Park Ridge, IL 60068 | 140223 | 08/23/2007 | IL | N/A.
Flower Hospital, 5200 Harroun Road, Sylvania, OH 43560 | 360074 | 08/23/2007 | OH | N/A.
Dekalb Memorial Hospital, 1316 E. 7th Street, Auburn, IN 46706 | N/A. | 08/23/2007 | IN | N/A.
St. John Hospital and Medical Center, 1315 Macom Drive, Naperville, IL 60564 | 116 | 08/23/2007 | IL | N/A.
Bayhealth Medical Center, 540 S. Governors Avenue, Dover, DE 19904 | N/A. | 08/23/2007 | DE | N/A.
ImageCare, 713 Troy-Schenectady Road, Suite 124, Latham, NY 12110 | 1922048370 | 08/23/2007 | NY | Capital Region Health Park.
Southside Regional Medical Center, 801 South Adams Street, Petersburg, VA 23803 | 490067 | 08/23/2007 | VA | N/A.
East Alabama Medical Center—Auburn Diagnostic Imaging, 1527 Professional Parkway, Auburn, AL 36830 | 29 | 08/23/2007 | AL | N/A.
Trover Health System, 900 Hospital Drive, Madisonville, KY 42431 | 1457354318 | 08/23/2007 | KY | N/A.
Doctors Hospital at Renaissance, Ltd, 5501 S. McColl Road, Edinburg, TX 78359 | 450869 | 08/23/2007 | TX | N/A.
Twin Lakes Imaging Center, 1890 LPGA Boulevard, Daytona Beach, FL 32117 | 1023040870 | 08/23/2007 | FL | Suite 110.
Nathan Littauer Hospital, 99 E. State Street, Gloversville, NY 12078 | 330276 | 08/23/2007 | NY | N/A.
Altoona Regional Health System, 620 Howard Avenue, Altoona, PA 16601 | 390073 | 08/23/2007 | PA | N/A.
Warren General Hospital, 2 Crescent Park West, Warren, PA 16365 | 390146 | 08/23/2007 | PA | N/A.
Reid Hospital Health Care Services, 1401 Chester Boulevard, Richmond, IN 47374 | 1457354318 | 08/23/2007 | IN | N/A.
Orange City Area Health System, 1000 Lincoln Circle SE, Orange City, IA 51041 | 161360 | 08/23/2007 | IA | N/A.
Mercy Hospital Clermont, 3000 Hospital Drive, Batavia, OH 45103 | 1457354318 | 08/23/2007 | OH | N/A.
Arroyo Grande Community Hospital, 345 South Halcyon Road, Arroyo Grande, CA 93454 | 50016 | 08/23/2007 | CA | N/A.
HealthEast St. John's Hospital, 1575 Beam Avenue, Maplewood, MN 55109 | 240210 | 08/23/2007 | MN | N/A.
St. Joseph's/Candler Health System, 5353 Reynolds Street, Savannah, GA 31405 | 110024 | 08/23/2007 | GA | N/A.
NSMS—Pickneyville, IL, 101 North Walnut Street, Pinckneyville, IL 62274 | 208196 | 08/23/2007 | IL | N/A.
Duke Raleigh Hospital, 3400 Wake Forrest Road, Raleigh, NC 27609 | 340073 | 08/23/2007 | NC | N/A.
Advanced Radiology Services & The Center for Women, 400 Plaza Court, East Stroudsburg, PA 18301 | 33012 | 08/23/2007 | PA | Suite C.
Community Hospital, 10020 Donald S. Powers Drive, Munster, IN 46321 | 140125 | 08/23/2007 | IN | N/A.
Avant Imaging—Woodland Health Center, 7575 Grand River Avenue, Brighton, MI 48114 | 1457354318 | 08/23/2007 | MI | N/A.
EVDI Medical Imaging—East Mesa, 6424 E. Broadway Road, Mesa, AZ 85206 | 1164434098 | 08/23/2007 | AZ | Suite 101.
NSMS—St. Louis, Mo—ARCH Medical, 209 Limestone Pass, Cottage Grove, WI 53527 | 47013 | 08/23/2007 | WI | N/A.
CNY PET LLC, 5100 West Taft Road, Liverpool, NY 13088 | AA0672 | 08/23/2007 | NY | Suite 2C.
MCMI, 3000 Telegraph Avenue, Oakland, CA 94609 | ZZZ27496Z | 08/23/2007 | CA | N/A.
Green Clinic, LLC, 1200 S. Farmerville Street, Ruston, LA 71270 | 57387 | 08/23/2007 | LA | N/A.
Fayette Memorial Hospital, 3542 North Western Avenue, Connersville, IN 47331 | 150064 | 08/23/2007 | IN | N/A.
Carolinas Medical Center—Union, 600 Hospital Drive, Monroe, NC 28112 | 340130 | 08/23/2007 | NC | Nuclear Medicine Department.
Citrus Medical Imaging Associates, Inc., 1000 Lakes Drive, Suite 170, West Covina, CA 91790 | HW2326 | 08/23/2007 | CA | N/A.
Radiation Oncology at WFUBMC, Radiation Oncology Medical Center Boulevard, Winston-Salem, NC 27152 | 340047 | 08/24/2007 | NC | Wake Forest University Baptist Medical Center Comprehensive Cancer Center.
Harrison County Hospital, 245 Atwood Street, Corydon, IN 47112 | 151331 | 08/24/2007 | IN | N/A.
Thibodaux Regional Medical Center, 602 North Acadia Road, Thibodaux LA 70301 | 190004 | 08/24/2007 | LA | N/A.
NSMS—Hot Springs, AR, 1600 Higdon Ferry Road, Hot Springs AR 71913 | 5F168 | 08/24/2007 | AR | N/A.
Pacific Oncology, PC, 15700 SW Greystone Court, Beaverton OR 97006 | 1043262116 | 08/24/2007 | OR | N/A.
Cancer Care Associates, 1791 E. Fir Avenue, Fresno, CA 93720 | 222375652 | 08/24/2007 | CA | N/A.
Massatusetts Mobile PET, PC—Newburyport, 25 Highland Avenue, Newburyport, MA 01950 | 327086 | 08/24/2007 | MA | N/A.
Hematology Oncology Associates of Illinois, 6801 West 34th Street, Berwyn, IL 60402 | 218890 | 08/24/2007 | IL | Suite 107.
Massatusetts Mobile PET, PC— Haverhill, 140 Lincoln Avenue, Haverhill, MA 01830 | 327086 | 08/24/2007 | MA | N/A.
Corinth Medical Group, 4851 I35 East, Suite 101, Corinth, TX 76210 | 00K22X | 08/24/2007 | TX | N/A.
New England PET Imaging Manchester, One Elliot Way, Manchester, NH 03103 | 327081 | 08/24/2007 | NH | N/A.
The Surgery Clinic, 1026 Goodyear Avenue, Gadsden, AL 35999 | N/A | 08/24/2007 | AL | Suite B-101.
Boston Medical Center, 830 Harrsion Avenue, Boston, MA 02118 | 220031 | 08/24/2007 | MA | Suite 1600.
Mercy Health Center, 4190 24th Avenue, Fort Gratiot, MI 48059 | 1457354318 | 08/24/2007 | MI | N/A.
The Cancer Center of Santa Barbara, 300 W. Pueblo Street, Santa Barbara, CA 93105 | W13890 | 08/24/2007 | CA | N/A.
Milford Memorial Hospital Bayhealth Medical Center, 21 W. Clarke Avenue, Milford, DE 19963 | N/A | 08/24/2007 | DE | N/A.
North Coast Cancer Care, 417 Quarry Lakes Drive, Sandusky, OH 44870 | NO9915215 | 08/24/2007 | OH | N/A.
Palm Beach Gardens Open Imaging Center, 3335 Burns Road #101, Palm Beach Gardens, FL 33408 | U8767 | 08/24/2007 | FL | N/A.
Advanced Medical Imaging, LLC, 1780 NW Myhre Road, Silverdale, WA 98383 | AB24179 | 08/24/2007 | WA | Suite 1220.
Swedish American Hospital, 1401 E State Street, Rockford, IL 61104 | 140228 | 08/24/2007 | IL | N/A.
Molecular Diagnostics of Eastern Omaha, 117 North 32nd Avenue, Suite 100, Omaha, NE 68131 | 99894 | 08/24/2007 | NE | N/A.
Kingwood Medical Center, 22999 U.S. Hwy 59, Kingwood, TX 77339 | 1811942238 | 08/24/2007 | TX | N/A.
Health Village Imaging, 1301 Route 72 West, Manahawkin, NJ 08050 | 1194810978 | 08/24/2007 | NJ | Suite 100.
ARH Hazard, 100 Medical Center Drive, Hazard, KY 41701 | 520795508 | 08/24/2007 | KY | N/A.
Central Florida Imaging Center, Inc., 6801 US 27 N, Suite E-3, Sebring, FL 33870 | 1427076769 | 08/24/2007 | FL | N/A.
West Texas Cancer Center, 301 N Washington Avenue, Odessa, TX 79761 | 00543K | 08/24/2007 | TX | N/A.
Beloit Memorial Hospital, 1969 West Hart Road, Beloit, WY 53511 | 520100 | 08/24/2007 | WY | N/A.
Pinnacle Imaging Center, 2390 NW 7th Street, Miami, FL 33125 | U5131 | 08/24/2007 | FL | Suite 103.
PET Imaging of El Paso, 1225 E. Cliff Drive, El Paso, TX 79902 | FTN035 | 08/24/2007 | TX | Building 3, Suite 200.
St. Petersburg General Hospital, 6500 38th Avenue North, St. Petersburg, FL 33710 | N/A | 08/24/2007 | FL | N/A.
St. Mary Medical Center, 1201 Langhorne-Newtown Road, Langhorne, PA 19047 | 390258 | 08/24/2007 | PA | N/A.
St. Joseph Medical Center, 1401 St. Joseph Parkway, Houston, TX 77002 | 1154361475 | 08/24/2007 | TX | N/A.
UPMC Northwest, 1671 Allegheny Boulevard, Reno, PA 16343 | 390091 | 08/24/2007 | PA | N/A.
Mercy Hospital Fairfield, 3000 Mack Road, Fairfield, OH 45014 | 1457354318 | 08/24/2007 | OH | N/A.
Radiology Associates of West Pasco, 5539 Marine Parkway, New Port Richey, FL 34652 | 1558328963 | 08/24/2007 | FL | N/A.
St. Dominic Hospital, 969 Lakeland Drive, Jackson, MS 39216 | 250048 | 08/24/2007 | MS | N/A.
RCOA—Adventist Health—Sequoia, 4949 W. Cypress Avenue, Visalia, CA 93271 | 1427198696 | 08/24/2007 | CA | N/A.
McKee Medical Center, 2000 Boise Ave, Loveland, CO 80538 | 60030 | 08/24/2007 | CO | N/A.
Bon Secours Richmond Community Hospital, 1500 North 28th Street, Richmond, VA 23223 | 490094 | 08/24/2007 | VA | N/A.
West Houston Medical Center, 12141 Richmond Avenue, Houston, TX 77082 | 450644 | 08/24/2007 | TX | N/A.
Shands Teaching Hospital and Clinics, Inc., 2000 SW Archer Road, Gainesville, FL 32608 | 100113 | 08/24/2007 | FL | Radiology, Shands Medical Plaza.
Tanner Medical Center, 119 Ambulance Drive, Carrollton, GA 30117 | 110011 | 08/24/2007 | GA | N/A.
OU Medical Center, 700 NE 13th Street, Oklahoma City, OK 73104 | 1780631390 | 08/24/2007 | OK | N/A.
The Medical Center of Aurora, 1400 S. Potomac Street, Aurora, CO 80012 | 60100 | 08/24/2007 | CO | #180.
AllenRidge Diagnostic Imaging Center, 520 Lecanto Highway, Lecanto, FL 34461 | 100023 | 08/24/2007 | FL | N/A.
The PET Center at BWMC, 305 Hospital Drive, Baltimore, MD 21061 | 1124016696 | 08/24/2007 | MD | SUITE 302.
Signet Diagnostic Imaging Services, LLC, 8300 West Sunrise Boulevard, Plantation, FL 33322 | E8667 | 08/24/2007 | FL | N/A.
Adams Diagnostic Imaging, 20 Expedition Trail, Gettysburg, PA 17325 | 65290 | 08/24/2007 | PA | Suite 102.
Jennie Edmundson Hospital, 933 E. Pierce Street, Council Bluffs, IA 51503 | 160047 | 08/24/2007 | IA | N/A.
Holy Cross Hospital, 4725 N. Federal Highway, Fort Lauderdale, FL 33308 | 100073 | 08/24/2007 | FL | Bienes Diagnostic Imaging Center.
Medical University of Ohio, 3000 Arlington Avenue, Toledo, OH 43614 | 1457354318 | 08/24/2007 | OH | N/A.
Daviess Community Hospital, 1314 E Walnut Street, Washington, IN 47501 | 150061 | 08/24/2007 | IN | Radiology Department.
Jeff Anderson Regional Medical Center, 2124 14th Street, Meridian, MS 39301 | 250104 | 08/24/2007 | MS | N/A.
Modesto Imaging Center, 157 E. Coolidge Avenue, Modesto, CA 95350 | ZZZ01977Z | 08/24/2007 | CA | N/A.
Sioux Center Commmunity Hospital and Health Center, 605 South Main Ave, Sioux Center, IA 51250 | 161346 | 08/24/2007 | IA | N/A.
Southern Ohio Medical Center, 1121 Kinneys Lane, Portsmouth, OH 45662 | 360008 | 08/24/2007 | OH | N/A.
Massachusetts General Hospital, 55 Fruit Street, Boston, MA 02114 | 220071 | 08/24/2007 | MA | N/A.
Clinton Memorial Hospital Regional Health System, 31 Farquhar Avenue, Wilmington, OH 45177 | 316005307 | 08/24/2007 | OH | N/A.
CJW Medical Center, 1401 Johnston Willis Drive, Richmond, VA 23235 | 34632 | 08/24/2007 | VA | N/A.
Texas Oncology Weatherford, 907 Foster Lane, Weatherford, TX 76086 | 00539K | 08/24/2007 | TX | N/A.
Sharper Imaging Diagnostic Radiology Center, 3430 Tamiami Trail, Port Charlotte, FL 33952 | 1730288515 | 08/24/2007 | FL | Suite B.
Morristown—Hamblin Healthcare System, 908 W. 4th N. Street, Morristown, TN 37814 | 1457354318 | 08/24/2007 | TN | N/A.
Puget Sound PET Imaging, 6808 220th Street SW, Mountlake Terrace, WA 98043 | 115162600 | 08/24/2007 | WA | Suite 150.
Detar Hospital Navarro, 506 E. San Antonio Street, Victoria, TX 77902 | 450147 | 08/24/2007 | TX | N/A.
PET Imaging of Chicago, 6801 West 34th Street, Suite 105 Berwyn, IL 60402 | 214832 | 08/24/2007 | IL | N/A.
Imaging Specialists Group, Ltd., 3101 Churchill Road, Flower Mound, TX 75022 | 1417991852 | 08/24/2007 | TX | Suite 100.
OKOmed Downtown Imaging, 2101 Crawford Street, Suite 115, Houston, TX 77002 | 1780622464 | 08/24/2007 | TX | N/A.
Clear Lake Regional Medical Center, 500 Medical Center Boulevard, Webster, TX 77598 | 1063466035 | 08/24/2007 | TX | N/A.
Norton Hospital, 315 East Broadway, Louisville, KY 40202 | 180088 | 08/24/2007 | KY | N/A.
Saratoga PET Associates, LLC, 3 Emma Lane, Clifton Park, NY 12065 | 1356357172 | 08/24/2007 | NY | N/A.
Genesis Health Care System, 2800 Maple Avenue, Zanesville, OH 43701 | 1457354318 | 08/24/2007 | OH | N/A.
Lake Cumberland Regional Hospital, 27 Imaging Drive, Somerset, KY 42503 | 1457354318 | 08/24/2007 | KY | N/A.
Saint Francis Cancer Institute, 14 Doctors' Park, Cape Girardeau, MO 63703 | 260183 | 08/24/2007 | MO | N/A.
American Health Network of IN, LLC—PET/CT, 6820 Parkdale Place, Indianapolis, IN 46254 | 1164491775 | 08/24/2007 | IN | Suite #105.
PET CT Nuclear Radiology, Inc., 1501 Edisicio Detantacourt, Suite 302, Fernadez Juncos Santorze, PR 909 | 57886 | 08/24/2007 | PR | Fernadez Juncos Santorze.
NSMS—Reedsburg, WI, 2000 North Dewey Street, Reedsburg, WI 53959 | 1295785079 | 08/24/2007 | WI | N/A.
Wayne Memorial Hospital, 2700 Wayne Memorial Hospital, Goldsboro, NC 27534 | 340010 | 08/24/2007 | NC | N/A.
InMed Diagnostic Services of IL, 10419 Fleming Road, Carterville, IL 62918 | 205040 | 08/24/2007 | IL | N/A.
Henrico Doctors' Hospital, 1602 Skipwith Road, Richmond, VA 23229 | 490118 | 08/24/2007 | VA | N/A.
Alliance Imaging—United General Hospital, 2000 Hospital Drive, Sedro Woolley, WA 98284 | 8862377 | 08/24/2007 | WA | N/A.
Spencer Municipal Hospital, 1200 First Avenue East, Spencer, IA 51301 | 1255328621 | 08/24/2007 | IA | N/A.
Radilogy LTD LaCholla Center—Diagnostic Imaging, 5960 N. LaCholla Avenue, Tucson, AZ 85704 | 1841261989 | 08/24/2007 | AZ | N/A.
Saint Elizabeth Regional Medical Center, 555 South 70th Street, Lincoln, NE 68510 | 280020 | 08/24/2007 | NE | N/A.
Bucyrus Community Hospital, 629 N. Sandusky Avenue, Bucyrus, OH 44820 | 361316 | 08/24/2007 | OH | N/A.
Mercy Hospital of Willard, 110 E. Howard Street, Willard, OH 44890 | 361310 | 08/24/2007 | OH | N/A.
Lower Columbia Pathologists, 1606 East Kessler Boulevard, Longview, WA 98632 | 745800 | 08/24/2007 | WA | 4th Floor.
Newton Medical Center, 600 Medical Center Drive, Newton, KS 67114 | 170103A | 08/24/2007 | KS | N/A.
Advanced Imaging Partners, 508 Cleveland Street, Great Bend, KS 67530 | 1295791325 | 08/24/2007 | KS | N/A.
Integrated Medical Imaging, 1040 Greenwood Springs Boulevard, Greenwood, IN 46143 | 221970 | 08/24/2007 | IN | N/A.
Avera Sacred Heart Cancer Center, 501 Summit Street, Yankton, SD 57078 | 430012 | 08/24/2007 | SD | N/A.
ValleyCare Medical Center, 5555 W. Las Positas Boulevard, Pleasanton, CA 94588 | 50283 | 08/24/2007 | CA | N/A.
NSMS—Mena, AR, 311 North Morrow Street, Mena, AR 71953 | 1295785079 | 08/24/2007 | AR | N/A.
Memorial Hospital Easton, 219 S. Washington Street, Easton, MD 21601 | 210037 | 08/24/2007 | MD | N/A.
Seattle Cancer Care Alliance, 825 Eastlake Avenue E, Seattle, WA 98109 | 500138 | 08/24/2007 | WA | Medical Imaging.
Alliance Imaging—The Vancouver Clinic, 700 NE 87th Avenue, Vancouver, WA 98664 | 8864364 | 08/24/2007 | WA | N/A.
Martin Center for Diagnostic and Imaging Services, 3901 S. Fremont Avenue, Springfield, MO 65804 | 260040 | 08/24/2007 | MO | N/A.
Aultman Hospital, 2600 Sixth Street SW, Canton, OH 44710 | 1457354318 | 08/24/2007 | OH | N/A.
Imaging Consultants, Inc. at Harrington Memorial, 600 Federal Street, Andover, MA 01810 | 327085 | 08/24/2007 | MA | N/A.
Rhode Island Pet Services at Kent County, 600 Federal Street, Andover, MA 01810 | 1538113113 | 08/24/2007 | MA | N/A.
Imaging Consultants Inc. at Hawthorn, 600 Federal Street, Andover, MA 01810 | 1851449078 | 08/24/2007 | MA | N/A.
Swedish Covenant Hospital, 5145 N California Avenue, Chicago, IL 60625 | 362179813 | 08/24/2007 | IL | N/A.
Banner Baywood Medical Center, 6644 E. Baywood Avenue, Mesa, AZ 85206 | 30088 | 08/24/2007 | AZ | N/A.
Lourdes Hospital, 1530 Lone Oak Road, Padukah, KY 42003 | 1346244126 | 08/24/2007 | KY | N/A.
St Vincent Oncology Center, 8301 Harcourt Road, Indianapolis, IN 46260 | 150084 | 08/24/2007 | IN | N/A.
United Hospital System, Inc., 9555 76th Street, Pleasant Prairie, WI 53518 | 520021 | 08/24/2007 | WI | N/A.
East Tennessee Diagnostic Center, 1450 Dowell Springs Boulevard, Suite 210, Knoxville, TN 37909 | 1710932553 | 08/24/2007 | TN | N/A.
Nazareth Hospital, 8400 Roosevelt Boulevard, Philadelphia, PA 19152 | 390204A | 08/24/2007 | PA | N/A.
Good Samaritan Hospital, 2425 Samaritan Drive, San Jose, CA 95124 | 50380 | 08/24/2007 | CA | N/A.
MedSpecialists Imaging Center, 1064 Keene Road, Dunedin, FL 34698 | AB585 | 08/24/2007 | FL | N/A.
NSMS—Pekin, IL, 2355 Broadway Road, Pekin, IL 61544 | 1295785079 | 08/24/2007 | IL | N/A.
Bluegrass Regional Imaging, LLC, 701 Bob-O-Link Drive, Lexington, KY 40504 | 1871542670 | 08/24/2007 | KY | Suite 245.
Fairfax Pet Imaging Center, 8503 Arlington Boulevard, Fairfax, VA 22031 | 1831220714 | 08/24/2007 | VA | Suite 120LL.
Lodi Community Hospital, 225 Elyria Street, Lodi, OH 44254 | 361303 | 08/24/2007 | OH | N/A.
Legacy Meridian Park Hospital, 19260 SW 65th Avenue, Suite 165, Tualatin, OR 97062 | 380089 | 08/24/2007 | OR | N/A.
Galion Community Hospital, 269 Portland Way South, Galion, OH 44833 | 361325 | 08/24/2007 | OH | N/A.
Oncology Hematology Associates of Central Illinois, 8940 N. Wood Sage Road, Peoria, IL 61615, | 616880 | 08/24/2007 | IL | N/A.
Mid Ohio Oncology/Hematology, Inc., 3100 Plaza Properties Boulevard, Columbus, OH 43219 | 1376509661 | 08/24/2007 | OH | N/A.
Kentucky Imaging Center, 3475 Richmond Road, Lexington, KY 40509 | 1992876981 | 08/24/2007 | KY | SUITE 150.
Salem Community Hospital, 1995 East State Street, Salem, OH 44460 | 1639131535 | 08/24/2007 | OH | N/A.
Belmont Community Hospital, 51339 National Road, St. Clairsville, OH 43950 | 360153 | 08/24/2007 | OH | N/A.
Golder CT and MRI Center, 613 North Golder Avenue, Odessa, TX 79761 | N/A | 08/24/2007 | TX | N/A.
NSMS—Reedsburg, WI, 2000 North Dewey Street, Reedsburg, WI 53959 | 1295785097 | 08/24/2007 | WI | N/A.
MaineGeneral Medical Center, 361 Old Belgrade Road, Augusta, ME 04330 | 200039A | 08/24/2007 | ME | N/A.
The Oklahoma PET Center, PLLC, 5401 N. Portland Avenue, Suite 330, Oklahoma City, OK 73112 | 569959716M | 08/24/2007 | OK | N/A.
NSMS—Blytheville, AR, 1520 North Division Street, Blytheville, AR 72316 | 1295785079 | 08/24/2007 | AR | N/A.
NSMS—Benton, AR, 1 Medical Park Drive, Benton, AR 72015 | 1295785079 | 08/24/2007 | AR | N/A.
Mercy Health System, 1000 Mineral Point Avenue, Janesville, WI 53548 | 520066 | 08/24/2007 | WI | N/A.
WA Foote Memorial Hospital, 205 N. East Avenue, Jackson, MI 49201 | 230092 | 08/24/2007 | MI | N/A.
Northern Michigan Hospital, 416 Connable Avenue, Petoskey, MI 49770 | 230105 | 08/24/2007 | MI | N/A.
Anchor Health Centers, 800 Goodlette Road N., Naples, FL 34102 | 1174571608 | 08/24/2007 | FL | Suite 130.
New Ulm Medical Center, 1324 5th North Street, New Ulm, MN 56073 | 2880 | 08/24/2007 | MN | N/A.
Radiology Associates of Brooklyn LLP, 2021 Avenue X, Brooklyn, NY 11235-2905 | 1134244916 | 08/24/2007 | NY | N/A.
NYOH Mobile PET/CT Hudson, 69 Prospect Road, Hudson, NY 12534 | 1609863448 | 08/24/2007 | NY | N/A.
Integris Bass Baptist Health Center, 600 South Monroe, Enid, OK 73703 | 1144236571 | 08/24/2007 | OK | N/A.
Imaging Consultants Inc at Weymouth Woods, 59 Performance Drive, Weymouth, MA 2188 | 1487690335 | 08/24/2007 | MA | N/A.
St. Vincent Medical Center, 2131 W. Third Street, Los Angeles, CA 90057 | 50502 | 08/24/2007 | CA | N/A.
Caritas PET Imaging, LLC at Holyoke Medical Center, 575 Beech Street, Holyoke, MA 1040 | 327087 | 08/24/2007 | MA | N/A.
St. James Healthcare, 400 South Clark, Butte, MT 59701 | 270017 | 08/24/2007 | MT | N/A.
Inglewood Imaging Center, 211 N. Prairie Avenue, Inglewood, CA 90301 | TD097 | 08/24/2007 | CA | N/A.
Duncan Regional Hospital, 1700 Whisenant Drive, Duncan, OK 73534 | 370023 | 08/24/2007 | OK | PO Box 100.
OhioHealth Ambulatory PET/CT, 500 Thomas Lane, Columbus, OH 43214 | 360006 | 08/24/2007 | OH | N/A.
Baylor Diagnostic Imaging Center at Junius, 3900 Junius Street, Suite 100 Dallas, TX 75246 | 450021 | 08/24/2007 | TX | N/A.
PET/CT Imaging at White Marsh, 9900 Franklin Square Drive, Suite D, Nottingham, MD 21236 | FMNX01 | 08/28/2007 | MD | N/A.
Central Baptist Diagnostic Center, 100 Southland Drive, Lexington, KY 40503 | 9375001 | 06/14/2006 | KY | Suite B.
Baptist Health Medical Center—NLR PET/CT, 3500 Springhill Drive, North Little Rock, AR 72117 | 5F437 | 05/03/2006 | AR | Suite 100.
Commonwealth Hematology Oncology, 95 Bogle Office Park Drive, Somerset, KY 42503 | 1285687178 | 03/21/2007 | KY | N/A.
Commonwealth Hematology Oncology, 216 Southtown Drive, Danville, KY 40422 | 1285687178 | 03/21/2007 | KY | N/A.
Jefferson Center City Imaging, 850 Walnut Street, Philadelphia, PA 19107 | 66277 | 09/07/2007 | PA | N/A.
EPIC Imaging Center, 233 NE 102 Avenue, Portland, OR 97220 | 0000WCGNQ | 09/11/2007 | OR | N/A.
UPMC and The Washington Hospital Cancer Center, 155 Wilson Avenue, Washington, PA 15301 | 105589VXB | 03/10/2006 | PA | N/A.
Lexington Diagnostic Center, 1725 Harrodsburg Road, Suite 100, Lexington, KY 40504 | 0406 | 03/08/2006 | KY | N/A.
UW PET Imaging Center, 8007 Excelsior Drive, Madison, WI 53717 | 1346266319 | 04/03/2007 | WI | N/A.
NorCal Imaging—Oakland, 3200 Telegraph Avenue, Oakland, CA 94609 | ZZZ05319Z | 08/22/2007 | CA | N/A.
NorCal Imaging—Walnut Creek, 114 La Casa Via, Suite #100, Walnut Creek, CA 94598 | ZZZ05319Z | 08/22/2007 | CA | N/A.
Aurora Sheboygan Memorial Imaging Center, 2629 North 7th Street, Sheboygan, WI 53083 | 520035 | 05/08/2008 | WI
Aurora Memorial Hospital of Burlington, 252 McHenry Street, Burlington, WI 53105 | 520059 | 05/08/2008 | WI
Aurora Medical Center—Manitowoc County, 5000 Memorial Drive, Two Rivers, WI 54241 | 520034 | 05/08/2008 | WI

Addendum XIII—Medicare-Approved Ventricular Assist Device (Destination Therapy) Facilities [January Through March 2008]

On October 1, 2003, we issued our decision memorandum on ventricular assist devices for the clinical indication of destination therapy. We determined that ventricular assist devices used as destination therapy are reasonable and necessary only if performed in facilities that have been determined to have the experience and infrastructure to ensure optimal patient outcomes. We established facility standards and an application process. All facilities were required to meet our standards in order to receive coverage for ventricular assist devices implanted as destination therapy.

The following facilities have met the CMS facility standards for destination therapy VADs.

VAD Destination Therapy Facilities
Facility | Provider No. | Date approved | State | Other information
Advocate Christ Medical Center, 4440 W 95th Street, Oak Lawn, Illinois | 140208 | 12/17/2003 | IL |
California Pacific Medical Center, 2333 Buchanan Street, San Francisco, California | 050047 | 03/19/2004 | CA |
Baptist Memorial Hospital, 6019 Walnut Grove Road, Memphis, Tennessee | 440048 | 04/07/2004 | TN |
Duke University Medical Center, DUMC Box 3943, Durham, North Carolina | 340030 | 10/31/2003 | NC |
Fairview-University Medical Center, 2450 Riverside Avenue, Minneapolis, Minnesotta | 240080 | 10/28/2003 | MN |
Allegheny General Hospital, 320 E North Avenue, Pittsburgh, Pennsylvania | 390050 | 12/10/2003 | PA |
Barnes-Jewish Hospital, One Barnes-Jewish Hospital Plaza, Saint Louis, Missouri | 260032 | 10/27/2003 | MO |
Brigham and Women's Hospital, 15 Francis Street, Boston, Massachusetts | 220110 | 01/09/2004 | MA |
Bryan LGH Medical Center East, 1600 S 48 Street, Lincoln, Nebraska | 280003 | 10/23/2003 | NE |
Cedars-Sinai Medical Center, 8700 Beverly Boulevard, Los Angeles, California | 050625 | 12/29/2003 | CA |
Clarian Health Partners, Inc., 1701 N. Senate Avenue, Indianapolis, Indiana | 150056 | 11/25/2003 | IN |
Cleveland Clinic, 9500 Euclid Avenue, Cleveland, Ohio | 360180 | 12/03/2003 | OH |
Hahnemann University Hospital, Broad and Vine Streets, Philadelphia, Pennsylvania | 390290 | 12/22/2003 | PA |
Hospital of the University of Pennsylvania, 3400 Spruce Street, Philadelphia, Pennsylvania | 390111 | 10/28/2003 | PA |
Henry Ford Hospital, 2799 W. Grand Boulvard, Detroit, Michigan | 230053 | 01/06/2004 | MI |
Inova Fairfax Hospital, 3300 Gallows Road, Falls Church, Virginia | 490063 | 03/31/2004 | VA |
Jewish Hospital, 200 Abraham Flexner Way, Louisville, Kentucky | 180040 | 11/10/2003 | KY |
Jackson Memorial Hospital, 1611 NW 12th Avenue, Miami, Florida | 100022 | 01/12/2004 | FL | University of Miami.
LDS Hospital, 8th Avenue and C Street, Salt Lake City, Utah | 460010 | 10/23/2003 | UT |
Johns Hopkins Hospital, 600 N. Wolfe Street, Baltimore, Maryland | 210009 | 10/28/2003 | MD |
Loyola University Medical Center, 2160 S. 1st Avenue, Maywood, Illinois | 140276 | 01/30/2004 | IL |
Lutheran Hospital of Indiana, 7950 W. Jefferson Boulevard, Fort Wayne, Indiana | 150017 | 10/29/2003 | IN |
Massachusetts General Hospital, 55 Fruit Street, Boston, Massachusetts | 220071 | 12/15/2003 | MA |
Mayo Clinic, 4500 San Pablo Road, Jacksonville, Florida | 100151 | 11/06/2003 | FL |
Medical City Dallas Hospital, 7777 Forest Lane, Dallas, Texas | 450647 | 12/03/2003 | TX |
The Methodist Hospital, 6565 Fannin Street, Houston, Texas | 450358 | 11/03/2003 | TX |
Montefiore Medical Center, 111 E. 210th Street, Bronx, New York | 330059 | 11/14/2003 | NY |
Methodist Specialty and Transplant Hospital, 8026 Floyd Curl Drive, San Antonio, Texas | 450388 | 11/19/2003 | TX |
Newark Beth Israel Medical Center, 201 Lyons Avenue, Newark, New Jersey | 310002 | 11/14/2003 | NJ |
Mount Sinai Medical Center, 1190 5th Avenue, New York, New York | 330024 | 11/25/2003 | NY |
New York-Presbyterian Hospital, 177 Fort Washington Avenue, New York, New York | 330101 | 10/28/2003 | NY | Columbia University Medical Center.
Ohio State University Medical Center, 410 W. 10th Avenue, Columbus, Ohio | 360085 | 11/12/2003 | OH |
Oregon Health and Sciences University, 3181 SW Sam Jackson Park Road, Portland, Oregon | 380009 | 11/21/2003 | OR |
OSF St Francis Medical Center, 530 NE Glen Oak Avenue, Peoria, Illinois | 140067 | 11/12/2003 | IL |
Penn State Milton S Hershey Medical Center, 500 University Drive, Hershey, Pennsylvania | 390256 | 10/29/2003 | PA |
Rush-Presbyterian-St Luke Medical Center, 1653 W Congress Parkway, Chicago, Illinois | 140119 | 11/14/2003 | IL |
Sentara Norfolk General Hospital, 600 Gresham Drive, Norfolk, Virginia | 490007 | 11/10/2003 | VA |
Sacred Heart Medical Center, 101 W 8th Avenue, Spokane, Washington | 500054 | 01/12/2004 | WA |
Seton Medical Center, 1201 W. 38th Street, Austin, Texas | 450056 | 01/13/2004 | TX |
Shands at the University of Florida, 1600 SW Archer Road, Gainesville, Florida | 100113 | 11/26/2003 | FL |
Sharp Memorial Hospital, 7901 Frost Street, San Diego, California | 050100 | 12/01/2003 | CA |
Stanford University Hospital and Clinics, 300 Pasteur Drive, Stanford, California | 050441 | 12/22/2003 | CA | Stanford University Medical Center.
St Francis Hospital, 6161 S. Yale Avenue, Tulsa, Oklahoma | 370091 | 01/09/2004 | OK |
St Luke's Medical Center, 2900 W Oklahoma Avenue, Milwaukee, Wisconsin | 520138 | 11/03/2003 | WI |
St Luke's Episcopal Hospital, 6720 Bertner Avenue, Houston, Texas | 450193 | 10/28/2003 | TX |
St Vincent Hospital and Health Services, 2001 W. 86th Street, Indianapolis, Indiana | 150084 | 01/05/2004 | IN |
St Paul Medical Center, 5909 Harry Hines Boulevard, Dallas, Texas | 450044 | 12/10/2003 | TX |
Strong Memorial Hospital, 601 Elmwood Avenue, Rochester, New York | 330285 | 10/29/2003 | NY |
Tampa General Hospital, 2 Columbia Drive, Tampa, Florida | 100128 | 11/26/2003 | FL |
Temple University Hospital, 3401 N. Broad Street, Philadelphia, Pennsylvania | 390027 | 11/03/2003 | PA |
Tufts-New England Medical Center, 750 Washington Street, Boston, Massachusetts | 220116 | 11/06/2003 | MA |
UCLA Medical Center, 10833 Le Conte Avenue, Los Angeles, California | 050262 | 12/10/2003 | CA |
University Medical Center, 1501 N. Campbell Avenue, Tucson, Arizonia | 030064 | 10/29/2003 | AZ |
University of Alabama at Birmingham Health System, 500 22nd Street S., Birmingham, Alabama | 010033 | 10/29/2003 | AL |
University of Colorado Hospital, 4200 E. Ninth Avenue, Denver, Colorado | 060024 | 11/06/2003 | CO | 9th & Colorado Campus.
The University of Chicago Hospitals and Health System, 5841 South Maryland Avenue, Chicago, Illinois | 140088 | 02/25/2004 | IL |
University of Iowa Hospitals and Clinics, 200 Hawkins Drive, Iowa City, Iowa | 160058 | 11/12/2003 | IA |
University of Maryland Medical Center, 22 S. Greene Street, Baltimore, Maryland | 210002 | 11/12/2003 | MD |
University of Michigan Health System, 1500 E. Medical Center Drive, Ann Arbor, Michigan | 230046 | 10/27/2003 | MI |
University of North Carolina Hospitals, 101 Manning Drive, Chapel Hill, North Carolina | 340061 | 05/05/2004 | NC |
University of Utah Hospital, 50 N Medical Drive, Salt Lake City, Utah | 460009 | 12/22/2003 | UT |
University of Virginia Health System, 1215 Lee Street, Charlottesville, Virginia | 490009 | 01/12/2004 | VA |
University of Washington Medical Center, 1959 NE Pacific Street, Seattle, Washington | 500008 | 01/15/2004 | WA |
University of Wisconsin Hospitals and Clinics, 600 Highland Avenue, Madison, Wisconsin | 520098 | 12/03/2003 | WI |
USC University Hospital, 1500 San Pablo, Los Angeles, California | 050696 | 01/09/2004 | CA |
UPMC Presbyterian, 200 Lothrop Street, Pittsburgh, Pennsylvania | 390164 | 10/23/2003 | PA |
Virginia Commonwealth University Medical Center, 401 North 12th Street, Richmond, Virginia | 490032 | 04/08/2004 | VA | Medical College of Virginia Hospitals.
Vanderbilt University Medical Center, 1161 21st Avenue S., Nashville, Tennessee | 440039 | 10/28/2003 | TN |
Ochsner Clinic Foundation, 1514 Jefferson Highway, New Orleans, Louisiana | 190036 | 06/29/2004 | LA |
Baylor University Medical Center, 3500 Gaston Avenue, Dallas, TX 75246 | N/A | 10/04/2007 | TX |
The University of Michigan Hospitals and Health Centers, 1500 East Medical Center Drive, Ann Arbor, MI 48109 | 230046 | 03/28/2008 | MI |
Saint Mary's Hospital, 1216 Southwest Second Street, Rochester, MN 55902 | N/A | 02/27/2008 | MN |
Allegheny General Hospital, 320 East North Avenue, Pittsburgh, PA 15212 | N/A | 03/08/2008 | PA |
Washington Hospital Center, 110 Irving Street, NW., Washington, DC 20010 | 09-0011 | 04/23/2008 | DC |

Addendum XIV—Lung Volume Reduction Surgery (LVRS) [January Through March 2008]

Three types of facilities are eligible for reimbursement for Lung Volume Reduction Surgery (LVRS): National Emphysema Treatment Trial (NETT) approved (Beginning 05/07/2007, these will no longer automatically qualify and can qualify only with the other programs), Credentialed by the Joint Commission on Accreditation of Healthcare Organizations (JCAHO) under their Disease Specific Certification Program for LVRS, and Medicare approved for lung transplants. Only the first two types are in the list.

Facility name | Date approved | State | Type of certification
Baylor College of Medicine, Houston, Texas | N/A | TEXAS | NETT.
Brigham and Women's Hospital, Boston, MA | N/A | MASSACHUSETTS | NETT.
Cedars-Sinai Medical Center, Los Angeles, CA | N/A | CALIFORNIA | NETT.
Chapman Medical Center, Orange, CA | N/A | CALIFORNIA | NETT.
Cleveland Clinic Foundation, Cleveland, OH | N/A | OHIO | NETT.
Columbia University, New York, NY | N/A | NEW YORK | NETT.
Duke University Medical Center, Durham, NC | N/A | NORTH CAROLINA | NETT.
Johns Hopkins Hospital, Baltimore, MD | N/A | MARYLAND | NETT.
Kaiser Foundation Hospital—Riverside, Riverside, CA | 09/20/2006 | CALIFORNIA | JCAHO.
Long Island Jewish Medical Center, New Hyde Park, NY | N/A | NEW YORK | NETT.
Mayo Clinic, Rochester, MN | N/A | MINNESOTA | NETT.
Memorial Medical Center, Springfield, IL | 12/13/2006 | ILLINOIS | JCAHO.
National Jewish Medical Center, Denver, CO | N/A | COLORADO | NETT.
The Ohio State University Hospital, Columbus, OH | N/A | OHIO | JCAHO.
Ohio State University Medical Center, Columbus, OH | N/A | OHIO | NETT.
Saint Louis University, Saint Louis, MO | N/A | MISSOURI | NETT.
Temple University Hospital, Philadelphia, PA | N/A | PENNSYLVANIA | NETT.
UCLA Medical Center, Los Angeles, CA | N/A | CALIFORNIA | NETT.
University of California, San Diego, San Diego, CA | N/A | CALIFORNIA | NETT.
University of Maryland Medical Center, Baltimore, MD | N/A | MARYLAND | NETT.
University of Michigan Medical Center, Ann Arbor, MI | N/A | MICHIGAN | NETT.
University of Pennsylvania, Philadelphia, PA | N/A | PENNSYLVANIA | NETT.
University of Pittsburgh, Pittsburgh, PA | N/A | PENNSYLVANIA | NETT.
University of Washington, Seattle, WA | N/A | WASHINGTON | NETT.
Washington University/Barnes Hospital, Saint Louis, MO | N/A | MISSOURI | NETT.

Addendum XV—Medicare-Approved Bariatric Surgery Facilities

On February 21, 2006, we issued our decision memorandum on bariatric surgery procedures. We determined that bariatric surgical procedures are reasonable and necessary for Medicare beneficiaries who have a body-mass index (BMI) greater than or equal to 35, have at least one co-morbidity related to obesity, and have been previously unsuccessful with medical treatment for obesity.

This decision also stipulated that covered bariatric surgery procedures are reasonable and necessary only when performed at facilities that are: (1) Certified by the American College of Surgeons (ACS) as a Level 1 Bariatric Surgery Center (program standards and requirements in effect on February 15, 2006); or (2) certified by the American Society for Bariatric Surgery (ASBS) as a Bariatric Surgery Center of Excellence (BSCOE) (program standards and requirements in effect on February 15, 2006).

The following facilities have met our minimum facility standards for bariatric surgery and have been certified by American College of Surgeons (ACS) or American Society for Metabolic and Bariatric Surgery (ASMBS).

Facility name | Provider No. | Date approved | State | Other information
Evanston Northwestern Hospital, 2650 Ridge Avenue, Suite 1308, Evanston, IL 60201 | 140010 | 01/26/2006 | IL | ACS.
Chapman Medical Center, 2601 East Chapman Avenue, Orange, CA 92646 | 05-0745 | 02/21/2006 | CA | ASMBS.
St Vincent Carmel Hospital, 13430 Old Meridian Street, Suite 168, Carmel, IN 46032 | 15-0157 | 02/21/2006 | IN | ASMBS.
Abbott Northwestern Hospital, 800 E. 28th Street, Minneapolis, MN 55407 | N/A | 02/24/2006 | MN | ASMBS.
Alexian Brothers Medical Center, 800 Biesterfield Road, Elk Grove Village, IL 60007 | N/A | 02/24/2006 | IL | ASMBS.
American Bariatric Institute at Doctors' Hospital, 1130 Louisiana Avenue, Shreveport, LA 71101 | N/A | 02/24/2006 | LA | ASMBS.
Arnot Ogden Medical Center, 600 Fitch Street, Elmira, NY 14905 | 330090 | 02/24/2006 | NY | ASMBS.
AtlantiCare Regional Medical Center, 2500 English Creek Avenue, Egg Harbor Township, NJ 08234 | N/A | 02/24/2006 | NJ | Center for Surgical Weight Loss and Wellness Salartash Surgical Associates ASMBS.
Atlanta Medical Center, 303 Parkway Drive NE, Atlanta, GA 30312 | N/A | 02/24/2006 | GA | ASMBS.
Aurora Sinai Medical Center, 945 N. 12th Street, Milwaukee, WI 53211 | N/A | 02/24/2006 | WI | ASMBS.
Baptist Memorial Hospital—North Mississippi, 2301 South Lamar Boulevard, Oxford, MS 38655 | N/A | 02/24/2006 | MS | ASMBS.
Bellin Health, 215 N. Webster Avenue, Green Bay, WI 54301 | N/A | 02/24/2006 | WI | ASMBS.
Bon Secours Community Hospital, 160 E. Main Street, Port Jervis, NY 12771 | N/A | 02/24/2006 | NY | ASMBS.
California Pacific Medical Center, 2333 Buchanan Street, San Francisco, CA 94115 | N/A | 02/24/2006 | CA | ASMBS.
Cape Fear Valley Health System, 1638 Owen Drive, Fayetteville, NC 28304 | N/A | 02/24/2006 | NC | ASMBS.
Centennial Center for the Treatment of Obesity, 2300 Patterson Street, Nashville, TN 37203 | N/A | 02/24/2006 | TN | ASMBS.
Cleveland Clinic Hospital-Weston, 3100 Weston Road, Weston, FL 33331 | N/A | 02/24/2006 | FL | ASMBS.
Christus Schumpert Health System, 1 Saint Mary Place, Shreveport, LA 71101 | N/A | 02/24/2006 | LA | ASMBS.
Citizen's Bariatric Center, 2701 Hospital Avenue, Victoria, TX 77901 | N/A | 02/24/2006 | TX | ASMBS.
Columbia-St. Mary's Bariatric Center, 2025 E. Newport Avenue, Milwaukee, WI 53211 | N/A | 02/24/2006 | WI | ASMBS.
Community Hospital Monterey Peninsula, 23625 Holman Highway, Monterey, CA 93940 | N/A | 02/24/2006 | CA | ASMBS.
Crestwood Medical Center, One Hospital Drive, Huntsville, AL 35801 | N/A | 02/24/2006 | AL | ASMBS.
Cypress Fairbanks Medical Center Hospital, 10655 Steepletop Drive, Houston, TX 77065 | 450716 | 02/24/2006 | TX | ASMBS.
Danbury Hospital, 24 Hospital Avenue, Danbury, CT 06810 | N/A | 02/24/2006 | CT | ACS.
East Texas Medical Center, 1000 S. Beckman Avenue, Tyler, TX 75701 | N/A | 02/24/2006 | TX | ASMBS.
Eastern Maine Medical Center, 905 Union Street, EMH Mall, Suite 11, Bangor, ME 04401 | 200033 | 02/24/2006 | ME | ASMBS.
Elmbrook Memorial Hospital, 19333 W. North Avenue, Brookfield, WI 53045 | N/A | 02/24/2006 | WI | ASMBS.
Emory Dunwoody Medical Center, 4575 N. Shallowford Road, Atlanta, GA 30338 | N/A | 02/24/2006 | GA | ASMBS.
Florida Hospital Celebration Health, 400 Celebration Place, Kissimmee, FL 34747 | N/A | 02/24/2006 | FL | ASMBS.
Florida Medical Center, 4850 W. Oakland Boulevard, Lauderdale Lakes, FL 33313 | N/A | 02/24/2006 | FL | ASMBS.
Froedtert Memorial Lutheran Hospital, 9200 W. Wisconsin Avenue, Milwaukee, WI 53226 | N/A | 02/24/2006 | WI | Medical College of Wisconsin ASMBS.
Frye Regional Medical Center, 420 N. Center Street, Hickory, NC 28601 | N/A | 02/24/2006 | NC | ASMBS.
Geisinger Medical Center, 100 North Academy Avenue, Danville, PA 17822 | 390006 | N/A | PA | ASMBS-02/24/2006 ACS-01/26/2007.
Good Samaritan Hospital, 375 Dixmyth Avenue, Cincinnati, OH 45220 | N/A | 02/24/2006 | OH | ASMBS.
Grandview Medical Center, 405 Grand Avenue, Dayton, OH 45405 | N/A | 02/24/2006 | OH | ASMBS.
Greater Baltimore Medical Center, 6701 N. Charles Street, Baltimore, MD 21204 | N/A | 02/24/2006 | MD | ASMBS.
Hamilton Medical Center, 1200 Memorial Drive, Dalton, GA 30720 | N/A | 02/24/2006 | GA | ASMBS.
Hennepin County Medical Center, 701 Park Avenue, Minneapolis, MN 55415 | N/A | 02/24/2006 | MN | ASMBS.
Holy Cross Hospital, 4725 N. Federal Highway, Fort Lauderdale, FL 33308 | N/A | 02/24/2006 | FL | ASMBS.
Hospital of Saint Raphael, 1450 Chapel Street, New Haven, CT 06511 | N/A | 02/24/2006 | CT | ASMBS.
Huntington Memorial Hospital, 100 W. California Boulevard, Pasadena, CA 91105 | N/A | 02/24/2006 | CA | ASMBS.
Jupiter Medical Center, 1210 S. Old Dixie Highway, Jupiter, FL 33458 | N/A | 02/24/2006 | FL | ASMBS.
King's Daughters Medical Center, 617 23rd Street, Ashland, KY 41101 | N/A | 02/24/2006 | KY | ASMBS.
Legacy Good Samaritan Hospital and Medical Center, 1015 NW 22nd Avenue, Portland, OR 97210 | N/A | 02/24/2006 | OR | ASMBS.
Lexington Medical Center, 2720 Sunset Boulevard, West Columbia, SC 29169 | N/A | 02/24/2006 | SC | ASMBS.
Little Company of Mary, 2800 W. 95th Street, Evergreen Park, IL 60805 | N/A | 02/24/2006 | IL | ASMBS.
Lutheran Medical Center, 150 55th Street, Brooklyn, NY 11220 | 29D361 | 02/24/2006 | NY | ACS.
Medical University of South Carolina, 171 Ashley Avenue, Charleston, SC 29425 | N/A | 02/24/2006 | SC | ASMBS.
Memorial Hermann Hospital, 6411 Fannin Street, Houston, TX 77030 | N/A | 02/24/2006 | TX | ASMBS.
Memorial Hospital, 2525 DeSales Avenue, Chattanooga, TN 37404 | N/A | 02/24/2006 | TN | ASMBS.
Mercy Hospital Miami, 3663 South Miami Avenue, Miami, FL 33133 | N/A | 02/24/2006 | FL | ASMBS.
Mercy San Juan Medical Center, 6501 Coyle Avenue, Carmichael, CA 95608 | N/A | 02/24/2006 | CA | ASMBS.
Metabolic Surgery Center at Baptist Hospital, 2011 Church Street, Nashville, TN 37203 | N/A | 02/24/2006 | TN | ASMBS.
Methodist Dallas Medical Center, PO Box 655999, Dallas, TX 75265-5999 | N/A | 02/24/2006 | TX | Texas Bariatric Center ASMBS.
Methodist Healthcare System, 8109 Fredricksburg Road, San Antonio, TX 78229 | N/A | 02/24/2006 | TX | ASMBS.
Methodist Hospital, 6500 Excelsior Boulevard, Saint Louis Park, MN 55426 | N/A | 02/24/2006 | MN | ASMBS.
Middlesex Hospital, 28 Crescent Street, Middletown, CT 06457 | N/A | 02/24/2006 | CT | ASMBS.
Methodist Hospital of Southern California, 300 West Huntington Drive, Arcadia, CA 91007 | N/A | 02/24/2006 | CA | ASMBS.
Mills-Peninsula Health Services, 1783 El Camino Real, Burlingame, CA 94010 | N/A | 02/24/2006 | CA | ASMBS.
New Hanover Regional Medical Center, 2131 S. 17th Street, Wilmington, NC 28401 | N/A | 02/24/2006 | NC | ASMBS.
New York Methodist Hospital, 506 Sixth Street, Brooklyn, NY 11215 | N/A | 02/24/2006 | NY | ASMBS.
North Hills Hospital, 4401 Booth Calloway Road, North Richland Hills, TX 76180 | N/A | 02/24/2006 | TX | ASMBS.
North Colorado Medical Center, 1801 16th Street, Greeley, CO 80631 | N/A | 02/24/2006 | CO | ASMBS.
North Vista Hospital, 1409 E. Lake Mead Boulevard, North Las Vegas, NV 89101 | N/A | 02/24/2006 | NV | ASMBS.
Northeast Georgia Health System, Inc., 743 Spring Street, NE, Gainesville, GA 30501 | N/A | 02/24/2006 | GA | ASMBS.
NorthEast Medical Center, 920 Church Street N., #302E, Concord, NC 28025 | N/A | 02/24/2006 | NC | ASMBS.
Northwestern Memorial Hospital, 215 E. Huron Street, NE, Chicago, IL 60611 | N/A | 02/24/2006 | IL | Northwestern Medical Faculty Foundation ASMBS.
Ocala Regional Medical Center, 1431 SW 1st Street, Ocala, FL 34474 | N/A | 02/24/2006 | FL | ASMBS.
Palms of Pasadena Hospital, 1501 Pasedena Avenue, St. Petersburg, FL 33707 | N/A | 02/24/2006 | FL | ASMBS.
Orange Coast Memorial Medical Center, 9920 Talbert Avenue, Fountain Valley, CA 92708 | N/A | 02/24/2006 | CA | ASMBS.
Parkwest Medical Center, 9352 Park West Boulevard, Knoxville, TN 37923 | N/A | 02/24/2006 | TN | ASMBS.
Penrose-St. Francis Health Services, 825 E. Pikes Peak Avenue, Colorado Springs, CO 80917 | N/A | 02/24/2006 | CO | ASMBS.
Poudre Valley Hospital, 1024 S. Lemay Avenue, Fort Collins, CO 80524 | N/A | 02/24/2006 | CO | ASMBS.
Presbyterian-St. Luke's Medical Center, 1719 E. 19th Avenue, Denver, CO 80218 | N/A | 02/24/2006 | CO | ASMBS.
Princeton HealthCare System, 253 Witherspoon Street, Princeton, NJ 08540 | N/A | 02/24/2006 | NJ | ASMBS.
Roger Williams Medical Center, 825 Chalkstone Avenue, Providence, RI 02908 | N/A | 02/24/2006 | RI | Drs. Lentrichia & Pohl, Inc. ASMBS.
Rose Medical Center, 4545 E. 9th Avenue, #470, Denver, CO 80220 | N/A | 02/24/2006 | CO | ASMBS.
Saint Barnabas Medical Center, 94 Old Short Hills Road, Livingston, NJ 07039 | N/A | 02/24/2006 | NJ | ASMBS.
Saint Francis Hospital, 5959 Park Avenue, Memphis, TN 38119 | N/A | 02/24/2006 | TN | ASMBS.
St. Francis Hospital-Franciscan Health System, 34515 Ninth Avenue S., Federal Way, WA 98003 | N/A | 02/24/2006 | WA | N/A.
Saint Joseph East Center for Weight Loss, 160 N. Eagle Creek Drive, Lexington, KY 40509 | N/A | 02/24/2006 | KY | ASMBS.
Saint Mary's Regional Medical Center, 234 W. 6th Street, Reno, NV 89503 | N/A | 02/24/2006 | NV | ASMBS.
Saint Mary's Hospital, 5801 Bremo Road, Richmond, VA 23226 | N/A | 02/24/2006 | VA | ASMBS.
Scottsdale Healthcare Shea Campus, 900 E. Shea Boulevard, Scottsdale, AZ 85260 | N/A | 02/24/2006 | AZ | ASMBS.
Scripps Memorial, 9888 Genesee Avenue, La Jolla, CA 90237 | N/A | 02/24/2006 | CA | ASMBS.
Scripps Mercy Hospital, 4077 Fifth Avenue, San Diego, CA 92103 | N/A | 02/24/2006 | CA | ASMBS.
Sentara Careplex Hospital, 3000 Coliseum Drive, Hampton, VA 23666 | N/A | 02/24/2006 | VA | ASMBS.
Sinai Hospital of Baltimore, 2401 W. Belvedere Avenue, Baltimore, MD 21215 | N/A | 02/24/2006 | MD | Sinai Surgical Associates ASMBS.
Sisters of Charity Hospital, 2130 Main Street, Buffalo, NY 14214 | N/A | 02/24/2006 | NY | ASMBS.
Sioux Valley Hospital USD Medical Center, 1305 W. 18th Street, Sioux Falls, SD 57105 | N/A | 02/24/2006 | SD | ASMBS.
Sound Shore Medical Center of Westchester, 16 Guion Place, New Rochelle, NY 10801 | N/A | 02/24/2006 | NY | ASMBS.
South Nassau Communities Hospital, 1 Healthy Way, Oceanside, NY 11572 | N/A | 02/24/2006 | NY | ASMBS.
Southwest Healthcare System, 36485 Inland Valley Drive, Wildomar, CA 92595 | N/A | 02/24/2006 | CA | ASMBS.
Southwest Medical Center, 2810 Ambassador Caffery Parkway, Lafayette, LA 70506 | N/A | 02/24/2006 | LA | ASMBS.
Spectrum Health Blodgett Campus, 1840 Wealthy Street, SE, Grand Rapids, MI 49506 | N/A | 02/24/2006 | MI | MMPC Center for Health Excellence ASMBS.
SSM DePaul Health Center, 12303 DePaul Avenue, Bridgeton, MO 63044 | N/A | 02/24/2006 | MO | ASMBS.
St. Joseph's Area Health Services, 600 Pleasant Avenue, Park Rapids, MN 56470 | N/A | 02/24/2006 | MN | ASMBS.
St. Vincent Charity Hospital, 2322 E. 22nd Street, #220, Cleveland, OH 44115 | N/A | 02/24/2006 | OH | ASMBS.
Staten Island University Hospital, 475 Seaview Avenue, Staten Island, NY 10305 | N/A | 02/24/2006 | NY | ASMBS.
Theda Clark Medical Center, 200 Theda Clark Medical Plaza, Suite 410, Neenah, WI 54956 | 000071445 | 02/24/2006 | WI | ACS.
The Ohio State University Hospital, 410 W. 10th Avenue, Columbus, OH 43210 | N/A | 02/24/2006 | OH | ASMBS.
The Regional Medical Center at Memphis, 877 Jefferson Avenue, Memphis, TN 38103 | N/A | 02/24/2006 | TN | ASMBS.
Tri-City Regional Medical Center, 21530 Pioneer Boulevard, Hawaiian Gardens, CA 90716 | N/A | 02/24/2006 | CA | ASMBS.
United Hospital, 333 North Smith Avenue, Saint Paul, MN 55102 | N/A | 02/24/2006 | MN | ASMBS.
United Regional Health Care System, 1600 19th Street, Wichita Falls, TX 76301 | N/A | 02/24/2006 | TX | ASMBS.
Unity Hospital, 550 Osborne Road, NE, Fridley, MN 55432 | N/A | 02/24/2006 | MN | ASMBS.
University of Chicago Hospitals, 5841 S. Maryland Avenue, Chicago, IL 60637 | N/A | 02/24/2006 | IL | University of Chicago Department of Surgery ASMBS.
University of Minnesota Medical Center, Fairview, 2450 Riverside Avenue, Minneapolis, MN 55454 | 24-0080 | 02/24/2006 | MN | ASMBS.
UPMC St. Margaret, 815 Freeport Road, Pittsburgh, PA 15215 | N/A | 02/24/2006 | PA | ASMBS.
UPMC Horizon, 110 North Main Street, Greenville, PA 16125 | N/A | 02/24/2006 | PA | ASMBS.
Virginia Commonwealth University Medical Center Richmond, VA 23284 | N/A | 02/24/2006 | VA | ASMBS.
Vanderbilt University Medical Center, 1211 22nd Avenue S., Nashville, TN 37232 | N/A | 02/24/2006 | TN | ASMBS.
Weight Loss Surgery Program at Baylor, 9101 N. Central Expressway, Suite 370, Dallas, TX 75231 | N/A | 02/24/2006 | TX | ASMBS.
Wellstar Health Systems, 677 Church Street, NE, Marietta, GA 30060 | N/A | 02/24/2006 | GA | ASMBS.
White Plains Hospital Center, 190 E. Post Road, White Plains, NY 10601 | N/A | 02/24/2006 | NY | ASMBSs
York Hospital, 1001 S. George Street, York, PA 17403 | N/A | 02/24/2006 | PA | ASMBS.
Norman Regional Hospital, 901 North Porter, Box 1308, Norman, OK 73070 | 370008 | 03/22/2006 | OK | ASMBS.
St. Luke's Medical Center, 1800 E. Van Buren, Suite 307B, Phoenix, AZ 85006 | 030037 | 03/22/2006 | AZ | Abdominal Surgeons, Ltd. ASMBS.
Silver Cross Hospital, 1200 Maple Road, Joliet, IL 60432 | 140213 | 03/22/2006 | IL | Midwest Comprehensive Bariatrics ASMBS.
Tampa General Hospital, 2 Columbia Drive, F145, Tampa, FL 33601 | 100128 | 03/22/2006 | FL | University of South Florida ASMBS.
Spartanburg Regional Healthcare System, 101 East Wood Street, Spartanburg, SC 29303 | 420007 | 03/27/2006 | SC | ASMBS.
OSF Saint Francis Medical Center, 530 NE Glen Oak Avenue, Peoria, IL 61637 | 140067 | 04/05/2006 | IL | ASMBS.
Palmetto Health Baptist, 1850 Laurel Street, Suite 1A, Columbia, SC 29201 | 420086 | 04/05/2006 | SC | ASMBS.
Peconic Bay Medical Center, 1300 Roanoke Avenue, Riverhead, NY 11901 | 330107 | 04/06/2006 | NY | ASMBS.
Desert Springs Hospital, 2075 East Flamingo, Las Vegas, NV 89119 | 290022 | 04/07/2006 | NV | ASMBS.
Palmetto General Hospital, 2001 West 68th Street, Hialeah, FL 33016 | 100187 | 04/11/2006 | FL | ASMBS.
Hurley Medical Center, One Hurley Plaza, Flint, MI 48503-5993 | 230132 | 04/14/2006 | MI | ACS.
University of California, Davis, 2315 Stockton Boulevard, Sacramento, CA 95817 | N/A | 04/18/2006 | CA | ASMBS.
Russell County Medical, Carroll and Tate Streets, Lebanon, VA 24266 | N/A | 04/27/2006 | VA | ASMBS.
Western Pennsylvania Hospital, 4800 Friendship Avenue, Pittsburgh, PA 15224 | 028672 | N/A | PA | ASMBS-05/01/2006 ACS-10/16/2006.
Banner Good Samaritan Bariatric Center, 1300 North 12th Street, Suite 610, Phoenix, AZ 85006 | N/A | 05/04/2006 | AZ | ASMBS.
Bothwell Regional Health Center, 601 East 14th Street, Sedalia, MO 65301 | N/A | 05/17/2006 | MO | ASMBS.
Durham Regional Hospital, 3643 N. Roxboro Road, Durham, NC 27704 | N/A | 05/17/2006 | NC | ASMBS.
Fairview Southdale Hospital, 6405 France Avenue Street, Suite W320 Edina, MN 55435 | N/A | 05/17/2006 | MN | ASMBS.
Cleveland Clinic, 9500 Euclid Avenue (A80), Cleveland, OH 44195 | 360180 | N/A | OH | 05/24/2006-ASMBS 12/01/2006-ACS.
St. Agnes Healthcare, 900 Caton Avenue, Baltimore, MD 21229 | 210011 | 05/24/2006 | MD | ASMBS.
Sycamore Hospital, 2150 Leiter Road, Miamisburg, OH 45342 | 360239 | 05/24/2006 | OH | ASMBS.
Albany Medical Center, 47 New Scotland Avenue, Albany, NY 12208 | 330013 | 06/02/2006 | NY | ACS.
Georgetown Community Hospital, 1140 Lexington Road, Georgetown, KY 40324 | 180101 | 06/07/2006 | KY | ASMBS.
Fletcher Allen Health Care, 111 Colchester Avenue, Burlington, VT 05401 | N/A | 06/09/2006 | VT | Hospital: 470003 Group Provider: VN0997 ACS.
New York-Presbyterian Hospital/Columbia University Medical Center, 622 W. 168th Street, New York, NY 10032 | 330101 | 06/14/2006 | NY | ACS.
Providence Memorial Hospital, 2001 North Oregon Street, El Paso, TX 79902 | 450668 | 06/15/2006 | TX | ASMBS.
UT Southwestern University Hospitals-Zale Lipshy, 5909 Harry Hines Boulevard, Dallas, TX 75390 | 450766 | 06/19/2006 | TX | ASMBS.
Cedars-Sinai Medical Center, 8700 Beverly Boulevard, Los Angeles, CA 90048 | N/A | 06/20/2006 | CA | Thalians—2W ACS.
Community Medical Center-Clovis, 2755 Herndon Avenue, Clovis, CA 93611 | 050492 | N/A | CA | ACS-06/26/2006 ASMBS-12/07/2006.
Oregon Health & Science University, 3181 SW Sam Jackson Park Road, L223A, Portland, OR 97239 | See other information | 06/27/2006 | OR | OHSU Medical Group—107708 OHSU Hospital—380009 ACS.
Hospital of the University of Pennsylvania, 3400 Spruce Street, 4 Silverstein, Philadelphia, PA 19104 | N/A | 07/06/2006 | PA | ASMBS.
Swedish Medical Center, 501 East Hampden Avenue, Englewood, CO 80113 | 060034 | 07/06/2006 | CO | ASMBS.
Blount Memorial Hospital, 907 East Lamar Alexander Parkway, Maryville, TN 37801 | 440011 | 07/11/2006 | TN | ASMBS.
University of Virginia Health System, PO Box 800809, Charlottesville, VA 22908-0809 | 490009 | 07/12/2006 | VA | ACS.
Sewickley Valley Hospital, 720 Blackburn Road, Sewickley, PA 15143 | 390037 | 07/13/2006 | PA | ASMBS.
The Christ Hospital, 2139 Auburn Avenue, Cincinnati, OH 45219 | 360163 | 07/17/2006 | OH | ASMBS.
Cabell Huntington Hospital, 1340 Hal Greer Boulevard, Huntington, WV 25701 | 510055 | 07/19/2006 | WV | ASMBS.
Mount Sinai Hospital, One Gustave L. Levy Place, 1190 5th Avenue, New York, NY 10029 | 330024 | 07/25/2006 | NY | ASMBS.
UMass Memorial Medical Center—Memorial Campus, 119 Belmont Street, Worcester, MA 01605 | A22819 | 07/27/2006 | MA | ACS.
Henry Ford Hospital, 2799 West Grand Boulevard, Detroit, MI 48202 | N/A | 07/31/2006 | MI | ASMMBS.
Vista Surgical Hospital, 9094 Perkins Road, Suite B, Baton Rouge, LA 70810 | 230053 | 07/31/2006 | LA | ASMBS.
Town & Country Hospital, 6001 Webb Road, Tampa, FL 33615 | 100255 | 08/02/2006 | FL | ASMBS.
New York-Presbyterian Hospital/Weill Cornell Medical Center, 630 West 168th Street, New York, NY 10032 | 330101 | 08/04/2006 | NY | ACS.
Centinela Freeman Regional Medical Center, 4650 Lincoln Boulevard, Marin del Rey, CA 90292 | 050741 | 08/07/2006 | CA | ASMBS.
NYU Medical Center, 560 First Avenue, New York, NY 10016 | 330214 | 08/08/2006 | NY | ASMBS.
Regional West Medical Center, 4021 Avenue B, Scottsbluff, NE 69361 | 280061 | 08/08/2006 | NE | ASMBS.
Mercy Medical Center, 1000 North Village Avenue, Rockville Centre, NY 11570 | N/A | 08/10/2006 | NY | ASMBS.
Brigham and Women's Hospital, 75 Francis Street, Boston, MA 02115-6195 | M20830 | 08/14/2006 | MA | ACS.
Highland Hospital, 1000 South Avenue, Rochester, NY 14620 | 330164 | 08/30/2006 | NY | ACS.
Inova Fair Oaks Hospital, 3600 Joseph Siewick Drive, Fairfax, VA 22033 | 490101 | 08/31/2006 | VA | ASMBS.
Our Lady of Lourdes Medical Center, 1600 Haddon Avenue, Camden, NJ 08104 | 613039 | 08/31/2006 | NJ | ASMBS.
FirstHealth Moore Regional Hospital, 155 Memorial Drive, Pinehurst, NC 27374 | 340115 | 09/01/2006 | NC | ASMBS.
Hamot Medical Center, 201 State Street, Erie, PA 16550 | 390063 | 09/01/2006 | PA | ASMBS
St. Alexius Hospital-NewStart, 3933 South Broadway Street, St. Louis, MO 63118 | 260210 | 09/01/2006 | MO | ASMBS.
St. Catherine of Siena Medical Center, 50 Route 25A, Smithtown, NY 11787 | 316495 | 09/01/2006 | NY | ASMBS.
Barnes Jewish Hospital, One Barnes-Jewish Hospital Plaza, St. Louis, MO 63110 | 260032 | 09/06/2006 | MO | ASMBS.
Baptist Memorial Hospital Memphis, 6025 Walnut Grove Road, Memphis, TN 38120 | 440048 | 09/07/2006 | TN | ASMBS.
Norwalk Hospital, 24 Stevens Street, Norwalk, CT 06856 | 070034 | 09/07/2006 | CT | ASMBS.
North Shore University Hospital at Manhasset, 300 Community Drive, Manhasset, NY 11530 | 330106 | 09/08/2006 | NY | ASMBS.
St. Vincent's Medical Center, 2800 Main Street, Bridgeport, CT 06606 | 070028 | 09/08/2006 | CT | Level 3-Department of Surgery, ASMBS.
Faxton-St. Luke's Healthcare, 1656 Champlin Avenue, Utica, NY 13503 | 330044 | 09/14/2006 | NY | ASMBS.
St. Joseph's Hospital, 69 West Exchange, St. Paul, MN 55102 | N/A | 09/14/2006 | MN | ASMBS.
Johns Hopkins Bayview Medical Center, 4940 Eastern Avenue, Baltimore, MD 21224 | 210029 | 09/15/2006 | MD | ASMBS.
University Hospitals of Cleveland, 11100 Euclid Avenue, Cleveland, OH 44106 | N/A | 09/15/2006 | OH | ASMBS.
Yale-New Haven Hospital, 20 York Street, New Haven, CT 06510 | 070022 | 09/20/2006 | CT | ASMBS.
Avera McKennan Hospital, 800 East 21st Street, Box 5045, Sioux Falls, SD 57117-5045 | 430016 | 09/25/2006 | SD | ASMBS.
Memorial Hospital Jacksonville, 3625 University Boulevard South, Jacksonville, FL 32216 | 100179 | 09/26/2006 | FL | ASMBS.
Fountain Valley Regional Hospital, 17100 Euclid Street, Fountain Valley, CA 92708 | 050570 | 09/27/2006 | CA | ASMBS.
Sentara Norfolk General Hospital, 600 Gresham Drive, Norfolk, VA 23507 | 4900073 | 09/29/2006 | VA | ACS.
St. Mary's Medical Center, 450 Stanyan Street, San Francisco, CA 94117 | 050457 | 10/02/2006 | CA | ASMBS.
Trinity Medical Center, 800 Montclair Road, Birmingham, AL 35213 | 010104 | 10/03/2006 | AL | ASMBS.
MeritCare Health System, 720 4th Street North, Fargo, ND 58122 | 350011 | 10/11/2006 | ND | ASMBS.
St. Lukes's/Roosevelt, 1090 Amsterdam Avenue, New York, NY 10025 | 330046 | 10/11/2006 | NY | 10th Floor, ACS.
Benefis Healthcare, 1101 26th Street South, Great Falls, MT 59405 | 270012 | 10/13/2006 | MT | ASMBS.
Mason General Hospital, 901 Mountain View Drive, Shelton, WA 98584 | 501336 | 10/13/2006 | WA | ASMBS.
Norton Hospital, 200 East Chestnut, Louisville, KY 40202 | 180088 | 10/16/2006 | KY | ASMBS.
Port Huron Hospital, 1221 Pine Grove Avenue, Port Huron, MI 48060 | 230216 | 10/16/2006 | MI | ASMBS.
Harper University Hospital, 3990 John R. Street, Detroit, MI 48201 | 230104 | 10/17/2006 | MI | ASMBS.
St. Luke Hospital, 7380 Turfway Road, Florence, KY 41042 | 180045 | 10/18/2006 | KY | ASMBS.
Twelve Oaks Medical Center Hospital, 4200 Twelve Oaks Drive, Houston, TX 77027 | N/A | 10/18/2006 | TX | ASMBS.
Cleveland Clinic Florida, 3100 Weston Road, Weston, FL 33331-3602 | 100289 | 10/19/2006 | FL | ACS.
Grinnell Regional Medical Center, 210 Fourth Avenue, Grinnell, IA 50112 | N/A | 10/19/2006 | IA | Provider Numbers: Hospital: 160147, Surgical Group: 03108, ACS.
Conway Medical Services, 300 Singleton Ridge Road, Conway, SC 29528 | 420049 | 10/20/2006 | SC | ASMBS.
Alta Bates Medical Center, 350 Hawthorne Avenue, Oakland, CA 94609 | 050043 | 10/23/2006 | CA | ASMBS.
Massachusetts General Hospital, 55 Fruit Street, Boston, MA 02114-2696 | 220071 | 10/23/2006 | MA | ACS.
Mayo Clinic-Saint Mary's Hospital, 200 First Street, SW, Rochester, MN 55905 | N/A | 10/23/2006 | MN | SMH: 24-0010, Part B General Medical: C01384, ACS.
Saint Francis Hospital, 6465 South Yale Avenue, #900, Tulsa, OK 74136 | 372308 | 10/23/2006 | OK | ACS.
Newton-Wellesley Hospital, 2014 Washington Street, Newton, MA 02462 | 220101 | 10/26/2006 | MA | ACS.
Mobile Infirmary Medical Center, 5 Mobile Infirmary Circle, Mobile, AL 36007 | 010113 | 10/27/2006 | AL | ASMBS.
Maine Medical Center, 22 Bramhall Street, Portland, ME 04102 | 200009 | 11/06/2006 | ME | ASMBS.
Magee Womens Hospital of UPMC, 3000 Halket Street, Pittsburgh, PA 15213 | 390114 | 11/13/2006 | PA | ASMBS.
Saint Francis Hospital and Medical Center, 114 Woodland Street, Hartford, CT 06105 | 070002 | 11/15/2006 | CT | ASMBS.
South Jersey Healthcare-Regional Medical Center, 1505 West Sherman Avenue, Vineland, NJ 08360 | 310032 | 11/20/2006 | NJ | ASMBS.
Overlook Hospital, 99 Beauvoir Avenue, Summit, NJ 07902 | 310051 | 11/21/2006 | NJ | Nursing Administration Office, ASMBS.
Cedars Medical Center, 1400 Northwest 12th Avenue, Miami, FL 33136 | 100009 | 11/23/2006 | FL | ASMBS.
Memorial Hermann Memorial City Hospital, 921 Gessner Road, Houston, TX 77024 | 450610 | 11/27/2006 | TX | ASMBS.
Tufts-New England Medical Center, 750 Washington Street, Boston, MA 02111 | 220116 | 11/27/2006 | MA | ASMBS.
Allegheny General Hospital, 320 East North Avenue, Pittsburgh, PA 15212 | 390050 | 11/30/2006 | PA | Fifth Floor, South Tower, ASMBS.
Northwest Medical Center, 2801 North State Road 7, Margate, FL 33063 | 100189 | 11/30/2006 | FL | ASMBS.
Potomac Hospital, 2300 Opitz Boulevard, Woodbridge, VA 22191 | 490113 | 11/30/2006 | VA | ASMBS.
Baptist Health Medical Center-Little Rock, 9601 I-630, Exit 7, Little Rock, AR 72205 | 040114 | 12/01/2006 | AR | ASMBS.
University of Washington Medical Center, 1959 NE Pacific Street, PO Box 356151, Seattle, WA 98195-6151 | 1326002049 | 12/05/2006 | WA | ACS.
St. Luke's Regional Medical Center, 333 North 1st Street, Suite 120, Boise, ID 83702 | 130006 | 12/06/2006 | ID | ASMBS.
University of Alabama at Birmingham Hospital, 1530 3rd Avenue South, Kracke Building 404, Birmingham, AL 35294-0016 | 010033 | 12/07/2006 | AL | ACS.
Hackensack University Medical Center, 30 Prospect Avenue, Hackensack, NJ 07601 | 310001 | 12/08/2006 | NJ | ACS.
Hialeah Hospital, 651 East 25th Street, Hialeah, FL 33013 | 100053 | 12/13/2006 | FL | ASMBS.
Sts. Mary and Elizabeth Hospital, 1850 Bluegrass Avenue, Louisville, KY 40215 | 180040 | 12/15/2006 | KY | Bariatric Office, ASMBS.
Bon Secours Surgical Weight Loss-Maryview Medical Center, 3636 High Street, Portsmouth, VA 23707 | 490017 | 12/18/2006 | VA | ASMBS.
Pomerado Hospital, 15615 Pomerado Road, Poway, CA 92064 | 050636 | 12/18/2006 | CA | ASMBS.
Boston Medical Center, 88 E. Newton Street, D507-Department of Surgery, Boston, MA 02118 | 220031 | 12/19/2006 | MA | ACS.
Medcenter One, Inc., 300 North 7th Street, Bismarck, ND 58501 | 350015 | 12/19/2006 | ND | ASMBS.
Meriter Hospital, 202 South Park Street, Madison, WI 53715 | 520089 | 12/19/2006 | WI | ASMBS.
University of Wisconsin Hospital & Clinics, 600 Highland Avenue, Madison, WI 53792 | 520098 | 12/19/2006 | WI | ASMBS.
Women and Children's Hospital, 4200 Nelson Road, Lake Charles, LA 70605 | 190201 | 12/19/2006 | LA | ASMBS.
Mount Carmel West Hospital, 793 West State Street, Columbus, OH 43222 | 360035 | 12/20/2006 | OH | ASMBS.
Southcoast Hospitals Group-Tobey Hospital, 43 High Street, Wareham, MA 02571 | 220074 | 12/21/2006 | MA | ASMBS.
Carilion Roanoke Memorial Hospital, 1906 Belleview Avenue, Roanoke, VA 24014 | N/A | 12/26/2006 | VA | ASMBS.
Mercy General Health Partners, 1500 Sherman Boulevard, Muskegon, MI 49444 | 230004 | 12/26/2006 | MI | ASMBS.
Mountainside Hospital, 1 Bay Avenue, Montclair, NJ 07042 | 310054 | 12/26/2006 | NJ | ASMBS.
Park Plaza Hospital, 1313 Hermann Drive, Houston, TX 77004 | 450659 | 01/09/2007 | TX | ASMBS.
Renaissance Hospital Houston, 2807 Little York, Houston, TX 77093 | 450795 | 01/12/2007 | TX | ASMBS.
Penn State Milton S. Hershey Medical Center, 500 University Drive, Hershey, PA 17033 | 390256 | 01/18/2007 | PA | ASMBS.
Shawnee Mission Medical Center, 9100 West 74th Street, Shawnee Mission, KS 66204 | 170104 | 01/24/2007 | KS | ASMBS.
Morristown Memorial Hospital, 100 Madison Avenue, Morristown, NJ 07962 | 31-0015 | 01/25/2007 | NJ | ACS.
Alvarado Hospital, 6655 Alvarado Road, San Diego, CA 92120 | 050583 | 01/26/2007 | CA | Alvarado Surgical Weight-Loss Program, ASMBS.
St. Francis Hospital, 7th and Clayton Streets, Wilmington, DE 19805 | 080003 | 01/29/2007 | DE | ASMBS.
Sacred Heart Medical Center, 101 West 8th Avenue, Spokane, WA 99220 | 500054 | 02/05/2007 | WA | ASMBS.
Ochsner Clinic Foundation, 1514 Jefferson Highway, New Orleans, LA 70121 | 190036 | 02/06/2007 | LA | ASMBS.
Northwest Specialty Hospital, 1593 East Polston Avenue, Post Falls, ID 83854 | 130066 | 02/07/2007 | ID | ASMBS.
Sacred Heart Hospital, 421 Chew Street, Allentown, PA 18102 | 390197 | 02/07/2007 | PA | ASMBS.
Rio Grande Regional Hospital, 101 East Ridge Road, McAllen, TX 78503 | 450711 | 02/12/2007 | TX | ASMBS.
Gundersen Lutheran Medical Center, 1900 South Avenue, La Crosse, WI 54601 | 520087 | 02/13/2007 | WI | ASMBS.
Kettering Medical Center, 3535 Southern Boulevard, Kettering, OH 45429 | 360079 | 02/16/2007 | OH | ASMBS.
Beth Israel Deaconess Medical Center, 330 Brookline Avenue, Boston, MA 02215 | N/A | 02/17/2006 | MA | ACS.
Shady Grove Adventist Hospital, 9901 Medical Center Drive, Rockville, MD 20850 | 210057 | 02/19/2007 | MD | ASMBS.
Pitt County Memorial Hospital, 2100 Stantonsburg Road, Greenville, NC 27835 | 340040 | 02/20/2007 | NC | ASMBS.
St. Cloud Hospital, 1406 Sixth Avenue, North, St. Cloud, MN 56303 | 240036 | 02/23/2007 | MN | ASMBS.
Virginia Mason Medical Center, 1100 Ninth Avenue, Seattle, WA 98101 | 500005 | 03/01/2007 | WA | ASMBS.
Southeast Georgia Health System, 2415 Parkwood Drive, Brunswick, GA 31520 | 110025 | 03/06/2007 | GA | ASMBS.
Baystate Medical Center, 759 Chestnut Street, Springfield, MA 01199 | 220077 | 03/13/2007 | MA | ACS.
PinnacleHealth Community Campus, 4300 Londonderry Road, c/o PO Box 8700, Harrisburg, PA 17109 | 390067 | 03/29/2007 | PA | ASMBS.
The Valley Hospital, 223 North Van Dien Avenue, Ridgewood, NJ 07450 | 310012 | 03/30/2007 | NJ | ASMBS.
Charleston Area Medical Center, 800 Pennsylvania Avenue, Charleston, WV 25302 | 510022 | 04/16/2007 | WV | ASMBS.
Presbyterian Hospital of Dallas, 8200 Walnut Hill Lane, Dallas, TX 75231 | 450462 | 04/16/2007 | TX | ASMBS.
Dekalb Medical Center, 2701 North Decatur Road, Decatur, GA 30033 | 110076 | 04/26/2007 | GA | ASMBS.
St. Francis Health Center, 1700 SW 7th Street, Topeka, KS 66606 | 170016 | 04/26/2007 | KS | ASMBS.
St. Mark's Hospital, 1200 East 3900 South, Salt Lake City, UT 84124 | 47007 | 04/26/2007 | UT | ASMBS.
Faulkner Hospital, 1153 Centre Street, Boston, MA 02130 | 220119 | 04/27/2007 | MA | ACS.
George Washington University Hospital, 9000 23rd Street, NW., Washington, DC 20037 | 090001 | 08/14/2006 | DC | ASMBS.
William Beaumont Hospital—Royal Oak, 3601 West Thirteen Mile Road, Royal Oak, MI 48073-6769 | 230130 | 04/20/2007 | MI | ACS.
University Medical Center at Princeton, 253 Witherspoon Street, Princeton, NJ 08542 | N/A | 02/24/2006 | NJ | ASMBS.
Del Sol Medical Center, 10201 Gateway West, Suite 130, El Paso, TX 79925 | 45-0646 | 05/03/2007 | TX | ACS.
Winchester Hospital, 41 Highland Avenue, Winchester, MA 01890 | 220105 | 05/31/2007 | MA | ASMBS.
Lawrence Memorial Hospital—Hallmark Health System, 170 Governors Avenue, Medford, MA 02155 | 220070 | 05/31/2007 | MA | ASMBS.
The Methodist Hospital, 6565 Fannin, NB1-001, Houston, TX 77030 | 450358 | 03/22/2007 | TX | ACS.
ValleyCare Health System, 1111 East Stanley Boulevard, Livermore, CA 94550 | 050283 | 06/07/2007 | CA | ASMBS.
The Presbyterian Hospital, 200 Hawthorne Lane, Charlotte, NC 28204 | 340053 | 06/06/2007 | NC | ASMBS.
Nix Hospital, 414 Navarro Street, San Antonio, TX 78205 | 450130 | 06/08/2007 | TX | ASMBS.
Huntsville Hospital, 101 Sivley Road, Huntsville, AL 35801 | 010039 | 05/11/2007 | AL | ASMBS.
The Jewish Hospital, 4777 Galbraith Road, Cincinnati, OH 45236 | 360016 | 06/07/2007 | OH | ASMBS.
UCI Medical Center, 101 The City Drive South, Orange, CA 92868 | 050348 | 05/25/2007 | CA | ACS.
Kaiser Permanente Medical Center Richmond, 901 Nevin Avenue, Richmond, CA 94801 | 050075 | 05/24/2007 | CA | ACS.
Green Hospital, 12395 El Camino Real, San Diego, CA 92130 | 050424 | 06/21/2007 | CA | ASMBS.
Sutter Roseville Medical Center, One Medical Plaza, Roseville, CA 95661 | 050309 | 06/22/2007 | CA | ASMBS.
Munroe Regional Medical Center, 1500 Southwest 1st Avenue, Ocala, FL 34471 | 100062 | 06/05/2007 | FL | ASMBS.
Enloe Medical Center, 251 Cohasset Road, Chico, CA 95926 | 050039 | 06/11/2007 | CA | ASMBS.
St. Francis Hospital & Health Centers, 1600 Albany Street, Beech Grove, IN 46107 | 150033 | 06/15/2007 | IN | ASMBS.
Southern Surgical Hospital, 1700 West Lindberg Drive, Slidell, LA 70458 | 190270 | 06/21/2007 | LA | ASMBS.
Creighton University Medical Center, 601 North 30th Street, Omaha, NE 68131 | 280030 | 06/20/2007 | NE | ASMBS.
Peninsula Regional Medical Center, 100 East Carroll Street, Salisbury, MD 21801 | 210019 | 06/20/2007 | MD | ASMBS.
Wadley Regional Medical Center, 1000 Pine Street, Texarkana, TX 75501 | 450200 | 06/08/2007 | TX | ASMBS.
Vista Medical Center Hospital, 4301 Vista Road, Pasadena, TX 77504 | 450831 | 06/22/2007 | TX | ASMBS.
St. David's Medical Center, 919 East 32nd Street, Austin, TX 78705 | 450531 | 06/22/2007 | TX | ASMBS.
Sanford USD Medical Center, 1305 West 18th Street, Sioux Falls, SD 57117 | 430027 | 01/17/2006 | SD | ASMBS.
Weight Loss Surgery Program at Baylor, 3600 Gaston Avenue, Suite 360 Wadley Tower, Dallas, TX 75246 | N/A | 06/20/2007 | TX | ASMBS.
Shelby Baptist Medical Center, 1000 First Street N., Alabaster, AL 35007 | 010016 | 05/18/2007 | AL | ACS.
Lehigh Valley Hospital and Health Network, Cedar Crest & I-78, PO Box 689, Allentown, PA 18105-1556 | 390133 | 05/29/2007 | PA | ACS.
West Hills Hospital, 7300 Medical Center Drive, West Hills, CA 91307 | 050481 | 06/27/2007 | CA | ASMBS.
Adirondack Medical Center, 2233 State Route 86, Saranack Lake, NY 12983 | 330079 | 06/26/2007 | NY | ASMBS.
Middletown Regional Hospital, 105 McKnight Drive, Middletown, OH 45044 | 360076 | 06/25/2007 | OH | ASMBS.
Kaleida Health, Buffalo General, 100 High Street, Buffalo, NY 14203 | 300005 | 06/25/2007 | NY | ASMBS.
Miami Valley Hospital, One Wyoming Street, Dayton, OH 45409 | N/A | 06/25/2007 | OH | ASMBS.
Minimally Invasive Surgery Hospital, 11217 Lakeview Avenue, Lenexa, KS 66219 | N/A | 06/25/2007 | KS | ASMBS.
Saint Agnes Medical Center, 1303 E. Herndon Avenue, Fresno, CA 93720 | 05-0093 | 07/24/2007 | CA | ASMBS.
Sartori Memorial Hospital, 515 College Street, Cedar Falls, IA 50613 | 160040 | 07/17/2007 | IA | ASMBS.
Maimonides Medical Center, 948 48th Street, 2nd floor, Brooklyn, NY 11219 | 33-0194 | 07/10/2007 | NY | ASMBS.
Westchester Medical Center, 95 Grasslands Road, Valhalla, NY 10595 | 330234 | 07/17/2007 | NY | ASMBS.
Deaconess Hospital, 311 Straight Street, Cincinnati, OH 45219 | 36-0038 | 07/17/2007 | OH | ASMBS.
Northern Ohio Bariatric Center at Parma Hospital, 6305 Powers Boulevard, Parma, OH 44129 | 360041 | 07/10/2007 | OH | ASMBS.
Einstein at Elkins Park, 60 E. Township Line Road, Elkins Park, PA 19027 | 390142 | 07/10/2007 | PA | ASMBS.
Lahey Clinic Medical Center, 41 Mall Road, Burlington, MA 01805 | 220171 | 06/22/2007 | MA | ACS.
St. Francis Hospital, 34515 Ninth Ave South, Federal Way, WA 98003 | 500141 | 07/26/2007 | WA | ACS.
California Foundation for Health, 1401 Garces Highway, Delano, CA 93215 | 050608 | 07/10/2007 | CA | d.b.a. Delano Regional Medical Center; ASMBS.
Northeast Alabama Regional Medical Center, 400 East 10th Street, Anniston, AL 36207 | 010078 | 07/30/2007 | AL | ASMBS.
Trinity Medical Center, 4343 N. Josey Lane, Carrollton, TX 75010 | 45-0730 | 07/30/2007 | TX | ASMBS.
Gratiot Medical Center, 300 E. Warwick Drive, Alma, MI 48801 | 23-0030 | 07/30/2007 | MI | ASMBS.
Cuyuna Regional Medical Center, 320 East Main Street, Crosby, MN 56441 | 241353 | 08/20/2007 | MN | ASMBS.
Valley Medical Center, 400 South 43rd Street, Renton, WA 98055 | 500088 | 07/30/2007 | WA | ASMBS.
Renaissance Hospital Dallas, 427 W. 20th Street, Suite 300, Houston, TX 77008 | 670002 | 08/08/2007 | TX | ASMBS.
UPMC Presbyterian Shadyside, 5230 Centre Avenue, Pittsburgh, PA 15232 | 39-0114 | 08/20/2007 | PA | ASMBS.
Clarian North Medical Center, 6625 Network Way, Suite 100, Indianapolis, IN 46202 | 15-0161 | 08/20/2007 | IN | ASMBS.
Genesis Medical Center, 1227 East Rusholme Street, Davenport, IA 52803 | 160033 | 08/08/2007 | IA | ASMBS.
University General Hospital, 7501 Fannin Street, Houston, TX 77054 | 670019 | 08/08/2007 | TX | ASMBS.
Ellis Hospital, 1101 Nott Street, Schenectaday, NY 12308 | 330153 | 06/19/2007 | NY | ASMBS.
University of Texas Medical Branch, 301 University Boulevard, Galveston, TX, 77555-1168 | 450018 | 08/16/2007 | TX | ACS.
UPMC Presbyterian Shadyside, 5230 Centre Avenue, Pittsburgh, PA 15232 | 39-0114 | 08/20/2007 | PA | ABMS.
Christiana Care Health Services, 4755 Ogletown—Stanton Road, Newark, DE 19718 | 080001 | 08/29/2007 | DE | ASMBS.
Stanford Hospital and Clinics, 300 Pasteur Drive, Stanford, CA 94305 | 050441 | 09/13/2007 | CA | ACS.
Summa Health Systems Hospital, 95 Arch Street, Suite 240, Akron, OH 44304 | 360020 | 09/21/2007 | OH | ASMBS.
Memorial Regional Hospital, 3500 Johnson Street, Hollywood, FL 33021 | 100038 | 09/11/2007 | FL | ASMBS.
Temple University Hospital, 3401 North Broad Street, Philadelphia, PA 19140 | 390027 | 09/21/2007 | PA | ASMBS.
Good Samaritan Hospital, 2425 Samaritan Drive, San Jose, CA 95124 | 50380 | 09/21/2007 | CA | ASMBS.
Johnson City Medical Center, 400 North State of Franklin Road, Johnson City, TN 37604 | HSP440063 | 09/27/2007 | TN | ASMBS.
Providence Saint Joseph Medical Center, 201 South Buena Vista Street, Suite 425, Burbank, CA 91505 | 50235 | N/A | CA | ASMBS-09/17/2007; ACS-09/05/2007.
Baptist Bariatric Center of Excellence, 1000 West Moreno Street, Pensacola, FL 32501 | 10-0093 | 09/27/2007 | FL | ASMBS.
Hillcrest Hospital, 2104 Woodruff Road, Greenville, SC 29607 | 43-0037 | 10/10/2007 | SC | ASMBS.
Fairway Medical, 67252 Industry Lane, Covington, LA 70433 | 190267 | 10/10/2007 | LA | ASMBS.
John T. Mather Memorial Hospital, 75 North Country Road, Port Jefferson, NY 11777 | JTM 33-0185 | 10/10/2007 | NY | ASMBS.
Lenox Hill Hospital, 110 East 59th Street, Suite 8A, New York, NY 10022 | 10003F8 | 10/10/2007 | NY | ASMBS.
Easton Hospital, 250 South 21st Street, Easton, PA 18042 | 390162 | 10/10/2007 | PA | ASMBS.
Medical City Dallas Hospital, 7777 Forest Lane, Suite 240A, Dallas, TX 75230 | 000340 | 10/10/2007 | TX | ASMBS.
St Vincent's East, 50 Medical Park East Drive, Birmingham, AL 35235 | 010011 | 10/10/2007 | AL | ASMBS.
Northside Hospital, 1000 Johnson Ferry Road, Atlanta, GA 30342 | 11-0161 | 10/10/2007 | GA | ASMBS.
Missouri Bariatric Services, 1000 W. Nifong Boulevard, Building 2, Suite 210, Columbia, MO 65203 | 000011108 | 10/10/2007 | MO | ASMBS.
Presbyterian Hospital of Plano, 6200 West Parker Road, Plano, TX 75093 | 45-0771 | 10/10/2007 | TX | ASMBS.
Norton Suburban Hospital, 315 East Broadway, Louisville, KY 40202 | 180088 | 10/10/2007 | KY | ASMBS.
Sky Ridge Medical Center, 10101 RidgeGate Parkway, Lone Tree, CO 80124 | 060112 | 10/30/2007 | CO | ASMBS.
St. Mary Medical Center, 1050 Linden Avenue, Long Beach, CA 90813 | 050191 | 10/30/2007 | CA | ASMBS.
Scott and White Hospital, 2401 S. 31st Street, Temple, TX 76508 | 450054 | 10/24/2007 | TX | ACS.
The Methodist Hospitals, Inc., 303 East 89th Avenue, Merrillville, IN 46410 | 150132 | 10/30/2007 | IN | ASMBS.
Parkview Community Hospital, 3865 Jackson Street, Riverside, CA 92503 | 050102 | 10/30/2007 | CA | ASMBS.
Evergreen Hospital, 12040 NE 128th Street, Kirkland, WA 98034 | 500124 | 10/30/2007 | WA | ASMBS.
University of Maryland, Medical Center, 22 South Greene Street, Baltimore, MD, 21201-1595 | 21002 | 11/05/2007 | MD | ACS.
Montefiore Medical Center, 111 East 210th Street, Bronx, NY 10467 | 330059 | 11/07/2007 | NY | Group #: 330059, Dr. Karen Gibbs #: 140341, Dr. Pratibha Vemulapalli #: 3097H1; ACS.
Emory Crawford Long Hospital, 1364 Clifton Road, NE, Atlanta, GA 30322 | 110078 | 11/13/2007 | GA | ACS.
El Camino Hospital, 2500 Grant Road, Mountain View, CA 94039 | 050308 | 11/19/2007 | CA | ASMBS.
Northeast Baptist Hospital, 8811 Village Drive, San Antonio, TX 78217 | 450058 | 11/19/2007 | TX | ASMBS.
University of Iowa Hospitals and Clinics, 4624 JCP Bariatric Surgery, Iowa City, IA 52242 | 160058 | 11/19/2007 | IA | ASMBS.
El Camino Hospital, 2500 Grant Road, Mountain View, CA, 94039 | 050308 | 11/19/2007 | CA | ASMBS.
Aspirus Wausau Hospital, 333 Pineridge Boulevard, Wausau, WI 54401 | 52-0030 | 11/28/2007 | WI | ASMBS.
Eastern Idaho Regional Medical Center, 2860 Channing Way, Suite 102, Idaho Falls, ID 83404 | 13-0018 | 12/10/2007 | ID | ASMBS.
Mount Sinai Medical Center, 4701 North Meridian Avenue, Miami Beach, FL 33140 | 10-0034 | 12/11/2007 | FL | ASMBS.
North Florida Regional Medical Center, 6400 Newberry Road, Suite 106, Gainesville, FL 32605 | 21536 | 12/27/2007 | FL | ASMBS.
Baylor Regional Medical Center at Plano, 470 Alliance Boulevard, Plano, TX 75093 | 45-0890 | 01/04/2008 | TX | ASMBS.
Memorial Medical Center, 1800 Coffee Road, Suite 30, Modesto, CA 95350 | 050557 | 01/04/2008 | CA | ASMBS.
Pennsylvania Hospital, 800 Spruce Street, 2 Cathcart, Philadelphia, PA 19107 | 39-0226 | 01/08/2008 | PA | ASMBS.
Houston Northwest Medical Center, 710 FM 1960 Road West, Houston, TX 77090 | 450638 | 01/08/2008 | TX | ASMBS.
St. Bernadine Medical Center, 2101 North Waterman Avenue, San Bernadino, CA 92404 | 05-0129 | 01/04/2008 | CA | ASMBS.
UCLA Medical Center, 10833 Le Conte Avenue, CHS 72-236, Los Angeles, CA 90095 | 050262 | 01/08/2008 | CA | ASMBS.
Lourdes Medical Center Burlington County, 218-A Sunset Road, Willingboro, NJ 08046 | 310061 | 01/30/2008 | NJ | ASMBS.
Sacred Heart Medical Center, 1200 Hilyard Street, Suite S-570, Eugene, OR 97401 | 380033 | 01/23/2008 | OR | ASMBS.
Salt Lake Regional Medical Center, 1050 East South Temple, Salt Lake City, UT 84102 | 460003 | 02/11/2008 | UT | ASMBS.
Kaiser Permanente-South San Francisco, 1200 El Camino Real, South San Francisco, CA 94080 | 050070 | 01/30/2008 | CA | ASMBS.
Chilton Memorial Hospital, 97 West Parkway, Pompton Plains, NJ 07444 | 310017 | 02/12/2008 | NJ | ASMBS.
Mary Imogene Bassett Hospital, One Atwell Road, Cooperstown, NY 13326 | 330136 | 02/12/2008 | NY | ASMBS.
Sharp Memorial Hospital, 7901 Frost Street—5 South /ACC, San Diego, CA 92123 | 0150100 | 02/11/2008 | CA | ASMBS.
Doctors Hospital at White Rock Lake, 9440 Poppy Drive, Dallas, TX 75218 | 450678 | 01/30/2008 | TX | ASMBS.
Rhode Island Hospital, 2 Dudley Street, Suite 470, Providence, RI 02905 | 410007 | 02/25/2008 | RI | ASMBS.
Munson Medical Center, 1105 Sixth Street, Traverse City, MI 49684 | 23-0097 | 02/19/2008 | MI | ASMBS.
DayOne Health at 900 N. Michigan Surgical Center, 409 West Huron, Suite 300, Chicago, IL 60613 | 538810 | 02/19/2008 | IL | ASMBS.
USC University Hospital, 1500 San Pablo, Los Angeles, CA 90033 | 05-0696 | 01/30/2008 | CA | ASMBS.
Lexington Medical Center, 2720 Sunset Boulevard, West Columbia, SC 29169-4810 | See other information | 01/14/2008 | SC | ACS; NPI: Hospital Services 1356366314; Professional Services 1144248097.
Saint Clare's Hospital, 400 West Blackwell Street, Dover, NJ 07801 | 310050 | 03/17/2008 | NJ | ASMBS.
Hartford Hospital, 85 Seymour Street, Suite 415, Hartford, CT 06106 | 07-0025 | 03/25/2008 | CT | ASMBS.
Singing River Hospital, 2809 Denny Avenue, Pascagoula, MS 39581 | 250040 | 03/17/2008 | MS | ASMBS.
St. John's Regional Health Center, 1235 East Cherokee Street, Springfield, MO 65804 | 260065 | 03/17/2008 | MO | ASMBS.
Willis Knighton Health System, 2551 Greenwood Road, Suite 340, Shreveport, LA 71103 | 190111 | 03/17/2008 | LA | ASMBS.
Cottage Health System, PO Box 689 Pueblo at Bath Street, Santa Barbara, CA 93102-0689 | 030596 | 02/25/2008 | CA | ASMBS.
Syosset Hospital, 221 Jericho Turnpike, Syosset, NY 11791 | 330106 | 02/19/2008 | NY | ASMBS.
The Hospital of Central Connecticut, 1000 Grand Street, New Britain, CT 06050 | 070035 | 03/11/2008 | CT | ASMBS.
Stringfellow Memorial Hospital, 105 Windsor Lane, Rainbow City, AL 35906 | 01-0038 | 03/11/2008 | AL | ASMBS.
Providence Alaska Medical Center, 3200 Providence Drive, Anchorage, AK 99519-6604 | 02-0001 | 03/17/2008 | AK | ASMBS.
The Reading Hospital and Medical Center, 2603 Keiser Boulevard, Wyomissing, PA 19610 | 390044 | 03/25/2008 | PA | ASMBS.
Good Samaritan Hospital, 255 Lafayette Avenue, Suffern, NY 10901 | 330158 | 03/25/2008 | NY | ASMBS.
San Joaquin Community Hospital, 2819 H Street, Bakersfield, CA 93301 | 04055 | 04/01/2008 | CA | ASMBS.
Lowell General Hospital, 295 Varnum Avenue, Lowell, MA 01854 |  | 02/22/2008 | MA | Medicare: 220063; Medicaid Inpatient #: 100228; Medicaid Outpatient #: 1201069; ACS.
Memorial Health University Medical Center, 4700 Waters Avenue, Savannah, GA 31404 | 11-0036 | 04/08/2008 | GA | ASMBS.
Abington Memorial Hospital, 1235 Old York Road, Suite G-28, Abington, PA 19001 | 390231 | 04/21/2008 | PA | ASMBS.
Christiana Care Health Services, 3506 Kennett Pike, Wilmington, DE 19807 | 080001 | 04/18/2008 | DE | ACS.

Addendum XVI—FDG-PET for Dementia and Neurodegenerative Diseases Clinical Trials

In a National Coverage Determination for fluorodeoxyglucose positron emission tomography (FDG-PET) for Dementia and Neurodegenerative Diseases (220.6.13) we indicated that an FDG-PET scan is considered reasonable and necessary in patients with mild cognitive impairment or early dementia only in the context of an approved clinical trial that contains patient safeguards and protections to ensure proper administration, use, and evaluation of the FDG-PET scan.

Facility name | Provider No. | Date approved | State | Name of trial | Principal investigator
UCLA Medical Center, 10833 Le Conte Avenue, Los Angeles, CA 90095 | HW13029 | 06/07/2006 | CA | Early and Long-Term Value of Imaging Brain Metabolism | Dr. Daniel Silverman.
Santa Monica-UCLA Medical Center, 1245 16th Street, Suite 105, Santa Monica, CA 90404 | W11817A | 01/12/2007 | CA | N/A | N/A.
University of Buffalo, 3435 Main Street, Buffalo, NY 14214 | 14414A | 03/12/2007 | NY | Metabolic Cerebral Imaging in Incipient Dementia (MCI-ID) | Dr. Daniel Silverman.

[FR Doc. E8-13110 Filed 6-26-08; 8:45 am]

BILLING CODE 4120-01-P